OFFICE OF PERSONNEL MANAGEMENT

Senior Executive Service Positions That Were Career Reserved During Calendar Year 2023

AGENCY: Office of Personnel Management (OPM).

ACTION: Notice.

SUMMARY: This notice publishes a consolidated list of all positions in the Senior Executive Service (SES) that were career reserved during calendar year 2023.

FOR FURTHER INFORMATION CONTACT: Julia Alford, Agency Operations and Services, Executive Services Workforce Development, Workforce Policy and Innovation, 202-936-3085.

SUPPLEMENTARY INFORMATION: Below is a list of titles of SES positions that were career reserved at any time during calendar year 2023, regardless of whether those positions were still career reserved as of December 31, 2023. Section 3132(b) (4) of title 5, United States Code, requires that the head of each agency publish such lists the following year. OPM is publishing a consolidated list for all agencies.

Office of Personnel Management.
Kayyonne Marston,
Federal Register Liaison.

Agency name | Organization name | Position title
ADMINISTRATIVE CONFERENCE OF THE UNITED STATES | ADMINISTRATIVE CONFERENCE OF THE UNITED STATES | CHIEF FINANCIAL AND OPERATIONS OFFICER GENERAL COUNSEL
|  | EXECUTIVE DIRECTOR
|  | RESEARCH DIRECTOR
ADVISORY COUNCIL ON HISTORIC PRESERVATION | ADVISORY COUNCIL ON HISTORIC PRESERVATION | EXECUTIVE DIRECTOR
DEPARTMENT OF AGRICULTURE
AGRICULTURAL RESEARCH SERVICE | MIDWEST AREA OFFICE | ASSOCIATE DIRECTOR, MIDWEST AREA (2)
|  | DIRECTOR, MIDWEST AREA
|  | DIRECTOR, NATIONAL CENTER FOR AGRICULTURE UTILIZATION
| NORTHEAST AREA OFFICE | DIRECTOR, BELTSVILLE AGRICULTURAL RESEARCH CENTER
|  | DIRECTOR NORTHEAST AREA OFFICE
|  | DIRECTOR, EASTERN REGIONAL RESEARCH CENTER
|  | ASSOCIATE DIRECTOR, NORTHEAST AREA (2)
| OFFICE OF NATIONAL PROGRAMS | ASSOCIATE ADMINISTRATOR, NATIONAL PROGRAMS
|  | DEPUTY ADMINISTRATOR FOR NATURAL RESOURCES AND SUSTAINABLE ARGICULTURE SYSTEMS
|  | DEPUTY ADMINISTRATOR, CROP PRODUCTION AND PROTECTION
|  | DEPUTY ADMINISTRATOR, ANIMAL PRODUCTION AND PROTECTION
|  | DEPUTY ADMINISTRATOR, NUTRITION, FOOD SAFETY AND QUALITY
| PACIFIC WEST AREA OFFICE | ASSOCIATE DIRECTOR, PACIFIC WEST AREA
|  | DIRECTOR, WESTERN REGIONAL RESEARCH CENTER
|  | ASSOCIATE DIRECTOR, PACIFIC WEST AREA OFFICE
|  | DIRECTOR, PACIFIC WEST AREA OFFICE
| PLAINS AREA OFFICE | DIRECTOR, PLAINS AREA
|  | ASSOCIATE DIRECTOR, PLAINS AREA OFFICE (2)
| SOUTHEAST AREA OFFICE | DIRECTOR, SOUTHEAST AREA
|  | DIRECTOR, SOUTHERN REGIONAL RESEARCH CENTER
|  | ASSOCIATE DIRECTOR, SOUTHEAST AREA (2)
ANIMAL AND PLANT HEALTH INSPECTION SERVICE | PLANT PROTECTION AND QUARANTINE SERVICE | EXECUTIVE DIRECTOR, POLICY MANAGEMENT
|  | EXECUTIVE DIRECTOR, EASTERN REGION, PLANT PROTECTION AND QUARANTINE
|  | EXECUTIVE DIRECTOR, FIELD OPERATIONS
|  | ASSOCIATE DEPUTY ADMINISTRATOR, OPERATIONS
| VETERINARY SERVICES | ASSOCIATE DEPUTY ADMINISTRATOR, VS
|  | EXECUTIVE DIRECTOR (DOMESTIC PROGRAMS)
|  | ASSOCIATE DEPUTY ADMINISTRATOR, DIAGNOSTICS AND BIOLOGICS
|  | DIRECTOR, WESTERN REGION, VETERINARY SERVICES
|  | EXECUTIVE DIRECTOR (STRATEGY AND POLICY)
DEPARTMENT OF AGRICULTURE | OFFICE OF THE SECRETARY | UNITED STATES MANAGER FOR CODEX
|  | SENIOR ADVISOR
DEPARTMENTAL ADMINISTRATION | OFFICE OF ADVOCACY AND OUTREACH | DIRECTOR, OFFICE OF ADVOCACY AND OUTREACH
| OFFICE OF OPERATIONS | DEPUTY DIRECTOR OF OPERATIONS
|  | DIRECTOR OFFICE OF OPERATIONS
| PROCUREMENT AND PROPERTY MANAGEMENT | DIRECTOR, CONTRACTING AND PROCUREMENT
FOREST SERVICE | FIELD UNITS | DIRECTOR, NORTHERN RESEARCH STATION
|  | DIRECTOR, PACIFIC NORTHWEST RESEARCH STATION
|  | DIRECTOR, PACIFIC SOUTHWEST FOREST AND RANGE EXPERIMINT STATION (VALLEJO)
|  | DIRECTOR, ROCKY MOUNTAIN FOREST AND RANGE EXPERIMINT STATION (FORT COLLINS)
|  | DIRECTOR, SOUTHERN RESEARCH STATION (ASHEVILLE)
| INTERNATIONAL FOREST SYSTEM | DIRECTOR INTERNATIONAL INSTITUE OF TROPICAL FOREST (RIO PIEDRAS)
| NATIONAL FOREST SYSTEM | DIRECTOR, RANGELAND MANAGEMENT
|  | DIRECTOR, FOREST MANAGEMENT STAFF
|  | DIRECTOR, LANDS MANAGEMENT STAFF
|  | DIRECTOR, ECOSYSTEM MANAGEMENT COORINATION
|  | DIRECTOR, WATER, FISH, WASTELAND, AIR AND RARE PLANTS
|  | DIRECTOR, MINERALS AND GEOLOGY MANAGEMENT STAFF
|  | ASSOCIATE DEPUTY CHIEF, NATIONAL FOREST SYSTEM
| RESEARCH | DIRECTOR, INVENTORY, MONITORING AND ASSESSMENT
|  | DIRECTOR, SUSTAINABLE FOREST MANAGEMENT
| STATE AND PRIVATE FORESTRY | DIRECTOR COOPERATIVE FORESTRY
|  | DIRECTOR, FOREST HEALTH PROTECTION ASSOCIATE DEPUTY CHIEF, WILDLAND FIRE MANAGEMENT
NATIONAL INSTITUE OF FOOD AND AGRICULTURE | ECONOMIC RESEARCH SERVICE | DIRECTOR, INFORMATION SERVICES DIVISION
|  | DIRECTOR, FOOD ECONOMICS DIVISION
|  | ASSOCIATE ADMINISTRATOR, ECONOMIC RECEARCH SERVICE
| NATIONAL AGRICULTURAL STATISTICS SERVICE | ADMINISTRATOR, NATIONAL AGRICULTURAL STATISTICS SERVICE
|  | DIRECTOR, WESTERN FIELD OPERATIONS
|  | ASSOCIATE ADMINISTRATOR
|  | DIRECTOR EASTERN FIELD OPERATIONS
|  | DIRECTOR, INFORMATION TECHNOLOGY DIVISION
|  | DIRECTOR, CENSUS AND SURVEY DIVISION
|  | DIRECTOR, STATISTICS DIVISION
|  | DIRECTOR, NATIONAL OPERATIONS CENTER
|  | DIRECTOR, METHODOLOGY DIVISION
OFFICE OF THE ASSISTANT SECRETARY FOR ADMINISTRATION | DEPARTMENTAL ADMINISTRATION | DIRECTOR, OFFICE OF SAFETY, SECURITY AND PROTECTION
OFFICE OF THE SECRETARY | NATIONAL FINANCE CENTER | DIRECTOR, FINANCIAL SERVICES DIVISION
|  | DEPUTY DIRECTOR, NATIONAL FINANCE CENTER
| NATIONAL INSTITUE OF FOOD AND AGRICULTURE | DEPUTY DIRECTOR, OFFICE OF GRANTS AND FINANCIAL MANAGEMENT
|  | DEPUTY DIRECTOR, INSTITUTE OF BIOENERGY, CLIMATE, AND ENVIRONMENT
|  | DEPUTY DIRECTOR, INSTITUTE OF FOOD SAFETY AND NUTRITION
| OFFICE OF COMMUNICATIONS | DEPUTY DIRECTOR, CREATIVE DEVELOPMENT
| OFFICE OF THE CHIEF ECONOMIST | PEST MANAGEMENT OFFICER
| DIRECTOR GLOBAL CHANGE PROGRAM OFFICE
|  | CHAIRPERSON
|  | DIRECTOR, OFFICE OF RISK ASSESSMENT AND COST-BENEFIT ANALYSIS
|  | DEPUTY CHIEF ECONOMIST
| OFFICE OF THE CHIEF FINANCIAL OFFICER | ASSOCIATE CHIEF FINANCIAL OFFICER FOR FINANCIAL POLICY AND PLANNING
|  | DIRECTOR, CUSTOMER AND EMPLOYEE EXPERIENCE
|  | DEPUTY CHIEF FINANCIAL
| OFFICE OF THE CHIEF INFORMATION OFFICER | ASSOCIATE CHIEF INFORMATION OFFICER, INTERNATIONAL TECHNOLOGY SERVICES
|  | DEPUTY CHIEF INFORMATION OFFICER FOR OPERATIONS AND INFRASTRUCTURE
|  | PROGRAM MANAGER, GEOSPATIAL PROGRAM
| OFFICE OF THE GENERAL COUNSEL | ASSOCIATE GENERAL COUNSEL, GENERAL LAW AND RESEARCH DIVISION
|  | DIRECTOR, OFFICE OF INFORMATION AFFAIRS
| OFFICE OF THE UNDER SECRETARY FOR FARM PRODUCTION AND CONSERVATION | DIRECTOR, OFFICE OF GRANTS AND AGREEMENTS
|  | DIRECTOR, CUSTOMER AND EMPLOYEE EXPERIENCE
| OFFICE OF THE UNDER SECRETARY FOR RESEARCH, EDUCATION, AND ECONOMICS | DIRECTOR OFFICE OF THE USDA CHIEF SCIENTIST
OFFICE OF THE UNDER SECRETARY FOR FARM PRODUCTION AND CONSERVATION | FARM PRODUCTION AND CONSERVATION—BUSINESS CENTER | DIRECTOR, CIVIL RIGHTS
|  | PROGRAM INTEGRITY OFFICER
|  | CHIEF CUSTOMER NEEDS MANAGEMENT
OFFICE OF THE UNDER SECRETARY FOR FOOD SAFETY | FOOD SAFETY AND INSPECTION SERVICE | DEPUTY ASSISTANT ADMINISTRATOR, OFFICE OF PUBLIC HEALTH SCIENCE
|  | INTERNATIONAL AFFAIRS LIAISON OFFICER
|  | ASSISTANT ADMINISTRATOR, OFFICE OF PUBLIC HEALTH SERVICE
|  | EXECUTIVE ASSOCIATE FOR STAFFING AND BUDGET
|  | TALENT MANAGEMENT OFFICER
|  | ASSISTANT ADMINISTRATOR, OFFICE OF DATA INTEGRATION AND FOOD PROTECTION
|  | DEPUTY ASSISTANT ADMINISTRATOR, OFFICE OF DATA INTEGRATION AND FOOD PROGRAM
|  | ASSISTANT ADMINISTRATOR, OFFICE OF MANAGEMENT
|  | EXECUTIVE ASSOCIATE FOR REGULATORY OPERATIONS, OFFICE OF FIELD OPERATIONS
|  | DEPUTY ASSISTANT ADMINISTRATOR, OIEA
|  | ASSISTANT ADMINISTRATOR, OFFICE OF PUBLIC AFFAIRS AND CONSUMER EDUCATION
|  | ASSISTANT CHIEF INFORMATION OFFICER
|  | CHIEF FINANCIAL OFFICER
|  | DEPUTY ADMINISTRATOR
|  | ASSISTANT ADMINISTRATOR, OFFICE OF FIELD OPERATIONS
|  | DEPUTY ASSISTANT ADMINISTRATOR, OFFICE OF POLICY AND PROGRAM
|  | ASSISTANT ADMINISTRATOR, OFFICE OF POLICY AND PROGRAM DEVELOPMENT
|  | CHIEF OPERATING OFFICER
|  | DEPUTY ASSISTANT ADMINISTRATOR, OFFICE OF PUBLIC HEALTH SCIENCE
|  | DEPUTY ASSISTANT ADMINISTRATOR, OFFICE OF FIELD OPERATIONS
|  | EXECUTIVE ASSOCIATE FOR REGULATORY OPERATIONS, OFFICE OF FIELD OPERATIONS
|  | ASSISTANT ADMINISTRATOR, OOEET
|  | DEPUTY ASSISTANT ADMINISTRATOR, OFFICE OF MANAGEMENT
|  | EXECUTIVE ASSOCIATE FOR REGULATORY OPERATIONS, OFFICE OF FIELD OPERATIONS
|  | EXECUTIVE ASSOCIATE FOR EMPLOYEE EXPERIENCE
|  | EXECUTIVE ASSOCIATE FOR REGULATORY OPERATIONS, OFFICE OF FIELD OPERATIONS
|  | EXECUTIVE ASSOCIATE FOR LABORATORY SERVICES, OFFICE OF PUBLIC HEALTH SCIENCE
|  | ASSISTANT ADMINISTRATOR, OFFICE OF INVESTIGATION, ENFORCEMENT AND AUDITING
OFFICE OF THE UNDER SECRETARY FOR FOOD, NUTRITION AND CONSUMER SERVICES | FOOD AND NUTRITION SERVICE | FINANCIAL MANAGER
|  | CHIEF OPERATING OFFICER
|  | PROGRAM MANAGER (ASSOCIATE ADMINISTRATOR FOR REGIONAL OPERATIONS AND SUPPORT)
OFFICE OF THE UNDER SECRETARY FOR MARKETING AND REGULATORY PROGRAMS | AGRICULTURAL MARKETING SERVICE | DEPUTY ADMINISTRATOR FOR NATIONAL ORGANIC PROGRAMS
|  | DEPUTY ADMINISTRATOR, SPECIALTY CROPS
|  | DEPUTY ADMINISTRATOR, DAIRY PROGRAMS
|  | DEPUTY ADMINISTARTOR, LIVESTOCK AND SEED PROGRAMS
|  | DEPUTY ADMINISTRATOR, SCIENCE AND TECHNOLOGY
|  | DEPUTY ADMINISTRATOR, TRANSPORTATION AND MARKETING PROGRAMS
|  | DEPUTY ADMINISTRATOR, COTTON AND TOBACCO
|  | DEPUTY ADMINISTRATOR, FAIR TRADE PRACTICES PROGRAM
|  | ASSOCIATE ADMINISTRATOR
| ANIMAL AND PLANT HEALTH INSPECTION SERVICE | CHIEF FINANCIAL OFFICER
|  | ASSOCIATE DEPUTY ADMINISTRATOR, SPRS
|  | ASSOCIATE DEPUTY ADMINISTRATOR, VS
|  | DEPUTY ADMINISTRATOR, EMERGENCY AND REGULATORY COMPLIANCE SERVICES
|  | EXECUTIVE DIRECTOR, DIAGNOSTICS AND BIOLOGICS
|  | ASSISTANT DEPUTY ADMINISTRATOR, PLANT PROTECTION AND QUARANTINE
|  | EXECUTIVE DIRECTOR, CENTER FOR PLANT HEALTH SCIENCE AND TECHNOLOGY
|  | DIRECTOR, NATIONAL WILDLIFE RESEARCH CENTER
|  | ASSOCIATE DEPUTY ADMINISTRATOR FOR ANIMAL CARE
|  | HUMAN RESOURCES OFFICER
|  | DIRECTOR, INVESTIGATIVE AND ENFORCEMENT SERVICES
|  | ASSISTANT CHIEF INFORMATION OFFICER
|  | ASSOCIATE DEPUTY ADMINISTRATOR, WILDLIFE SERVICES
|  | EXECUTIVE DIRECTOR, WESTERN REGION, WILDLIFE SERVICES
|  | EXECUTIVE DIRECTOR (TRADE)
|  | DIRECTOR, EASTERN REGION, WILDLIFE SERVICES
|  | DEPUTY ADMINISTRATOR, BIOTECHNOLOGY REGULATORY PROGRAMS
|  | DEPUTY ADMINISTRATOR, LEGISLATIVE AND PUBLIC AFFAIRS
|  | DEPUTY ADMINISTRATOR FOR INTERNATIONAL SERVICES
|  | DIRECTOR, NATIONAL IMPORT EXPORT SERVICE
|  | ASSOCIATE DEPUTY ADMINISTRATOR, EMERGING AND INTERNATIONAL PROGRAMS
|  | DEPUTY ADMINISTRATOR, WILDLIFE SERVICES
|  | DEPUTY ADMINISTRATOR FOR MARKETING AND REGULATORY PROGRAMS-BUSINESS SERVICES
|  | ASSOCIATE DEPUTY ADMINISTRATOR FOR MARKETING AND REGULATORY PROGRAMS—BUSNINESS SERVICES
|  | DEPUTY ADMINISTRATOR, ANIMAL CARE
OFFICE OF THE UNDER SECRETARY FOR RESEARCH, EDUCATION, AND ECONOMICS | AGRICULTURAL RESEARCH SERVICE | LIAISON, NATIONAL BIO AND AGRO-DEFENSE FACILITY
|  | ASSISTANT ADMINISTRATOR FOR TECHNOLOGY TRANSFER
|  | DEPUTY ADMINISTRATOR FOR ADMINISTRATIVE AND FINANCIAL MANAGEMENT
|  | ASSISTANT CHIEF INFORMATION OFFICER
|  | CHIEF FINANCIAL OFFICER
OFFICE OF THE UNDER SECRETARY FOR RURAL DEVELOPMENT | RURAL BUSINESS SERVICE | DEPUTY ADMINISTRATOR, ENERGY PROGRAMS
| RURAL DEVELOPMENT | ASSOCIATE DIRECTOR, CUSTOMER LOAN SERVICING
| RURAL HOUSING SERVICE | DIRECTOR, HUMAN RESOURCES
|  | DEPUTY ADMINISTRATOR, MULTI- FAMILY HOUSING
|  | CHIEF FINANCIAL OFFICER
OFFICE OF THE UNDER SECRETARY FOR TRADE AND FOREIGN AGRICULTURAL AFFAIRS | FARM SERVICE AGENCY | DEPUTY ADMINISTRATOR FOR FARM LOAN PROGRAMS
|  | ASSISTANT DEPUTY ADMINISTRATOR FARM PROGRAMS
|  | DIRECTOR, BUSINESS AND PROGRAM INTEGRATION
| FOREIGN AGRICULTURAL SERVICE | DEPUTY ADMINISTRATOR, OFFICE OF GLOBAL ANALYSIS
|  | CHIEF OPERATING OFFICER
| RISK MANAGEMENT AGENCY | DEPUTY ADMINISTRATOR FOR INSURANCE SERVICES DIVISION
|  | DEPUTY ADMINISTRATOR FOR PRODUCT MANAGEMENT
OFFICE OF UNDER SECRETARY FOR NATURAL RESOURCES AND ENVIRONMENT | FOREST SERVICE | CHIEF FINANCIAL OFFICER
|  | DIRECTOR, FIRE AND AVIATION MANAGEMENT
|  | ASSOCIATE DEPUTY CHIEF FOR BUSINESS OPERATIONS (3)
|  | DIRECTOR PROCUREMENT AND PROPERTY SERVICES
|  | DIRECTOR, LAW ENFORCEMENT AND INVESTIGATIONS
|  | DEPUTY CHIEF, BUSINESS OPERATIONS
|  | ASSOCIATE DEPUTY CHIEF, RESEARCH AND DEVELOPMENT
| NATURAL RESOURCES CONSERVATION SERVICE | DIRECTOR
|  | DEPUTY CHIEF FOR PROGRAMS
|  | DIRECTOR, FINANCIAL ASSISTANCE PROGRAMS DIVISION
|  | REGIONAL CONSERVATIONIST (NORTHEAST)
|  | DEPUTY CHIEF FOR STRATEGIC PLANNING AND ACCOUNTABILITY
|  | DIRECTOR, CONSERVATION ENGINEERING DIVISION
|  | DIRECTOR ECOLOGICAL SCIENCES DIVISION
|  | DIRECTOR, SOIL SCIENCE DIVISION
|  | DIRECTOR, EASEMENT PROGRAMS DIVISION
DEPARTMENT OF AGRICULTURE OFFICE OF THE INSPECTOR GENERAL
DEPARTMENT OF AGRICULTURE OFFICE OF THE INSPECTOR GENERAL | IMMEDIATE OFFICE | DEPUTY INSPECTOR GENERAL
|  | COUNSEL TO THE INSPECTOR GENERAL
IMMEDIATE OFFICE | OFFICE OF ANALYTICS AND INNOVATION | ASSISTANT INSPECTOR GENERAL FOR OFFICE OF ANALYTICS AND INNOVATION
| OFFICE OF AUDIT | ASSISTANT INSPECTOR GENERAL FOR AUDIT
|  | DEPUTY ASSISTANT INSPECTOR GENERAL FOR AUDIT (2)
| OFFICE OF INVESTIGATIONS | DEPUTY ASSISTANT INSPECTOR GENERAL FOR INVESTIGATIONS
|  | ASSISTANT INSPECTOR GENERAL FOR INVESTIGATIONS
| OFFICE OF MANAGEMENT | ASSISTANT INSPECTOR GENERAL FOR MANAGEMENT
AMERICAN BATTLE MONUMENTS COMMISSION
AMERICAN BATTLE MONUMENTS COMMISSION | DIRECTOR, OVERSEAS OPERATIONS | CHIEF OPERATING OFFICER
| EXECUTIVE DIRECTOR | DEPUTY SECRETARY
UNITED STATES ABILITYONE COMMISSION OFFICE OF INSPECTOR GENERAL
| COMMITTEE FOR PURCHASE FROM PEOPLE WHO ARE BLIND OR SEVERELY DISABLED OFFICE OF INSPECTOR GENERAL | INSPECTOR GENERAL
ARCHITECTURAL AND TRANSPORTATION BARRIERS COMPLIANCE BOARD (UNITED STATES ACCESS BOARD)
ARCHITECTURAL AND TRANSPORTATION BARRIERS | ARCHITECTURAL AND TRANSPORTATION BARRIERS COMPLIANCE BOARD (UNITED STATES ACCESS BOARD) | DIRECTOR OFFICE OF TECHNICAL AND INFORMATION SERVICES
|  | EXECUTIVE DIRECTOR
ARCTIC RESEARCH COMMISSION
| ARCTIC RESEARCH COMMISSION | EXECUTIVE DIRECTOR
UNITED STATES AGENCY FOR GLOBAL MEDIA
UNITED STATES AGENCY FOR GLOBAL MEDIA | UNITED STATES AGENCY FOR GLOBAL MEDIA | CHIEF FINANCIAL OFFICER
|  | CHIEF MANAGMENT OFFICER
|  | EXECUTIVE DIRECTOR
|  | CHIEF INFORMATION OFFICER/DIRECTOR OF INFORMATION TECHNOLOGY OPERATIONS
|  | CHIEF LEGAL OFFICER
|  | CHIEF RISK OFFICER
|  | FINANCIAL OPERATIONS DIRECTOR
|  | DEPUTY DIRECTOR, OFFICE OF TECHNOLOGY, SERVICES AND INNOVATION
|  | GENERAL COUNSEL
DEPARTMENT OF COMMERCE
| DEPARTMENT OF COMMERCE | DIRECTOR, GRANTS
ALASKA REGION | CLIMATE PREDICTION CENTER | DIRECTOR, CLIMATE PREDICTION CENTER
| NATIONAL CENTERS FOR ENVIRONMENTAL PREDICTION CENTRAL OPERATIONS | DIRECTOR, CENTRAL OPERATIONS
| STORM PREDICTION CENTER | DIRECTOR, STORM PREDICTION CENTER
| TROPICAL PREDICTION CENTER | DIRECTOR, NATIONAL HURRICANE CENTER
ASSISTANT SECRETARY FOR ENFORCEMENT AND COMPLIANCE | DEPUTY ASSISTANT SECRETARY FOR AD/CVD OPERATIONS | SENIOR DIRECTOR
|  | SENIOR DIRECTOR, AD/CVD ENFORCEMENT OFFICE VII
|  | ASSOCIATE DEPUTY ASSISTANT SECRETARY FOR AD/CVD OPERATIONS
ASSISTANT SECRETARY FOR INDUSTRY AND ANALYSIS | DEPUTY ASSISTANT SECRETARY FOR TRADE, POLICY AND ANALYSIS | DEPUTY ASSISTANT SECRETARY FOR TEXTILES, CONSUMER GOODS AND MATERIALS
BUREAU OF ECONOMIC ANALYSIS | BUREAU OF ECONOMIC ANALYSIS | CHIEF INFORMATION OFFICER
|  | ASSOCIATE DIRECTOR FOR INDUSTRY ACCOUNTS
|  | ASSOCIATE DIRECTOR FOR NATIONAL ECONOMIC ACCOUNTS
|  | DIRECTOR, BUREAU OF ECONOMIC ANALYSIS
|  | CHIEF, EXPENDITURE AND INCOME DIVISION
|  | ASSOCIATE DIRECTOR FOR REGIONAL ECONOMICS
|  | ASSOCIATE DIRECTOR FOR INTERNATIONAL ECONOMICS
|  | CHIEF ECONOMIST
|  | CHIEF, BALANCE OF PAYMENTS DIVISION
|  | CHIEF ADMINISTRATIVE OFFICER
|  | CHIEF DIRECT INVESTMENT DIVISION
|  | CHIEF FINANCIAL OFFICER AND CHIEF OF ADMINISTRATIVE SERVICES
|  | DEPUTY CHIEF ECONOMIST
| OFFICE OF THE DIRECTOR | DEPUTY DIRECTOR, BUREAU OF ECONOMIC ANALYSIS
BUREAU OF INDUSTRY AND SECURITY | OFFICE OF THE ASSISTANT SECRETARY FOR EXPORT ADMINISTRATION | DIRECTOR, OFFICE OF STRATEGIC INDUSTRIES AND ECONOMIC SECURITY
| OFFICE OF THE ASSISTANT SECRETARY FOR EXPORT ENFORCEMENT | DIRECTOR, OFFICEOF ENFORCEMENT ANALYSIS
|  | DEPUTY ASSISTANT SECRETARY FOR EXPORT ENFORCEMENT
|  | DIRECTOR OFFICE OF EXPORT ENFORCEMENT
|  | DEPUTY DIRECTOR, OFFICE OF EXPORT ENFORCEMENT
BUREAU OF THE CENSUS | ASSOCIATE DIRECTOR FOR ADMINISTRATION AND CHIEF FINANCIAL OFFICER | CHIEF, HUMAN RESOURCES DIVISION
|  | CHIEF, ACQUISITION DIVISION
|  | CHIEF FINANCIAL OFFICER
|  | CHIEF, BUDGET DIVISION
|  | CHIEF ADMINISTRATIVE OFFICER
|  | DEPUTY CHIEF FINANCIAL
| ASSOCIATE DIRECTOR FOR ECONOMIC PROGRAMS | CHIEF, ECONOMIC APPLICATIONS DIVISION
|  | CHIEF, ECONOMIC STATISTICAL METHODS, AND RESEARCH DIVISION
|  | ASSOCIATE DIRECTOR FOR ECONOMIC PROGRAMS
|  | ASSISTANT DIRECTOR FOR ECONOMIC PROGRAMS
|  | CHIEF, ECONOMY-WIDE STATISTICS DIVISION
|  | CHIEF, ECONOMIC MANAGEMENT DIVISION
|  | CHIEF, ECONOMIC REIMBURSABLE SURVEYS DIVISION
|  | CHIEF, ECONOMIC INDICATORS DIVISION
| ASSOCIATE DIRECTOR FOR FIELD OPERATIONS | CHIEF, OFFICE OF SURVEY AND CENSUS ANALYTICS
|  | ASSISTANT DIRECTOR FOR FIELD OPERATIONS
|  | ASSOCIATE DIRECTOR FOR FIELD OPERATIONS
|  | CHIEF NATIONAL PROCESSING CENTER
|  | CHIEF, FIELD DIVISION
| ASSOCIATE DIRECTOR FOR INFORMATION TECHNOLOGY AND CHIEF INFORMATION OFFICER | CHIEF TECHNOLOGY OFFICER
|  | CHIEF INFORMATION OFFICER
|  | CHIEF INFORMATION SECURITY OFFICER
|  | CHIEF, APPLICATION DEVELOPMENT AND SERVICES
|  | DEPUTY CHIEF INFORMATION OFFICER (DCIO)
| OFFICE OF THE DIRECTOR | CHIEF, OFFICE OF PROGRAM, PERFORMANCE, AND STAKEHOLDER INTEGRATION
|  | DEPUTY CHIEF, OFFICE OF PROGRAM, PERFORMANCE, AND STAKEHOLDER INTEGRATION
DEPARTMENT OF COMMERCE | BUREAU OF INDUSTRY AND SECURITY | CHIEF FINANCIAL OFFICER AND DIRECTOR OF ADMINISTRATION
|  | CHIEF INFORMATION OFFICER
|  | EXECUTIVE DIRECTOR
| ECONOMIC DEVELOPMENT ADMINISTRATION | DEPUTY CHIEF OPERATING OFFICER
| INTERNATIONAL TRADE ADMINISTRATION | DIRECTOR OF HUMAN CAPITAL
| MINORITY BUSINESS DEVELOPMENT AGENCY | CHIEF FINANCIAL OFFICER AND DIRECTOR OF MANAGEMENT
|  | CHIEF OPERATING OFFICER
| NATIONAL INSTITUTE OF STANDARDS AND TECHNOLOGY | DEPUTY DIRECTOR FOR PROGRAMS
|  | CHIEF METROLOGIST
|  | DIRECTOR, TECHNOLOGY PARTNERSHIPS OFFICE
|  | DIRECTOR FOR ACQUISITIONS AND AGREEMENTS PROGRAM MANAGEMENT
|  | DIRECTOR OFFICE OF HUMAN RESOURCES MANAGEMENT
| NATIONAL OCEANIC AND ATMOSPHERIC ADMINISTRATION | REGIONAL, PACIFIC REGION
|  | DIRECTOR, PACIFIC REGION
|  | DIRECTOR GLOBAL OCEAN MONITORING AND OBSERVING PROGRAM
|  | DIRECTOR, AIR RESOURCES LABORATORY
|  | SENIOR ADVISOR TO THE ASSOCIATE DIRECTOR
|  | DIRECTOR, CONSULTING SERVICES
| NATIONAL TECHNICAL INFORMATION SERVICE | DEPUTY DIRECTOR, NATIONAL TECHNICAL INFORMATION SERVICE
| NATIONAL TELECOMMUNICATIONS AND INFORMATION ADMINISTRATION | DEPUTY ASSISTANT SECRETARY FOR OPERATIONS AND ADMINISTRATION
| OFFICE OF THE SECRETARY | DIRECTOR OFFICE OF SMALL AND DISADVANTAGED BUSINESS UTILIZATION
ECONOMIC DEVELOPMENT ADMINISTRATION | OFFICE OF THE DEPUTY ASSISTANT SECRETARY | CHIEF FINANCIAL OFFICER AND CHIEF ADMINISTRATIVE OFFICER
ECONOMICS AND STATISTICS ADMINISTRATION | ASSOCIATE DIRECTOR FOR DECENNIAL CENSUS | ASSISTANT DIRECTOR FOR DECENNIAL CENSUS PROGRAMS (OPERATIONS AND SCHEDULE MANAGEMENT)
|  | CHIEF, AMERICAN COMMUNITY SURVEY OFFICE
|  | ASSOCIATE DIRECTOR FOR DECENNIAL CENSUS
|  | CHIEF DECENNIAL MANAGEMENT DIVISION
|  | CHIEF, DECENNIAL STATISTICAL STUDIES DIVISION
|  | CHIEF, GEOGRAPHY DIVISION
|  | CHIEF, DECENNIAL COMMUNICATIONS AND STAKEHOLDER RELATIONSHIPS
|  | CHIEF, DECENNIAL CONTRACTS EXECUTION OFFICE
|  | SENIOR ADVOCATE FOR RESPONSE SECURITY AND DATA INTEGRITY
|  | CHIEF, DECENNIAL INFORMATION TECHNOLOGY DIVISION
| ASSOCIATE DIRECTOR FOR DEMOGRAPHIC PROGRAMS | CHIEF, POPULATION DIVISION
|  | ASSOCIATE DIRECTOR FOR DEMOGRAPHIC PROGRAMS
|  | CHIEF, DEMOGRAPHIC STATISTICAL METHODS DIVISION
|  | CHIEF DEMOGRAPHIC SYSTEM DIVISION
|  | CHIEF, SOCIAL, ECONOMIC, AND HOUSING STATISTICS DIVISION
|  | ASSISTANT DIRECTOR FOR DEMOGRAPHIC PROGRAMS
| ASSOCIATE DIRECTOR FOR RESEARCH AND METHODOLOGY | CHIEF, CENTER FOR ENTERPRISE DISSEMINATION
|  | CHIEF, CENTER FOR ECONOMIC STUDIES AND CHIEF ECONOMIST
|  | CHIEF, CENTER FOR STATISTICAL RESEARCH AND METHODOLOGY
|  | CHIEF, CENTER FOR BEHAVIORAL SCIENCE METHODS
|  | ASSISTANT DIRECTOR FOR RESEARCH AND METHODOLOGY
| BUREAU OF THE CENSUS | ASSOCIATE DIRECTOR FOR RESEARCH AND METHODOLOGY
|  | CHIEF, CENTER FOR OPTIMIZATION AND DATA
|  | CHIEF, SYSTEMS, DATA ANALYSIS, AND BUSINESS SOLUTIONS
|  | CHIEF, POLICY COORDINATION OFFICE
ENVIRONMENTAL RESEARCH LABORATORIES | ATLANTIC OCEAN AND METEOROLOGY LABORATORY | DIRECTOR, ATLANTIC OCEANOGRAPHIC AND METEOROLOGICAL
| GEOPHYSICAL FLUID DYNAMICS LABORATORY | DIRECTOR, OFFICE OF GEOPHYSICAL FLUID DYNAMICS LABORATORY
| GREAT LAKE ENVIRONMENTAL RESEARCH LABORATORY | DIRECTOR, OFFICE OF GREAT LAKES ENVIRONMENTAL RESEARCH LABORATORY
| PACIFIC MARINE ENVIRONMENTAL RESEARCH LABORATORY | DIRECTOR, OFFICE OF PACIFIC MARINE ENVIRONMENTAL LABORATORY
NATIONAL INSTITUTE OF STANDARDS AND TECHNOLOGY | ENGINEERING LABORATORY | DIRECTOR, ENGINEERING LABORATORY
|  | DEPUTY DIRECTOR ENGINEERING LABORATORY
| HOLLINGS MANUFACTURING EXTENSION PARTNERSHIP PROGRAM | DIRECTOR, MANUFACTURING EXTENSION PARTNERSHIP PROGRAMS
|  | DEPUTY DIRECTOR, MANUFACTURING EXTENSION PARTNERSHIP PROGRAM
| INFORMATION TECHNOLOGY LABORATORY | DEPUTY DIRECTOR, INFORMATION TECHNOLOGY LABORATORY
|  | DIRECTOR, INFORMATION TECHNOLOGY LABORATORY
| MATERIAL MEASUREMENT LABORATORY | DIRECTOR, MATERIAL MEASUREMENT LABORATORY
| NATIONAL INSTITUTE OF STANDARDS AND TECHNOLOGY CENTER FOR NEUTRON RESEARCH | DEPUTY DIRECTOR, NATIONAL INSTITUTE OF STANDARDS AND TECHNOLOGY CENTER FOR NEUTRON RESEARCH
|  | DIRECTOR, NIST CENTER FOR NEUTRON RESEARCH
| OFFICE OF FACILITIES AND PROPERTY MANAGEMENT | CHIEF FACILITIES MANAGEMENT OFFICER
| OFFICE OF FINANCIAL RESOURCE MANAGEMENT | CHIEF FINANCIAL OFFICER FOR NIST AND NTIS
| OFFICE OF INFORMATION SYSTEMS MANAGEMENT | CHIEF INFORMATION OFFICER FOR NATIONAL INSTITUTE OF STANDARDS AND TECHNOLOGY
| OFFICE OF SAFETY, HEALTH AND ENVIRONMENT | CHIEF SAFETY OFFICER
| OFFICE OF THE UNDER SECRETARY OF COMMERCE FOR STANDARDS AND TECHNOLOGY | ASSOCIATE DIRECTOR FOR INNOVATION AND INDUSTRY SERVICES
|  | ASSOCIATE DIRECTOR FOR MANAGEMENT RESOURCES
|  | ASSOCIATE DIRECTOR FOR LABORATORY PROGRAMS
|  | CHIEF OF STAFF FOR NATIONAL INSTITUTE FOR STANDARDS AND TECHNOLOGY
|  | DEPUTY ASSOCIATE DIRECTOR FOR LABORATORY PROGRAMS
|  | SENIOR ADVISOR FOR PROGRAM INTEGRATION
|  | DEPUTY ASSOCIATE DIRECTOR FOR MANAGEMENT RESOURCES
|  | SENIOR ADVISOR ON SEMICONDUCTOR ENGAGEMENT
|  | DIRECTOR, COMMUNICATIONS TECHNOLOGY LABORATORY
|  | SENIOR ADVISOR FOR CONNECTED SYSTEMS
|  | DIRECTOR, ADVANCED MANUFACTURING PROGRAM OFFICE
|  | CHIEF SCIENTIST
| PHYSICAL MEASUREMENT LABORATORY | DIRECTOR, PHYSICAL MEASUREMENT LABORATORY
|  | DEPUTY DIRECTOR, PHYSICAL MEASUREMENT LABORATORY
| SPECIAL PROGRAMS OFFICE | DIRECTOR, SPECIAL PROGRAMS OFFICE
| STANDARDS COORDINATION OFFICE | DIRECTOR, STANDARDS COORDINATION OFFICE
NATIONAL MARINE FISHERIES SERVICE | OFFICE OF SCIENCE AND TECHNOLOGY | DIRECTOR OFFICE OF SCIENCE AND TECHNOLOGY
| REGIONAL OFFICES | SCIENCE AND RESEARCH DIRECTOR, ALASKA REGION
|  | SCIENCE AND RESEARCH DIRECTOR NORTHEAST REGION
|  | SCIENCE AND RESEARCH DIRECTOR, SOUTHEAST REGION
|  | SCIENCE AND RESEARCH DIRECTOR SOUTHWEST REGION
|  | SCIENCE AND RESEARCH DIRECTOR, NORTHWEST REGION
|  | SCIENCE AND RESEARCH DIRECTOR, PACIFIC ISLAND REGION
NATIONAL OCEAN SERVICE | CENTER FOR OPERATIONAL OCEANOGRAPHIC PRODUCTS AND SERVICES | DIRECTOR, CENTER FOR OPERATIONAL OCEANOGRAPHIC PRODUCTS AND SERVICES
| NATIONAL OCEANIC AND ATMOSPHERIC ADMINISTRATION COASTAL SERVICES CENTER | DIRECTOR, NATIONAL CENTERS FOR COASTAL OCEAN SCIENCE
| OFFICE OF NATIONAL GEODETIC SURVEY | DIRECTOR, OFFICE OF NATIONAL GEODTIC SURVEY
NATIONAL OCEANIC AND ATMOSPHERIC ADMINISTRATION | NATIONAL CENTERS FOR ENVIRONMENTAL PREDICTION | DIRECTOR, AVIATION WEATHER CENTER
|  | DIRECTOR, SPACE WEATHER PREDICTION CENTER
|  | DIRECTOR, WEATHER PREDICTION CENTER
|  | DIRECTOR, NATIONAL CENTERS FOR ENVIRONMENTAL PREDICTION
|  | DIRECTOR, OCEAN PREDICTION CENTER
|  | DIRECTOR, ENVIRONMENTAL MODELING CENTER
| OFFICE OF ASSISTANT ADMINISTRATOR SATELLITE, DATA INFORMATION SERVICE | DIRECTOR SATELLITE GROUND SERVICES
|  | CHIEF FINANCIAL OFFICER/CHIEF ADMINISTRATIVE OFFICER
|  | SYSTEM PROGRAM DIRECTOR FOR GOES-R PROGRAM
|  | DEPUTY ASSISTANT ADMINISTRATOR FOR SYSTEMS
|  | DIRECTOR, OFFICE OF SYSTEMS ARCHITECTURE AND ADVANCED PLANNING
|  | ASSISTANT CHIEF INFORMATION OFFICER FOR NESDIS
|  | DIRECTOR, JOINT POLAR SATELLITE SYSTEMS
|  | DEPUTY DIRECTOR, NATIONAL CENTER FOR ENVIRONMENTAL INFORMATION
|  | DIRECTOR, NATIONAL CENTER FOR ENVIRONMENTAL INFORMATION
|  | DIRECTOR, OFFICE OF PROJECTS, PARTNERSHIPS AND ANALYSIS
| OFFICE OF ASSISTANT ADMINISTRATOR, OCEAN AND ATMOSPHERIC RESEARCH | DEPUTY ASSISTANT ADMINISTRATOR FOR SCIENCE
|  | DIRECTOR, OFFICE OF WEATHER PROGRAMS
|  | CHIEF FINANCIAL OFFICER/CHIEF ADMINISTRATIVE OFFICER
| OFFICE OF EDUCATION AND SUSTAINABLE DEVELOPMENT | DIRECTOR, OFFICE OF EDUCATION
| OFFICE OF HABITAT CONSERVATION | DIRECTOR FOR HABITAT CONSERVATION
| OFFICE OF HIGH-PERFORMANCE COMPUTING AND COMMUNICATIONS | DEPUTY CHIEF INFORMATION OFFICER
|  | CHIEF INFORMATION OFFICER AND DIRECTOR FOR HIGH PERFORMANCE COMPUTING AND COMMUNICATIONS
|  | CHIEF DATA OFFICER
| OFFICE OF MARINE AND AVIATION OPERATIONS | DEPUTY ASSISTANT ADMINISTRATOR FOR PROGRAMS AND ADMINISTRATION
| OFFICE OF OCEANIC EXPLORATION AND RESEARCH | DIRECTOR, OFFICE OF OCEAN EXPLORATION AND RESEARCH
| OFFICE OF RESEARCH AND APPLICATIONS | DIRECTOR, CENTER FOR SATELLITE APPLICATIONS AND RESEARCH
| OFFICE OF SATELLITE AND PRODUCT OPERATIONS | DEPUTY DIRECTOR, OFFICE OF SATELLITE AND PRODUCT OPERATIONS
| OFFICE OF THE ASSISTANT ADMINISTRATOR FOR WEATHER SERVICES | CHIEF FINANCIAL OFFICER/CHIEF ADMINISTRATOR OFFICER
|  | DEPUTY DIRECTOR, OFFICE OF WATER PREDICTION
|  | OFFICE OF ORGANIZATIONAL EXCELLENCE
|  | DIRECTOR, OFFICE OF DISSEMINATION
|  | CHIEF ENGINEER
|  | CHIEF OPERATING OFFICER
|  | DIRECTOR, OFFICE OF OBSERVATIONS
|  | DIRECTOR, OFFICE OF SCIENCE AND TECHNOLOGY INTEGRATION
|  | DIRECTOR, OFFICE OF FACILITIES
|  | DIRECTOR, ANALYZE, FORECAST AND SUPPORT OFFICE
|  | DIRECTOR, OFFICE OF CENTRAL PROCESSING
|  | DIRECTOR, OFFICE OF WATER PREDICTION
|  | DIRECTOR, OFFICE OF PLANNING AND PROGRAMMING FOR SERVICE DELIVERY
|  | DIRECTOR, OFFICE OF ORGANIZATIONAL EXCELLENCE
| OFFICE OF UNDER SECRETARY | DIRECTOR, PROGRAM INTEGRATION OFFICE
|  | DIRECTOR, PROGRAM EVALUATION,PLANNING AND RISK MANAGEMENT OFFICE
|  | CHIEF FINANCIAL OFFICER
|  | DEPUTY DIRECTOR, ACQUISITION AND GRANTS OFFICE
|  | DIRECTOR, BUDGET OFFICE
|  | DIRECTOR, ACQUISITION AND GRANTS OFFICE
|  | DEPUTY DIRECTOR, OFFICE OF HUMAN CAPITAL SERVICES
|  | CHIEF ADMINISTRATIVE OFFICER
|  | DIRECTOR, FINANCE OFFICE/COMPTROLLER
|  | DIRECTOR FOR WORKFORCE MANAGEMENT
NATIONAL TELECOMMUNICATIONS AND INFORMATION ADMINISTRATION | FIRST RESPONDER NETWORK AUTHORITY | CHIEF PROCUREMENT OFFICER
|  | CHIEF NETWORK AND TECHNOLOGY OFFICER, FIRST RESPONDER NETWORK AUTHORITY
|  | CHIEF INFORMATION OFFICER, FIRST RESPONDER NETWORK AUTHORITY
|  | CHIEF FINANCIAL AND ADMINISTRATIVE OFFICER, FIRST RESPONDER NETWORK AUTHORITY
|  | CHIEF MARKET ENGAGEMENT OFFICER
| OFFICE OF THE ASSISTANT SECRETARY FOR COMMUNICATIONS AND INFORMATION | CHIEF INFORMATION OFFICER AND DIRECTOR OF ADMINISTRATION
|  | CHIEF FINANCIAL OFFICER
OFFICE—FEDERAL COORDINATOR—METEOROLOGY | ALASKA REGION | DIRECTOR, ALASKA REGION
| CENTERAL REGION | DIRECTOR CENTRAL REGION
| EASTERN REGION | DIRECTOR EASTERN REGION
| SOUTHERN REGION | DIRECTOR, SOUTHERN REGION
| WESTERN REGION | DIRECTOR, WESTERN REGION
OFFICE OF ASSISTANT ADMINISTRATOR FOR FISHERIES | NATIONAL MARINE FISHERIES SERVICE | DEPUTY ASSISTANT ADMINISTRATOR FOR OPERATIONS
|  | DIRECTOR, SCIENTIFIC PROGRAMS AND CHIEF SCIENCE ADVISOR
|  | DIRECTOR OFFICE OF SUSTAINABLE FISHERIES
|  | CHIEF FINANCIAL OFFICER/CHIEF ADMINISTRATIVE OFFICER
|  | DIRECTOR, OFFICE OF ENFORCEMENT
|  | ASSISTANT CHIEF INFORMATION OFFICER
OFFICE OF ASSISTANT ADMINISTRATOR OCEAN SERVICES AND COASTAL ZONE MANAGEMENT | NATIONAL OCEAN SERVICE | DEPUTY ASSISTANT ADMINISTRATOR FOR NAVIGATION, OBSERVATION AND POSITIONING
|  | DIRECTOR, OFFICE OF COASTAL MANAGEMENT
|  | DIRECTOR, INTEGRATED OCEAN OBSERVING SYSTEM
|  | CHIEF FINANCIAL OFFICER/CHIEF ADMINISTRATIVE OFFICER
|  | DEPUTY ASSISTANT ADMINISTRATOR FOR OCEAN SERVICE AND COASTAL ZONE MANAGEMENT
OFFICE OF ASSISTANT ADMINISTRATOR, OCEAN AND ATMOSPHERIC RESEARCH | EARTH SYSTEM RESEARCH LABORATORY | DIRECTOR, GLOBAL MONITORING LABORATORY
|  | DIRECTOR, GLOBAL SYSTEMS LABORATORY
|  | DIRECTOR, PHYSICAL SCIENCES LABORATORY
|  | DIRECTOR, CHEMICAL SCIENCES LABORATORY
| OFFICE OF NATIONAL SEVERE STORMS LABORATORY | DIRECTOR NATIONAL SEVERE STORMS LABORATORY
OFFICE OF OCEANIC AND ATMOSPHERIC RESEARCH | CLIMATE PROGRAM OFFICE | DIRECTOR, CLIMATE PROGRAM OFFICE
OFFICE OF OCEANIC EXPLORATION AND RESEARCH | NATIONAL SEA GRANT COLLEGE PROGRAM | DIRECTOR, NATIONAL SEA GRANT COLLEGE PROGRAM
OFFICE OF OPERATIONAL SYSTEMS | NATIONAL DATA BUOY CENTER | DIRECTOR, NATIONAL DATA BUOY CENTER
| RADAR OPERATIONS CENTER | DIRECTOR, RADAR OPERATIONS CENTER
OFFICE OF REGIONAL AFFAIRS | ATLANTA REGIONAL OFFICE | ATLANTA REGIONAL DIRECTOR
| AUSTIN REGIONAL OFFICE | AUSTIN REGIONAL DIRECTOR
| CHICAGO REGIONAL OFFICE | CHICAGO REGIONAL DIRECTOR
| DENVER REGIONAL OFFICE | DENVER REGIONAL DIRECTOR
| PHILADELPHIA REGIONAL OFFICE | PHILADELPHIA REGIONAL DIRECTOR
| SEATTLE REGIONAL OFFICE | REGIONAL DIRECTOR
OFFICE OF SCIENCE AND TECHNOLOGY | METEOROLOGICAL DEVELOPMENT LABORATORY | DIRECTOR, METEOROLOGICAL DEVELOPMENT LABORATORY
OFFICE OF THE ASSISTANT ADMINISTRATOR FOR WEATHER SERVICES | OFFICE OF THE CHIEF INFORMATION OFFICER | ASSISTANT CHIEF INFORMATION OFFICER FOR WEATHER SERVICE
OFFICE OF THE CHIEF FINANICAL OFFICER AND ASSISTANT SECRETARY FOR ADMINISTRATION | OFFICE OF THE DEPUTY CHIEF FINANCIAL OFFICER FOR FINANCIAL MANAGEMENT | DIRECTOR, OS FINANCIAL MANAGEMENT
|  | DEPUTY DIRECTOR, OFFICE OF FINANCIAL MANAGEMENT SYSTEMS
|  | DIRECTOR FOR FINANCIAL MANAGEMENT AND DEPUTY CHIEF FINANCIAL OFFICER
|  | DIRECTOR, FINANCIAL REPORTING AND INTERNAL CONTROLS
OFFICE OF THE DEPUTY ASSISTANT SECRETARY FOR ADMINISTRATION | OFFICE OF ACQUISITION MANAGEMENT | DEPUTY FOR ACQUISITION PROGRAM MANAGEMENT
|  | EXECUTIVE DIRECTOR, ACQUISITION POLICY OVERSIGHT AND WORKFORCE
|  | SENIOR PROCUREMENT EXECUTIVE AND DIRECTOR FOR ACQUISITION MANAGEMENT
|  | DEPUTY SENIOR PROCUREMENT EXECUTIVE AND DEPUTY FOR PROCUREMENT MANAGEMENT
| OFFICE OF FACILITIES AND ENVIRONMENTAL QUALITY | SENIOR ADVISOR TO THE DIRECTOR FOR FACILITIES AND ENVIRONMENTAL QUALITY
|  | DIRECT, OFFICE OF SPACE AND BUILDING MANAGMENT
|  | DIRECTOR FOR FACILITIES AND ENVIRONMENTAL QUALITY
|  | DEPUTY DIRECTOR FOR FACILITIES AND ENVIRONMENTAL QUALITY
| OFFICE OF HUMAN RESOURCES MANAGEMENT | DEPUTY DIRECTOR FOR STRATEGY
|  | DIRECTOR FOR HUMAN RESOURCES MANAGEMENT AND CHIEF HUMAN CAPITAL OFFICER
| OFFICE OF SECURITY | DIRECTOR FOR CLIENT SECURITY SERVICES
|  | DEPUTY DIRECTOR, OFFICE OF SECURITY
|  | DIRECTOR, OFFICE OF SECURITY
OFFICE OF THE DEPUTY ASSISTANT SECRETARY FOR RESOURCE MANAGEMENT | OFFICE OF BUDGET | DIRECTOR OF THE OFFICE OF BUDGET
OFFICE OF THE DEPUTY SECRETARY | OFFICE OF THE CHIEF INFORMATION OFFICER | DEPUTY CHIEF INFORMATION OFFICER FOR POLICY AND BUSINESS MANAGEMENT
|  | DEPUTY CHIEF INFORMATION OFFICER FOR CYBERSECURITY AND INFORMATION TECHNOLOGY RISK MANAGEMENT/CHIEF INFORMATION SECURITY OFFICER
| DEPUTY CHIEF INFORMATION OFFICER FOR SOLUTIONS AND SERVICE DELIVERY
OFFICE OF THE SECRETARY | OFFICE OF THE CHIEF FINANICAL OFFICER AND ASSISTANT SECRETARY FOR ADMINISTRATION | CHIEF DIVERSITY, EQUITY, AND INCLUSION OFFICER
|  | EXECUTIVE DIRECTOR
|  | DEPUTY DIRECTOR, OFFICE OF BUDGET
| OFFICE OF THE DEPUTY SECRETARY | DIRECTOR OF ACQUISITION SERVICES
|  | DEPUTY DIRECTOR FOR PLANNING, IMPLEMENTATION, AND STAKEHOLDER RELATIONS
|  | DIRECTOR, HUMAN RESOURCES SERVICES, ENTERPRISE SERVICES
| OFFICE OF THE GENERAL COUNSEL | CHIEF, ETHICS LAW AND PROGRAMS DIVISION
|  | CHIEF, CONTRACT LAW DIVISION
|  | CHIEF ADMINISTRATIVE OFFICER
OFFICE OF THE UNDER SECRETARY | OFFICE OF THE DEPUTY UNDER SECRETARY | CHIEF FINANCIAL AND ADMINISTRATIVE OFFICER
|  | DEPUTY CHIEF INFORMATION OFFICER
OFFICE OF THE UNDER SECRETARY OF COMMERCE FOR STANDARDS AND TECHNOLOGY | BALDRIDGE PERFORMANCE EXCELLENCE PROGRAM | DIRECTOR, BALDRIGE PERFORMANCE EXCELLENCE PROGRAM
PATENT AND TRADEMARK OFFICE | OFFICE OF THE CHIEF ADMINISTRATIVE OFFICER | DEPUTY CHIEF ADMINISTRATIVE OFFICER
| OFFICE OF THE CHIEF FINANCIAL OFFICER | DIRECTOR, SENIOR ADVISOR AND COMMERCE INFRASTRUCTURE COORDINATOR
DEPARTMENT OF COMMERCE OFFICE OF THE INSPECTOR GENERAL
| OFFICE OF INSPECTOR GENERAL | DEPUTY ASSISTANT INSPECTOR GENERAL FOR SYSTEMS ACQUISITIONS, INFORMATION TECHNOLOGY SECURITY, AND PROCUREMENT
|  | DEPUTY INSPECTOR GENERAL
OFFICE OF INSPECTOR GENERAL | IMMEDIATE OFFICE | CHIEF OF STAFF
| OFFICE OF AUDIT AND EVALUATION | ASSISTANT INSPECTOR GENERAL FOR ACQUISITION AND SPECIAL PROGRAM AUDITS
|  | PRINCIPAL ASSISTANT INSPECTOR GENERAL FOR AUDIT AND EVALUATION
|  | ASSISTANT INSPECTOR GENERAL FOR AUDITS
|  | ASSISTANT INSPECTOR GENERAL FOR AUDIT AND EVALUATION
| OFFICE OF COUNSEL | COUNSEL TO THE INSPECTOR GENERAL
| OFFICE OF INVESTIGATIONS | ASSISTANT INSPECTOR GENERAL FOR INVESTIGATIONS
UNITED STATES ABILITYONE COMMISSION
| COMMITTEE FOR PURCHASE FROM PEOPLE WHO ARE BLIND OR SEVERELY DISABLED | EXECUTIVE DIRECTOR
CONSUMER PRODUCT SAFETY COMMISSION
CONSUMER PRODUCT SAFETY COMMISSION | OFFICE OF EXECUTIVE DIRECTOR | DEPUTY EXECUTIVE DIRECTOR FOR OPERATIONS SUPPORT
|  | CHIEF INFORMATION OFFICER
|  | DEPUTY EXECUTIVE DIRECTOR FOR OUTREACH (3)
|  | ASSISTANT EXECUTIVE DIRECTOR FOR INFORMATION AND TECHNOLOGY SERVICES
OFFICE OF EXECUTIVE DIRECTOR | OFFICE OF COMPLIANCE | DIRECTOR, ENFORCEMENT AND LITIGATION
|  | ASSISTANT EXECUTIVE DIRECTOR FOR COMPLIANCE AND FIELD OPERATIONS
| OFFICE OF HAZARD IDENTIFICATION AND REDUCTION | ASSOCIATE EXECUTIVE DIRECTOR FOR ECONOMIC ANALYSIS
|  | ASSISTANT EXECUTIVE DIRECTOR FOR HAZARD IDENTIFICATION AND REDUCTION
| ASSOCIATE EXECUTIVE DIRECTOR FOR ENGINEERING SCIENCES (2)
|  | DEPUTY ASSISTANT EXECUTIVE DIRECTOR FOR HAZARD IDENTIFICATION AND REDUCTION (2)
|  | ASSOCIATE EXECUTIVE DIRECTOR FOR EPIDEMIOLOGY
| OFFICE OF IMPORT SURVEILLANCE | DIRECTOR, OFFICE OF IMPORT SURVEILLANCE (2)
COURT SERVICES AND OFFENDER SUPERVISION AGENCY FOR THE DISTRICT OF COLUMBIA
| COURT SERVICES AND OFFENDER SUPERVISION AGENCY FOR THE DISTRICT OF COLUMBIA | MANAGEMENT AND PROGRAM ANALYSIS OFFICER CHIEF OF STAFF
|  | CHIEF FINANCIAL OFFICER
|  | ASSOCIATE DIRECTOR, LEGISLATIVE, INTERGOVERNMENTAL AND PUBLIC AFFAIRS
|  | DEPUTY DIRECTOR
|  | ASSOCIATE DIRECTOR FOR HUMAN RESOURCES
|  | ASSOCIATE DIRECTOR FOR ADMINISTRATION
|  | CHIEF INFORMATION OFFICER
|  | ASSOCIATE DIRECTOR FOR COMMUNITY SUPERVISION
|  | ASSOCIATE DIRECTOR FOR OFFICE OF BEHAVIORAL INTERVENTIONS
|  | CHIEF TECHNOLOGY OFFICER
|  | ASSOCIATE DIRECTOR FOR RESEARCH AND EVALUATION
COURT SERVICES AND OFFENDER SUPERVISION AGENCY FOR THE DISTRICT OF COLUMBIA | PRETRIAL SERVICES AGENCY | DIRECTOR
| ASSISTANT DIRECTOR FOR DEFENDANT ENGAGEMENT AND SYSTEMS SUPPORT
|  | ASSISTANT DIRECTOR FOR MANAGEMENT AND ADMINISTRATION
OFFICE OF THE SECRETARY OF DEFENSE
OFFICE OF THE DEPARTMENT OF DEFENSE CHIEF INFORMATION OFFICER | DEFENSE INFORMATION SYSTEMS AGENCY | PROCUREMENT SERVICES EXECUTIVE AND HEAD OF CONTRACTING ACTIVITY
|  | DIRECTOR, DEFENSE SPECTRUM ORGANIZATION
|  | DIRECTOR, ENTERPRISE OPERATIONS AND INFRASTRUCTURE CENTER
|  | DIRECTOR, COMPUTE OPERATIONS
|  | DIRECTOR, GLOBAL SERVICES
|  | DIRECTOR, CENTER FOR OPERATIONS
|  | EXECUTIVE DEPUTY DIRECTOR
|  | DEPUTY CHIEF FINANCIAL OFFICER/DEPUTY COMPTROLLER
|  | WORKFORCE MANAGEMENT EXECUTIVE
|  | VICE PROCUREMENT SERVICES EXECUTIVE/DEPUTY CHIEF, DEFENSE INFORMATION TECHNOLOGY CONTRACTING ORGANIZATION
|  | ENDPOINT AND CUSTOMER SERVICE EXECUTIVE
|  | CYBER SECURITY AND ANALYTICS DIRECTOR
|  | TRANSPORT SERVICES EXECUTIVE
|  | DIRECTOR, DIGITAL CAPABILITIES AND SECURITY CENTER—COMPONENT ACQUISITION EXECUTIVE
|  | HOSTING AND COMPUTE CENTER EXECUTIVE
|  | DIRECTOR, ENTERPRISE INTEGRATION AND INNOVATION CENTER/CIO
|  | CHIEF FINANCIAL OFFICER/COMPTROLLER
|  | JFHQ-DODIN EXECUTIVE
|  | OPERATIONS EXECUTIVE
|  | JOINT ENTERPRISE SERVICES DIRECTOR
OFFICE OF THE DIRECTOR OF ADMINISTRATION AND MANAGEMENT | PENTAGON FORCE PROTECTION AGENCY | EXECUTIVE DIRECTOR, LAW ENFORCEMENT
|  | DEPUTY DIRECTOR, PENTAGON FORCE PROTECTION AGENCY
|  | DIRECTOR, PENTAGON FORCE PROTECTION AGENCY
|  | EXECUTIVE DIRECTOR, SECURITY INTEGRATION AND TECHNOLOGY
| WASHINGTON HEADQUARTERS SERVICES | DIRECTOR, POLICY, PLANS, AND REQUIREMENTS—WHMO
|  | DIRECTOR, ACQUISITION DIRECTORATE
|  | DIRECTOR, FACILITIES SERVICES DIRECTORATE
|  | DEPUTY DIRECTOR, FACILITIES SERVICES DIRECTORATE
|  | CHIEF HUMAN RESOURCES OFFICER
|  | EXECUTIVE DIRECTOR, ACQUISITION/HCA—NGB
|  | INSPECTOR GENERAL—NGB
|  | DEPUTY CHIEF HUMAN RESOURCES OFFICER
OFFICE OF THE GENERAL COUNSEL | DEFENSE LEGAL SERVICES AGENCY | DIRECTOR, DEFENSE OFFICE OF HEARINGS AND APPEALS
|  | DIRECTOR, OFFICE OF LITIGATION
OFFICE OF THE SECRETARY OF DEFENSE | OFFICE OF INSPECTOR GENERAL | ASSISTANT INSPECTOR GENERAL FOR DEFENSE FINANCIAL AUDITING SERVICE
|  | DEPUTY DIRECTOR, DEFENSE CRIMINAL INVESTIGATIVE SERVICE
|  | DIRECTOR, DEFENSE CRIMINAL INVESTIGATIVE SERVICE—ASSISTANT INSPECTOR GENERAL FOR INVESTIGATIONS
|  | PRINCIPAL DEPUTY INSPECTOR GENERAL
|  | ASSISTANT INSPECTOR GENERAL FOR READINESS AND OPERATIONS SUPPORT
| OFFICE OF THE ASSISTANT SECRETARY OF DEFENSE (LEGISLATIVE AFFAIRS) | DIRECTOR FOR BUSINESS INTEGRATION
| OFFICE OF THE ASSISTANT TO THE SECRETARY OF DEFENSE (PRIVACY, CIVIL LIBERTIES, AND TRANSPARENCY) | PRINCIPAL DEPUTY TO THE ASSISTANT TO THE SECRETARY OF DEFENSE FOR PRIVACY, CIVIL LIBERTIES AND TRANSPARENCY AND SENIOR INTELLIGENCE OVERSIGHT OFFICIAL
| OFFICE OF THE ASSISTANT TO THE SECRETARY OF DEFENSE (PUBLIC AFFAIRS) | DIRECTOR, BUSINESS OPERATIONS
| OFFICE OF THE CHIEF DIGITAL AND ARTIFICIAL INTELLIGENCE OFFICER | DIRECTOR FOR ACQUISITIONS
| OFFICE OF THE DEPARTMENT OF DEFENSE CHIEF INFORMATION OFFICER | DIRECTOR, SUPPLY CHAIN RISK MANAGEMENT
| OFFICE OF THE DIRECTOR OF ADMINISTRATION AND MANAGEMENT | DIRECTOR, PLANNING, PERFORMANCE AND ASSESSMENT DIRECTORATE
|  | DIRECTOR, ORGANIZATIONAL AND MANAGEMENT POLICY
|  | DEPUTY PERFORMANCE IMPROVEMENT OFFICER AND DIRECTOR PERFORMANCE IMPROVEMENT DIRECTORATE
|  | DIRECTOR, INFORMATION MANAGEMENT AND TECHNOLOGY
|  | DEPUTY DIRECTOR, PERFORMANCE IMPROVEMENT DIRECTORATE
| OFFICE OF THE DIRECTOR, OPERATIONAL TEST AND EVALUATION | DEPUTY DIRECTOR, LIVE FIRE TEST AND EVALUATION
|  | DEPUTY DIRECTOR, LAND AND EXPEDITIONARY WARFARE
|  | DEPUTY DIRECTOR, NAVAL WARFARE
| OFFICE OF THE JOINT CHIEFS OF STAFF | DEPUTY DIRECTOR FOR JOINT FORCE INTEGRATION
|  | VICE DIRECTOR FOR C4 CYBER
|  | VICE DIRECTOR FOR MANPOWER AND PERSONNEL
|  | VICE DEPUTY DIRECTOR FOR REGIONAL OPERATIONS AND FORCE MANAGEMENT
|  | VICE DIRECTOR FOR JOINT FORCE DEVELOPMENT AND DESIGN INTEGRATION
| OFFICE OF THE UNDER SECRETARY OF DEFENSE (ACQUISITION AND SUSTAINMENT) | DIRECTOR, STRATEGIC RESOURCES AND ANALYSIS
| OFFICE OF THE UNDER SECRETARY OF DEFENSE (COMPTROLLER) | DEPUTY COMPTROLLER FOR ENTERPRISE FINANCIAL TRANSFORMATION
|  | DIRECTOR FOR DIGITAL TRANSFORMATION
|  | DIRECTOR FOR FINANCIAL MANAGEMENT OPERATIONS AND ANALYSIS
|  | DEPUTY CHIEF FINANCIAL OFFICER
OFFICE OF THE UNDER SECRETARY OF DEFENSE (ACQUISITION AND SUSTAINMENT) | DEFENSE CONTRACT MANAGEMENT AGENCY | DEPUTY GENERAL COUNSEL
|  | EXECUTIVE DIRECTOR, TOTAL FORCE DIRECTORATE
|  | EXECUTIVE DIRECTOR, PORTFOLIO MANAGEMENT AND BUSINESS INTEGRATION
|  | EXECUTIVE DIRECTOR, INFORMATION TECHNOLOGY AND CHIEF INFORMATION OFFICER
|  | EXECUTIVE DIRECTOR, TECHNICAL DIRECTORATE
|  | EXECUTIVE DIRECTOR, COST AND PRICING REGIONAL COMMAND
|  | DEPUTY DIRECTOR, DEFENSE CONTRACT MANAGEMENT AGENCY
|  | EXECUTIVE DIRECTOR, QUALITY ASSURANCE
|  | EXECUTIVE DIRECTOR, CONTRACTS
|  | EXECUTIVE DIRECTOR, FINANCIAL AND BUSINESS OPERATIONS AND COMPTROLLER
|  | GENERAL COUNSEL
| DEFENSE LOGISTICS AGENCY | DEPUTY DIRECTOR J8 AND DIRECTOR, FIAR
|  | DIRECTOR, HUMAN RESOURCES
|  | EXECUTIVE DIRECTOR, AVIATION CONTRACTING AND ACQUISITION MANAGEMENT
|  | DIRECTOR, DLA INFORMATION OPERATIONS
|  | DEPUTY GENERAL COUNSEL, DLA
|  | DEPUTY COMMANDER, DLA DISTRIBUTION
|  | DEPUTY COMMANDER, DLA LAND AND MARITIME
|  | DEPUTY COMMANDER, DLA AVIATION
|  | DEPUTY COMMANDER, DLA TROOP SUPPORT
|  | GENERAL COUNSEL
|  | EXECUTIVE DIRECTOR, LOGISTICS POLICY AND PROGRAMS
|  | DIRECTOR, DLA FINANCE
|  | DIRECTOR, DLA DISPOSITION SERVICES
|  | EXECUTIVE DIRECTOR, TROOP SUPPORT CONTRACTING AND ACQUISITION MANAGEMENT
|  | EXECUTIVE DIRECTOR, CONTRACTING AND ACQUISITION MANAGEMENT
|  | DEPUTY COMMANDER, DLA ENERGY
|  | DEPUTY DIRECTOR, DLA ACQUISITION
|  | DIRECTOR, DLA ACQUISITION (J-7)
|  | DEPUTY DIRECTOR, DLA INFORMATION OPERATIONS
|  | VICE DIRECTOR, DEFENSE LOGISTICS AGENCY
|  | CHIEF OF STAFF
|  | PROGRAM EXECUTIVE OFFICER, DLA INFORMATION OPERATIONS
|  | DEPUTY DIRECTOR, DLA LOGISTICS OPERATIONS
|  | EXECUTIVE DIRECTOR, STRATEGIC PROGRAMS AND INTEGRATION DIRECTORATE
|  | EXECUTIVE DIRECTOR, OPERATIONS AND SUSTAINMENT
| DEFENSE THREAT REDUCTION AGENCY | DIRECTOR, COOPERATIVE THREAT REDUCTION DEPARTMENT
|  | DIRECTOR, COMBATANT COMMAND SUPPORT
|  | EXECUTIVE DIRECTOR, DEFENSE THREAT REDUCTION AGENCY
|  | DIRECTOR, OPERATIONS AND INTEGRATION DIRECTORATE
|  | DIRECTOR, ACQUISITION, CONTRACTS AND LOGISTICS
|  | DIRECTOR, CHEMICAL AND BIOLOGICAL TECHNOLOGIES DEPARTMENT
|  | GENERAL COUNSEL
|  | DIRECTOR, INFORMATION INTEGRATION AND TECHNOLOGY SERVICES/CIO
|  | DIRECTOR, NUCLEAR TECHNOLOGIES DEPARTMENT
|  | DIRECTOR, RESEARCH AND DEVELOPMENT DIRECTORATE
|  | DIRECTOR, INTELLIGENCE, PLANS AND RESOURCE INTEGRATION DIRECTORATE
|  | DIRECTOR, COUNTER WEAPONS OF MASS DESTRUCTION TECHNOLOGIES DEPARTMENT
|  | DIRECTOR, BASIC AND APPLIED SCIENCES DEPARTMENT
| OFFICE OF THE ASSISTANT SECRETARY OF DEFENSE (ACQUISITION) | DIRECTOR, CONTRACT POLICY
|  | DEPUTY DIRECTOR, DEFENSE ACQUISITION REGULATIONS SYSTEM
|  | PRINCIPAL DEPUTY DIRECTOR, ENTERPRISE INFORMATION
|  | DIRECTOR, AIR PLATFORMS AND WEAPONS
|  | DIRECTOR, NUCLEAR COMMAND, CONTROL, AND COMMUNICATIONS
|  | DIRECTOR, COMMAND, CONTROL, COMMUNICATIONS, COMPUTERS/ISR
|  | DIRECTOR, CONTRACTING EBUSINESS
|  | PRINCIPAL DIRECTOR, DEFENSE PRICING AND CONTRACTING
|  | DEPUTY ASSISTANT SECRETARY OF DEFENSE (PLATFORM AND WEAPON PORTFOLIO MANAGEMENT)
|  | DIRECTOR, PRICING AND CONTRACTING INITIATIVES
|  | DIRECTOR, SPACE AND MISSILE DEFENSE
|  | DIRECTOR, STRATEGIC DETERRENCE AND CAPABILITY
|  | DEPUTY ASSISTANT SECRETARY OF DEFENSE (ACQUISITION INTEGRATION AND INTEROPERABILITY)
| OFFICE OF THE ASSISTANT SECRETARY OF DEFENSE (NUCLEAR, CHEMICAL AND BIOLOGICAL DEFENSE PROGRAMS) | DEPUTY ASSISTANT SECRETARY OF DEFENSE (NUCLEAR MATTERS)
|  | PRINCIPAL DIRECTOR, NUCLEAR MATTERS
OFFICE OF THE UNDER SECRETARY OF DEFENSE (COMPTROLLER) | DEFENSE CONTRACT AUDIT AGENCY | DIRECTOR, DEFENSE CONTRACT AUDIT AGENCY
|  | DEPUTY REGIONAL DIRECTOR, CENTRAL
|  | DEPUTY REGIONAL DIRECTOR, WESTERN
|  | ASSISTANT DIRECTOR, OPERATIONS
|  | GENERAL COUNSEL
|  | REGIONAL DIRECTOR, EASTERN
|  | REGIONAL DIRECTOR, CENTRAL
|  | REGIONAL DIRECTOR, WESTERN
|  | DEPUTY DIRECTOR, DCAA
|  | CORPORATE AUDIT DIRECTOR (A)
|  | CORPORATE AUDIT DIRECTOR (B)
|  | DEPUTY REGIONAL DIRECTOR, EASTERN
|  | ASSISTANT DIRECTOR, POLICY AND QUALITY
|  | DIRECTOR, FIELD DETACHMENT
|  | CORPORATE AUDIT DIRECTOR (D)
|  | CORPORATE AUDIT DIRECTOR (C)
|  | ASSISTANT DIRECTOR, HUMAN CAPITAL AND RESOURCE MANAGEMENT
OFFICE OF THE UNDER SECRETARY OF DEFENSE (PERSONNEL AND READINESS) | DEFENSE HEALTH AGENCY | GENERAL COUNSEL FOR DEFENSE HEALTH AGENCY
OFFICE OF THE UNDER SECRETARY OF DEFENSE (POLICY) | DEFENSE SECURITY COOPERATION AGENCY | ASSISTANT DIRECTOR FOR INTERNATIONAL OPERATIONS
OFFICE OF THE UNDER SECRETARY OF DEFENSE (RESEARCH AND ENGINEERING) | DEFENSE ADVANCED RESEARCH PROJECTS AGENCY | DIRECTOR, CONTRACTS MANAGEMENT OFFICE
|  | GENERAL COUNSEL
|  | DIRECTOR, MISSION SERVICES OFFICE
| MISSILE DEFENSE AGENCY | DIRECTOR, CONTRACTING
|  | DIRECTOR FOR SYSTEMS ENGINEERING AND INTEGRATION
|  | DIRECTOR FOR INTERNATIONAL AFFAIRS
|  | PROGRAM DIRECTOR, TARGETS AND COUNTERMEASURES
|  | EXECUTIVE DIRECTOR
|  | CHIEF ENGINEER
|  | DIRECTOR FOR ADVANCED TECHNOLOGY
|  | DIRECTOR FOR OPERATIONS
|  | DIRECTOR FOR ENGINEERING
|  | DEPUTY PROGRAM EXECUTIVE FOR SBWS
|  | PROGRAM DIRECTOR, COMMAND AND CONTROL, BATTLEMENT MANAGEMENT AND COMMUNICATIONS
|  | PROGRAM DIRECTOR, MISSILE DEFENSE SYSTEM GROUND SENSORS
|  | DEPUTY DIRECTOR FOR TEST
|  | PROGRAM DIRECTOR, GROUND- BASED MIDCOURSE DEFENSE
|  | PROGRAM EXECUTIVE, C4ISR
|  | COMPTROLLER/CHIEF FINANCIAL OFFICER
|  | DIRECTOR FOR ACQUISITION
|  | PROGRAM EXECUTIVE FOR SBWS
|  | DEPUTY PROGRAM EXECUTIVE FOR SEA-BASED WEAPON SYSTEMS
| OFFICE OF THE ASSISTANT SECRETARY OF DEFENSE (CRITICAL TECHNOLOGIES) | DIRECTOR, ENABLING TECHNOLOGY
| OFFICE OF THE ASSISTANT SECRETARY OF DEFENSE (SCIENCE AND TECHNOLOGY) | DIRECTOR, SCIENCE AND TECHNOLOGY
DEPARTMENT OF THE AIR FORCE
| DEPARTMENT OF THE AIR FORCE | DEPUTY DIRECTOR LEGISLATIVE LIAISON
|  | DIRECTOR OF COMMUNICATIONS
|  | DIRECTOR, INSTALLATION, LOGISTICS AND MISSION SUPPORT
|  | DEPUTY DIRECTOR, CIVILIAN FORCE MANAGEMENT, HUMAN RESOURCE SPECIALIST
|  | DEPUTY DIRECTOR, TRAINING AND READINESS
|  | DEPUTY DIRECTOR, SPACE WARFIGHTING ANALYSIS CENTER
|  | CHIEF INFORMATION SECURITY OFFICER (CISO)
|  | DEPUTY DIRECTOR, SECURITY FORCES
|  | DIRECTOR, DIVERSITY AND INCLUSION
|  | DEPUTY DIRECTOR, STRATEGY, CONCEPTS AND ASSESSMENTS
|  | EXECUTIVE DIRECTOR, AIR NATIONAL GUARD
|  | DIRECTOR, DIVERSITY AND INCLUSION
|  | EXECUTIVE DIRECTOR
|  | DIRECTOR, CIVILIAN FORCE MANAGEMENT
|  | DEPUTY DIRECTOR OF LOGISTICS
|  | CHIEF INFORMATION OFFICER AND DEPUTY DIRECTOR, PLANS AND INTEGRATION
|  | DEPUTY ASSISTANT SECRETARY (LOGISTICS)
|  | DIRECTOR OF POLICY, PROGRAMS AND STRATEGY, INTERNATIONAL AFFAIRS
|  | ASSOCIATE DEPUTY ASSISTANT SECRETARY FOR PROGRAMS
|  | DEPUTY DIRECTOR OF POLICY, PROGRAMS AND STRATEGY, INTERNATIONAL AFFAIRS
|  | DIRECTOR, HEADQUARTERS AIR FORCE INFORMATION MANAGEMENT
|  | DIRECTOR, LOGISTICS, ENGINEERING AND FORCE PROTECTION
|  | DEPUTY DIRECTOR, STRATEGIC PLANNING
|  | DEPUTY DIRECTOR, SECURITY, SPECIAL PROGRAM OVERSIGHT, AND INFORMATION PROTECTION
|  | DIRECTOR, SPACE SECURITY AND DEFENSE PROGRAM
|  | DIRECTOR, CYBER CAPABILITIES AND COMPLIANCE
|  | AIR FORCE PROGRAM EXECUTIVE OFFICER FOR COMBAT AND MISSION SUPPORT
|  | DEPUTY DIRECTOR OF LOGISTICS
|  | DEPUTY DIRECTOR, INFORMATION DOMINANCE
|  | DEPUTY DIRECTOR OF OPERATIONS
|  | DIRECTOR ACQUISITION AND TECHNOLOGY
|  | ASSOCIATE DEPUTY SURGEON GENERAL
|  | DIRECTOR FORCE DEVELOPMENT
|  | DEPUTY DIRECTOR OF PROGRAMS
|  | ASSISTANT DEPUTY CHIEF OF STAFF, STRATEGY, INTEGRATION AND REQUIREMENTS
|  | DEPUTY CHIEF OF SPACE OPERATIONS FOR PERSONNEL
|  | CHIEF INFORMATION OFFICER
AIR FORCE MATERIEL COMMAND | AERONAUTICAL SYSTEMS CENTER | EXECUTIVE DIRECTOR, AIR FORCE LIFE CYCLE MANAGEMENT CENTER
|  | PROGRAM EXECUTIVE OFFICER, MOBILITY AIRCRAFT
|  | PROGRAM EXECUTIVE OFFICER FOR AGILE COMBAT SUPPORT
| AIR FORCE FLIGHT TEST CENTER | EXECUTIVE DIRECTOR, AIR FORCE TEST CENTER
| AIR FORCE MATERIEL COMMAND LAW OFFICE | COMMAND COUNSEL
|  | DIRECTOR, AIR FORCE MATERIEL COMMAND LAW OFFICE
| AIR FORCE OFFICE OF SCIENTIFIC RESEARCH | DIRECTOR AIR FORCE OFFICE OF SCIENTIFIC RESEARCH
| AIR FORCE RESEARCH LABORATORY | DIRECTOR, MATERIALS AND MANUFACTURING
|  | DIRECTOR, AEROSPACE SYSTEMS
|  | DIRECTOR, PLANS AND PROGRAMS
|  | DIRECTOR, STRATEGIC DEVELOPMENT AND PLANNING
|  | EXECUTIVE DIRECTOR, AIR FORCE RESEARCH LABORATORY
| AIR LOGISTICS CENTER, OGDEN | DIRECTOR OF CONTRACTING
|  | DIRECTOR, ENGINEERING AND TECHNICAL MANAGEMENT
| AIR LOGISTICS CENTER, OKLAHOMA CITY | DIRECTOR OF ENGINEERING AND TECHNICAL MANAGEMENT
|  | DIRECTOR OF CONTRACTING
|  | DIRECTOR, 448TH SUPPLY CHAIN MANAGEMENT WING
|  | DIRECTOR OF LOGISTICS, AIR FORCE SUSTAINMENT CENTER
| AIR LOGISTICS CENTER, WARNER ROBINS | DIRECTOR OF CONTRACTING
| CONTRACTING | DIRECTOR, MILSATCOM DIRECTORATE
| ELECTRONIC SYSTEMS CENTER | DIRECTOR, ENGINEERING AND TECHNICAL MANAGEMENT
|  | PROGRAM EXECUTIVE OFFICER, BATTLE MANAGEMENT
| ENGINEERING AND TECHNICAL MANAGEMENT | DIRECTOR, ENGINEERING AND TECHNICAL MANAGEMENT
| FINANCIAL MANAGEMENT AND COMPTROLLER | DEPUTY DIRECTOR, FINANCIAL MANAGEMENT
| LOGISTICS | DEPUTY DIRECTOR, LOGISTICS, INSTALLATIONS AND MISSION SUPPORT
AIR FORCE RESEARCH LABORATORY | DIRECTED ENERGY DIRECTORATE | DIRECTOR, DIRECTED ENERGY
| HUMAN EFFECTIVENESS DIRECTORATE | DIRECTOR, HUMAN EFFECTIVENESS DIRECTORATE
AIR FORCE SPACE COMMAND | SPACE AND MISSLE SYSTEMS CENTER | DIRECTOR, MILITARY SATELLITE COMMUNICATIONS DIRECTORATE
|  | DIRECTOR, RAPID CAPABILITY OFFICE
|  | DIRECTOR OF CONTRACTING, SPACE AND MISSILE SYSTEMS CENTER (SMC)
AUDITOR GENERAL | AIR FORCE AUDIT AGENCY (FIELD OPERATING AGENCY) | ASSISTANT AUDITOR GENERAL, OPERATIONS AND SUPPORT AUDITS
|  | ASSISTANT AUDITOR GENERAL, ACQUISTION, LOGISTICS AND FINANCIAL AUDITS
DEPARTMENT OF THE AIR FORCE | AIR COMBAT COMMAND | DEPUTY DIRECTOR OF LOGISTICS, ENGINEERING, AND FORCE PROTECTION
|  | DIRECTOR, ACQUISITION MANAGEMENT AND INTEGRATION CENTER
|  | DEPUTY DIRECTOR, REQUIREMENTS
| AIR EDUCATION AND TRAINING COMMAND | DIRECTOR, LOGISTICS, INSTALLATIONS AND MISSION SUPPORT
|  | DIRECTOR, INTERNATIONAL TRAINING AND EDUCATION
| AIR FORCE MATERIEL COMMAND | DIRECTOR, NATIONAL MUSEUM OF THE UNITED STATES AIR FORCE
|  | DIRECTOR, MANPOWER, PERSONNEL AND SERVICES
|  | EXECUTIVE DIRECTOR, AIR FORCE NUCLEAR WEAPONS CENTER
|  | DIRECTOR OF CONTRACTING
|  | DIRECTOR, INSTALLATION SUPPORT
|  | PROGRAM EXECUTIVE OFFICER FOR BUSINESS ENTERPRISE SYSTEMS
|  | DIRECTOR, FINANCIAL MANAGEMENT
|  | DIRECTOR, ENGINEERING AND TECHNICAL MANAGEMENT
|  | DIRECTOR INSTALLATIONS
|  | DEPUTY DIRECTOR, STRATEGIC PLANS, PROGRAMS, REQUIREMENTS AND ANALYSES
|  | DIRECTOR OF ENGINEERING AND TECHNICAL MANAGEMENT, F-35 LIGHTNING II JOINT PROGRAM OFFICE
|  | DIRECTOR FINANCIAL MANAGEMENT AND COMPTROLLER
|  | DIRECTOR, AIR FORCE CIVIL ENGINEER CENTER
|  | DIRECTOR OF LOGISTICS AND LOGISTICS SERVICES
|  | EXECUTIVE DIRECTOR, AIR FORCE INSTALLATION AND MISSION SUPPORT CENTER
|  | EXECUTIVE DIRECTOR, AIR FORCE SUSTAINMENT CENTER
|  | DIRECTOR, RESOURCES
|  | DIRECTOR, ENGINEERING AND TECHNICAL MANAGEMENT (4)
|  | DIRECTOR OF PROPULSION
|  | EXECUTIVE DIRECTOR, AIR FORCE MATERIEL COMMAND
|  | DIRECTOR OF CONTRACTING (4)
|  | DEPUTY DIRECTOR, AIR, SPACE AND CYBERSPACE OPERATIONS
|  | EXECUTIVE DIRECTOR
|  | DIRECTOR, HYBIRD PRODUCT SUPPORT INTEGRATOR
|  | PROGRAM EXECUTIVE OFFICER, NC3 SYSTEMS AND DIRECTOR
|  | DIRECTOR, 448TH SUPPLY CHAIN MANAGEMENT WING
|  | DIRECTOR, FINANCE AND RESOURCES
| AIR FORCE RESERVE COMMAND | DIRECTOR OF STAFF
| AIR FORCE SPACE COMMAND | EXECUTIVE DIRECTOR, AIR FORCE SPACE COMMAND
|  | DIRECTOR, COMMAND, CONTROL, COMMUNICATIONS, AND COMPUTER (C4) SYSTEMS
|  | DEPUTY DIRECTOR, RESOURCE AND INTEGRATION DIRECTORATE
|  | DEPUTY TO THE COMMANDING GENERAL FOR SUPPORT
| AIR FORCE SPECIAL OPERATIONS COMMAND | EXECUTIVE DIRECTOR AIR FORCE SPECIAL OPERATIONS COMMAND
|  | DEPUTY CHIEF FINANCIAL OFFICER
| AIR MOBILITY COMMAND | DEPUTY DIRECTOR OR LOGISTICS
| DEPUTY CHIEF OF STAFF FOR INTELLIGENCE, SURVEILLANCE AND RECONNAISSANCE | DIRECTOR OF INTELLIGENCE, SURVEILLANCE, AND RECONNAISSANCE INNOVATIONS AND UNMANNED AERIAL SYSTEMS TASK FORCE
| JOINT STAFF | DIRECTOR, JOINT INFORMATION OPERATIONS WARFARE CENTER
| OFFICE OF ASSISTANT SECRETARY AIR FORCE FOR ACQUISITION | DEPUTY ASSISTANT SECRETARY (SCIENCE, TECHNOLOGY AND ENGINEERING)
|  | DEPUTY ASSISTANT SECRETARY (ACQUISITION INTEGRATION)
|  | DIRECTOR, INFORMATION DOMINANCE PROGRAMS
|  | ASSOC DEP ASST SEC OF THE AIR FORCE FOR SCIENCE, TECHNOLOGY AND ENGINEERING
|  | ASSOCIATE DEPUTY ASSISTANT SECRETARY (ACQUISITION INTEGRATION)
|  | DIRECTOR OF CONTRACTING, AIR FORCE RAPID CAPABILITIES OFFICE
|  | DIRECTOR OF CONTRACTING (SPECIAL ACCESS PROGRAMS)
| OFFICE OF ASSISTANT SECRETARY AIR FORCE FOR FINANCIAL MANAGEMENT AND COMPTROLLER | ASSOCIATE DEPUTY ASSISTANT SECRETARY (COST AND ECONOMICS)
|  | CHIEF INFORMATION OFFICER
| OFFICE OF ASSISTANT SECRETARY OF THE AIR FORCE FOR MANPOWER AND RESERVE AFFAIRS | DEPUTY ASSISTANT SECRETARY FOR RESERVE AFFAIRS
| OFFICE OF THE CHIEF OF STAFF | DEPUTY DIRECTOR OF STAFF, HEADQUARTERS UNITED STATES AIR FORCE
| OFFICE OF THE INSPECTOR GENERAL | EXECUTIVE DIRECTOR, OFFICE OF SPECIAL INVESTIGATIONS
| OFFICE OF THE SECRETARY | DIRECTOR, AIR FORCE RAPID CAPABILITIES OFFICE
|  | DEPUTY CHIEF MANAGEMENT OFFICER
|  | DEPUTY DIRECTOR, AIR FORCE RAPID CAPABILITIES OFFICE
|  | DEPUTY DIRECTOR, AIR FORCE REVIEW BOARDS AGENCY
|  | DIRECTOR, OFFICE OF DIVERSITY AND INCLUSION (2)
| UNITED STATES CENTRAL COMMAND | DEPUTY DIRECTOR OF OPERATIONS INTERAGENCY ACTION GROUP
|  | DIRECTOR OF RESOURCES, REQUIREMENTS, BUDGET AND ASSESSMENT
|  | DEPUTY DIRECTOR OF LOGISTICS AND ENGINEERING
| UNITED STATES NORTHERN COMMAND | DIRECTOR, PROGRAMS AND RESOURCES
|  | NORTHCOM, DEPUTY DIRECTOR OF OPERATIONS FOR SPECIAL ACTIVITIES
|  | DEPUTY DIRECTOR OF STRATEGY, POLICY AND PLANS
|  | DEPUTY TO THE COMMANDING GENERAL, JTF-NCR/USAMDW
|  | DEPUTY DIRECTOR OF OPERATIONS
|  | DIRECTOR OF INTERAGENCY
|  | DIRECTOR, JOINT EXERCISES AND TRAINING
|  | DEPUTY COMMANDER, JOINT FORCES HEADQUARTERS—NATIONAL CAPITAL REGION
| UNITED STATES SPECIAL OPERATIONS COMMAND | DEPUTY DIRECTOR, CENTER FOR SPECIAL OPERATIONS ACQUISITION AND LOGISTICS
|  | DIRECTOR FOR ACQUISITION
|  | PRESIDENT, JOINT SPECIAL OPERATIONS UNIVERSITY
|  | DIRECTOR, PLANS, POLICY AND STRATEGY
|  | DIRECTOR AND CHIEF INFOMATION OFFICER FOR SPECIAL OPERATIONS NETWORKS AND COMMUNICATIONS CENTER
|  | CHIEF FINANCIAL OFFICER
|  | DEPUTY CHIEF OF STAFF
| DIRECTOR COMMUNICATIONS SYSTEMS/CIO (J6)
|  | DIRECTOR, COMMAND SUPPORT
|  | DIRECTOR, PLANS, POLICY, STRATEGY AND CONCEPTS
| UNITED STATES STRATEGIC COMMAND | DIRECTOR, COMMAND, CONTROL, COMMUNICATIONS AND COMPUTER SYSTEMS
|  | TECHNICAL DIRECTOR, JOINT WARFARE ANALYSIS CENTER
|  | DEPUTY DIRECTOR, CAPABILITY AND RESOURCE INTEGRATION
|  | DEPUTY DIRECTOR, PLANS AND POLICY
|  | DIRECTOR, JOINT EXERCISES, TRAINING, AND ASSESSMENTS
|  | ASSOCIATE DIRECTOR, CAPABILITY AND RESOURCE INTEGRATION
|  | DEPUTY DIRECTOR, CAPABILITY DEVELOPMENTAL GROUP COMMAND ACQUISITION EXEC
|  | DIRECTOR, GLOBAL INNOVATION STRATEGY CENTER
|  | DIRECTOR, CAPABILITY AND RESOURCE INTEGRATION, USSTRATCOM C2 FACILITY MANAGEMENT PMO
|  | ASSOCIATE DIRECTOR CAPABILITY AND RESOURCE
|  | DEPUTY DIRECTOR, PLANS AND POLICY, USSTRATCOM
|  | DIRECTOR, JOINT EXCERCISES AND TRAINING
| UNITED STATES TRANSPORTATION COMMAND | DEPUTY DIRECTOR, ACQUISITION
|  | DIRECTOR, ACQUISTION
|  | DIRECTOR, PROGRAM ANALYSIS AND FINANCIAL MANAGEMENT
|  | DEPUTY DIRECTOR, STRATEGY, CAPABILITIES, POLICY AND LOGISTICS
|  | DIRECTOR, DEFENSE PERSONAL PROPERTY MANAGEMENT OFFICE
|  | DEPUTY DIRECTOR, OPERATIONS
|  | EXECUTIVE DIRECTOR
|  | EXECUTIVE DIRECTOR AND DEPUTY CHIEF INFORMATION OFFICER
DEPUTY CHIEF OF STAFF, INSTALLATIONS AND LOGISTICS | CIVIL ENGINEER | DEPUTY DIRECTOR OF CIVIL ENGINEERS
| RESOURCES | DIRECTOR OF RESOURCE INTEGRATION
DEPUTY CHIEF OF STAFF, PERSONNEL | AIR FORCE PERSONNEL CENTER (FIELD OPERATING AGENCY) | EXECUTIVE DIRECTOR, AIR FORCE PERSONNEL CENTER
|  | DIRECTOR OF PERSONNEL OPERATIONS
OFFICE OF ASSISTANT SECRETARY AIR FORCE FOR ACQUISITION | DIRECTORATE OF SPACE AND NUCLEAR DETERRENCE | DEPUTY ASSISTANT CHIEF OF STAFF, STRATEGIC DETERRENCE AND NUCLEAR INTEGRATION
|  | ASSOCIATE ASSISTANT CHIEF OF STAFF STRATEGIC DETERRENCE AND NUCLEAR INTEGRATION
| OFFICE DEPUTY ASSISTANT SECRETARY CONTRACTING | ASSOCIATE DEPUTY ASSISTANT SECRETARY (CONTRACTING)
| OFFICE DEPUTY ASSISTANT SECRETARY SCIENCE, TECHNOLOGY AND ENGINEERING | SPECIAL ASSISTANT TO THE DEPUTY ASSISTANT SECRETARY SCIENCE, TECHNOLOGY AND ENGINEERING
OFFICE OF ASSISTANT SECRETARY AIR FORCE FOR FINANCIAL MANAGEMENT AND COMPTROLLER | OFFICE DEPUTY ASSISTANT SECRETARY BUDGET | ASSOCIATE DEPUTY ASSISTANT SECRETARY FOR BUDGET
|  | DIRECTOR, BUDGET INVESTMENT
| OFFICE DEPUTY ASSISTANT SECRETARY COST AND ECONOMICS | DEPUTY ASSISTANT SECRETARY (COST AND ECONOMICS)
|  | ASSOCIATE DEPUTY ASSISTANT SECRETARY (COST AND ECONOMICS)
| OFFICE DEPUTY ASSISTANT SECRETARY FINANCIAL OPERATIONS | ASSOCIATE DEPUTY ASSISTANT SECRETARY (FINANCIAL OPERATIONS)
|  | DEPUTY ASSISTANT SECRETARY (FINANCIAL OPERATIONS)
OFFICE OF ASSISTANT SECRETARY OF THE AIR FORCE FOR MANPOWER AND RESERVE AFFAIRS | AIR FORCE REVIEW BOARDS AGENCY (AIR FORCE REVIEW BOARDS AGENCY)—FIELD OPERATING AGENCY | DEPUTY FOR AIR FORCE REVIEW BOARDS
OFFICE OF THE CHIEF OF STAFF | AIR FORCE OFFICE OF SAFETY AND AIR FORCE SAFETY CENTER (FIELD OPERATING AGENCY) | DEPUTY CHIEF OF SAFETY
| AIR FORCE OPERATIONAL TEST AND EVALUATION CENTER (DIRECT REPORTING UNIT) | EXECUTIVE DIRECTOR, AIR FORCE OPERATIONAL TEST AND EVALUATION CENTER
| AIR FORCE STUDIES AND ANALYSES AGENCY (DIRECT REPORTING UNIT (DRU)) | PRINCIPLE DEPUTY DIRECTOR, STUDIES AND ANALYSES, ASSESSMENTS AND LESSONS LEARNED
|  | DIRECTOR, AIR FORCE STUDIES AND ANALYSES, ASSESSMENTS AND LESSONS LEARNED
| DEPUTY CHIEF OF STAFF, AIR AND SPACE OPERATIONS | ASSOCIATE DEPUTY CHIEF OF STAFF OPERATIONS, PLANS AND REQUIREMENTS
|  | DIRECTOR OF WEATHER
|  | DEPUTY DIRECTOR OF OPERATIONAL REQUIREMENTS
|  | DEPUTY DIRECTOR, OPERATIONS AND READINESS
| DEPUTY CHIEF OF STAFF, PERSONNEL | DIRECTOR, PLANS AND INTEGRATION
|  | DEPUTY DIRECTOR OF SERVICES
|  | ASSISTANT DEPUTY CHIEF OF STAFF MANPOWER AND PERSONNEL
|  | DIRECTOR FORCE DEVELOPMENT
|  | DEPUTY DIRECTOR, MILITARY FORCE MANAGEMENT
|  | DEPUTY DIRECTOR, MANPOWER, ORGANIZATION AND RESOURCES
| DEPUTY CHIEF OF STAFF, PLANS AND PROGRAMS | ASSOCIATE DEPUTY DIRECTOR FOR PROGRAMS
|  | DEPUTY DIRECTOR OF STRATEGIC PLANNING
|  | ASSISTANT DEPUTY CHIEF OF STAFF, STRATEGIC PLANS AND REQUIREMENTS
| JUDGE ADVOCATE GENERAL | DIRECTOR, ADMINISTRATIVE LAW
| TEST AND EVALUATION | DEPUTY DIRECTOR, TEST AND EVALUATION
|  | DIRECTOR, TEST AND EVALUATION
OFFICE OF THE INSPECTOR GENERAL | AIR FORCE OFFICE OF SPECIAL INVESTIGATIONS (FIELD OPERATING AGENCY) | DEPUTY DIRECTOR SECURITY, SPECIAL PROGRAM OVERSIGHT AND INFORAMTION PROTECTION
|  | EXECUTIVE DIRECTOR, DEFENSE CYBER CRIME CENTER
OFFICE OF THE SECRETARY | AUDITOR GENERAL | AUDITOR GENERAL OF THE AIR FORCE
|  | ASSISTANT AUDITOR GENERAL, FIELD OFFICES DIRECTORATE
| OFFICE OF ADMINISTRATIVE ASSISTANT TO THE SECRETARY | DIRECTOR, RESOURCES MANAGEMENT
|  | ADMINISTRATIVE ASSISTANT
|  | DEPUTY ADMINISTRATIVE ASSISTANT
|  | DIRECTOR SECURITY, SPECIAL PROGRAM OVERSIGHT AND INFORMATION PROTECTION
|  | DIRECTOR, HEADQUARTERS AIR FORCE INFORMATION MANAGEMENT
| OFFICE OF PUBLIC AFFAIRS | DEPUTY DIRECTOR, PUBLIC AFFAIRS
| OFFICE OF SMALL AND DISADVANTAGED BUSINESS UTILIZATION | DIRECTOR, OFFICE OF SMALL AND DISADVANTAGED BUSINESS UTILIZATION
| OFFICE OF THE UNDER SECRETARY | DEPUTY DIRECTOR FOR BUSINESS TRANSFORMATION
|  | ASSOCIATE DEPUTY UNDER SECRETARY OF THE AIR FORCE (SPACE) AND DEPUTY DIRECTOR PRINCIPAL DEPARTMENT OF DEFENSE SPACE ADVISOR STAFF
DEPARTMENT OF THE ARMY
| DEPARTMENT OF THE ARMY | DIRECTOR, RESEARCH BUSINESS DIRECTORATE, ARL
|  | DIRECTOR, INTRAMURAL RESEARCH DIRECTORATE
|  | DIRECTOR, EXTRAMURAL RESEARCH OFFICE, ARL CCDC
|  | DIRECTOR, ARMY ANALYTICS DIRECTORATE
CHIEF INFORMATION OFFICER | OFFICE, CHIEF OF PUBLIC AFFAIRS | PRINCIPAL DEPUTY CHIEF OF PUBLIC AFFAIRS
DEPARTMENT OF THE ARMY | ARMY AUDIT AGENCY | THE AUDITOR GENERAL
|  | PRINCIPAL DEPUTY AUDITOR GENERAL
|  | DEPUTY AUDITOR GENERAL, ACQUISITION AND LOGISTICS AUDITS
|  | DEPUTY AUDITOR GENERAL, MANPOWER AND TRAINING AUDITS
|  | DEPUTY AUDITOR GENERAL, FINANCIAL MANAGEMENT AUDITS
| CHIEF INFORMATION OFFICER | DEPUTY CIO, ARMY CHIEF DATA AND ANALYTICS OFFICER
|  | PRINCIPAL DIRECTOR, POLICY, RESOURCES AND ANALYSIS/CHIEF FINANCIAL OFFICER, CIO
|  | EXECUTIVE DIRECTOR UNITED STATES ARMY HQ SERVICES
| HEADQUARTERS, UNITED STATES ARMY, EUROPE | DEPUTY CHIEF OF STAFF G-8
| HEADQUARTERS, UNITED STATES ARMY, PACIFIC | ASSISTANT CHIEF OF STAFF, G8
| JOINT SPECIAL OPERATIONS COMMAND | EXECUTIVE DIRECTOR FOR RESOURCES, SUPPORT, AND INTEGRATION
| NATIONAL GUARD BUREAU | CHIEF FINANCIAL OFFICER
| OFFICE ADMINSTRATIVE ASSISTANT TO THE SECRETARY OF ARMY | ADMINISTRATIVE ASSISTANT TO THE SECRETARY OF THE ARMY
|  | DEPUTY ADMINISTRATIVE ASSISTANT TO THE SECRETARY OF THE ARMY/DIRECTOR FOR SHARED SERVICES
| OFFICE ASSISTANT SECRETARY ARMY (ACQUISITION, LOGISTICS AND TECHNOLOGY) | DIRECTOR FOR RESEARCH AND TECHNOLOGY
|  | DEPUTY ASSISTANT SECRETARY OF THE ARMY (ACQUISITION POLICY AND LOGISTICS)
|  | DEPUTY DIRECTOR, RAPID CAPABILITIES AND CRITICAL TECNOLOGIES OFFICE
|  | DEPUTY ASSISTANT SECRETARY OF THE ARMY (DASA-DES)
|  | DEPUTY ASSISTANT SECRETARY OF THE ARMY FOR PLANS, PROGRAMS AND RESOURCES
|  | DEPUTY ASSISTANT SECRETARY OF THE ARMY (POLICY AND PROCUREMENT)
|  | DEPUTY ASSISTANT SECRETARY FOR RESEARCH AND TECHNOLOGY/CHIEF SCIENTIST
|  | DEPUTY ASSISTANT SECRETARY OF THE ARMY FOR DEFENSE EXPORTS AND COOPERATION
| OFFICE ASSISTANT SECRETARY ARMY (CIVIL WORKS) | DEPUTY ASSISTANT SECRETARY OF THE ARMY (MANAGEMENT AND BUDGET)
| OFFICE ASSISTANT SECRETARY ARMY (FINANCIAL MANAGEMENT AND COMPTROLLER) | DIRECTOR, FINANCIAL OPERATIONS AND ACCOUNTING, ASA
|  | DEPUTY ASSISTANT SECRETARY OF THE ARMY (FINANCIAL OPERATIONS AND INFORMATION)
|  | DIRECTOR OF INVESTMENT
|  | DEPUTY ASSISTANT SECRETARY OF THE ARMY (COST AND ECONOMICS)
|  | DIRECTOR OF MANAGEMENT AND CONTROL
|  | DEPUTY DIRECTOR AND SENIOR ADVISOR FOR ARMY BUDGET (DDSA (BUDGET))
|  | DIRECTOR, FINANCIAL INFORMATION MANAGEMENT
| OFFICE ASSISTANT SECRETARY ARMY (INSTALLATIONS, ENERGY AND ENVIRONMENT) | DEPUTY ASSISTANT SECRETARY OF THE ARMY (ENERGY AND SUSTAINABILITY)
|  | DEPUTY ASSISTANT SECRETARY OF THE ARMY (ENVIRONMENT, SAFETY AND OCCUPATIONAL HEALTH)
|  | DEPUTY ASSISTANT SECRETARY OF THE ARMY (INSTALLATIONS AND HOUSING)
| OFFICE ASSISTANT SECRETARY ARMY (MANPOWER AND RESERVE AFFAIRS) | DEPUTY TO THE ASSISTANT SECRETARY OF THE ARMY (MANPOWER AND RESERVE AFFAIRS)
|  | DEPUTY ASSISTANT SECRETARY OF THE ARMY (MILITARY PERSONNEL)
|  | DEPUTY ASSISTANT SECRETARY OF THE ARMY (CIVILIAN PERSONNEL)
|  | DEPUTY ASSISTANT SECRETARY OF THE ARMY (ARMY REVIEW BOARDS AGENCY)
| OFFICE OF THE SURGEON GENERAL | DEPUTY CHIEF OF STAFF, RESOURCES, INFRASTRUCTURE AND STRATEGY (G8/9)
| OFFICE, DEPUTY CHIEF OF STAFF , G-4 | DIRECTOR FOR MAINTENANCE POLICY, PROGRAMS AND PROCESSES
|  | ASSISTANT DEPUTY CHIEF OF STAFF, G-4
|  | DIRECTOR FOR SUPPLY POLICY
|  | DIRECTOR, LOGISTICS INFORMATION MANAGEMENT
|  | DIRECTOR OF RESOURCE MANAGEMENT
| OFFICE, DEPUTY CHIEF OF STAFF , G-9 | DIRECTOR OF RESOURCE INTEGRATION
|  | DEPUTY DIRECTOR, PREVENTION, RESILIENCE, AND READINESS DIRECTORATE
|  | ASSISTANT DEPUTY CHIEF OF STAFF, G-9
|  | DIRECTOR INSTALLATION SERVICES
| OFFICE, DEPUTY CHIEF OF STAFF, G-1 | ASSISTANT DEPUTY CHIEF OF STAFF, G-1
|  | DIRECTOR, PLANS AND RESOURCES
|  | DIRECTOR, TECHNOLOGY AND BUSINESS ARCHITECTURE INTEGRATION
|  | DIRECTOR, CIVILIAN HUMAN RESOURCE AGENCY
|  | DEPUTY DIRECTOR, CIVILIAN HUMAN RESOURCES AGENCY
| OFFICE, DEPUTY CHIEF OF STAFF, G-3/5/7 | DEPUTY DIRECTOR OF TRAINING AND TTPEG CO-CHAIR
|  | DEPUTY DIRECTOR FOR STRATEGY PLANS AND POLICY
|  | DIRECTOR OF CIVILIAN PROTECTION CENTER OF EXCELLENCE
|  | DEPUTY DIRECTOR OF FORCE MANAGEMENT
|  | ASSISTANT DEPUTY CHIEF OF STAFF FOR OPERATIONS (G-3/5/7)
| OFFICE, DEPUTY CHIEF OF STAFF, G-8 | DEPUTY DIRECTOR, FORCE DEVELOPMENT
|  | ASSISTANT DEPUTY CHIEF OF STAFF, G-8
| UNITED STATES ARMY FUTURES COMMAND | CHIEF, HUMAN CAPITAL OFFICER
|  | DEPUTY CHIEF EXECUTIVE OFFICER
|  | DIRECTOR, SYSTEMS INTEGRATION, AFC
| UNITED STATES ARMY SPECIAL OPERATIONS COMMAND | DEPUTY TO THE COMMANDING GENERAL
| UNITED STATES ARMY TRAINING AND DOCTRINE COMMAND (TRADOC) | DEPUTY CHIEF OF STAFF, G-3/5/7, TRADOC
|  | DEPUTY TO THE COMMANDING GENERAL, COMBINED ARMS SUPPORT COMMAND
|  | DIRECTOR, UNITED STATES ARMY CENTER OF MILITARY HISTORY/CHIEF OF MILITARY HISTORY
|  | DEPUTY TO THE COMMANDING GENERAL, COMBINED ARMS CENTER
|  | DEPUTY CHIEF OF STAFF G8, TRADOC
|  | DEPUTY TO THE COMMANDING GENERAL
|  | DEPUTY CHIEF OF STAFF G-1/4 (PERSONNEL AND LOGISTICS)
|  | DEPUTY TO THE COMMANDING GENERAL, CYBER CENTER OF EXCELLENCE (CYBERCOE)
|  | DEPUTY TO THE COMMANDING GENERAL FIRES/DIRECTOR, CAPABILITIES, DEVELOPMENT AND INTEGRATION
|  | PRESIDENT, ARMY LOGISTICS UNIVERSITY
|  | DEPUTY CHIEF OF STAFF, G6 (TRADOC)
|  | DEPUTY TO THE CG ARMY AVIATION CENTER OF EXCELLENCE/DIRECTOR, CAPABILITIES DEVELOPMENT AND INTEGRATION
|  | EXECUTIVE DEPUTY TO THE COMMANDING GENERAL, TRADOC
|  | DEPUTY TO THE COMMANDING GENERAL (MSCOE)
| UNITED STATES AFRICA COMMAND | DIRECTOR OF RESOURCES (J8), USAFRICOM
|  | FOREIGN POLICY ADVISOR FOR US AFRICA COMMAND
| UNITED STATES ARMY CORPS OF ENGINEERS | DIRECTOR OF RESOURCE MANAGEMENT
|  | DIRECTOR, REAL ESTATE
|  | DIRECTOR OF HUMAN RESOURCES
|  | DIRECTOR, INFORMATION TECHNOLOGY LABORATORY
|  | CHIEF MILITARY PROGRAMS INTEGRATION DIVISION
|  | DIRECTOR, RESEARCH AND DEVELOPMENT AND DIRECTOR, ENGINEERING RESEARCH AND DEVELOPMENT CENTER
|  | DIRECTOR CONTINGENCY OPERATIONS/CHIEF, HOMELAND SECURITY OFFICE
|  | DIRECTOR OF CONTRACTING
|  | DIRECTOR FOR CORPORATE INFORMATION
| UNITED STATES ARMY CYBER COMMAND/SECOND ARMY | DEPUTY TO COMMANDER, ARMY CYBER COMMAND/2ND ARMY
|  | DIRECTOR, TECHNICAL WARFARE CENTER, ARCYBER, ARCYBER
|  | DEPUTY TO COMMANDER/SENIOR TECHNICAL DIRECTOR/CHIEF ENGINEER
| UNITED STATES ARMY FORCES COMMAND | ASSISTANT DEPUTY CHIEF OF STAFF FOR LOGISTICS
|  | DEPUTY CHIEF OF STAFF FOR RESOURCE MANAGEMENT
|  | ASSISTANT DEPUTY CHIEF OF STAFF, G-6
|  | ASSISTANT DEPUTY CHIEF OF STAFF FOR OPERATIONS, G-3/5/7
|  | DEPUTY CHIEF OF STAFF, G-1
| UNITED STATES ARMY MATERIEL COMMAND | DIRECTOR, OPERATION AND READINESS DIRECTORATE, G-3
|  | ADCS, SUPPLY CHAIN MANAGEMENT, G3
|  | DEPUTY CHIEF OF STAFF FOR CORPORATE INFORMATION/CHIEF INFORMATION OFFICER
| UNITED STATES ARMY NORTH | DEPUTY TO THE COMMANDING GENERAL, ARNORTH
| UNITED STATES ARMY SPACE AND MISSILE DEFENSE COMMAND | DEPUTY TO THE COMMANDER, UNITED STATES ARMY SPACE AND MISSILE DEFENSE COMMAND/ARMY FORCES STRATCOM
|  | DIRECTOR, FUTURE WARFARE CENTER
|  | DIRECTOR, SPACE AND MISSILE DEFENSE TECHNICAL CENTER
| UNITED STATES EUROPEAN COMMAND | DIRECTOR OF CAPABILITIES AND RESOURCE INTEGRATION
| UNITED STATES FORCES KOREA | DIRECTOR FOR FORCES, RESOURCES AND ASSESSMENTS (J8)
|  | DEPUTY ASSISTANT CHIEF OF STAFF, J3
| UNITED STATES SOUTHERN COMMAND | DIRECTOR, J8 (RESOURCES AND ASSESSMENTS DIRECTORATE)
|  | DEPUTY DIRECTOR OF OPERATIONS, J3
|  | DIRECTOR, EXERCISES AND COALITION AFFAIRS
|  | DEPUTY DIRECTOR STRATEGY AND POLICY
OFFICE ASSISTANT SECRETARY ARMY (ACQUISITION, LOGISTICS AND TECHNOLOGY) | ARMY ACQUISITION EXECUTIVE | PROGRAM EXECUTIVE OFFICER ENTERPRISE INFORMATION SYSTEMS
|  | DEPUTY PROGRAM EXECUTIVE OFFICER FOR AVIATION
|  | DEPUTY PROGRAM EXECUTIVE OFFICER, MISSILES AND SPACE
|  | DEPUTY JOINT PROGRAM EXECUTIVE OFFICER FOR CHEMICAL AND BIOLOGICAL DEFENSE
|  | DEPUTY PROGRAM EXECUTIVE OFFICER (SIMULATION, TRAINING AND INSTRUMENTATION)
|  | DEPUTY PROGRAM EXECUTIVE OFFICER, COMBAT SUPPORT AND COMBAT SERVICE SUPPORT
|  | DEPUTY PROGRAM EXECUTIVE OFFICER, INTELLIGENCE, ELECTRONIC WARFARE AND SENSORS
|  | PROGRAM EXECUTIVE OFFICER SIMULATION, TRAINING AND INSTRUMENTATION
|  | DEPUTY PROGRAM EXECUTIVE OFFICER FOR SOLDIER
|  | DEPUTY JOINT PROGRAM EXECUTIVE OFFICER (ARMAMENT AND AMMUNITION)
|  | JOINT PEO FOR CHEMICAL AND BIOLOGICAL DEFENSE
|  | DEPUTY PROGRAM EXECTUIVE OFFICER GROUND COMBAT SYSTEMS
|  | PROGRAM EXECUTIVE OFFICER - COMMAND CONTROL AND COMMUNICATIONS (TACTICAL)
OFFICE ASSISTANT SECRETARY ARMY (MANPOWER AND RESERVE AFFAIRS) | ARMY ENTERPRISE MARKETING OFFICE (FIELD OPERATING AGENCY) | DEPUTY CHEIF MARKETING OFFICER, ARMY ENTERPRISE MARKETING OFFICE
OFFICE OF THE SECRETARY | OFFICE OF THE INSPECTOR GENERAL | PRINCIPAL DIRECTOR TO THE INSPECTOR GENERAL (INSPECTIONS)
| UNITED STATES ARMY NATIONAL MILITARY CEMETERIES | EXECUTIVE DIRECTOR OF THE ARMY NATIONAL CENETERIES PROGRAM
|  | SUPERINTENDENT, ARLINGTON NATIONAL CEMETERY
OFFICE OF THE UNDER SECRETARY | OFFICE DEPUTY UNDER SECRETARY OF ARMY | DIRECTOR CIVILIAN SENIOR LEADER MANAGEMENT OFFICE
|  | ASSISTANT TO THE DUSA/DIRECTOR OF TEST AND EVALUATION
|  | DEPUTY DIRECTOR, CIVILIAN SENIOR LEADER MANAGEMENT OFFICE
| OFFICE OF ENTERPRISE MANAGEMENT | DIRECTOR, OFFICE OF BUSINESS TRANSFORMATION, OBT
|  | DEPUTY DIRECTOR, OFFICE OF BUSINESS TRANSFORAMTION
OFFICE, CHIEF OF STAFF | CRIMINAL INVESTIGATION DIVISION | DIRECTOR, ARMY CRIMINAL INVESTIGATIONS DIVISION
|  | DEPUTY DIRECTOR, CRIMINAL INVESTIGATION DIVISION
| OFFICE, CHIEF ARMY RESERVE | DIRECTOR OF RESOURCE MANAGEMENT AND MATERIAL
|  | ASSISTANT CHIEF OF THE ARMY RESERVE
| OFFICE, DEPUTY CHIEF OF STAFF, G-6 | DIRECTOR, CYBERSECURITY INTEGRATION AND SYNCHRONIZATION (CIS)
| UNITED STATES ARMY TEST AND EVALUATION | DIRECTOR, ARMY EVALUATION CENTER
| COMMAND | EXECUTIVE DIRECTOR, OPERATIONAL TEST COMMAND
OFFICE, DEPUTY CHIEF OF STAFF, G-1 | ARMY RESEARCH INSTITUTE (DEPUTY CHIEF OF STAFF FOR PERSONNEL, FIELD OPERATING AGENCY) | DIRECTOR, UNITED STATES ARMY RESEARCH INSTITUTE AND CHIEF PSYCHOLOGIST
UNITED STATES ARMY FUTURES COMMAND | AFC, CROSS FUNCTIONAL TEAMS | DIRECTOR, ASSURED PNT CROSS- FUNCTIONAL TEAM, SA
| AFC, COMBAT CAPABILITIES DEVELOPMENT CMD—US ARMY AVIATION AND MISSILE CENTER | DIRECTOR FOR SYSTEMS READINESS
|  | DIRECTOR FOR SOFTWARE, SIMULATIONS, SYSTEMS ENGINEERING AND INTEGRATION
|  | DIRECTOR FOR TECHNOLOGY DEVELOPMENT, CCDC
|  | DIRECTOR FOR AVIATION AND MISSILE RESEARCH, DEVELOPMENT AND ENGINEERING CENTER
| AFC, COMBAT CAPABILITIES DEVELOPMENT CMD, ARMAMENTS CENTER | EXECUTIVE DIRECTOR, ENTERPRISE AND SYSTEMS INTEGRATION CENTER
|  | DIRECTOR, MUNITIONS ENGINEERING TECHNOLOGY CENTER, CCDC
|  | DIRECTOR FOR ARMAMENT RESEARCH, DEVELOPMENT AND ENGINEERING
|  | EXECUTIVE DIRECTOR, WEAPONS AND SOFTWARE ENGINEER CENTER
| AFC, COMBAT CAPABILITIES DEVELOPMENT CMD, ARMY RESEARCH LABORATORY | DIRECTOR, CCDC ARMY RESEARCH LABORATORY, CCDC
| AFC, COMBAT CAPABILITIES DEVELOPMENT CMD, C5ISR CENTER | DIRECTOR, RESEARCH AND TECHNOLOGY INTEGRATION DIRECTORATE
|  | DIRECTOR, ENGINEERING AND SYSTEMS INTEGRATION DIRECTORATE
|  | DIRECTOR, COMMUNICATIONS- ELECTRONICS RESEARCH, DEVELOPMENT AND ENGINEERING CENTER
| AFC, COMBAT CAPABILITIES DEVELOPMENT CMD, CHEMICAL AND BIOLOGICAL CENTER | DIRECTOR, CHEMICAL AND BIOLOGICAL CENTER, CCDC
|  | DIRECTOR, ENGINEERING DIRECTORATE, CBC, CCDC
|  | DIRECTOR, RESEARCH AND TECHNOLOGY DIRECTORATE, CBC, CCDC
| AFC, COMBAT CAPABILITIES DEVELOPMENT CMD, DATA ANALYSIS CENTER | DIRECTOR, CCDC DATA AND ANALYSIS CENTER, CCDC
| AFC, COMBAT CAPABILITIES DEVELOPMENT CMD, GROUND VEHICLE SYSTEMS CENTER | DIRECTOR, RESEARCH, TECHNOLOGY DEVELOPMENT AND INTEGRATION
|  | DIRECTOR, CCDC GROUND VEHICLE SYSTEMS CENTER
|  | DIRECTOR FOR SYSTEMS INTEGRATION AND ENGINEERING
| AFC, COMBAT CAPABILITIES DEVELOPMENT CMD, SOLDIERS CENTER | DIRECTOR, RESEARCH AND TECHNOLOGY INTERGRATION, CCDC
|  | DIRECTOR, CCDC SOLDIER CENTER
| AFC, COMBAT CAPABILITIES DEVELOPMENT COMMAND | DIRECTOR, SCIENCE AND TECHNOLOGY INTEGRATION
|  | DEPUTY TO COMMANDING GENERAL, CCDC
| AFC, FUTURES AND CONCEPTS CENTER, THE RESEARCH AND ANALYSIS CENTER | DIRECTOR OF OPERATIONS, TRAC, WSMR
|  | DIRECTOR OF OPERATIONS, TRAC ANALYSIS CENTER FORT LEAVENWORTH
|  | DIRECTOR, THE TRAINING AND ANALYSIS CENTER, AFC
|  | DIRECTOR OF FUTURES INTEGRATION, FCC
| AFC, UNITED STATES ARMY MEDICAL RESEARCH AND MATERIEL COMMAND | DEPUTY TO THE COMMANDING GENERAL, MRDC
|  | PRINCIPAL ASSISTANT FOR ACQUISITION
UNITED STATES ARMY CORPS OF ENGINEERS | COLD REGIONS RESEARCH AND ENGINEERING LABORATORY HANOVER, NEW HAMSHIRE | DIRECTOR, COLD REGIONS RESEARCH AND ENGINEERING LABORATORY
| DIRECTORATE OF CIVIL WORKS | CHIEF, PROGRAMS INTEGRATION DIVISION
|  | DIRECTOR OF CIVIL WORKS
|  | CHIEF, OPERATIONS DIVISION AND REGULATORY COMMUNITY OF PRACTICE
|  | CHIEF, ENGINEERING AND CONSTRUCTION DIVISION
|  | CHIEF, PLANNING AND POLICY DIVISION/COMMUNITY OF PRACTICE
| DIRECTORATE OF MILITARY PROGRAMS | CHIEF, INTERAGENCY AND INTERNATIONAL SERVICES DIVISION
|  | CHIEF INSTALLATION READINESS DIVISION
|  | CHIEF, ENVIRONMENTAL COMMUNITY OF PRACTICE
|  | DIRECTOR OF MILITARY PROGRAMS
| DIRECTORS OF ENGINEERING AND TECHNICAL SERVICES | REGIONAL BUSINESS DIRECTOR (SOUTH ATLANTIC DIVISION)
|  | REGIONAL BUSINESS DIRECTOR (NORTHWESTERN DIVISION)
|  | REGIONAL BUSINESS DIRECTOR (GREAT LAKES, OHIO RIVER DIVISION)
|  | REGIONAL BUSINESS DIRECTOR (NORTH ATLANTIC DIVISION)
|  | REGIONAL BUSINESS DIRECTOR (PACIFIC OCEAN DIVISION)
|  | REGIONAL BUSINESS DIRECTOR (SOUTHWESTERN DIVISION)
|  | REGIONAL BUSINESS DIRECTOR (SOUTH PACIFIC DIVISION)
|  | REGIONAL BUSINESS DIRECTOR, (MISSISSIPPI VALLEY DIVISION)
| DIRECTORS OF PROGRAMS MANAGEMENT | DIVISION PROGRAMS DIRECTOR, TRANSATLANTIC DIVISION
|  | DIVISION PROGRAMS DIRECTOR (SOUTH PACIFIC DIVISION)
|  | DIVISION PROGRAMS DIRECTOR (NORTHWESTERN DIVISION)
|  | DIVISION PROGRAMS DIRECTOR (NORTH ATLANTIC DIVISION)
|  | DIVISION PROGRAMS DIRECTOR (SOUTH ATLANTIC DIVISION)
|  | DIVISION PROGRAMS DIRECTOR (MISSISSIPPI VALLEY DIV)
|  | DIVISION PROGRAMS DIRECTOR (PACIFIC OCEAN DIVISION)
|  | DIVISION PROGRAMS DIRECTOR (SOUTHWESTERN DIVISION)
|  | DIVISION PROGRAMS DIRECTOR (GREAT LAKE AND OHIO RIVER DIVISION)
| ENGINEER RESEARCH AND DEVELOPMENT CENTER | DIRECTOR GEOTECHNICAL AND STRUCTURES LABORATORY
|  | DIRECTOR, COASTAL AND HYDRAULICS LABORATORY
|  | DIRECTOR, ENVIRONMENTAL LABORATORY
| ENGINEER TOPOGRAPHIC LABORATORIES, CENTER OF ENGINEERS | DIRECTOR, ARMY GEOSPATIAL CENTER
UNITED STATES ARMY MATERIEL COMMAND | MILITARY SURFACE DEPLOYMENT DISTRIBUTION COMMAND | DIRECTOR, TRANSPORTATION ENGINEERING AGENCY/DIRECTOR JOINT DISTRIBUTION PROCESS ANALYSIS CENTER
|  | DEPUTY TO THE COMMANDER, SURFACE DEPLOYMENT AND DISTRIBUTION COMMAND
| OFFICE DEPUTY COMMANDING GENERAL | EXECUTIVE DEPUTY TO THE COMMANDING GENERAL
| OFFICE OF DEPUTY CHIEF OF STAFF FOR LOGISTICS AND OPERATIONS | DEPUTY CHIEF OF STAFF FOR LOGISTICS, FACILITIES, AND ENVIRONMENT
|  | PRINCIPAL DEPUTY CHIEF OF STAFF, G-3 FOR OPERATIONS
| OFFICE OF DEPUTY CHIEF OF STAFF FOR PERSONNEL | DEPUTY CHIEF OF STAFF FOR PERSONNEL
| OFFICE OF THE DEPUTY CHIEF OF STAFF FOR RESOURCE MANAGEMENT | ASSISTANT DEPUTY CHIEF OF STAFF FOR RESOURCE MANAGEMENT, G-8/EXECUTIVE DIRECTOR FOR BUSINESS
|  | DEPUTY CHIEF OF STAFF FOR RESOURCE MANAGEMENT
| TANK-AUTOMOTIVE AND ARMAMENTS COMMAND (TANK-AUTOMOTIVE AND ARMAMENTS COMMAND) | DEPUTY TO THE COMMANDER
|  | DIRECTOR INTEGRATED LOGISTICS SUPPORT CENTER
| UNITED STATES ARMY COMMUNICATIONS ELECTRONICS COMMAND | DIRECTOR, SOFTWARE ENGINEERING DIRECTORATE
|  | DEPUTY TO THE COMMANDING GENERAL, CECOM, LCMC
|  | DIRECTOR, COMMUNICATIONS- ELECTRONICS LIFE CYCLE MANAGEMENT CMD LOGISTICS AND READINESS CENTER
| UNITED STATES ARMY JOINT MUNITIONS COMMAND | DEPUTY TO THE COMMANDER (AMMUNITION MANAGEMENT)
| UNITED STATES ARMY AVIATION AND MISSILE COMMAND (ARMY MATERIEL COMMAND) | ARMY AVIATION AND MISSILE COMMAND DIRECTOR, SPECIAL PROGRAMS (AVIATION)
|  | DEPUTY TO THE COMMANDER
|  | EXECUTIVE DIRECTOR, AVIATION AND MISSILE COMMAND LOGISTICS CENTER
| UNITED STATES ARMY CONTRACTING COMMAND | EXECUTIVE DIRECTOR ARMY CONTRACTING COMMAND - REDSTONE, AL
|  | DEPUTY TO THE COMMANDER, MISSION INSTALLATION CONTRACTING COMMAND
|  | EXECUTIVE DIRECTOR, ACC- WARREN
|  | EXECUTIVE DIRECTOR ARMY CONTRACTING COMMAND—ROCK ISLAND
|  | DEPUTY TO THE COMMANDING GENERAL, ARMY CONTRACTING COMMAND
|  | EXECUTIVE DIRECTOR, ARMY CONTRACTING COMMAND - ABERDEEN
| UNITED STATES ARMY FINANCIAL MANAGEMENT COMMAND | DEPUTY TO THE COMMANDER FOR FINANCIAL MANAGEMENT OPERATIONS
| UNITED STATES ARMY SECURITY ASSISTANCE COMMAND | DEPUTY TO THE COMMANDING GENERAL
| UNITED STATES ARMY SUSTAINMENT COMMAND | DEPUTY TO THE COMMANDER
|  | EXECUTIVE DIRECTOR, SUPPORT OPERATIONS
| UNITED STATES ARMY INSTALLATION MANAGEMENT COMMAND | REGIONAL DIRECTOR (PACIFIC)
|  | REGIONAL DIRECTOR (EUROPE)
|  | DIRECTOR IMCOM SUPPORT (SUSTAINMENT)
|  | DIRECTOR IMCOM SUPPORT (TRAINING)
|  | DIRECTOR IMCOM SUPPORT (READINESS)
|  | DIRECTOR OF FACILITIES AND LOGISTICS
|  | EXECUTIVE DPUTY TO COMMANDING GENERAL, IMCOM
DEPARTMENT OF THE NAVY
| DEPARTMENT OF THE NAVY | PROGRAM EXECUTIVE OFFICER INDUSTRIAL INFRASTRUCTURE
|  | COMPTROLLER
CHIEF OF NAVAL OPERATIONS | BUREAU OF MEDICINE AND SURGERY | DIRECTOR, BUSINESS OPERATIONS/COMPTROLLER
|  | EXECUTIVE DIRECTOR, BUREAU OF MEDICINE AND SURGERY
| COMMANDER, NAVY INSTALLATIONS COMMAND | DIRECTOR OF OPERATIONS
|  | DIRECTOR STRATEGY AND FUTURE REQUIREMENTS
|  | DIRECTOR, TOTAL FORCE MANPOWER
|  | COMPTROLLER
|  | COUNSEL, COMMANDER NAVY INSTALLATIONS COMMAND
|  | EXECUTIVE DIRECTOR, COMMANDER NAVY INSTALLATIONS COMMAND
| COMMANDER, SUBMARINE FORCES | EXECUTIVE DIRECTOR, SUBMARINE FORCES
| MILITARY SEALIFT COMMAND | DIRECTOR, MARITIME OPERATIONS
|  | DIRECTOR, SHIP MANAGEMENT
|  | EXECUTIVE DIRECTOR
|  | DIRECTOR, MILITARY SEALIFT COMMAND MANPOWER AND PERSONNEL
| NAVAL AIR SYSTEMS COMMAND HEADQUARTERS | DIRECTOR, PROCUREMENT FOR PEO(A)
|  | DEPUTY COUNSEL, OFFICE OF COUNSEL
|  | FLEET SUPPORT TEAM EXECUTIVE/CHIEF ENGINEER, FLEET READINESS CENTERS
|  | DIRECTOR, PROCUREMENT FOR PEO
|  | DEPUTY COMMANDER, NAVAL AIR SYSTEMS COMMAND
|  | ASSISTANT COMMANDER FOR CONTRACTS
|  | DIRECTOR, PRODUCT SUPPORT MANAGEMENT INTEGRATION
|  | DIRECTOR, PROCUREMENT FOR PEO(T)
|  | DEPUTY ASSISTANT COMMANDER FOR RESEARCH AND ENGINEERING
|  | DIRECTOR, SUSTAINMENT GROUP
|  | DIRECTOR, ENGINEERING GROUP
|  | DIRECTOR COMMAND OPERATIONS GROUP
|  | COUNSEL, NAVAL AIR SYSTEMS COMMAND
|  | DIRECTOR, COST AND SCHEDULE ANALYSIS DEPARTMENT
|  | DIRECTOR OF CONTRACTS, F-35 JSF
|  | F-35 PRODUCT SUPPORT MANAGER
|  | EXECUTIVE DIRECTOR, SYSTEMS ACQUISITION GROUP
|  | EXECUTIVE DIRECTOR, FLEET READINESS CENTERS
|  | EXECUTIVE DIRECTOR, AIR SYSTEMS GROUP
|  | COMPTROLLER (2)
|  | PROGRAM EXECUTIVE OFFICER, AIR ANTI-SUBMARINE WARFARE, ASSAULT AND SPECIAL MISSION PROGRAMS
| NAVAL METEOROLOGY AND OCEANOGRAPHY COMMUNICATIONS, STENNIS SPACE CENTER, MISSISSIPPI | TECHNICAL/DEPUTY DIRECTOR
| NAVY CYBER FORCES | DEPUTY COMMANDER
| OFFICE OF COMMANDER, UNITED STATES FLEET FORCES COMMAND | DIRECTOR, FLEET INSTALLATION AND ENVIRONMENT
|  | DIRECTOR FLEET PERSONNEL DEVELOPMENT AND ALLOCATION
|  | EXECUTIVE DIRECTOR/CHIEF OF STAFF
|  | DEPUTY DIRECTOR, MARITIME OPERATIONS
|  | EXECUTIVE DIRECTOR, NAVY WARFARE DEVELOPMENT COMMAND
|  | DIRECTOR, NAVY WARFARE DEVELOPMENT CENTER
| DIRECTOR, COMMAND, CONTROL, COMMUNICATIONS, COMPUTER COMBAT SYSTEMS, INTELLIGENCE, SURVEILLANCE AND RECONNAISSANCE
| OFFICE OF THE COMMANDER, UNITED STATES PACIFIC COMMAND | DIRECTOR, JOINT TRAINING AND EXERCISES
|  | CHIEF INFORMATION OFFICER
| OFFICE OF THE COMMANDER, UNITED STATES PACIFIC FLEET | DEPUTY DIRECTOR OF MARITIME OPERATIONS/DIRECTOR PLANS AND POLICY
|  | DEPUTY FOR NAVAL MINE AND ANTI-SUBMARINE WARFARE COMMAND
|  | EXECUTIVE DIRECTOR, NAVAL SURFACE FORCES
|  | EXECUTIVE DIRECTOR, TOTAL FORCE MANAGEMENT
|  | CHIEF OF STAFF
|  | EXECUTIVE DIRECTOR FOR COMMUNICATIONS AND INFORMATION SYSTEMS AND CHIEF INFORMATION OFFICER
|  | EXECUTIVE DIRECTOR, NAVAL AIR FORCES
| UNITED STATES FLEET CYBER COMMAND/UNITED STATES TENTH FLEET | EXECUTIVE DIRECTOR AND CHIEF INFORMATION OFFICER
DEPARTMENT OF THE NAVY | CHIEF OF NAVAL OPERATIONS | ASSISTANT DEPUTY CHIEF OF NAVAL OPERATIONS, FLEET READINESS AND LOGISTICS
|  | DIRECTOR, ENTERPRISE SUPPORT
|  | DIRECTOR NAVAL HISTORY AND HERITAGE COMMAND
|  | ASSISTANT DEPUTY CHIEF OF NAVAL OPERATIONS (MANPOWER, PERSONNEL, TRAINING AND EDUCATION)
|  | DEPUTY DIRECTOR, AIR WARFARE
|  | DEPUTY DIRECTOR, PROGRAM DIVISION (N80B)
|  | ASSISTANT DEPUTY CHIEF OF NAVAL OPERATIONS, WARFARE SYSTEMS
|  | DEPUTY DIRECTOR SURFACE WARFARE DIVISION
|  | DEPUTY DIRECTOR, EXPEDITIONARY WARFARE DIVISION
|  | DEPUTY DIRECTOR, UNDERSEA WARFARE DIVISION
|  | DEPUTY CHIEF OF NAVY RESERVE
|  | DIRECTOR, SPECIAL PROGRAMS DIVISION (N89)
|  | DIRECTOR, FLEET READINESS
|  | DIRECTOR NAVY STAFF
|  | SPECIAL ASSISTANT (KNOWLEDGE TRANSFER)
|  | DIRECTOR, PROBLEM SOLVING AND PROCESS IMPROVEMENT
|  | EXECUTIVE DIRECTOR, OPERATIONAL TEST AND EVALUATION FORCE (OPTEVFOR)(2)
|  | DEPUTY DIRECTOR, NAVY CYBERSECURITY
|  | DEPUTY COMMANDER
|  | DIRECTOR, DIGITAL WARFARE OFFICE
|  | EXECUTIVE DIRECTOR, NAVAL SPECIAL WARFARE COMMAND
|  | DIRECTOR, STRATEGIC MOBILITY AND COMBAT LOGISTICS DIVISION
|  | DIRECTOR OF STRATEGY
|  | PROGRAM EXECUTIVE OFFICER C4I
|  | HEAD, CAMPAIGN ANALYSIS BRANCH
|  | DIRECTOR ASSESSMENT DIVISION (N8 1B)
|  | ASSISTANT DCNO, INTEGRATION OF CAPABILITIES AND RESOURCES
|  | FINANCIAL MANAGER AND CHIEF RESOURCES OFFICER FOR MANPOWER, PERSONNEL, TRAINING AND EDUCATION
|  | DEPUTY DIRECTOR, WARFARE INTEGRATION
|  | ASSISTANT DEPUTY CHIEF OF NAVAL OPERATIONS FOR INFORMATION DOMINANCE (N2/N6)
|  | DIRECTOR, COMMUNICATIONS AND NETWORK DIVISION (N2/N6F1)
| MARINE CORPS SYSTEMS COMMAND | CHIEF ENGINEER, MARINE CORPS SYSTEMS COMMAND
|  | EXECUTIVE DIRECTOR
|  | ASSISTANT DEPUTY COMMANDANT FOR INFORMATION
|  | DEPUTY TO THE COMMANDER FOR RESOURCE MANAGEMENT
| NAVAL FACILITIES ENGINEERING COMMAND | DEPUTY COMMANDER, ACQUISITION
|  | DIRECTOR, NAVY CRANE CENTER
|  | DIRECTOR OF PUBLIC WORKS
|  | EXECUTIVE DIRECTOR
|  | COUNSEL, NAVAL FACILITIES ENGINEERING COMMAND
|  | ASSISTANT COMMANDER/CHIEF MANAGEMENT OFFICER
|  | COMPTROLLER
|  | PROGRAM EXECUTIVE OFFICER INDUSTRIAL INFRASTRUCTURE
|  | CHIEF ENGINEER
|  | DIRECTOR OF ASSET MANAGEMENT
| NAVAL INFORMATION AND WARFARE SYSTEMS COMMAND | DIRECTOR, CONTRACTS
|  | DIRECTOR, READINESS/LOGISTICS DIRECTORATE
|  | DEPUTY CHIEF ENGINEER
|  | PEO MANPOWER, LOGISTICS AND BUSINESS SOLUTIONS
|  | DEPUTY DIRECTOR, PROJECT OVERMATCH
|  | EXECUTIVE DIRECTOR
|  | EXECUTIVE DIRECTOR, FLEET READINESS DIRECTORATE
|  | DIRECTOR CORPORATE OPERATIONS
|  | ASSISTANT CHIEF ENGINEER FOR MISSION CAPABILITY
|  | ASSISTANT CHIEF ENGINEER FOR MISSION ARCHITECTURE
| NAVAL SEA SYSTEMS COMMAND | DEPUTY DIRECTOR, REACTOR REFUELING DIVISION
|  | DIRECTOR FOR AIRCRAFT CARRIER DESIGN AND SYSTEMS ENGINEERING
|  | DIRECTOR, SURFACE SYSTEMS CONTRACTS DIVISION
|  | EXECUTIVE DIRECTOR, SHIP DESIGN, AND ENGINEERING DIRECTORATE
|  | HEAD, ADVANCED REACTOR BRANCH
|  | COUNSEL, NAVAL SEA SYSTEMS COMMAND
|  | DIRECTOR FOR CONTRACTS
|  | DIRECTOR, REACTOR MATERIALS DIVISION
|  | DIRECTOR FOR SURFACE SHIP DESIGN AND SYSTEMS ENGINEERING
|  | DIRECTOR, COST ENGINEERING AND INDUSTRIAL ANALYSIS
|  | DIRECTOR, SHIPBUILDING CONTRACTS DIVISION
|  | ASSISTANT DEPUTY COMMANDER FOR INDUSTRIAL OPERATIONS
|  | DEPUTY FOR WEAPONS SAFETY
|  | DEPUTY COMMANDER, CORPORATE OPERATIONS DIRECTORATE
|  | EXECUTIVE DIRECTOR FOR LOGISTICS MAINTENANCE AND INDUSTRIAL OPERATIONS DIRECTORATE
|  | DEPUTY COMMANDER/COMPTROLLER
|  | DIRECTOR, REACTOR REFUELING DIVISION
|  | EXECUTIVE DIRECTOR, IN- SERVICE SUBMARINES
|  | DIRECTOR, REACTOR PLANT COMPONENTS AND AUXILIARY EQUIPMENT DIVISION
|  | DIRECTOR, SURFACE SHIP SYSTEMS DIVISION
|  | DIRECTOR, REACTOR SAFETY AND ANALYSIS DIVISION
|  | DIRECTOR FOR SUBMARINE/SUBMERSIBLE DESIGN AND SYSTEMS ENGINEERING
|  | PROGRAM MANAGER FOR COMMISSIONED SUBMARINES
|  | DIRECTOR RESOURCES MANAGEMENT DIVISION
|  | EXECUTIVE DIRECTOR
|  | DIRECTOR, NUCLEAR COMPONENTS DIVISION
|  | DIRECTOR OF RADIOLOGICAL CONTROLS
|  | EXECUTIVE DIRECTOR, UNDERSEA INTEGRATION (PEO SUB C)
|  | DEPUTY DIRECTOR, ADVANCED AIRCRAFT CARRIER SYSTEM DIVISION
|  | DIRECTOR, FLEET READINESS DIVISION
|  | DIVISION TECHNICAL DIRECTOR, NSWC CORONA DIVISION
|  | EXECUTIVE DIRECTOR FOR COMMANDER, NAVY REGIONAL MAINTENANCE CENTERS (CNRMC)
|  | DIVISION TECHNICAL DIRECTOR, NAVAL SURFACE WARFARE CENTER, PHILADELPHIA DIVISION
|  | EXECUTIVE DIRECTOR NAVAL SURFACE AND UNDERSEA WARFARE CENTERS
|  | NUCLEAR ENGINEERING AND PLANNING MANAGER
|  | DIRECTOR, INTEGRATED WARFARE SYSTEMS ENGINEERING GROUP
|  | DIVISION TECHNICAL DIRECTOR, NAVAL SURFACE WARFARE CENTER PORT HUENEME DIVISION
|  | DIRECTOR FOR SHIP INTEGRITY AND PERFORMANCE ENGINEERING
|  | EXECUTIVE DIRECTOR, SURFACE SHIP MAINTENANCE AND MODERNIZATION DIRECTORATE
|  | DIRECTOR, FLEET SUPPORT CONTRACTS DIVISION
|  | ASSISTANT COMMANDER, SUPPLY CHAIN TECHNOLOGY AND SYSTEM INTEGRATION
|  | DIRECTOR FOR MARINE ENGINEERING
|  | DIRECTOR, SHIPBUILDING CONTRACTS DIVISION
|  | EXECUTIVE DIRECTOR, AUKUS
| NAVAL SUPPLY SYSTEMS COMMAND HEADQUARTERS | CHIEF LOGISTICIAN—AVIATION
|  | EXECUTIVE STRATEGIC INITIATIVES
|  | DIRECTOR, NAVY SYSTEMS MANAGEMENT ACTIVITY
|  | ASSISTANT COMMANDER FOR CONTRACTING MANAGEMENT
|  | ASSISTANT CDR FOR FINANCIAL MANAGEMENT/COMPTROLLER
|  | COUNSEL, NAVAL SUPPLY SYSTEMS COMMAND
|  | ASSISTANT COMMANDER FOR CORPORATE OPERATIONS
|  | VICE COMMANDER
| OFFICE OF NAVAL RESEARCH | DIRECTOR, ELECTRONICS, SENSORS, AND NETWORKS RESEARCH DIVISION
| DIRECTOR, OCEAN, ATMOSPHERE AND SPACE RESEARCH DIVISION
|  | DIRECTOR FOR AEROSPACE SCIENCE RESEARCH DIVISION
|  | NAVAL ACCELERATOR EXECUTIVE
|  | PATENT COUNSEL OF THE NAVY
|  | COUNSEL, OFFICE OF NAVAL RESEARCH
|  | HEAD, WARFIGHTER PERFORMANCE SCIENCE AND TECHNOLOGY DEPARTMENT
|  | HEAD, OCEAN, BATTLESPACE SENSING SCIENCE AND TECHNOLOGY DEPARTMENT
|  | HEAD MISSION CAPABLE PERSISTENT AND SURVIVABLE NAVAL PLATFORM DEPARTMENT
|  | COMPTROLLER
|  | DIRECTOR, CONTRACTS, GRANTS AND ACQUISITIONS
|  | HEAD, COMMAND, CONTROL, COMMUNICATIONS, INTELLIGENCE, SURVEILLANCE, AND RECONNAISSANCE (C4ISR) SCIENCE AND TECHNOLOGY DEPARTMENT
|  | DIRECTOR, MATHEMATICS COMPUTER AND INFORMATION SCIENCES (MCIS) DIVISION
|  | HEAD, AIR WARFARE AND WEAPONS SCIENCE AND TECHNOLOGY DEPARTMENT
|  | DIRECTOR, MISSION SUPPORT
|  | DIRECTOR, HUMAN AND BIOENGINEERED SYSTEMS DIVISION
|  | EXECUTIVE DIRECTOR
| OFFICE OF THE SECRETARY OF THE NAVY | DEPUTY ASSISTANT FOR ADMINISTRATION
| UNITED STATES MARINE CORPS HEADQUARTERS OFFICE | DEPUTY DIRECTOR, MANPOWER PLANS AND POLICY DIVISION
|  | ASSISTANT DEPUTY COMMANDANT, RESOURCES (PERSONNEL AND READINESS)
|  | EXECUTIVE DEPUTY, MARINE CORPS LOGISTICS COMMAND
|  | ASSISTANT DEPUTY COMMANDANT FOR MANPOWER AND RESERVE AFFAIRS
|  | ASSISTANT DEPUTY COMMANDANT FOR PLANS POLICIES AND OPERATIONS (SECURITY)
|  | DIRECTOR PACIFIC DIVISION, PLANS, POLICIES AND OPERATIONS
|  | DEPUTY COUNSEL FOR THE COMMANDANT OF THE MARINE CORPS
|  | ASSISTANT DEPUTY COMMANDANT FOR EVALUATION
|  | ASSISTANT DEPUTY COMMANDANT INSTALLATIONS AND LOGISTICS (CONTRACTING AND E-BUSINESS)
|  | DIRECTOR, COMMUNICATION DIRECTORATE
|  | ASSISTANT DEPUTY COMMANDANT FOR AVIATION (SUSTAINMENT)
|  | DEPUTY ASSISTANT DEPUTY COMMANDANT, INSTALLATIONS AND LOGISTICS (FACILITIES)
|  | ASSISTANT DEPUTY COMMANDANT, INSTALLATIONS AND LOGISTICS (E-BUSINESS AND CONTRACTS)
|  | COUNSEL FOR THE COMMANDANT
|  | ASSISTANT DEPUTY COMMANDANT, INSTALLATIONS AND LOGISTICS
|  | ASSISTANT DEPUTY COMMANDANT FOR PROGRAMS AND RESOURCES/FISCAL DIRECTOR OF THE MARINE CORPS
|  | EXECUTIVE DIRECTOR, MARINE FORCES COMMAND
MARINE CORPS SYSTEMS COMMAND | MARINE CORPS COMBAT DEVELOPMENT COMMAND; QUANTICO, VIRGINIA | EXECUTIVE DEPUTY MARINE CORPS COMBAT DEVELOPMENT COMMAND
|  | EXECUTIVE DEPUTY TRAINING AND EDUCATION COMMAND
| MARINE FORCES RESERVE, NEW ORLEANS, LA | EXECUTIVE DIRECTOR, MARINE FORCES RESERVE
NAVAL AIR SYSTEMS COMMAND HEADQUARTERS | NAVAL AIR WARFARE CENTER AIRCRAFT DIVISION | EXEC DIR, NAWCAD MISSION SYSTEMS AND DIGITAL ANALYTICS INFORMATION AND TECHNOLOGY ADVANCE
|  | DIRECTOR, FLIGHT TEST ENGINEERING
|  | DEPUTY ASSISTANT COMMANDER FOR TEST AND EVALUATION/EXECUTIVE DIRECTOR NAVAL AIR WARFARE CENTER AIRCRAFT DIVISION/DIRECTOR, TEST AND EVALUATION NAWCAD
|  | EXECUTIVE DIRECTOR, NAWCAD LAKEHURST
| NAVAL AIR WARFARE CENTER TRAINING SYSTEMS DIVISION | EXECUTIVE DIRECTOR, NAWCTSD
| NAVAL AIR WARFARE CENTER WEAPONS DIVISION, CHINA LAKE, CALIFORNIA | DIRECTOR, RANGE/TEST OPERATIONS AND INFRASTRUCTURE GROUP
|  | DIRECTOR, RESEARCH AND DEVELOPMENT GROUP
|  | PRODUCT DIRECTOR, TARGETING AND KINETIC EFFECTS
|  | EXECUTIVE DIRECTOR, NAVAL AIR WARFARE CENTER WEAPONS DIVISION/DIRECTOR, RESEARCH ENGINEERING
|  | PRODUCT DIRECTOR, AIR WING INTEGRATION AND INTEROPERABILITY/ELECTRONIC WARFARE EFFECTS
|  | DIRECTOR, LONG RANGE FIRES OFFICE
NAVAL INFORMATION AND WARFARE SYSTEMS COMMAND | NAVAL INFORMATION AND WARFARE SYSTEMS CENTER | COUNSEL, SPACE AND NAVAL WARFARE SYSTEMS COMMAND
|  | DIRECTOR, SCIENCE AND TECHNOLOGY
|  | COMPTROLLER/BUSINESS RESOURCE MANAGER
|  | EXECUTIVE DIRECTOR
| NAVAL INFORMATION AND WARFARE SYSTEMS CENTER, CHARLESTON | EXECUTIVE DIRECTOR
NAVAL SEA SYSTEMS COMMAND | NAVAL SHIPYARDS | NAVAL SHIPYARD NUCLEAR ENGINEERING AND PLANNING MANAGER, NORFOLK NAVAL SHIPYARD
|  | NUCLEAR ENGINEERING AND PLANNING MANAGER, PUGET SOUND NAVAL SHIPYARD
|  | NUCLEAR ENGINEERING AND PLANNING MANAGER; PORTSMOUTH NAVAL SHIPYARD
| NAVAL SURFACE WARFARE CENTER | DIVISION TECHNICAL DIRECTOR, NAVAL SURFACE WARFARE CENTER DAHLGREN DIVISION
| NAVAL SURFACE WARFARE CENTER, CARDEROCK DIVISION | DIVISION TECNICAL DIRECTOR, NAVAL SURFACE WARFARE CENTER, CARDEROCK DIVISION
| NAVAL SURFACE WARFARE CENTER, CRANE DIVISION | DIVISION TECHNICAL DIRECTOR, NSWC CRANE DIVISION
| NAVAL SURFACE WARFARE CENTER, DAHLGREN DIVISION | DIVISION TECHNICAL DIRECTOR NAVAL SURFACE WARFARE CENTER PANAMA CITY DIVISION
| NAVAL SURFACE WARFARE CENTER, INDIAN HEAD DIVISION | DIVISION TECHNICAL DIRECTOR, NAVAL SURFACE WARFARE CENTER INDIAN HEAD EXPLOSIVE ORDINANCE DISPOSAL TECHNOLOGY DIVISION
| NAVAL UNDERSEA WARFARE CENTER DIVISION, KEYPORT, WASHINGTON | DIVISION TECHNICAL DIRECTOR, NAVAL UNDERSEA WARFARE CENTER DIVISION KEYPORT
| NAVAL UNDERSEA WARFARE CENTER DIVISION, NEWPORT, RHODE ISLAND | DIVISION TECHNICAL DIRECTOR, NAVAL UNDERSEA WARFARE CENTER DIVISION NEWPORT
NAVAL SUPPLY SYSTEMS COMMAND HEADQUARTERS | NAVY SUPPLY INFORMATION SYSTEMS ACTIVITY | DIRECTOR OF FINANCE/COMPTROLLER
| WEAPON SYSTEMS SUPPORT | VICE COMMANDER, NAVSUP WEAPON SYSTEMS SUPPORT
OFFICE OF NAVAL RESEARCH | NAVAL RESEARCH LABORATORY | SUPERINTENDENT, SPACE SCIENCES DIVISION
|  | SUPERINTENDENT,PLASMA PHYSICS DIVISION
|  | SUPERINTENDENT, ELECTRONICS SCIENCE AND TECHNOLOGY DIVISION
|  | SUPERINTENDENT, REMOTE SENSING DIVISION
|  | SUPERINTENDENT, ACOUSTICS DIVISION
|  | DIRECTOR OF RESEARCH
|  | ASSOCIATE DIRECTOR OF RESEARCH FOR MATERIAL SCIENCE AND COMPONENT TECHNOLOGY
|  | SUPERINTENDENT, TACTICAL ELECTRONIC WARFARE DIVISION
|  | ASSOCIATE DIRECTOR OF RESEARCH FOR BUSINESS OPERATIONS
|  | ASSOCIATE DIRECTOR OF RESEARCH FOR OCEAN AND ATMOSPHERIC SCIENCE AND TECHNOLOGY
|  | ASSOCIATE DIRECTOR OF RESEARCH FOR SYSTEMS
|  | SUPERINTENDENT, SPACE SYSTEMS DEVELOPMENT DEPARTMENT
|  | SUPERINTENDENT, RADAR DIVISION
|  | SUPERINTENDENT, OCEAN SCIENCES DIVISION
|  | SUPERINTENDENT, MATERIAL SCIENCE AND TECHNOLOGY DIVISION
|  | SUPERINTENDANT, INFORMATION TECHNOLOGY DIVISION
|  | SUPERINTENDENT, MARINE METEROLOGY DIVISION
|  | DIRECTOR, NAVAL CENTER FOR SPACE TECHNOLOGY
|  | SUPERINTENDENT, OPTICAL SCIENCES DIVISION
|  | SUPERINTENDENT CHEMISTRY DIVISION
OFFICE OF THE ASSISTANT SECRETARY OF NAVY (MANPOWER AND RESERVE AFFAIRS) | OFFICE OF CIVILIAN HUMAN RESOURCES | DIRECTOR, OFFICE OF CIVILIAN HUMAN RESOURCES
|  | DIRECTOR, HUMAN RESOURCES POLICY AND PROGRAMS DEPARTMENT
|  | DIRECTOR, HUMAN RESOURCES OPERATIONS
OFFICE OF THE ASSISTANT SECRETARY OF THE NAVY (RESEARCH, DEVELOPMENT AND ACQUISITION) | PROGRAM EXECUTIVE OFFICERS | DIRECTOR, PRODUCTION DEPLOYMENT AND FLEET READINESS
|  | DEPUTY PROGRAM EXEUCTIVE OFFICER FOR UNMANNED AVIATION PROGRAMS
|  | DEPUTY PROGRAM EXECUTIVE OFFICERS AIR ASSAULT AND SPECIAL MISSION
|  | EXECUTIVE DIRECTOR, PROGRAM EXECUTIVE OFFICERS FOR INTEGRATED WARFARE SYSTEMS
|  | EXECUTIVE DIRECTOR, COMBATANTS, PROGRAM EXECUTIVE OFFICERS SHIPS
|  | EXECUTIVE DIRECTOR, PROGRAM EXECUTIVE OFFICERS FOR AIRCRAFT CARRIERS
|  | DEPUTY PROGRAM EXECUTIVE OFFICERS FOR STRIKE WEAPONS
|  | DEPUTY PROGRAM EXECUTIVE OFFICERS FOR TACTICAL AIR PROGRAMS
|  | EXECUTIVE DIRECTOR, AMPHIBIOUS, AUXILIARY AND SEALIFT SHIPS, PROGRAM EXECUTIVE OFFICERS SHIPS
|  | EXECUTIVE DIRECTOR, PROGRAM EXECUTIVE OFFICE SUBMARINES
|  | EXECUTIVE DIRECTOR, PROGRAM EXECUTIVE OFFICE, LITTORAL COMBAT SHIPS
|  | EXECUTIVE DIRECTOR FOR COMMAND, CONTROL, COMMUNICATIONS, COMPUTERS AND INTELLIGENCE (C4I)
|  | DIRECTOR, DEVELOPMENT AND INTEGRATION
|  | PROGRAM EXECUTIVE OFFICER DIGITAL AND ENTERPRISE SERVICES
|  | EXECUTIVE DIRECTOR, PROGRAM EXECUTIVE OFFICE, COLUMBIA
| STRATEGIC SYSTEMS PROGRAMS | TECHNICAL PLANS OFFICER
|  | DIRECTOR, INTEGRATED NUCLEAR WEAPONS SAFETY AND SECURITY
|  | CHIEF DETERRENCE TECHNOLOGY OFFICER
|  | SSP DIRECTOR, MISSION SUPPORT
|  | STRATEGIC DETERRENCE WEAPONS CAPABILITITES AND INFRASTRUCTURE OFFICER
|  | ASSISTANT FOR MISSILE PRODUCTION, ASSEMBLY AND OPERATIONS
|  | BRANCH HEAD REENTRY SYSTEMS BRANCH
|  | DIRECTOR, PLANS AND PROGRAMS DIVISION
|  | CHIEF ENGINEER
|  | ASSISTANT FOR SHIPBOARD SYSTEMS
|  | HEAD, RESOURCES BRANCH (COMPTROLLER) AND DEPUTY DIRECTOR, PLANS AND PROGRAM DIVISION
|  | ASSISTANT FOR MISSILE ENGINEERING SYSTEMS
|  | ASSISTANT FOR SYSTEMS INTEGRATION AND COMPATIBILITY
OFFICE OF THE SECRETARY OF THE NAVY | NAVAL CRIMINAL INVESTIGATIVE SERVICE | CRIMINAL INVESTIGATOR, EXECUTIVE ASSISTANT DIRECTOR FOR CRIMINAL OPERATIONS
|  | DIRECTOR, NAVAL CRIMINAL INVESTIGATIVE SERVICE
|  | CRIMINAL INVESTIGATOR, EXECUTIVE ASSISTANT DIRECTOR FOR ATLANTIC OPERATIONS
|  | CRIMINAL INVESTIGATOR, EXECUTIVE ASSISTANT DIRECTOR FOR PACIFIC OPERATIONS
|  | CRIMINAL INVESTIGATOR, DEPUTY DIRECTOR OPERATIONAL SUPPORT
|  | CRIMINAL INVESTIGATOR, DEPUTY DIRECTOR, NAVAL CRIMINIAL INVESTIGATIVE SERVICE
|  | CRIMINAL INVESTIGATOR, EXECUTIVE ASSISTANT DIRECTOR FOR GLOBAL OPERATIONS
| OFFICE OF THE ASSISTANT SECRETARY OF NAVY (ENERGY, INSTALLATIONS AND ENVIRONMENT) | DEPUTY ASSISTANT SECRETARY OF THE NAVY (INFRASTRUCTURE AND FACILITIES)
|  | DEPUTY ASSISTANT SECRETARY OF THE NAVY (ENVIRONMENT)
|  | EXECUTIVE DIRECTOR PUBLIC PRIVATE PARTNERSHIP REVIEWS
|  | PRINCIPAL DEPUTY ASSISTANT SECRETARY OF THE NAVY (ENERGY, INSTALLATIONS AND ENVIRONMENT)
| OFFICE OF THE ASSISTANT SECRETARY OF NAVY (FINANCIAL MANAGEMENT AND COMPTROLLER) | DEPUTY DASN FINANCIAL MANAGEMENT SYSTEMS (SYSTEMS TRANSFORMATION)
|  | ASSOCIATE DIRECTOR, OFFICE OF BUDGET/FISCAL MANAGEMENT DIVISION
|  | ASSISTANT GENERAL COUNSEL (FINANCIAL MANAGEMENT AND COMPTROLLER)
|  | DIRECTOR, INVESTMENT AND DEVELOPMENT DIVISION
|  | DEPUTY ASSISTANT SECRETARY OF THE NAVY FOR FINANCIAL OPERATIONS
|  | DASN FINANCIAL MANAGEMENT SYSTEMS
|  | DIRECTOR, DATA AND DIGITAL TRANSFORMATION
|  | DEPUTY DIRECTOR, FINANCIAL SYSTEMS
|  | PRINCIPAL DEPUTY ASSISTANT SECRETARY OF THE NAVY FINANCIAL MANGEMENT AND COMPTROLLER
|  | DIRECTOR, PROGRAM/BUDGET COORDINATION DIVISION
|  | DIRECTOR, POLICY AND PROCEDURES
| OFFICE OF THE ASSISTANT SECRETARY OF NAVY (MANPOWER AND RESERVE AFFAIRS) | PRINCIPAL DEPUTY MANPOWER AND RESERVE AFFAIRS
|  | ASSISTANT GENERAL COUNSEL (MANPOWER AND RESERVE AFFAIRS)
|  | DIRECTOR, MANPOWER, ANALYTICS AND HUMAN RESOURCE SYSTEM
|  | DIRECTOR, FORCE RESILIENCY
|  | DEPUTY ASSISTANT SECRETARY OF THE NAVY (MILITARY MANPOWER AND PERSONNEL)
|  | DEPUTY ASSISTANT SECRETARY OF THE NAVY (CIVILIAN PERSONNEL)
| OFFICE OF THE ASSISTANT SECRETARY OF THE NAVY (RESEARCH, DEVELOPMENT AND ACQUISITION) | DIRECTOR, TECHNOLOGY SECURITY AND COOPERATIVE PROGRAMS DIRECTORATE
|  | CHIEF SYSTEMS ENGINEER
|  | DIRECTOR, CONTRACTS
|  | SPECIAL ASSISTANT (ADMINISTRATION)
|  | ASSISTANT GENERAL COUNSEL (RESEARCH, DEVELOPMENT AND ACQUISITION)
|  | EXECUTIVE DIRECTOR, DEPUTY ASSISTANT SECRETARY OF THE NAVY (ACQUISITION AND PROCUREMENT)
|  | EXECUTIVE DIRECTOR, NAVY INTERNATIONAL PROGRAMS OFFICE
|  | DEPUTY ASSISTANT SECRETARY OF THE NAVY (SHIPS)
|  | DEPUTY ASSISTANT SECRETARY OF THE NAVY FOR INFORMATION WARFARE AND ENTERPRISE SERVICES
|  | DEPUTY ASSISTANT SECRETARY OF THE NAVY FOR ACQUISITION PROGRAMS AND BUDGET
|  | DEPUTY ASSISTANT SECRETARY OF THE NAVY FOR AIR/GROUND PROGRAMS
|  | DEPUTY ASSISTANT SECRETARY OF THE NAVY FOR SUSTAINMENT
|  | DEPUTY ASSISTANT SECRETARY OF THE NAVY FOR PROCUREMENT
|  | DEPUTY ASSISTANT SECRETARY OF THE NAVY FOR RESEARCH, DEVELOPMENT, TEST AND ENGINEERING
|  | TEST AND EVALUATION EXECUTIVE
|  | PRINCIPAL CIVILIAN DEPUTY ASSISTANT SECRETARY OF THE NAVY (RESEARCH, DEVELOPMENT AND ACQUISITION)
|  | PEO FOR AVIATION COMMON SYSTEMS AND COMMERCIAL SERVICES
|  | PROGRAM EXECUTIVE OFFICER, LAND SYSTEMS MARINE CORPS
|  | EXECUTIVE DIRECTOR, F-35, JOINT PROGRAM OFFICE
| OFFICE OF THE GENERAL COUNSEL | DEPUTY GENERAL COUNSEL
|  | COUNSEL, MILITARY SEALIFT COMMAND
|  | ASSISTANT GENERAL COUNSEL (ENERGY, INSTALLATIONS, AND ENVIRONMENT)
|  | DEPUTY COUNSEL NAVAL SEA SYSTEMS COMMAND
|  | ASSISTANT GENERAL COUNSEL (INTELLIGENCE)
|  | COUNSEL, STRATEGIC SYSTEMS PROGRAM
|  | PRINCIPAL DEPUTY GENERAL COUNSEL
|  | ASSOCIATIE GENERAL COUNSEL (LITIGATION)/DIRECTOR, NAVY LITIGATION OFFICE
|  | ASSISTANT GENERAL COUNSEL (ACQUISITION INTEGRITY)
|  | SPECIAL COUNSEL FOR LITIGATION
| OFFICE OF THE NAVAL INSPECTOR GENERAL | DEPUTY NAVAL INSPECTOR GENERAL
|  | DEPUTY INSPECTOR GENERAL OF THE MARINE CORPS
| OFFICE OF THE UNDER SECRETARY OF THE NAVY | SENIOR DIRECTOR FOR SECURITY AND INTELLIGENCE
|  | SENIOR DIRECTOR, INTEGRATION SUPPORT DIRECTORATE
|  | PRINCIPAL DIRECTOR DEPUTY UNDER SECRETARY OF THE NAVY (POLICY)
|  | DIRECTOR FOR BUSINESS REFORM AND DIRECTOR, OFFICE OF THE CHIEF MANAGEMENT OFFICE
OFFICE OF THE UNDER SECRETARY OF THE NAVY | OFFICE OF THE AUDITOR GENERAL | AUDITOR GENERAL OF THE NAVY
UNITED STATES MARINE CORPS HEADQUARTERS OFFICE | MARINE FORCES PACIFIC, HAWAII | EXECUTIVE DIRECTOR, MARINE FORCES PACIFIC
OFFICE OF THE SECRETARY OF DEFENSE OFFICE OF THE INSPECTOR GENERAL
DEPUTY INSPECTOR GENERAL FOR AUDITING | OFFICE OF THE PRINCIPAL DEPUTY INSPECTOR GENERAL FOR AUDITING | PRINCIPAL ASSISTANT INSPECTOR GENERAL FOR AUDITING
OFFICE OF THE INSPECTOR GENERAL | DEPUTY INSPECTOR GENERAL FOR MISSION SUPPORT | DEPUTY INSPECTOR GENERAL FOR MISSION SUPPORT
|  | ASSISTANT INSPECTOR GENERAL FOR MISSION SUPPORT
| DIVERSITY AND INCLUSION AND EXTREMISM IN THE MILITARY (DIEM) | DEPUTY INSPECTOR GENERAL FOR DIVERSITY AND INCLUSION AND EXTREMISM IN THE MILITARY
OFFICE OF THE SECRETARY OF DEFENSE OFFICE OF THE INSPECTOR GENERAL | DEPUTY INSPECTOR GENERAL FOR ADMINISTRATIVE INVESTIGATIONS | PRINCIPAL ASSISTANT INSPECTOR GENERAL FOR ADMINISTRATIVE INVESTIGATIONS
|  | DEPUTY INSPECTOR GENERAL ADMINISTRATIVE INVESTIGATIONS
| DEPUTY INSPECTOR GENERAL FOR AUDITING | ASSISTANT INSPECTOR GENERAL FOR ACQUISITION, CONTRACTING, AND SUSTAINMENT
|  | ASSISTANT INSPECTOR GENERAL FOR FINANCIAL MANAGEMENT AND REPORTING
|  | ASSISTANT INSPECTOR GENERAL FOR READINESS AND CYBER OPERATIONS
|  | DEPUTY INSPECTOR GENERAL FOR AUDIT
|  | ASSISTANT INSPECTOR GENERAL FOR READINESS AND GLOBAL OPERATIONS
| DEPUTY INSPECTOR GENERAL FOR EVALUATIONS | ASSISTANT INSPECTOR GENERAL FOR INVESTIGATIONS, INTERNAL OPERATIONS
|  | DEPUTY INSPECTOR GENERAL FOR EVALUATIONS
|  | ASSISTANT INSPECTOR GENERAL FOR PROGRAM, COMBATANT COMMAND (COCOM), AND OVERSEAS CONTINGENCY OPERATIONS (OCO)
| ASSISTANT INSPECTOR GENERAL FOR SPACE, INTELLIGENCE, ENGINEERING, AND OVERSIGHT
| DEPUTY INSPECTOR GENERAL FOR INVESTIGATIONS | DEPUTY INSPECTOR GENERAL FOR INVESTIGATIONS
|  | DEPUTY DIRECTOR DEFENSE CRIMINAL INVESTIGATIVE SERVICE
|  | ASSISTANT INSPECTOR GENERAL FOR INVESTIGATIONS/DEPUTY DIRECTOR
| OFFICE OF THE GENERAL COUNSEL | GENERAL COUNSEL
|  | PRINCIPAL DEPUTY GENERAL COUNSEL
| OFFICE OF THE INSPECTOR GENERAL | CHIEF INFORMATION OFFICER
|  | ASSISTANT INSPECTOR GENERAL FOR LEGISLATIVE AFFAIRS AND COMMUNICATIONS
|  | ASSISTANT INSPECTOR GENERAL FOR STRATEGIC PLANNING AND PERFORMANCE
|  | ASSISTANT INSPECTOR GENERAL FOR DATA ANAYTICS
|  | DEPUTY INSPECTOR GENERAL FOR OVERSEAS CONTINGENCY OPERATIONS
|  | PRINCIPAL DEPUTY INSPECTOR GENERAL
DEFENSE NUCLEAR FACILITIES SAFETY BOARD
| DEFENSE NUCLEAR FACILITIES SAFETY BOARD | DEPUTY EXECUTIVE DIRECTOR OF OPERATIONS
|  | ASSOCIATE TECHNICAL DIRECTOR FOR NUCLEAR MATERIALS PROCESSING AND STABILIZATION
|  | ASSOCIATE TECHNICAL DIRECTOR FOR NUCLEAR PROGRAMS AND ANALYSIS
|  | ASSOCIATE TECHNICAL DIRECTOR FOR NUCLEAR WEAPON PROGRAMS
|  | TECHNICAL DIRECTOR
|  | GENERAL MANAGER
|  | DEPUTY TECHNICAL DIRECTOR
|  | ASSOCIATE TECHNICAL DIRECTOR FOR FIELD OPERATIONS
|  | ASSOCIATE TECHNICAL DIRECTOR, NUCLEAR FACILITY INFRASTRUCTURE AND PROJECTS
DEPARTMENT OF EDUCATION
OFFICE OF THE SECRETARY | FEDERAL STUDENT AID | DIRECTOR, FINANCIAL MANAGEMENT SYSTEMS GROUP
|  | CHIEF FINANCIAL OFFICER
| INSTITUTE OF EDUCATION SCIENCES | ASSOCIATE COMMISSIONER, ASSESSMENTS DIVISION
| OFFICE FOR CIVIL RIGHTS | DEPUTY ASSISTANT SECRETARY FOR ENFORCEMENT
|  | ENFORCEMENT DIRECTOR (4)
| OFFICE OF FINANCIAL OPERATIONS | DEPUTY ASSISTANT SECRETARY FOR ACQUISITION,GRANTS, AND RISK MANAGEMENT
|  | DEPUTY ASSISTANT SECRETARY, SECURITY, FACILITIES AND LOGISTICAL SERVICES
|  | DEPUTY CHIEF HUMAN CAPITAL OFFICER
|  | DIRECTOR, CONTRACTS AND ACQUISITIONS MANAGEMENT
|  | DEPUTY ASSISTANT SECRETARY FOR HUMAN RESOURCES
| OFFICE OF THE CHIEF FINANCIAL OFFICER | DIRECTOR, CONTRACTS AND ACQUISITIONS MANAGEMENT
| OFFICE OF THE CHIEF INFORMATION OFFICER | DIRECTOR, INFORMATION ASSURANCE SERVICES AND CHIEF INFORMATION SECURITY OFFICER
|  | CHIEF INFORMATION OFFICER
| OFFICE OF THE GENERAL COUNSEL | ASSISTANT GENERAL COUNSEL FOR BUSINESS AND ADMINISTRATION LAW
|  | ASSISTANT GENERAL COUNSEL FOR EDUCTIONAL EQUITY
DEPARTMENT OF EDUCATION OFFICE OF THE INSPECTOR GENERAL
DEPARTMENT OF EDUCATION OFFICE OF THE INSPECTOR GENERAL | OFFICE OF THE INSPECTOR GENERAL | DEPUTY ASSISTANT INSPECTOR GENERAL FOR TECHNOLOGY SERVICES
|  | DEPUTY ASSISTANT INSPECTOR GENERAL FOR AUDIT SERVICES
|  | DEPUTY ASSISTANT INSPECTOR GENERAL FOR INVESTIGATION SERVICES
|  | ASSISTANT INSPECTOR GENERAL FOR LEGAL SERVICES AND COUNSEL TO THE INSPECTOR GENERAL
|  | DEPUTY INSPECTOR GENERAL
|  | ASSISTANT INSPECTOR GENERAL FOR AUDIT SERVICES
|  | ASSISTANT INSPECTOR GENERAL FOR INVESTIGATION SERVICES
|  | ASSISTANT INSPECTOR GENERAL FOR TECHNOLOGY SERVICES
|  | ASSISTANT INSPECTOR GENERAL FOR MANAGEMENT SERVICES
|  | DEPUTY ASSISTANT INSPECTOR GENERAL FOR AUDIT SERVICES
DEPARTMENT OF ENERGY
ASSISTANT SECRETARY FOR ELECTRICITY | BONNEVILLE POWER ADMINISTRATION | VICE PRESIDENT FOR ENVIRONMENT, FISH AND WILDLIFE
|  | VICE PRESIDENT FOR NORTHWEST REQUIREMENTS MARKETING
|  | VICE PRESIDENT FOR TRANSMISSION FIELD SERVICES
|  | VICE PRESIDENT FOR PLANNING AND ASSET MANAGEMENT
|  | VICE PRESIDENT, ENGINEERING AND TECHNICAL SERVICES
|  | SENIOR VICE PRESIDENT FOR POWER SERVICES
|  | VICE PRESIDENT FOR TRANSMISSION MARKETING AND SALES
|  | CHIEF WORKFORCE AND STRATEGY OFFICER
|  | SENIOR VICE PRESIDENT FOR TRANSMISSION SERVICES
|  | CHIEF OPERATING OFFICER
|  | VICE PRESIDENT, BULK MARKETING
|  | EXECUTIVE VICE PRESIDENT INFORMATION TECHNOLOGY AND CHIEF INFORMATION OFFICER
|  | EXECUTIVE VICE PRESIDENT AND CHIEF FINANCIAL OFFICER
|  | VICE PRESIDENT FOR GENERATION ASSET MANAGEMENT
|  | VICE PRESIDENT, ENERGY EFFICIENCY
|  | GENERAL COUNSEL AND EXECUTIVE VICE PRESIDENT
|  | VICE PRESIDENT OF TRANSMISSION SYSTEM OPERATIONS
|  | CHIEF ADMINISTRATIVE OFFICER
|  | EXECUTIVE VICE PRESIDENT, COMPLIANCE AND RISK MANAGEMENT
| SOUTHWESTERN POWER ADMINISTRATION | DEPUTY ADMINISTRATOR, OFFICE OF POWER DELIVERY
| WESTERN AREA POWER ADMINISTRATION | TRANSMISSION INFRASTRUCTURE PROGRAM MANAGER
|  | DESERT SOUTHWEST REGIONAL MANAGER
|  | CHIEF INFORMATION OFFICER
|  | CHIEF ADMINISTRATIVE OFFICER
|  | CHIEF OPERATING OFFICER
|  | CHIEF FINANCIAL OFFICER
|  | GENERAL COUNSEL AND SENIOR VICE PRESIDENT
|  | REGIONAL MANAGER, UPPER GREAT PLAINS REGION
|  | REGIONAL MANAGER, ROCKY MOUNTAIN REGION
|  | REGIONAL MANAGER, SIERRA NEVADA REGION
ASSISTANT SECRETARY FOR ENVIRONMENTAL MANAGEMENT | ENVIRONMENTAL MANAGEMENT CONSOLIDATED BUSINESS CENTER | CHIEF COUNSEL
| RICHLAND OPERATIONS OFFICE | CHIEF COUNSEL
DEPARTMENT OF ENERGY | ADVANCED RESEARCH PROJECTS AGENCY—ENERGY | CHIEF COUNSEL
| ASSISTANT SECRETARY FOR ELECTRICITY | CHIEF OPERATING OFFICER
| ASSISTANT SECRETARY FOR ENERGY EFFICIENCY AND RENEWABLE ENERGY | SENIOR ADVISOR
|  | DIRECTOR, OFFICE OF BUSINESS SERVICES MANAGEMENT
|  | CHIEF COUNSEL, GOLDEN FIELD OFFICE
|  | ASSOCIATE PRINCIPAL DEPUTY ASSISTANT SECRETARY
|  | DIRECTOR INTEGRATED STRATEGIES
| ASSISTANT SECRETARY FOR ENVIRONMENTAL MANAGEMENT | MANAGER, IDAHO CLEANUP PROJECT
|  | DIRECTOR FOR REGULATORY, INTERGOVERNMENTAL AND STAKEHOLDER ENGAGEMENT
|  | SENIOR PROJECT MANAGEMENT ADVISOR FOR CORPORATE SERVICES
|  | SENIOR ADVISOR
|  | SENIOR ADVISOR FOR ENVIRONMENTAL MANAGEMENT
|  | SITE MANAGER, OAK RIDGE OFFICE OF ENVIRONMENTAL MANAGEMENT
|  | DEPUTY MANAGER, IDAHO CLEANUP PROJECT
| ASSISTANT SECRETARY FOR FOSSIL ENERGY AND CARBON MANAGEMENT | ASSOCIATE LABORATORY DIRECTOR FOR RESEARCH AND INNOVATION
|  | DEPUTY DIRECTOR AND CHIEF TECHNOLOGY OFFICER
|  | DIRECTOR FOR ARTIFICIAL INTELLIGENCE AND SPECIAL PROJECTS
|  | DEPUTY DIRECTOR AND CHIEF RESEARCH OFFICER
|  | DIRECTOR, CARBON MANAGEMENT TECHNOLOGIES
|  | CHIEF OPERATING OFFICER AND DIRECTOR FOR LABORATORY OPERATIONS
|  | EXECUTIVE DIRECTOR, FINANCE, ACQUISITION AND CHIEF FINANCIAL OFFICER
|  | CHIEF COUNSEL
| ASSISTANT SECRETARY FOR INTERNATIONAL AFFAIRS | DEPUTY ASSISTANT SECRETARY FOR ASIA AND THE AMERICAS
|  | DEPUTY ASSISTANT SECRETARY FOR EUROPE, EURASIA, AFRICA AND THE MIDDLE EAST
| ASSISTANT SECRETARY FOR NUCLEAR ENERGY | ASSOCIATE DEPUTY ASSISTANT SECRETARY FOR NUCLEAR INFRASTRUCTURE PROGRAMS
|  | DEPUTY ASSISTANT SECRETARY, SPENT FUEL AND WASTE DISPOSITION
|  | ASSOCIATE DEPUTY ASSISTANT SECRETARY FOR REACTOR FLEET AND ADVANCED REACTOR DEPLOYMENT
|  | PROGRAM DIRECTOR, VERSATILE TEST REACTOR PROJECT
|  | DEPUTY MANAGER FOR NUCLEAR ENERGY FACILITIES AND OPERATIONS AND SECURITY
|  | CHIEF OPERATING OFFICER
|  | DIRECTOR OFF OF USED NUCLEAR FUEL DISPOSITION RESEARCH AND DEVELOPMENT
|  | ASSOCIATE DEPUTY ASSISTANT SECRETARY FOR NUCLEAR FUEL CYCLE AND SUPPLY CHAIN
|  | SENIOR ADVISOR TO THE MANAGER, IDAHO OPERATIONS OFFICE
|  | SENIOR ADVISOR
| ASSOCIATE UNDER SECRETARY FOR ENVIRONMENT, HEALTH, SAFETY AND SECURITY | DIRECTOR, OFFICE OF NUCLEAR SAFETY
|  | DIRECTOR, OFFICE OF ENVIRONMENTAL PROTECTION SUSTAINIABILITY
|  | DEPUTY DIRECTOR FOR SECURITY
| IDAHO OPERATIONS OFFICE | MANAGER, IDAHO OPERATIONS OFFICE
|  | DEPUTY MANAGER FOR NUCLEAR ENERGY PROGRAM SUPPORT AND EXECUTION
| LOAN PROGRAMS OFFICE | DIRECTOR, LOAN ORIGINATION DIVISION
|  | DIRECTOR, RISK MANAGEMENT
|  | CHIEF COUNSEL
|  | DIRECTOR,PORTFOLIO MANAGEMENT DIVISION
| NATIONAL NUCLEAR SECURITY ADMINISTRATION | DEPUTY DIRECTOR, INSTRUMENTATION AND CONTROL DIVISION
|  | DIRECTOR OF STRATEGIC PARTNERSHIPS AND ENGAGEMENT
|  | DEPUTY ASSOCIATE ADMINISTRATOR FOR IM AND DEPUTY CIO
|  | DEPUTY ASSOCIATE ADMINISTRATOR FOR INFRASTRUCTURE LIFECYCLE MANAGEMENT
|  | DIRECTOR, OFFICE OF STOCKPILE PRODUCTION INTEGRATION
|  | ASSISTANT DEPUTY ADMINISTRATOR FOR PIT PRODUCTION MODERNIZATION
|  | PRINCIPAL DEPUTY ASSOCIATE ADMINISTRATOR, ENVIRONMENT, SAFETY AND HEALTH
|  | ASSOCIATE ASSISTANT DEPUTY ADMINISTRATOR, FOR GLOBAL MATERIAL SECURITY
|  | ASSISTANT DEPUTY ADMINISTRATOR, FOR GLOBAL MATERIAL SECURITY
|  | MANAGER, SANDIA FIELD OFFICE
|  | MANAGER, LIVERMORE FIELD OFFICE
|  | FEDERAL PROJECT DIRECTOR, CHEMISTRY AND METALLURGY RESEARCH REPLACEMENT FACILITY
|  | DEPUTY ASSOCIATE ADMINISTRATOR FOR ENTERPRISE STEWARDSHIP
|  | ASSOCIATE DEPUTY ADMINISTRATOR FOR SECURE TRANSPORTATION
|  | ASSOCIATE PRINCIPAL DEPUTY ADMINISTRATOR
|  | DIRECTOR, OFFICE OF COST ESTIMATING AND PROGRAM EVALUATION
|  | ASSISTANT DEPUTY ADMINISTRATOR FOR STRATEGIC PARTNERSHIP PROGRAMS
|  | DEPUTY MANAGER, Y-12
|  | ADA (OFFICE OF MATERIAL MANAGEMENT AND MINIMIZATION)
|  | ASSOCIATE ASSISTANT DEPUTY ADMNISTRATOR FOR MATERIAL MANAGEMENT AND MINIMIZATION
|  | DIRECTOR, REGULATORY, INFRASTRUCTURE, AND SECURITY DIVISION
|  | DIRECTOR, MANAGEMENT AND ADMINISTRATION
|  | DADA FOR PRODUCTION MODERNIZATION
|  | DEPUTY ASSISTANT DEPUTY ADMINISTRATOR FOR STOCKPILE MANAGEMENT
|  | ADA FOR NONPROLIFERATION AND ARMS CONTROL
|  | DADA FOR RESEARCH, TEST AND EVALUATION
|  | ASSOCIATE ADMINISTRATOR, ENVIRONMENT, SAFETY AND HEALTH
| OFFICE OF CYBERSECURITY, ENERGY SECURITY AND EMERGENCY RESPONSE | PROJECT MANAGER, STRATEGIC PETROLEUM RESERVE
|  | DIRECTOR, OFFICE OF CYBERSECURITY, ENERGY SECURITY AND EMERGENCY RESPONSE
|  | DEPUTY DIRECTOR FOR RESPONSE AND RESTORATION
|  | DEPUTY DIRECTOR PREPAREDNESS, POLICY, AND RISK ANALYSIS
|  | DEPUTY DIRECTOR FOR RESPONSE AND RESTORATION (2)
|  | CHIEF OPERATING OFFICER
|  | DEPUTY DIRECTOR RISK MANAGEMENT TOOLS AND TECHNOLOGIES
| OFFICE OF ENERGY JUSTICE AND EQUITY | DEPUTY DIRECTOR, MINORITY PROGRAMS
| OFFICE OF ENTERPRISE ASSESSMENTS | DEPUTY DIRECTOR, OFFICE OF ENTERPRISE ASSESSMENTS
| OFFICE OF GENERAL COUNSEL | ASSISTANT GENERAL COUNSEL FOR PROCUREMENT AND FINANCIAL ASSISTANCE
|  | ASSISTANT GENERAL COUNSEL FOR TECHNOLOGY TRANSFER AND INTELLECTUAL PROPERTY
|  | DEPUTY GENERAL COUNSEL FOR TRANSACTIONS, TECHNOLOGY, AND CONTRACTOR HUMAN RESOURCES
|  | ASSISTANT GENERAL COUNSEL FOR ENFORCEMENT
|  | ASSISTANT GENERAL COUNSEL FOR CLEAN ENERGY DEMONSTRATIONS
|  | ASSISTANT GENERAL COUNSEL FOR ETHICS AND PERSONNEL LAW
|  | ASSOCIATE GENERAL COUNSEL
| OFFICE OF HEARINGS AND APPEALS | DIRECTOR, HEARINGS AND APPEALS (CHIEF ADMINISTRATIVE JUDGE)
|  | DEPUTY DIRECTOR, HEARINGS AND APPEALS (DEPUTY CHIEF ADMINISTRATIVE JUDGE)
| OFFICE OF INTELLIGENCE AND COUNTERINTELLIGENCE | DEPUTY DIRECTOR FOR CYBER INTELLIGENCE
|  | DEPUTY DIRECTOR FOR COUNTERINTELLIGENCE
|  | DIRECTOR OFFICE OF INTELLIGENCE AND COUNTERINTELLIGENCE
|  | PRINCIPAL DEPUTY DIRECTOR, OFFICE OF INTELLIGENCE AND COUNTERINTELLIGENCE
|  | DEPUTY DIRECTOR FOR INTELLIGENCE ANALYSIS
| OFFICE OF MANAGEMENT | DIRECTOR, OFFICE OF ADMINISTRATION
|  | DIRECTOR, OFFICE OF ACQUISITION MANAGEMENT
|  | DIRECTOR, OFFICE OF THE OMBUDSMAN
|  | DIRECTOR,OFFICE OF POLICY
|  | DIRECTOR, OFFICE OF HEADQUARTERS PROCUREMENT SERVICES
| OFFICE OF POLICY | PRINCIPAL DEPUTY DIRECTOR
| OFFICE OF PROJECT MANAGEMENT OVERSIGHT AND ASSESSMENTS | DEPUTY DIRECTOR, OFFICE OF PROJECT MANAGEMENT OVERSIGHT AND ASSESSMENTS
| OFFICE OF SCIENCE | SITE OFFICE MANAGER, BROOKHAVEN
|  | DIRECTOR, OFFICE OF SCIENTIFIC AND TECHNICAL INFORMATION
|  | SITE OFFICE MANAGER, FERMI
|  | SITE OFFICE MANAGER, ARGONNE
|  | SITE OFFICE MANAGER, PRINCETON
|  | SITE OFFICE MANAGER, PACIFIC NORTHWEST
|  | SITE MANAGER, ORNL SITE OFFICE
|  | SITE OFFICE MANAGER, THOMAS JEFFERSON NATIONAL ACCELERATOR FACILITY
|  | ASSISTANT MANAGER FOR RESERVATION MANAGEMENT
|  | BERKELEY SITE OFFICE MANAGER
|  | DIRECTOR, OFFICE OF INFORMATION MANAGEMENT
|  | SENIOR TECHNICAL ADVISOR
|  | DIRECTOR OFFICE OF INFORMATION MANAGEMENT
|  | SLAC SITE OFFICE MANAGER
|  | CHIEF COUNSEL
|  | DEPUTY DIRECTOR, OFFICE OF FIELD SAFETY, SECURITY AND INFRASTRUCTURE
|  | DIRECTOR, OFFICE OF ACQUISITION MANAGEMENT
|  | ASSISTANT MANAGER, OFFICE OF GRANTS AND COOPERATIVE AGREEMENTS
| OFFICE OF THE CHIEF HUMAN CAPITAL OFFICER | DEPUTY DIRECTOR, OFFICE OF HUMAN RESOURCES OPERATIONS AND COMPENSATION
|  | DIRECTOR, OFFICE OF POLICY, LABOR AND EMPLOYEE RELATIONS
|  | DEPUTY CHIEF HUMAN CAPITAL OFFICER
|  | DIRECTOR, OFFICE OF CORPORATE EXECUTIVE MANAGEMENT
|  | DIRECTOR, OFFICE OF RECRUITMENT AND ADVISORY SERVICES
|  | PROGRAM DIRECTOR FOR HUMAN CAPITAL AND ENERGY HIRING INITIATIVES
|  | DEPUTY DIRECTOR FOR TALENT MANAGEMENT
|  | DIRECTOR, OFFICE OF HUMAN RESOURCES OPERATIONS AND COMPENSATION
|  | DIRECTOR, HUMAN RESOURCES SERVICE CENTER
|  | DIRECTOR, OFFICE OF TALENT MANAGEMENT
|  | DIRECTOR, OFFICE OF BUSINESS OPERATIONS
| OFFICE OF THE DEPUTY SECRETARY | SENIOR ADVISOR
| UNITED STATES ENERGY INFORMATION ADMINISTRATION | DEPUTY ADMINISTRATOR ENERGY INFORMATION ADMINISTRATION
|  | DIRECTOR, OFFICE OF ENERGY CONSUMPTION AND EFFICIENCY STATISTICS
|  | ASSISTANT ADMINISTRATOR FOR ENERGY STATISTICS
|  | SENIOR ADVISOR FOR CONSUMPTION ANALYSIS
|  | DIRECTOR, OFFICE OF ENERGY PRODUCTION, CONVERSION AND DELIVERY
|  | ASSISTANT ADMINISTRATOR FOR RESOURCES AND TECHNOLOGY MANAGEMENT
|  | ASSISTANT ADMINISTRATOR FOR ENERGY ANALYSIS
|  | DIRECTOR, OFFICE OF SURVEY OPERATIONS
|  | DIRECTOR, OFFICE OF STATISTICAL METHODS AND RESEARCH
|  | DIRECTOR, OFFICE OF LONG-TERM ENERGY MODELING
|  | DIRECTOR, OFFICE OF ENERGY PRODUCTION AND MARKETS ANALYSIS
|  | DIRECTOR, OFFICE OF INFORMATION TECHNOLOGY (CIO)
|  | DIRECTOR, OFFICE OF INTEGRATED AND INTERNATIONAL ENERGY ANALYSIS
|  | DIRECTOR, OFFICE OF INFORMATION TECHNOLOGY (CHIEF INFORMATION OFFICER)
| UNDER SECRETARY OF ENERGY | PRINCIPAL DEPUTY UNDER SECRETARY OF ENERGY
|  | BUSINESS OPERATIONS MANAGER
NATIONAL NUCLEAR SECURITY ADMINISTRATION | ASSOCIATE ADMINISTRATOR FOR DEFENSE NUCLEAR SECURITY | DEPUTY ASSOCIATE ADMINISTRATOR FOR DEFENSE NUCLEAR SECURITY
|  | ASSOCIATE ADMINISTRATOR FOR DEFENSE NUCLEAR SECURITY AND CHIEF OF DEFENSE NUCLEAR SECURITY
| ASSOCIATE ADMINISTRATOR FOR EMERGENCY OPERATIONS | ASSOCIATE ADMINISTRATOR FOR EMERGENCY OPERATIONS
| ASSOCIATE ADMINISTRATOR FOR INFRASTRUCTURE | DEPUTY ASSOCIATE ADMINISTRATOR, DESIGN AND CONSTRUTION
|  | ASSOCIATE ADMINISTRATOR FOR INFRASTRUCTURE
|  | FEDERAL PROJECT DIRECTOR (URANIUM PROCESSING FACILITY)
|  | FEDERAL PROJECT DIRECTOR (SAVANNAH RIVER PLUTONIUM PROCESSING FACILITY))
|  | DEPUTY ASSOCIATE ADMINISTRATOR, INFRASTRUCTURE FOR PROGRAM INNOVATION
| ASSOCIATE ADMINISTRATOR FOR PARTNERSHIP AND ACQUISITION SERVICES | ASSOCIATE ADMINISTRATOR FOR PARTNERSHIP AND ACQUISITION SERVICES
|  | DEPUTY ASSOCIATE ADMINISTRATOR FOR PARTNERSHIP AND ACQUISITION SERVICES
|  | DIRECTOR OFFICE OF ACQUISITION MANAGEMENT
| DEPUTY ADMINISTRATOR FOR DEFENSE NUCLEAR NONPROLIFERATION | ASSOCIATE ASSISTANT DEPUTY ADMINISTRATOR, OFFICE OF NONPROLIFERATION AND ARMS CONTROL
|  | ASSOCIATE ASSISTANT DEPUTY ADMINISTRATOR FOR DEFENSE NUCLEAR NONPROLIFERATION RESEARCH AND DEVELOPMENT
|  | ASSISTANT DEPUTY ADMINISTRATOR FOR DEFENSE NUCLEAR NONPROLIFERATION RESEARCH AND DEVELOPMENT
|  | PRINCIPAL ASSISTANT DEPUTY ADMINISTRATOR
| DEPUTY ADMINISTRATOR FOR DEFENSE PROGRAMS | MANAGER, KANSAS CITY FIELD OFFICE
|  | MANAGER, NEVADA FIELD OFFICE
|  | PRINCIPAL DEPUTY ASSISTANT DEPUTY ADMINSTRATOR FOR SECURE TRANSPORTATION
|  | ADA FOR RESEARCH, DEVELOPMENT, TEST AND EVALUATION
|  | ASSISTANT DEPUTY ADMINISTRATOR FOR STOCKPILE MANAGEMENT
|  | ADA FOR PRODUCTION MODERNIZATION PROGRAMS
|  | ASSISTANT DEPUTY ADMINISTRATOR FOR SYSTEMS ENGINEERING AND INTEGRATION
|  | DIRECTOR, OFFICE OF STOCKPILE MODERNIZATION
|  | CHIEF SCIENTIST
|  | DIRECTOR, OFFICE OF EXPERIMENTAL SCIENCES
| DEPUTY ADMINISTRATOR FOR NAVAL REACTORS | DIRECTOR, ACQUISITION DIVISION
|  | PROGRAM MANAGER, VA CLASS SUBS AND US/UK TECHNOLOGY EXCHANGE
|  | SENIOR NAVAL REACTOS REPRESENTATIVE (PUGET SOUND NAVAL SHIP)
|  | PROGRAM MANAGER, ADVANCED TECHNOLOGY DEVELOPMENT
|  | PROGRAM MANAGER, NEW SHIP DESIGN
|  | PROGRAM MANAGER FOR SURFACE SHIP NUCLEAR PROPULSION
|  | MANAGER, NAVAL REACTORS LABORATORY FIELD OFFICE
|  | DIRECTOR, REACTOR ENGINEERING DIVISION
|  | ASSISTANT MANAGER FOR OPERATIONS
|  | DIRECTOR, INFORMATION TECHNOLOGY MANAGEMENT DIVISION
|  | DEPUTY DIRECTOR, NUCLEAR TECHNOLOGY DIVISION
|  | SENIOR NAVAL REACTORS REPRESENTATIVE (NEWPORT NEWS, VA)
|  | DIRECTOR NUCLEAR TECHNOLOGY DIVISION
|  | DIRECTOR, INSTRUMENTATION AND CONTROL DIVISION
|  | ASSISTANT MANAGER FOR OPERATIONS
|  | DIRECTOR, COMMISSIONED SUBMARINE SYSTEMS DIVISION
|  | DEPUTY DIRECTOR, ADVANCED SUBMARINE SYSTEMS DIVISION
|  | PROGRAM MANAGER, PROTOTYPE AND MOORED TRAINING SHIP OPERATIONS AND INACTIVATION PROGRAM
|  | DEPUTY DIRECTOR FOR NAVAL REACTORS
|  | DIRECTOR ADVANCED SUBMARINE SYSTEMS DIVISION
| DEPUTY UNDER SECRETARY FOR COUNTERTERRORISM AND COUNTERPROLIFERATION | DEPUTY ASSOCIATE ADMINISTRATOR FOR COUNTERTERRORISM AND COUNTERPROLIFERATION
| NATIONAL NUCLEAR SECURITY ADMINISTRATION FIELD SITE OFFICES | DEPUTY MANAGER SANDIA FIELD OFFICE
|  | DEPUTY MANAGER, NNSA PRODUCTION OFFICE-PANTEX
|  | MANAGER, SAVANNAH RIVER FIELD OFFICE
|  | DEPUTY MANAGER SAVANNAH RIVER FIELD OFFICE
|  | DEPUTY MANAGER, LOS ALAMOS FIELD OFFICE
|  | MANAGER NNSA PRODUCTION OFFICE
|  | MANAGER, LOS ALAMOS FIELD OFFICE
|  | PANTEX MANAGER
|  | DEPUTY MANAGER, LIVERMORE FIELD OFFICE
|  | DEPUTY MANAGER, NEVADA FIELD OFFICE
| OFFICE OF MANAGEMENT AND BUDGET | ASSOCIATE ADMINISTRATOR FOR MANAGEMENT AND BUDGET
|  | DEPUTY ASSOCIATE ADMINISTRATOR FOR FINANCIAL MANAGEMENT
|  | DEPUTY ASSOCIATE ADMINISTRATOR MANAGEMENT
|  | DIRECTOR, OFFICE OF HUMAN RESOURCES
|  | DIRECTOR, FINANCIAL INTEGRATION AND BUDGET DEPUTY
| OFFICE OF THE GENERAL COUNSEL | DEPUTY GENERAL COUNSEL FOR PROCUREMENT, IP AND TECHNOLOGY TRANSFER
|  | DEPUTY GENERAL COUNSEL FOR GENERAL LAW
|  | SENIOR COUNSEL
|  | GENERAL COUNSEL
OFFICE OF THE DEPUTY SECRETARY | OFFICE OF THE CHIEF FINANCIAL OFFICER | DIRECTOR, OFFICE OF BUDGET
|  | DEPUTY DIRECTOR, BUDGET OPERATIONS
|  | DEPUTY DIRECTOR, FINANCIAL REPORTING AND BUSINESS ANALYSIS
|  | DEPUTY DIRECTOR, FINANCIAL OPERATIONS
|  | DIRECTOR, OFFICE OF FINANCE AND ACCOUNTING
|  | DEPUTY DIRECTOR, BUDGET FORMULATION
|  | DEPUTY CHIEF FINANCIAL OFFICER
|  | DEPUTY FOR CORPORATE BUSINESS SYSTEMS
|  | DIRECTOR OF CORPORATE BUSINESS SYSTEMS
OFFICE OF THE SECRETARY | UNDER SECRETARY FOR SCIENCE | SENIOR ADVISOR FOR ENVIRONMENTAL MANAGEMENT TO THE UNDER SECRETARY FOR SCIENCE
UNDER SECRETARY OF ENERGY | FEDERAL ENERGY MANAGEMENT PROGRAM | DIRECTOR, FEDERAL EMERGENCY MANAGEMENT PROGRAM
| GRID DEPLOYMENT OFFICE | DEPUTY DIRECTOR, GRID MODERNIZATION
|  | CHIEF OPERATING OFFICER
|  | PRINCIPAL DEPUTY DIRECTOR, GRID DEPLOYMENT OFFICE
|  | DEPUTY DIRECTOR, GENERATION CREDITS DIVISION
| OFFICE OF CLEAN ENERGY DEMONSTRATIONS | ASSOCIATE DIRECTOR OF PROJECT MANAGEMENT (INDUSTRIAL DECARBONIZATION)
|  | DEPUTY DIRECTOR OF PROJECT MANAGEMENT
|  | DEPUTY DIRECTOR FOR TECHNICAL AND ENGINEERING SUPPORT
|  | DEPUTY DIRECTOR OF CONTRACTS AND AWARDS
|  | DEPUTY DIRECTOR FOR OPERATIONS AND MANAGEMENT
|  | PRINCIPAL DEPUTY DIRECTOR, OFFICE OF CLEAN ENERGY DEMONSTRATIONS
|  | CHIEF OPERATING OFFICER
|  | DEPUTY DIRECTOR OF PORTFOLIO STRATEGY
|  | ASSOCIATE DIRECTOR OF PROJECT MANAGEMENT (HYDROGEN)
|  | ASSOCIATE DIRECTOR OF PROJECT MANAGEMENT (NUCLEAR TECHNOLOGIES)
|  | ASSOCIATE DIRECTOR OF PROJECT MANAGEMENT (RENEWABLES)
|  | ASSOCIATE DIRECTOR OF PROJECT MANAGEMENT (CARBON CAPTURE AND REMOVAL)
| OFFICE OF MANUFACTURING AND ENERGY SUPPLY CHAINS | PRINCIPAL DEPUTY DIRECTOR, OFFICE OF MANUFACTURING AND ENERGY SUPPLY CHAINS
|  | DEPUTY DIRECTOR, MANUFACTURING AND WORKFORCE DEPLOYMENT
|  | DEPUTY DIRECTOR, BUSINESS OPERATIONS
|  | DEPUTY DIRECTOR, BATTERIES AND CRITICAL MATERIALS
|  | DEPUTY DIRECTOR, ENERGY SECTOR INDUSTRIAL BASE
| STATE AND COMMUNITY ENERGY PROGRAMS | DEPUTY DIRECTOR FOR BUSINESS OPERATIONS
|  | ASSOCIATE DIRECTOR OF STATE AND COMMUNITY ENERGY PROGRAMS (SCEP)
|  | DEPUTY DIRECTOR, STATE ENERGY PROGRAMS
|  | DEPUTY DIRECTOR, WEATHERIZATION
|  | DEPUTY DIRECTOR, PARTNERSHIPS
|  | DEPUTY DIRECTOR FOR COMMUNITY ENERGY PROGRAMS
DEPARTMENT OF ENERGY OFFICE OF THE INSPECTOR GENERAL
| DEPARTMENT OF ENERGY OFFICE OF THE INSPECTOR GENERAL | DEPUTY ASSISTANT INSPECTOR GENERAL FOR INSPECTIONS, INTELLIGENCE OVERSIGHT, AND SPECIAL PROJECTS
|  | DEPUTY ASSISTANT INSPECTOR GENERAL FOR CYBER ASSESSMENTS AND DATA ANALYTICS
|  | DEPUTY ASSISTANT INSPECTOR GENERAL FOR INVESTIGATIONS
|  | CHIEF COUNSEL TO THE INSPECTOR GENERAL
|  | DEPUTY INSPECTOR GENERAL
|  | ASSISTANT INSPECTOR GENERAL FOR INVESTIGATIONS
|  | DEPUTY INSPECTOR GENERAL FOR MANAGEMENT AND ADMINISTRATION
|  | ASSISTANT INSPECTOR GENERAL FOR INSPECTIONS, INTELLIGENCE OVERSIGHT, AND SPECIAL PROJECTS
|  | DEPUTY ASSISTANT INSPECTOR GENERAL FOR AUDITS (WESTERN REGION)
|  | ASSISTANT INSPECTOR GENERAL FOR CYBER ASSESSMENTS AND DATA ANALYTICS
|  | ASSISTANT INSPECTOR GENERAL FOR AUDITS
ENVIRONMENTAL PROTECTION AGENCY
ENVIRONMENTAL PROTECTION AGENCY | OFFICE OF THE ASSISTANT ADMINISTRATOR FOR AIR AND RADIATION | DIRECTOR, INDOOR ENVIRONMENTS DIVISION
|  | DIRECTOR, TRANSPORTATION AND CLIMATE DIVISION
|  | DIRECTOR, TESTING AND ADVANCED TECHNOLOGY DIVISION
|  | DIRECTOR, CLEAN AIR MARKETS DIVISION
|  | DIRECTOR, OUTREACH AND INFORMATION DIVISION
|  | DIRECTOR, AIR QUALITY ASSESSMENT DIVISION
|  | DIRECTOR, CLIMATE CHANGE DIVISION
|  | DIRECTOR, RADIATION PROTECTION DIVISION
|  | DIRECTOR, ASSESSMENT AND STANDARDS DIVISION
|  | DIRECTOR, CLIMATE PROTECTION PARTNERSHIP DIVISION
|  | DIRECTOR, AIR QUALITY POLICY DIVISION
|  | DIRECTOR, HEALTH AND ENVIRONMENTAL IMPACTS DIVISION
|  | DIRECTOR, SECTOR POLICIES AND PROGRAMS DIVISION
|  | DIRECTOR, COMPLIANCE DIVISION
|  | DIRECTOR, STRATOSPHERIC PROTECTION DIVISION
| OFFICE OF THE ASSISTANT ADMINISTRATOR FOR CHEMICAL SAFETY AND POLLUTION PREVENTION | DIRECTOR, MISSION SUPPORT DIVISION
|  | DIRECTOR, EXISTING CHEMICAL RISK MANAGEMENT DIVISION
|  | DIRECTOR, PROJECT MANAGEMENT AND OPERATIONS DIVISION
|  | DIRECTOR, OFFICE OF PROGRAM SUPPORT
|  | DIRECTOR, DATA GATHERING AND ANALYSIS DIVISION
|  | DEPUTY DIRECTOR, OFFICE OF PROGRAM SUPPORT
|  | DIRECTOR, NEW CHEMICALS DIVISION
|  | DIRECTOR, EXISTING CHEMICALS RISK ASSESSMENT DIVISION
|  | DIRECTOR, BIOPESTICIDES AND POLLUTION PREVENTION DIVISION
|  | DIRECTOR, ANTIMICROBIALS DIVISION
|  | DIRECTOR, INFORMATION TECHNOLOGY AND RESOURCES MANAGEMENT DIVISION
|  | DIRECTOR, HEALTH EFFECTS DIVISION
|  | DIRECTOR, BIOLOGICAL AND ECONOMIC ANALYSIS DIVISION
|  | DIRECTOR, REGISTRATION DIVISION
|  | DIRECTOR, ENVIRONMENTAL FATE AND EFFECTS DIVISION
|  | DIRECTOR, PESTICIDE RE- EVALUATION DIVISION
| OFFICE OF THE ASSISTANT ADMINISTRATOR FOR ENFORCEMENT AND COMPLIANCE ASSURANCE | DEPUTY DIRECTOR, OFFICE OF COMPLIANCE
|  | DEPUTY DIRECTOR, OFFICE OF SITE REMEDIATION ENFORCEMENT
|  | DIRECTOR, OFFICE OF SITE REMEDIATION ENFORCEMENT
|  | DIRECTOR, AIR ENFORCEMENT DIVISION
|  | DIRECTOR, OFFICE OF COMPLIANCE
|  | DIRECTOR, MONITORING ASSISTANCE AND MEDIA PROGRAMS DIVISION
|  | DIRECTOR, OFFICE OF CIVIL ENFORCEMENT
|  | DEPUTY DIRECTOR, OFFICE OF CIVIL ENFORCEMENT
|  | DIRECTOR, OFFICE OF CRIMINAL ENFORCEMENT, FORENSICS AND TRAINING
|  | DIRECTOR, CRIMINAL INVESTIGATION DIVISION
|  | DEPUTY DIRECTOR, OFFICE OF CRIMINAL ENFORCEMENT, FORENSICS AND TRAINING
|  | DIRECTOR, NATIONAL ENFORCEMENT INVESTIGATIONS CENTER
|  | DIRECTOR, WATER ENFORCEMENT DIVISION
|  | DIRECTOR, ENFORCEMENT PLANNING, TARGETING, AND DATA DIVISION
|  | DIRECTOR, MONITORING ASSISTANCE AND MEDIA PROGRAMS DIVISION
| OFFICE OF THE ASSISTANT ADMINISTRATOR FOR LAND AND EMERGENCY MANAGEMENT | DIRECTOR, MATERIALS RECOVERY AND WASTE MANAGEMENT DIVISION
|  | DIRECTOR, TECHNOLOGY INNOVATION AND FIELD SERVICES DIVISION
|  | DIRECTOR, PROGRAM IMPLEMENTATION AND INFORMATION DIVISION
|  | DIRECTOR, RESOURCES MANAGEMENT DIVISION
|  | DIRECTOR, ASSESSMENT AND REMEDIATION DIVISION
|  | DIRECTOR, RESOURCE CONSERVATION AND SUSTAINABILITY DIVISION
| OFFICE OF THE ASSISTANT ADMINISTRATOR FOR MISSION SUPPORT | DIRECTOR, OFFICE OF ACQUISITION SOLUTIONS
|  | DIRECTOR, OFFICE OF DIGITAL SERVICES AND TECHNICAL ARCHITECTURE
|  | ENVIRONMENTAL APPEALS JUDGE
|  | DIRECTOR, OFFICE OF SITE MANAGEMENT AND OPERATIONS
|  | SENIOR ADVISOR
|  | DIRECTOR, OFFICE OF HUMAN CAPITAL OPERATIONS
|  | DEPUTY DIRECTOR, OFFICE OF HUMAN RESOURCES STRATEGY
|  | DIRECTOR, OFFICE OF HUMAN RESOURCES STRATEGY
|  | DIRECTOR, OFFICE OF ENGAGEMENT AND PROGRAM MANAGEMENT
|  | DEPUTY DIRECTOR, OFFICE OF REAL PROPERTY, SAFETY AND SECURITY
|  | DIRECTOR, OFFICE OF REAL PROPERTY, SAFETY AND SECURITY
|  | DIRECTOR, OFFICE OF INCLUSIVE EXCELLENCE
|  | DIRECTOR, OFFICE OF RESOURCES AND BUSINESS OPERATIONS
|  | ENVIRONMENTAL APPEALS JUDGE
|  | DIRECTOR, OFFICE OF ADMINISTRATION AND RESOURCES MANAGEMENT
|  | ENVIRONMENTAL APPEALS JUDGE
|  | DEPUTY DIRECTOR, OFFICE OF ACQUISITION SOLUTIONS
|  | DIRECTOR, OFFICE OF GRANTS AND DEBARMENT
|  | ENVIRONMENTAL APPEALS JUDGE
|  | DEPUTY DIRECTOR, OFFICE OF GRANTS AND DEBARMENT
|  | DEPUTY DIRECTOR, OFFICE OF HUMAN RESOURCES
|  | DIRECTOR, OFFICE OF HUMAN RESOURCES
|  | DIRECTOR, OFFICE OF ADMINISTRATION AND RESOURCES MANAGEMENT
|  | DIRECTOR, OFFICE OF ADMINISTRATION
|  | DEPUTY DIRECTOR, OFFICE OF ADMINISTRATION
| OFFICE OF THE ASSISTANT ADMINISTRATOR FOR RESEARCH AND DEVELOPMENT | DEPUTY DIRECTOR FOR MANAGEMENT
|  | DIRECTOR, PACIFIC ECOLOGICAL SYSTEMS DIVISION
|  | DIRECTOR, GULF ECOSYSTEM MEASUREMENT AND MODELING DIVISION
|  | DIRECTOR, CENTER FOR ENVIRONMENTAL MEASUREMENT AND MODELING
|  | DEPUTY DIRECTOR FOR MANAGEMENT
|  | DIRECTOR, OFFICE OF SCIENCE INFORMATION MANAGEMENT
|  | DIRECTOR, GREAT LAKES TOXICOLOGY AND ECOLOGY DIVISION
|  | DIRECTOR, OFFICE OF RESOURCE MANAGEMENT
|  | DEPUTY DIRECTOR FOR MANAGEMENT
|  | DIRECTOR, CENTER FOR ENVIRONMENTAL SOLUTIONS AND EMERGENCY RESPONSE
|  | DIRECTOR, OFFICE OF RESOURCE MANAGEMENT
|  | DIRECTOR, GROUNDWATER CHARACTERIZATION AND REMEDIATION DIVISION
|  | DEPUTY DIRECTOR FOR MANAGEMENT
|  | DIRECTOR, ATLANTIC COASTAL ENVIRONMENTAL SCIENCES DIVISION
|  | DEPUTY DIRECTOR, OFFICE OF RESOURCE MANAGEMENT
|  | SENIOR ADVISOR
| OFFICE OF THE ASSISTANT ADMINISTRATOR FOR WATER | DIRECTOR, WATER INFRASTRUCTURE DIVISION
|  | DIRECTOR, OCEANS, WETLANDS AND COMMUNITIES DIVISION
|  | DIRECTOR, WATERSHED RESTORATION, ASSESSMENT AND PROTECTION DIVISION
|  | DIRECTOR, DRINKING WATER CAPACITY AND COMPLIANCE ASSISTANCE DIVISION
|  | DIRECTOR, WATER INFRASTRUCTURE FINANCE AND INNOVATION ACT MANAGEMENT DIVISION
|  | DIRECTOR, WATER INFRASTRUCTURE AND CYBER RESILIENCE DIVISION
|  | DIRECTOR, ENGINEERING AND ANALYSIS DIVISION
|  | DIRECTOR, WATER PERMITS DIVISION
|  | DIRECTOR, DRINKING WATER PROTECTION DIVISION
|  | DIRECTOR, HEALTH AND ECOLOGICAL CRITERIA DIVISION
|  | DIRECTOR, STANDARDS AND HEALTH PROTECTION DIVISION
|  | DIRECTOR, STANDARDS AND RISK MANAGEMENT DIVISION
| OFFICE OF THE CHIEF FINANCIAL OFFICER | ASSOCIATE CHIEF FINANCIAL OFFICER
|  | DIRECTOR, OFFICE OF TECHNOLOGY SOLUTIONS
|  | DEPUTY CHIEF FINANCIAL OFFICER
|  | DIRECTOR, OFFICE OF BUDGET
|  | DIRECTOR, OFFICE OF PLANNING, ANALYSIS AND ACCOUNTABILITY
|  | CONTROLLER
|  | DEPUTY CONTROLLER
| OFFICE OF THE GENERAL COUNSEL | DIRECTOR, RESOURCES MANAGEMENT OFFICE
| REGION 1- BOSTON, MASSACHUSETTS | DIRECTOR, OFFICE OF ENVIRONMENTAL STEWARDSHIP
|  | DIRECTOR, MISSION SUPPORT DIVISION
|  | REGIONAL COUNSEL
|  | DIRECTOR, WATER DIVISION
|  | DIRECTOR, SUPERFUND AND EMERGENCY MANAGEMENT DIVISION
|  | DIRECTOR, ENFORCEMENT AND COMPLIANCE ASSURANCE DIVISION
|  | DIRECTOR, LAND, CHEMICALS AND REDEVELOPMENT DIVISION
|  | DIRECTOR, AIR AND RADIATION DIVISION
| REGION 10—SEATTLE, WASHINGTON | DIRECTOR, LAND, CHEMICALS AND REDEVELOPMENT DIVISION
|  | DIRECTOR, WATER DIVISION (2)
|  | REGIONAL COUNSEL
|  | DIRECTOR, MISSION SUPPORT DIVISION
|  | DIRECTOR, SUPERFUND AND EMERGENCY MANAGEMENT DIVISION
|  | DIRECTOR, ENFORCEMENT AND COMPLIANCE ASSURANCE DIVISION
|  | DIRECTOR, AIR AND RADIATION DIVISION
| REGION 2—NEW YORK, NEW YORK | DIRECTOR, ENFORCEMENT AND COMPLIANCE ASSISTANCE DIVISION
|  | DIRECTOR, CARIBBEAN ENVIRONMENTAL PROTECTION DIVISION
|  | DIRECTOR, LABORATORY SERVICES AND APPLIED SCIENCE DIVISION
|  | REGIONAL COUNSEL (2)
|  | DIRECTOR, MISSION SUPPORT DIVISION
|  | DIRECTOR, ENFORCEMENT AND COMPLIANCE ASSURANCE DIVISION
|  | DIRECTOR, SUPERFUND AND EMERGENCY MANAGEMENT DIVISION
|  | DIRECTOR, LAND, CHEMICALS AND REDEVELOPMENT DIVISION
|  | DIRECTOR, AIR AND RADIATION DIVISION
|  | DIRECTOR, WATER DIVISION
| REGION 3—PHILADELPHIA, PENNSYLVANIA | DIRECTOR, ENFORCEMENT AND COMPLIANCE ASSURANCE DIVISION
|  | DIRECTOR, SUPERFUND AND EMERGENCY MANAGEMENT DIVISION
|  | DIRECTOR, WATER DIVISION
|  | DIRECTOR, CHESAPEAKE BAY PROGRAM OFFICE
|  | REGIONAL COUNSEL
|  | DIRECTOR, MISSION SUPPORT DIVISION
|  | DIRECTOR, AIR AND RADIATION DIVISION
|  | DIRECTOR, LAND, CHEMICALS AND REDEVELOPMENT DIVISION
| REGION 4—ATLANTA, GEORGIA | DIRECTOR, LAND, CHEMICALS AND REDEVELOPMENT DIVISION
|  | DIRECTOR, LABORATORY SERVICES AND APPLIED SCIENCE DIVISION
|  | REGIONAL COUNSEL
|  | DIRECTOR, MISSION SUPPORT DIVISION
|  | DIRECTOR, GULF OF MEXICO PROGRAM
|  | DIRECTOR, AIR AND RADIATION DIVISION
|  | DIRECTOR, ENFORCEMENT AND COMPLIANCE ASSURANCE DIVISION
|  | DIRECTOR, SUPERFUND AND EMERGENCY, MANAGEMENT DIVISION
|  | DIRECTOR, WATER DIVISION (2)
| REGION 5—CHICAGO, ILLINOIS | REGIONAL COUNSEL
|  | DIRECTOR, ENFORCEMENT AND COMPLIANCE ASSURANCE DIVISION
|  | DIRECTOR, AIR AND RADIATION DIVISION
|  | DIRECTOR, WATER DIVISION
|  | DIRECTOR, GREAT LAKES NATIONAL PROGRAM OFFICE
|  | DIRECTOR, SUPERFUND AND EMERGENCY MANAGEMENT DIVISION
|  | DIRECTOR, LAND, CHEMICALS AND REDEVELOPMENT DIVISION
|  | DIRECTOR, MISSION SUPPORT DIVISION
| REGION 6—DALLAS, TEXAS | REGIONAL COUNSEL
|  | DIRECTOR, ENFORCEMENT AND COMPLIANCE ASSURANCE DIVISION
|  | DIRECTOR, WATER DIVISION (2)
|  | DIRECTOR, MISSION SUPPORT DIVISION
|  | DIRECTOR, LAND, CHEMICAL AND REDEVELOPMENT DIVISION
|  | DIRECTOR, AIR AND RADIATION DIVISION
|  | DIRECTOR, SUPERFUND AND EMERGENCY MANAGEMENT DIVISION
| REGION 7—LENEXA, KANSAS | DIRECTOR, AIR AND RADIATION DIVISION
|  | DIRECTOR, SUPERFUND AND EMERGENCY MANAGEMENT DIVISION
|  | DIRECTOR, ENFORCEMENT AND COMPLIANCE ASSURANCE DIVISION
|  | DIRECTOR, LAND, CHEMICAL AND REDEVELOPMENT DIVISION
|  | DIRECTOR, WATER DIVISION
|  | REGIONAL COUNSEL
|  | DIRECTOR, MISSION SUPPORT DIVISION
|  | DIRECTOR, LABORATORY SERVICES AND APPLIED SCIENCE DIVISION
| REGION 8—DENVER, COLORADO | REGIONAL COUNSEL
|  | DIRECTOR, ENFORCEMENT AND COMPLIANCE ASSURANCE DIVISION
|  | DIRECTOR, SUPERFUND AND EMERGENCY MANAGEMENT DIVISION (2)
|  | DIRECTOR, MISSION SUPPORT DIVISION
|  | DIRECTOR, AIR AND RADIATION DIVISION
|  | DIRECTOR, LAND, CHEMICALS AND REDEVELOPMENT DIVISION
|  | DIRECTOR, WATER DIVISION
|  | DIRECTOR, MISSION SUPPORT DIVISION
| REGION 9—SAN FRANCISCO, CALIFORNIA | DIRECTOR, LAND, CHEMICALS AND REDEVELOPMENT DIVISION
|  | DIRECTOR, AIR AND RADIATION DIVISION
|  | DIRECTOR, LAND, CHEMICALS AND REDEVELOPMENT DIVISION
|  | DIRECTOR, ENFORCEMENT AND COMPLIANCE ASSURANCE DIVISION
|  | DIRECTOR, TRIBAL, INTERGOVERNMENTAL AND POLICY DIVISION
|  | DIRECTOR, SUPERFUND AND EMERGENCY MANAGEMENT DIVISION
|  | DIRECTOR, AIR AND RADIATION DIVISION
|  | DIRECTOR, WATER DIVISION
|  | REGIONAL COUNSEL
|  | DIRECTOR, MISSION SUPPORT DIVISION
OFFICE OF THE ADMINISTRATOR | OFFICE OF ADMINISTRATIVE AND EXECUTIVE SERVICES | DIRECTOR, OFFICE OF EXECUTIVE SERVICES
ENVIRONMENTAL PROTECTION AGENCY OFFICE OF THE INSPECTOR GENERAL
| ENVIRONMENTAL PROTECTION AGENCY OFFICE OF THE INSPECTOR GENERAL | DEPUTY INSPECTOR GENERAL
|  | ASSISTANT INSPECTOR GENERAL FOR CONGRESSIONAL AND PUBLIC AFFAIRS
|  | COUNSEL TO THE INSPECTOR GENERAL
|  | ASSISTANT INSPECTOR GENERAL FOR AUDIT
|  | ASSISTANT INSPECTOR GENERAL FOR INVESTIGATIONS
|  | ASSOCIATE DEPUTY INSPECTOR GENERAL
|  | ASSISTANT INSPECTOR GENERAL FOR OFFICE OF SPECIAL REVIEW AND EVALUATION
|  | ASSISTANT INSPECTOR GENERAL FOR MISSION SUPPORT
|  | DEPUTY ASSISTANT INSPECTOR
|  | GENERAL FOR AUDITS (2)
|  | DEPUTY ASSOCIATE INSPECTOR GENERAL FOR OFFICE OF SPECIAL REVIEW AND EVALUATION ADMINISTRATIVE INVESTIGATIONS DIRECTORATE
|  | PRINCIPLE DEPUTY ASSISTANT INSPECTOR GENERAL OF SPECIAL REVIEW AND EVALUATIONS
|  | PRINCIPLE DEPUTY ASSISTANT INSPECTOR GENERAL OF INVESTIGATIONS
EQUAL EMPLOYMENT OPPORTUNITY COMMISSION
EQUAL EMPLOYMENT OPPORTUNITY COMMISSION | OFFICE OF INFORMATION TECHNOLOGY | DEPUTY CHIEF INFORMATION OFFICER
| OFFICE OF COMMUNICATIONS AND LEGISLATIVE AFFAIRS | ASSOCIATE DIRECTOR, OCLA
| OFFICE OF ENTERPRISE DATA AND ANALYTICS | DEPUTY CHIEF DATA OFFICER
| OFFICE OF FIELD PROGRAMS | DISTRICT DIRECTOR (PHILADELPHIA)
|  | DISTRICT DIRECTOR (NEW YORK)
|  | DISTRICT DIRECTOR (ATLANTA)
|  | DISTRICT DIRECTO (HOUSTON)
|  | DISTRICT DIRECTOR (SAN FRANCISCO)
|  | DISTRICT DIRECTOR (DALLAS)
|  | DISTRICT DIRECTOR (CHICAGO)
|  | DISTRICT DIRECTOR (ST LOUIS)
|  | DISTRICT DIRECTOR (MIAMI)
|  | DISTRICT DIRECTOR (INDIANAPOLIS)
|  | DISTRICT DIRECTOR (MEMPHIS)
|  | DISTRICT DIRECTOR (LOS ANGELES)
|  | DISTRICT DIRECTOR (PHOENIX)
|  | DISTRICT DIRECTOR (CHARLOTTE)
|  | DIRECTOR, INFORMATION INTAKE GROUP
|  | DISTRICT DIRECTOR (BIRMINGHAM)
| OFFICE OF THE CHAIR | DEPUTY CHIEF HUMAN CAPITAL OFFICER
|  | PROGRAM MANAGER
|  | DEPUTY CHIEF OPERATING OFFICER
| OFFICE OF THE CHIEF FINANCIAL OFFICER | DEPUTY CHIEF FINANCIAL OFFICER
| OFFICE OF THE CHIEF HUMAN CAPITAL OFFICER | CHIEF HUMAN CAPITAL OFFICER
| OFFICE OF THE INSPECTOR GENERAL | INSPECTOR GENERAL
OFFICE OF FIELD PROGRAMS | FIELD COORDINATION PROGRAMS | DIRECTOR, FIELD COORDINATION PROGRAMS
| FIELD MANAGEMENT PROGRAMS | DIRECTOR FIELD MANAGEMENT PROGRAMS
FEDERAL COMMUNICATIONS COMMISSION
FEDERAL COMMUNICATIONS COMMISSION | MEDIA BUREAU | CHIEF, VIDEO DIVISION
FEDERAL ENERGY REGULATORY COMMISSION
OFFICE OF THE CHAIRMAN | OFFICE OF ADMINISTRATIVE LITIGATION | DIRECTOR, LEGAL DIVISION
| OFFICE OF ENERGY PROJECTS | DIRECTOR OF DAM SAFETY AND INSPECTION
| OFFICE OF ENFORCEMENT | CHIEF ACCOUNTANT AND DIRECTOR, DIVISION OF AUDITS AND ACCOUNTING
FEDERAL LABOR RELATIONS AUTHORITY
OFFICE OF THE CHAIRMAN | OFFICE OF THE CHAIRMAN | CHIEF COUNSEL
OFFICE OF THE EXECUTIVE DIRECTOR | OFFICE OF THE EXECUTIVE DIRECTOR | EXECUTIVE DIRECTOR
OFFICE OF THE GENERAL COUNSEL | OFFICE OF THE GENERAL COUNSEL | DEPUTY GENERAL COUNSEL
| OGC REGIONAL OFFICES | REGIONAL DIRECTOR, SAN FRANCISCO, CA
|  | REGIONAL DIRECTOR-ATLANTA, GA
|  | REGIONAL DIRECTOR, CHICAGO, IL
|  | REGIONAL DIRECTOR, DENVER, CO
|  | REGIONAL DIRECTOR- WASHINGTON, DC
OFFICE OF THE INSPECTOR GENERAL | OFFICE OF THE INSPECTOR GENERAL | INSPECTOR GENERAL
| FEDERAL SERVICE IMPASSES PANEL | EXECUTIVE DIRECTOR, FEDERAL SERVICE IMPASSES PANEL
| OFFICE OF THE SOLICITOR | SOLICITOR
FEDERAL LABOR RELATIONS AUTHORITY OFFICE OF THE INSPECTOR GENERAL
| FEDERAL LABOR RELATIONS AUTHORITY OFFICE OF INSPECTOR GENERAL | INSPECTOR GENERAL
FEDERAL MARITIME COMMISSION
FEDERAL MARITIME COMMISSION | OFFICE OF THE MANAGING DIRECTOR | DEPUTY MANAGING DIRECTOR
|  | CHIEF INFORMATION OFFICER (CIO)
OFFICE OF THE MANAGING DIRECTOR | BUREAU OF ENFORCEMENT, INVESTIGATIONS, AND COMPLIANCE | DIRECTOR BUREAU OF ENFORCEMENT, INVESTIGATIONS, AND COMPLIANCE
| BUREAU OF TRADE ANALYSIS | INDUSTRY ECONOMIST
FEDERAL MARITIME COMMISSION OFFICE OF THE INSPECTOR GENERAL
| FEDERAL MARITIME COMMISSION OFFICE OF THE INSPECTOR GENERAL | INSPECTOR GENERAL
FEDERAL MEDIATION AND CONCILIATION SERVICE
| FEDERAL MEDIATION AND CONCILIATION SERVICE | CHIEF OPERATING OFFICER
FEDERAL RETIREMENT THRIFT INVESTMENT BOARD
| FEDERAL RETIREMENT THRIFT INVESTMENT BOARD | DIRECTOR OF PARTICIPANT SERVICES
|  | CHIEF FINANCIAL OFFICER
|  | DIRECTOR OF ENTERPRISE RISK MANAGEMENT
|  | CHIEF INFORMATION OFFICER
|  | DIRECTOR OF PARTICIPANT EXPERIENCE
|  | DIRECTOR OF RESOURCE MANAGEMENT
|  | CHIEF OPERATING OFFICER
FEDERAL TRADE COMMISSION
FEDERAL TRADE COMMISSION | BUREAU OF COMPETITION | DEPUTY DIRECTOR, BUREAU OF COMPETITION
| BUREAU OF CONSUMER PROTECTION | DEPUTY DIRECTOR, BUREAU OF CONSUMER PROTECTION
| BUREAU OF ECONOMICS | DEPUTY DIRECTOR FOR RESEARCH AND MANAGEMENT
| OFFICE OF EXECUTIVE DIRECTOR | CHIEF INFORMATION OFFICER
|  | DEPUTY EXECUTIVE DIRECTOR
| OFFICE OF THE GENERAL COUNSEL | PRINCIPAL DEPUTY GENERAL COUNSEL
FEDERAL TRADE COMMISSION OFFICE OF THE INSPECTOR GENERAL
| FEDERAL TRADE COMMISSION OFFICE OF THE INSPECTOR GENERAL | INSPECTOR GENERAL
|  | DEPUTY INSPECTOR GENERAL
GENERAL SERVICES ADMINISTRATION
FEDERAL ACQUISITION SERVICE | TECHNOLOGY TRANSFORMATION SERVICES |
|  | ASSISTANT COMMISSIONER FOR INTEGRATED AWARD ENVIRONMENT
|  | ASSISTANT COMMISSIONER FOR REGULATORY AND OVERSIGHT SYSTEMS
|  | ASSISTANT COMMISSIONER FOR TECHNOLOGY TRANSFORMATION SERVICES (TTS) CONSULTING
GENERAL SERVICES ADMINISTRATION | FEDERAL ACQUISITION SERVICE | ASSISTANT COMMISSIONER FOR PROFESSIONAL SERVICES AND HUMAN CAPITAL CATEGORIES
|  | DEPUTY ASSISTANT COMMISSIONER FOR ACQUISITION
|  | DEPUTY ASSISTANT COMMISSIONER FOR CATEGORY MANAGEMENT
|  | EXECUTIVE DIRECTOR, CATALOG AND SOLICITATION MANAGEMENT PROGRAM MANAGEMENT OFFICE
|  | DIRECTOR, OFFICE OF CONTRACT OPERATIONS
|  | DIRECTOR, OFFICE OF PROGRAM OPERATIONS
|  | DEPUTY ASSISTANT COMMISSIONER, OFFICE OF PROFESSIONAL SERVICES AND HUMAN CAPITAL CATEGORIES
|  | EXECUTIVE DIRECTOR, OFFICE OF CONTRACT OPERATIONS
|  | CLIENT EXECUTIVE, OFFICE OF ACQUISITION AND PROCUREMENT CENTER OF EXCELLENCE (APEX 1)
|  | CLIENT EXECUTIVE, OFFICE OF ACQUISITION AND PROCUREMENT CENTER OF EXCELLENCE (APEX 2)
|  | CLIENT EXECUTIVE, OFFICE OF ACQUISITION AND PROCUREMENT CENTER OF EXCELLENCE (APEX 3)
|  | CLIENT EXECUTIVE, OFFICE OF ACQUISITION AND PROCUREMENT CENTER OF EXCELLENCE (APEX 4)
|  | CLIENT EXECUTIVE, OFFICE OF ACQUISITION AND PROCUREMENT CENTER OF EXCELLENCE (APEX 5)
|  | DIRECTOR, OFFICE OF ACCOUNT MANAGEMENT
|  | ASSISTANT COMMISSIONER FOR POLICY AND COMPLIANCE
|  | ASSISTANT COMMISSIONER FOR ASSISTED ACQUISITION SERVICES
|  | ASSISTANT COMMISSIONER FOR CUSTOMER AND STAKEHOLDER ENGAGEMENT
|  | ASSISTANT COMMISSIONER FOR TRAVEL, TRANSPORTATION AND LOGISTICS CATEGORIES
|  | ASSISTANT COMMISSIONER FOR GENERAL SUPPLIES AND SERVICES CATEGORIES
|  | ASSISTANT COMMISSIONER FOR ENTERPRISE STRATEGY MANAGEMENT
|  | DIRECTOR, ACQUISITION OPERATIONS
|  | DIRECTOR OF TRAVEL, EMPLOYEE RELOCATION, AND TRANSPORTATION
|  | DEPUTY ASSISTANT COMMISSIONER FOR GENERAL SUPPLIES AND SERVICES CATEGORIES
|  | DIRECTOR OF FLEET MANAGEMENT
|  | DIRECTOR, ENTERPRISE TECHNOLOGY SOLUTIONS
|  | ASSISTANT COMMISSIONER FOR INFORMATION TECHNOLOGY CATEGORY
| OFFICE OF GOVERNMENTWIDE POLICY | DEPUTY ASSOCIATE ADMINISTRATOR, SHARED SOLUTIONS AND PERFORMANCE IMPROVEMENT OFFICE
|  | DIRECTOR OF THE FEDERAL ACQUISITION INSTITUTE
|  | DIRECTOR OF GOVERNMENTWIDE ACQUISITION POLICY
|  | DEPUTY CHIEF ACQUISITION OFFICER AND SENIOR PROCUREMENT EXECUTIVE
|  | DEPUTY ASSOCIATE ADMINISTRATOR FOR ASSET AND TRANSPORTATION MANAGEMENT
|  | DIRECTOR OF FEDERAL HIGH-PERFORMANCE GREEN BUILDINGS
|  | DEPUTY ASSOCIATE ADMINISTRATOR FOR INFORMATION, INTEGRITY AND ACCESS
| OFFICE OF GENERAL SERVICES ADMINISTRATION INFORMATION TECHNOLOGY | ASSOCIATE CHIEF INFORMATION OFFICER FOR DIGITAL INFRASTRUCTURE TECHNOLOGIES
|  | ASSOCIATE CHIEF INFORMATION OFFICER OF DIGITIAL MANAGEMENT
|  | CHIEF INFORMATION SECURITY OFFICER
|  | ASSOCIATE CHIEF INFORMATION OFFICER FOR ACQUISITION INFORMATION TECHNOLOGY SERVICES
|  | ASSOCIATE CHIEF INFORMATION OFFICER FOR PUBLIC BUILDINGS INFORMATION TECHNOLOGY SERVICES
|  | DEPUTY ASSOCIATE CHIEF INFORMATION OFFICER
|  | ASSOCIATE CHIEF INFORMATION OFFICER FOR CORPORATE INFORMATION TECHNOLOGY SERVICES
| OFFICE OF HUMAN RESOURCES MANAGEMENT | DEPUTY CHIEF HUMAN CAPITAL OFFICER
|  | DIRECTOR, HUMAN RESOURCES SERVICES
|  | CHIEF HUMAN CAPITAL OFFICER
| OFFICE OF MISSION ASSURANCE | PRINCIPAL DEPUTY ASSOCIATE ADMINISTRATOR FOR MISSION ASSURANCE
|  | ASSOCIATE ADMINISTRATOR FOR MISSION ASSURANCE
| OFFICE OF THE ADMINISTRATOR | DEPUTY EXECUTIVE DIRECTOR, TECHNOLOGY MODERNIZATION FUND
| OFFICE OF THE CHIEF FINANCIAL OFFICER | DIRECTOR OF REGIONAL FINANCIAL SERVICES
|  | CHIEF FINANCIAL OFFICER
|  | DIRECTOR OF FINANCIAL MANAGEMENT
|  | DIRECTOR OF BUDGET
|  | DIRECTOR, OFFICE OF AUDIT MANAGEMENT AND ACCOUNTABILITY
|  | DIRECTOR, OFFICE OF ANALYTICS, PERFORMANCE AND IMPROVEMENT
|  | DEPUTY CHIEF FINANCIAL OFFICER
| PUBLIC BUILDINGS SERVICE | ASSISTANT COMMISSIONER FOR REAL PROPERTY DISPOSITION
|  | ASSISTANT COMMISSIONER FOR FACILITIES MANAGEMENT
|  | ASSISTANT COMMISSIONER FOR LEASING
|  | ASSISTANT COMMISSIONER FOR ACQUISITION MANAGEMENT
|  | ASSISTANT COMMISSIONER FOR PROJECT DELIVERY
|  | ASSISTANT COMMISSIONER FOR PORTFOLIO MANAGEMENT AND CUSTOMER ENGAGEMENT
|  | DEPUTY COMMISSIONER FOR ENTERPRISE STRATEGY
|  | CHIEF ARCHITECT
REGIONAL ADMINISTRATORS | GREAT LAKES REGION | REGIONAL COMMISSIONER FOR PUBLIC BUILDINGS SERVICE
| GREATER SOUTHWEST REGION | REGIONAL COMMISSIONER FOR PUBLIC BUILDINGS SERVICE
| MID-ATLANTIC REGION | REGIONAL COMMISSIONER FOR PUBLIC BUILDINGS SERVICE
| NATIONAL CAPITAL REGION | REGIONAL COMMISSIONER FOR PUBLIC BUILDINGS SERVICE
|  | DIRECTOR FOR DESIGN AND CONSTRUCTION
|  | DIRECTOR OF FACILITIES MANAGEMENT AND SERVICES PROGRAMS
|  | DEPUTY DIRECTOR OF PORTFOLIO MANAGEMENT AND LEASING
|  | DIRECTOR OF PORTFOLIO MANAGEMENT AND REAL ESTATE
| NEW ENGLAND REGION | REGIONAL COMMISSIONER FOR PUBLIC BUILDINGS SERVICE
| NORTHEAST AND CARIBBEAN REGION | REGIONAL COMMISSIONER FOR PUBLIC BUILDINGS SERVICE
| NORTHWEST/ARCTIC REGION | REGIONAL COMMISSIONER FOR PUBLIC BUILDINGS SERVICE
| PACIFIC RIM REGION | REGIONAL COMMISSIONER FOR PUBLIC BUILDINGS SERVICE
| ROCKY MOUNTAIN REGION | REGIONAL COMMISSIONER FOR PUBLIC BUILDINGS SERVICE
| SOUTHEAST SUNBELT REGION | REGIONAL COMMISSIONER FOR PUBLIC BUILDINGS SERVICE
| THE HEARTLAND REGION | REGIONAL COMMISSIONER FOR PUBLIC BUILDINGS SERVICE
GENERAL SERVICES ADMINISTRATION OFFICE OF THE INSPECTOR GENERAL
| GENERAL SERVICES ADMINISTRATION OFFICE OF THE INSPECTOR GENERAL | ASSISTANT INSPECTOR GENERAL FOR INSPECTIONS
|  | DEPUTY ASSISTANT INSPECTOR GENERAL FOR REAL PROPERTY AUDITS
|  | DEPUTY INSPECTOR GENERAL
|  | ASSISTANT INSPECTOR GENERAL FOR AUDITING
|  | DEPUTY ASSISTANT INSPECTOR GENERAL FOR ACQUISITION PROGRAMS AUDITS
|  | COUNSEL TO THE INSPECTOR GENERAL
|  | ASSISTANT INSPECTOR GENERAL FOR INVESTIGATIONS
|  | DEPUTY ASSISTANT INSPECTOR GENERAL FOR INVESTIGATIONS
|  | ASSISTANT INSPECTOR GENERAL FOR ADMINISTRATION
|  | ASSOCIATE INSPECTOR GENERAL
GULF COAST ECOSYSTEM RESTORATION COUNCIL
| GULF COAST ECOSYSTEM RESTORATION COUNCIL | DEPUTY EXECUTIVE DIRECTOR AND DIRECTOR OF PROGRAMS
DEPARTMENT OF HEALTH AND HUMAN SERVICES
CENTERS FOR MEDICARE AND MEDICAID SERVICES | CENTER FOR CLINICAL STANDARDS AND QUALITY | DIRECTOR, QUALITY, SAFETY, AND OVERSIGHT GROUP
|  | DIRECTOR, INFORMATION SYSTEMS GROUP
|  | DIRECTOR, SURVEY AND OPERATIONS GROUP
|  | DEPUTY CENTER DIRECTOR (2)
|  | DIRECTOR, IQUALITY IMPROVEMENT AND INNOVATION GROUP
| CENTER FOR CONSUMER INFORMATION AND INSURANCE OVERSIGHT | DEPUTY DIRECTOR FOR OPERATIONS
|  | DIRECTOR, MARKETPLACE INFORMATION TECHNOLOGY GROUP
|  | DEPUTY DIRECTOR FOR POLICY
|  | DIRECTOR, PAYMENT POLICY AND FINANCIAL MANAGEMENT GROUP
|  | DIRECTOR, MARKETPLACE ELIGIBILITY AND ENROLLMENT GROUP
| CENTER FOR MEDICAID AND CHIP SERVICES | DEPUTY CENTER DIRECTOR (2)
|  | DIRECTOR, CHILDREN AND ADULTS HEALTH PROGRAMS GROUP
|  | DIRECTOR, MANAGED CARE GROUP
|  | DIRECTOR, FINANCIAL MANAGEMENT GROUP
|  | DIRECTOR, DATA AND SYSTEMS GROUP
|  | DIRECTOR, MEDICAID BENEFITS AND HEALTH PROGRAMS GROUP
|  | DIRECTOR, MEDICAID AND CHIP OPERATIONS GROUP
|  | DIRECTOR, STATE DEMONSTRATIONS GROUP
| CENTER FOR MEDICARE | DIRECTOR, PERFORMANCE BASED PAYMENT POLICY GROUP
|  | DIRECTOR, COVERAGE AND ANALYSIS
|  | DIRECTOR, TECHNOLOGY, CODING AND PRICING GROUP
|  | DIRECTOR, MEDICARE DRUG REBATE AND NEGOTIATIONS GROUP
|  | DIRECTOR, CHRONIC CARE POLICY GROUP
|  | DIRECTOR, HOSPITAL AND AMBULATORY POLICY GROUP
|  | DEPUTY CENTER DIRECTOR, CENTER FOR MEDICARE
|  | DIRECTOR, MEDICARE DRUG AND HEALTH PLAN CONTRACT ADMINISTRATION GROUP
|  | DIRECTOR, MEDICARE CONTRACTOR MANAGEMENT GROUP
|  | DIRECTOR PROVIDER BILLING GROUP
|  | DIRECTOR, MEDICARE PARTS C AND D OVERSIGHT AND ENFORCEMENT GROUP
|  | DIRECTOR, MEDICARE DRUG BENEFIT AND C AND D DATA GROUP
|  | DIRECTOR, MEDICARE ENROLLMENT AND APPEALS GROUP
|  | DIRECTOR, MEDICARE PLAN PAYMENT GROUP
|  | DEPUTY CENTER DIRECTOR, CENTER FOR MEDICARE
| CENTER FOR MEDICARE AND MEDICAID INNOVATION | DIRECTOR, RESEARCH AND RAPID CYCLE EVALUATION GROUP
|  | DIRECTOR, PATIENT CARE MODELS GROUP
|  | DEPUTY DIRECTOR (2)
|  | DIRECTOR, POLICY AND PROGRAMS GROUP
| CENTER FOR PROGRAM INTEGRITY | DEPUTY CENTER DIRECTOR (2)
|  | DIRECTOR, PROVIDER ENROLLMENT AND OVERSIGHT GROUP
|  | DIRECTOR, INVESTIGATIONS AND FRAUD PREVENTION PARTNERSHIPS GROUP
|  | DIRECTOR, DATA ANALYTICS AND SYSTEMS GROUP
|  | DEPUTY ADMINISTRATOR AND DIRECTOR
|  | DIRECTOR, AUDITS AND VULNERABILITIES GROUP
|  | DIRECTOR, PROVIDER COMPLIANCE GROUP
| FEDERAL COORDINATED HEALTH CARE OFFICE | DIRECTOR, FEDERAL COORDINATED HEALTH CARE OFFICE
| OFFICE OF COMMUNICATIONS | DIRECTOR, WEB AND EMERGING TECHNOLOGIES GROUP
| OFFICE OF ENTERPRISE DATA AND ANALYTICS | DIRECTOR, OFFICE OF ENTERPRISE DATA AND ANALYTICS/CHIEF DATA OFFCER
| OFFICE OF HUMAN CAPITAL | DIRECTOR, OFFICE OF HUMAN CAPITAL
| OFFICE OF PROGRAM OPERATIONS AND LOCAL ENGAGEMENT | DEPUTY DIRECTOR FOR LOCAL ENAGGEMENT AND ADMINISTRATION
|  | DEPUTY DIRECTOR FOR STRATEGY AND BUSINESS OPERATIONS
|  | DIRECTOR, OFFICE OF PROGRAM OPERATIONS AND LOCAL ENGAGEMENT
|  | DEPUTY DIRECTOR FOR INNOVATION AND FINANCIAL MANAGEMENT
| OFFICE OF STRATEGIC OPERATIONS AND REGULATORY AFFAIRS | DIRECTOR, OFFICE OF STRATEGIC OPERATIONS AND REGULATORY AFFAIRS
| OFFICE OF THE ACTUARY | DIRECTOR, NATIONAL HEALTH STATISTICS GROUP
|  | DIRECTOR, PARTS C AND D ACTUARIAL GROUP
|  | DIRECTOR, OFFICE OF THE ACTUARY (CHIEF ACTUARY)
|  | DIRECTOR, MEDICARE AND MEDICAID COST ESTIMATES GROUP
CHIEF OPERATING OFFICER | OFFICE OF ACQUISITIONS AND GRANTS MANAGEMENT | DIRECTOR, OFFICE OF ACQUISITIONS AND GRANTS MANAGEMENT
|  | DEPUTY DIRECTOR, OFFICE OF ACQUISITION AND GRANTS MANAGEMENT
| OFFICE OF FINANCIAL MANAGEMENT | DIRECTOR, ACCOUNTING MANAGEMENT GROUP
|  | DIRECTOR, FINANCIAL SERVICES GROUP
|  | DEPUTY DIRECTOR OFFICE OF FINANCIAL MANAGEMENT
|  | DIRECTOR, FINANCIAL MANAGEMENT SYSTEMS GROUP
|  | DIRECTOR OFFICE OF FINANCIAL MANAGEMENT
|  | DIRECTOR, BUDGET AND ANALYSIS GROUP
| OFFICE OF INFORMATION TECHNOLOGY | DIRECTOR, OFFICE OF INFORMATION TECHNOLOGY/CMS CHIEF INFORMATION OFFICER
|  | DIRECTOR, INFORMATION SECURITY AND PRIVACY GROUP/CHIEF INFORMATION SECURITY OFFICER
|  | DEPUTY DIRECTOR, OFFICE OF IINFORMATION TECHNOLOGY
|  | DIRECTOR, ENTERPRISE ARCHITECTURE AND DATA GROUP
|  | DIRECTOR, INFRASTRUCTURE AND USER SERVICES GROUP
|  | DIRECTOR, ENTERPRISE SYSTEMS SOLUTIONS GROUP
|  | DIRECTOR, APPLICATIONS MANAGEMENT GROUP
|  | DEPUTY DIRECTOR, OFFICE OF INFORMATION TECHNOLOGY
| OFFICE OF SECURITY, FACILITIES AND LOGISTICS OPERATIONS | DIRECTOR, OFFICE OF SECURITY, FACILITIES AND LOGISTICS OPERATIONS
DEPARTMENT OF HEALTH AND HUMAN SERVICES | ADMINISTRATION FOR CHILDREN AND FAMILIES | CHIEF INFORMATION OFFICER
|  | CHIEF TECHNOLOGY OFFICER
|  | CHIEF OPERATIONS OFFICER
|  | ASSOCIATE DEPUTY ASSISTANT SECRETARY FOR GRANTS
|  | ASSOCIATE DEPUTY ASSISTANT SECRETARY FOR ADMINISTRATION
|  | PRINCIPAL DEPUTY DIRECTOR, OFFICE OF REFUGEE RESETTLEMENT
|  | DIRECTOR, ACQUISITION SERVICES
|  | DEPUTY ASSISTANT SECRETARY FOR ADMINISTRATION
|  | ASSOCIATE DEPUTY ASSISTANT SECRETARY FOR EARLY CHILDHOOD DEVELOPMENT
| ADMINISTRATION FOR COMMUNITY LIVING | DEPUTY DIRECTOR, NATIONAL INSTITUTE FOR DISABILITY, INDEPENDENT LIVING AND REHABILITATION RESEARCH
|  | DEPUTY ASSISTANT SECRETARY FOR AGING
|  | DEPUTY ADMINISTRATOR FOR MANAGEMENT AND BUDGET
|  | DEPUTY ADMINISTRATOR FOR THE CENTER FOR INTEGRATED PROGRAMS
| ADMINISTRATION FOR STRATEGIC PREPAREDNESS AND RESPONSE | DEPUTY ASSISTANT SECRETARY, OFFICE OF OPERATIONS AND RESOURCES
|  | DEPUTY ASSISTANT SECRETARY, INDUSTRIAL BASE MANAGEMENT AND SUPPLY CHAIN
|  | DEPUTY CHIEF OPERATING OFFICER, H-CORE
|  | DIRECTOR, OFFICE OF EMERGENCY MANAGEMENT AND MEDICAL OPERATIONS
|  | DIRECTOR, OFFICE OF RESOURCE MANAGEMENT
|  | DIRECTOR, STRATEGIC NATIONAL STOCKPILE
|  | DEPUTY HEAD OF CONTRACTING ACTIVITY
|  | HEAD OF CONTRACTING ACTIVITY
|  | DIRECTOR, OFFICE OF SECURITY, INTEL, INFORMATION MANAGEMENT
|  | DIRECTOR OF SUPPLY, PRODUCTION, DISTRIBUTION AND ADMINISTRATION
| AGENCY FOR HEALTHCARE RESEARCH AND QUALITY | DIRECTOR, OFFICE OF EXTRAMURAL RESEARCH, EDUCATION AND PRIORITY POPULATIONS
|  | EXECUTIVE OFFICER
|  | PRINCIPAL DEPUTY FOR PROGRAMS
| CENTERS FOR DISEASE CONTROL AND PREVENTION | DIRECTOR, HUMAN RESOURCES OFFICE
|  | DEPUTY DIRECTOR FOR MANAGEMENT
|  | DEPUTY CHIEF FINANCIAL OFFICER
|  | DEPUTY DIRECTOR FOR MANAGEMENT, OPERATIONS, COMMUNICATIONS AND POLICY
|  | PRINCIPAL DEPUTY DIRECTOR, OFFICE OF SAFETY, SECURITY, AND ASSET MANAGEMENT
|  | PRINCIPAL DEPUTY DIRECTOR, HUMAN RESOURCES OFFICE
|  | DEPUTY DIRECTOR, NATIONAL CENTER FOR CHRONIC DISEASE PREVENTION AND HEALTH PROMOTION
|  | CHIEF INFORMATION OFFICER
|  | DEPUTY DIRECTOR FOR MANAGEMENT AND OPERATIONS
|  | DEPUTY CHIEF INFORMATION OFFICER
|  | DIRECTOR, DIGITAL SERVICES OFFICE
|  | CHIEF INFORMATION SECURITY OFFICER
|  | CHIEF FINANCIAL OFFICER
|  | BUDGET DIRECTOR
|  | DIRECTOR, OFFICE OF FINANCE AND ACCOUNTING
|  | DIRECTOR OFFICE OF GRANTS SERVICES
|  | CHIEF OPERATING OFFICER
|  | DIRECTOR, OFFICE OF DIVERSITY MANAGEMENT AND EQUAL EMPLOYMENT OPPORTUNITY
|  | DIRECTOR, OFFICE OF SAFETY, SECURITY AND ASSET MANAGEMENT
|  | SUPERVISORY PUBLIC HEALTH ADVISOR
|  | DIRECTOR, OFFICE OF POLICY PERFORMANCE AND EVALUATION
|  | ASSOCIATE DIRECTOR FOR ENTERPRISE AND INTEGRATION TIER MANAGEMENT
|  | DEPUTY DIRECTOR FOR MANAGEMENT AND OPERATIONS (2)
|  | DEPUTY DIRECTOR FOR MANAGEMENT, OPERATIONS, COMMUNICATIONS, AND POLICY
|  | DIRECTOR, OFFICE OF ACQUISITION SERVICES
|  | DEPUTY DIRECTOR FOR MANAGEMENT, OPERATIONS, COMMUNICATIONS AND POLICY (2)
|  | DEPUTY DIRECTOR NATIONAL CENTER FOR ENVIRONMENTAL HEALTH/AGENCY FOR TOXIC SUBSTANCES AND DISEASE REGISTRY
|  | DEPUTY CHIEF OPERATING OFFICER
|  | DEPUTY DIRECTOR FOR MANAGEMENT AND OPERATIONS, NATIONAL CENTER FOR INJURY PREVENTION AND CONTROL
|  | DIRECTOR, ASSET MANAGEMENT SERVICES OFFICE
|  | DIRECTOR FOR STRATEGIC BUSINESS MANAGEMENT
|  | DIRECTOR, DIVISION OF GLOBAL MIGRATION AND QUARANTINE
| CENTERS FOR MEDICARE AND MEDICAID SERVICES | DEPUTY DIRECTOR, OFFICE OF HUMAN CAPITAL
|  | DIRECTOR, OFFICES OF HEARINGS AND INQUIRIES
|  | DIRECTOR, OFFICE EQUAL OPPORTUNITY AND CIVIL RIGHTS/CMS CHIEF DIVERSITY OFFICER
| FOOD AND DRUG ADMINISTRATION | DEPUTY DIRECTOR, OFFICE OF PARTNERSHIPS AND OPERATIONAL POLICY
|  | DEPUTY ASSOCIATE GENERAL COUNSEL FOR LITIGATION 2 (2)
|  | SENIOR POLICY ADVISOR TO THE CHIEF SCIENTIST
|  | PRINCIPAL DEPUTY ASSOCIATE GENERAL COUNSEL, FOOD AND DRUG DIVISION
|  | DIRECTOR OFFICE OF REGULATIONS AND POLICY
|  | DIRECTOR, OFFICE OF ACQUISITIONS AND GRANTS SERVICES
|  | ASSOCIATE DIRECTOR FOR MANAGEMENT
|  | DIRECTOR, OFFICE OF REGULATIONS
|  | DEPUTY DIRECTOR, CENTER FOR VETERINARY MEDICINE
|  | DIRECTOR, OFFICE OF COMPLIANCE
|  | DIRECTOR, OFFICE OF BUDGET
|  | DEPUTY DIRECTOR, CENTER FOR TOBACCO PRODUCTS
|  | DIRECTOR, OFFICE OF FACILITIES ENGINEERING AND MISSION SUPPORT SERVICES
|  | DIRECTOR, OFFICE OF HEALTH COMMUNICATION AND EDUCATION
|  | DEPUTY CHIEF FINANCIAL OFFICER/DIRECTOR, OFFICE OF FINANCIAL MANAGEMENT
|  | DIRECTOR, OFFICE OF MANAGEMENT
|  | DIRECTOR, OFFICE OF SECURITY AND EMERGENCY MANAGEMENT
|  | PROGRAM DIRECTOR, OFFICE OF HUMAN AND ANIMAL FOOD OPERATIONS-WEST
|  | DIRECTOR, DIVISION OF ETHICS AND INTEGRITY
|  | DIRECTOR, OFFICE OF PARTNERSHIPS
|  | ASSISTANT COMMISSIONER FOR HUMAN AND ANIMAL FOOD OPERATIONS
|  | CHIEF INFORMATION SECURITY OFFICER
|  | DEPUTY DIRECTOR, OFFICE OF LABORATORY SCIENCE AND SAFETY
|  | DIRECTOR, OFFICE OF HUMAN CAPITAL MANAGEMENT
|  | DIRECTOR OF STAKEHOLDER ENGAGEMENT
|  | DEPUTY DIRECTOR FOR COMPLIANCE OPERATIONS
|  | PROGRAM DIRECTOR, OFFICE OF HUMAN AND ANIMAL FOOD OPERATIONS-EAST
|  | ASSISTANT COMMISSIONER FOR PARTNERSHIPS AND POLICY
|  | DEPUTY DIRECTOR FOR REGULATORY AFFAIRS
|  | SENIOR DEPUTY ASSOCIATE GENERAL COUNSEL
| HEALTH RESOURCES AND SERVICES ADMINISTRATION | ASSOCIATE ADMINISTRATOR, PROVIDER RELIEF BUREAU
|  | DEPUTY ASSOCIATE ADMINISTRATOR, BUREAU OF HEALTH WORKFORCE
|  | DIRECTOR, OFFICE OF BUDGET AND FINANCE
|  | DIRECTOR, OFFICE OF HUMAN RESOURCES
|  | ASSOCIATE ADMINISTRATOR, BUREAU OF HEALTH WORKFORCE
|  | DEPUTY ASSOCIATE ADMINISTRATOR, OFFICE OF FEDERAL ASSISTANCE MANAGEMENT
|  | DEPUTY ASSOCIATE ADMINISTRATOR, OFFICE OF OPERATIONS
|  | DEPUTY ASSOCIATE ADMINISTRATOR, BUREAU OF PRIMARY HEALTH CARE (2)
|  | ASSOCIATE ADMINISTRATOR, FEDERAL OFFICE OF RURAL HEALTH POLICY
|  | DEPUTY ASSOCIATE ADMINISTRATOR, HIV/AIDS BUREAU
|  | ASSOCIATE ADMINISTRATOR, MATERNAL AND CHILD HEALTH BUREAU
|  | DIRECTOR, OFFICE OF INFORMATION TECHNOLOGY AND CHIEF INFORMATION OFFICER
|  | ASSOCIATE ADMINISTRATOR, OFFICE OF INTERGOVERNMENTAL AND EXTERNAL AFFAIRS
|  | ASSOCIATE ADMINISTRATOR, HIV/AIDS BUREAU
|  | DEPUTY ASSOCIATE ADMINISTRATOR AND CHIEF MEDICAL OFFICER
|  | ASSOCIATE ADMINISTRATOR, HEALTH SYSTEMS BUREAU
|  | ASSOCIATE ADMINSTRATOR, OFFICE OF OPERATIONS
|  | DEPUTY ASSOCIATE ADMINISTRATOR, FEDERAL OFFICE OF RURAL HEALTH POLICY
|  | ASSOCIATE ADMINISTRATOR, BUREAU OF PRIMARY HEALTH CARE
|  | ASSOCIATE ADMINISTRATOR, OFFICE OF FEDERAL ASSISTANCE MANAGEMENT
|  | DEPUTY ASSOCIATE ADMINISTRATOR, HEALTHCARE SYSTEMS BUREAU
|  | PRINCIPAL DEPUTY ADMINISTRATOR, HEALTH RESOURCES AND SERVICES ADMINISTRATION
|  | DIRECTOR, OFFICE OF CIVIL RIGHTS, DIVERSITY AND INCLUSION
|  | DEPUTY ASSOCIATE ADMINISTRATOR, MATERNAL AND CHILD HEALTH BUREAU
|  | DIRECTOR, OFFICE OF ACQUISITIONS MANAGEMENT AND POLICY
| INDIAN HEALTH SERVICE | DIRECTOR, ALASKA AREA
|  | DIRECTOR, NAVAJO AREA
|  | DIRECTOR, CALIFORNIA AREA
|  | DIRECTOR, BEMIDJI AREA
|  | DIRECTOR, NASHVILLE AREA
|  | DEPUTY DIRECTOR
|  | DIRECTOR, GREAT PLAINS AREA
|  | DIRECTOR, OFFICE OF FINANACE AND ACCOUNTING
|  | DEPUTY DIRECTOR FOR MANAGEMENT OPERATIONS
|  | DIRECTOR, OFFICE OF INFORMATION TECHNOLOGY
|  | DIRECTOR, BILLINGS AREA
|  | DIRECTOR, TUCSON AREA
|  | DIRECTOR, OFFICE OF TRIBAL SELF-GOVERNANCE
|  | DEPUTY DIRECTOR FOR FIELD OPERATIONS (REGION B)
|  | DIRECTOR, OFFICE OF MANAGEMENT SERVICES
|  | DIRECTOR, PORTLAND AREA
|  | DIRECTOR, OFFICE OF URBAN INDIAN HEALTH PROGRAMS
|  | DIRECTOR, OFFICE OF ENVIRONMENTAL HEALTH AND ENGINEERING
|  | DIRECTOR, OFFICE OF QUALITY
|  | HEALTH SYSTEM ADMINISTRATOR (10)
|  | DIRECTOR, OFFICE OF DIRECT SERVICE AND CONTRACTING TRIBES
|  | DIRECTOR, OFFICE OF HUMAN RESOURCES
|  | DEPUTY DIRECTOR FOR QUALITY HEALTH CARE AND RISK MANAGEMENT
|  | DEPUTY DIRECTOR FOR INTERGOVERNMENTAL AFFAIRS
|  | DIRECTOR, DIVERSITY MANAGEMENT AND EEO
| NATIONAL INSTITUTES OF HEALTH | DIRECTOR, NIH ETHICS OFFICE
|  | DIRECTOR, OFFICE OF STRATEGIC PLANNING AND MANAGEMENT OPERATIONS
|  | DIRECTOR, OFFICE OF HEALTH EDUCATION, COMMUNICATIONS, AND SCIENCE POLICY
|  | DIRECTOR FOR EXTERNAL AFFAIRS
|  | DIRECTOR, CENTER FOR INFORMATION TECHNOLOGY AND CHIEF INFORMATION OFFICER
|  | DIRECTOR OF CYBERSECURITY/CHIEF INFORMATION SECURITY OFFICER
|  | NIH CHIEF INFORMATION OFFICER/DIRECTOR, OFFICE OF THE CHIEF INFORMATION OFFICER
|  | CHIEF INFORMATION OFFICER
|  | DEPUTY DIRECTOR, DIVISION OF PROGRAM COORDINATION, PLANNING, AND STRATEGIC INITIATIVES
|  | DIRECTOR, OFFICE OF ACQUISITION AND LEGISTICS MANAGEMENT
|  | ASSOCIATE DIRECTOR FOR SECURITY AND EMERGENCY RESPONSE
|  | ASSOCIATE DIRECTOR FOR MANAGEMENT
|  | ASSOCIATE DIRECTOR FOR BUDGET
|  | DIRECTOR, OFFICE OF HUMAN RESOURCES
|  | ELECTRONIC RESEARCH ADMINISTRATION PROGRAM MANAGER
|  | DIRECTOR, OFFICE OF MANAGEMENT ASSESSMENT
|  | ASSOCIATE DIRECTOR FOR MANAGEMENT
|  | DIRECTOR, OFFICE OF POLICY FOR EXTRAMURAL RESEARCH ADMINISTRATION
|  | DEPUTY DIRECTOR FOR MANAGEMENT
|  | DIRECTOR, OFFICE OF EQUITY, DIVERSITY, AND INCLUSION
|  | DIRECTOR, OFFICE OF FINANCIAL MANAGEMENT
|  | ASSOCIATE DIRECTOR FOR ADMINISTRATIVE MANAGEMENT
|  | DIRECTOR, OFFICE OF RESEARCH SERVICES
| OFFICE OF THE SECRETARY | ASSISTANT DEPUTY SECRETARY FOR NATIONAL SECURITY
| SUBSTANCE ABUSE AND MENTAL HEALTH SERVICES ADMINISTRATION | DIRECTOR, OFFICE OF RECOVERY
|  | DIRECTOR, CENTER FOR SUBSTANCE ABUSE TREATMENT
|  | DIRECTOR, OFFICE OF FINANCIAL RESOURCES
|  | DIRECTOR, NATIONAL MENTAL HEALTH AND SUBSTANCE USE POLICY LABORATORY
|  | EXECUTIVE OFFICER
|  | DEPUTY DIRECTOR, CENTER FOR BEHAVIORAL HEALTH STATISTICS AND QUALITY
|  | DEPUTY DIRECTOR, CENTER FOR MENTAL HEALTH SERVICES
|  | DEPUTY DIRECTOR, OFFICE OF FINANCIAL RESOURCES
FOOD AND DRUG ADMINISTRATION | CENTER FOR FOOD SAFETY AND APPLIED NUTRITION | DEPUTY DIRECTOR FOR ANIMAL- DERIVED FOODS
|  | DIRECTOR, OFFICE OF DIETARY SUPPLEMENT PROGRAMS
| NATIONAL CENTER FOR TOXICOLOGICAL RESEARCH | ASSOCIATE DIRECTOR FOR OPERATIONS
| OFFICE OF POLICY AND PLANNING | DIRECTOR, OFFICE OF PLANNING AND EVALUATION
| OFFICE OF REGULATORY AFFAIRS | DEPUTY DIRECTOR, OFFICE OF HUMAN AND ANIMAL FOOD OPERATIONS
|  | DEPUTY DIRECTOR FOR TARGETING, ANALYSIS AND SUPPORT
NATIONAL INSTITUTES OF HEALTH | ADVANCED RESEARCH PROJECTS AGENCY FOR HEALTH | DIRECTOR, STRATEGIC RESOURCES OFFICE
|  | DIRECTOR, ACQUISITIONS AND CONTRACTING OFFICE
|  | COMPTROLLER
| CENTER FOR INFORMATION TECHNOLOGY | DIRECTOR, OFFICE OF INFORMATION TECHNOLOGY SERVICES MANAGEMENT
|  | DEPUTY DIRECTOR
| NATIONAL CANCER INSTITUTE | DEPUTY DIRECTOR FOR MANAGEMENT
| NATIONAL CENTER FOR ADVANCING TRANSLATIONAL SCIENCES | ASSOCIATE DIRECTOR FOR ADMINISTRATION
| NATIONAL EYE INSTITUTE | DEPUTY DIRECTOR FOR MANAGEMENT
| NATIONAL HUMAN GENOME RESEARCH INSTITUTE | ASSOCIATE DIRECTOR FOR MANAGEMENT
|  | DIRECTOR, OFFICE OF POPULATION GENOMICS
| NATIONAL INSTITUTE OF ARTHRITIS AND MUSCULOSKELETAL AND SKIN DISEASES | ASSOCIATE DIRECTOR FOR MANAGEMENT AND OPERATIONS
| NATIONAL INSTITUTE OF DENTAL AND CRANIOFACIAL RESEARCH | ASSOCIATE DIRECTOR FOR MANAGEMENT
| NATIONAL INSTITUTE OF DIABETES AND DIGESTIVE AND KIDNEY DISEASES | ASSOCIATE DIRECTOR FOR MANAGEMENT
| NATIONAL INSTITUTE OF MENTAL HEALTH | ASSOCIATE DIRECTOR FOR MANAGEMENT
| NATIONAL INSTITUTE ON AGING | DIRECTOR OF MANAGEMENT
| NATIONAL INSTITUTE ON ALCOHOL ABUSE AND ALCOHOLISM | ASSOCIATE DIRECTOR FOR ADMINISTRATION
| NATIONAL INSTITUTE ON DRUG ABUSE | DEPUTY DIRECTOR FOR MANAGEMENT
| NATIONAL INSTITUTES OF ALLERGY AND INFECTIOUS DISEASES | DIRECTOR, OFFICE OF MISSION INTEGRATION AND FINANCIAL MANAGEMENT
| NATIONAL INSTITUTES OF CHILD HEALTH AND HUMAN DEVELOPMENT | ASSOCIATE DIRECTOR FOR ADMINISTRATION
| NATIONAL INSTITUTES OF ENVIRONMENTAL HEALTH SCIENCES | ASSOCIATE DIRECTOR OF MANAGEMENT
| NATIONAL INSTITUTES OF GENERAL MEDICAL SCIENCES | ASSOCIATE DIRECTOR FOR MANAGEMENT
NATIONAL INSTITUTES OF HEALTH CLINICAL CENTER | CHIEF OPERATING OFFICER
|  | CHIEF FINANCIAL OFFICER
| NATIONAL INSTITUTES ON DEAFNESS AND OTHER COMMUNICATION DISORDERS | ASSOCIATE DIRECTOR FOR ADMINISTRATION
| NATIONAL LIBRARY OF MEDICINE | ASSOCIATE DIRECTOR FOR EXTRAMURAL PROGRAMS
|  | ASSOCIATE DIRECTOR FOR ADMINISTRATIVE MANAGEMENT
|  | DIRECTOR, INFORMATION SYSTEMS
|  | ASSOCIATE DIRECTOR FOR LIBRARY OPERATIONS
|  | DEPUTY DIRECTOR, POLICY AND EXTERNAL AFFAIRS
| OFFICE OF THE DIRECTOR | DIRECTOR, OFFICE OF RESEARCH FACILITIES DEVELOPMENT AND OPERATIONS
OFFICE OF THE ASSISTANT SECRETARY FOR ADMINISTRATION | PROGRAM SUPPORT CENTER | DIRECTOR, FACILITIES AND LOGISTICS
|  | DEPUTY ASSISTANT SECRETARY, PROGRAM SUPPORT CENTER
|  | DIRECTOR, FINANCIAL MANAGEMENT PORTFOLIO
OFFICE OF THE ASSISTANT SECRETARY FOR FINANCIAL RESOURCES | OFFICE OF THE DEPUTY ASSISTANT SECRETARY FOR BUDGET | DIRECTOR, DIVISION OF HEALTH BENEFITS AND INCOME SUPPORT
|  | DEPUTY ASSISTANT SECRETARY, BUDGET
|  | DIRECTOR, DIVISION OF BUDGET POLICY, EXECUTION AND REVIEW
|  | ASSOCIATE DEPUTY ASSISTANT SECRETARY, BUDGET
|  | DIRECTOR, OFFICE OF PROGRAM INTEGRITY COORDINATION
| OFFICE OF THE DEPUTY ASSISTANT SECRETARY FOR FINANCE | ASSOCIATE DEPUTY ASSISTANT SECRETARY FOR FINANCE
|  | DEPUTY ASSISTANT SECRETARY, FINANCE
OFFICE OF THE COMMISSIONER | CENTER FOR TOBACCO PRODUCTS | DEPUTY DIRECTOR FOR REGULATORY AFFAIRS
|  | DIRECTOR, OFFICE OF COMPLIANCE AND ENFORCEMENT
| OFFICE OF OPERATIONS | CHIEF FINANCIAL OFFICER
|  | DIRECTOR OF FISCAL SERVICES AND OPERATIONS
|  | DIRECTOR, OFFICE OF EQUAL EMPLOYMENT OPPORTUNITY
OFFICE OF THE SECRETARY | OFFICE FOR CIVIL RIGHTS | DEPUTY DIRECTOR FOR CONSCIENCE
|  | DEPUTY DIRECTOR, PLANNING AND BUSINESS ADMINISTRATION MANAGEMENT
|  | DEPUTY DIRECTOR FOR HEALTH INFORMATION PRIVACY
|  | DEPUTY DIRECTOR FOR POLICY
|  | PRINCIPAL DEPUTY DIRECTOR
|  | DEPUTY DIRECTOR FOR STRATEGIC PLANNING (2)
|  | DEPUTY DIRECTOR FOR ENFORCEMENT
|  | DEPUTY DIRECTOR FOR OPERATIONS AND RESOURCES
| OFFICE OF GLOBAL AFFAIRS | DEPUTY ASSISTANT SECRETARY FOR GLOBAL AFFAIRS
| OFFICE OF MEDICARE HEARINGS AND APPEALS | EXECUTIVE DIRECTOR, OFFICE OF MANAGEMENT
|  | EXECUTIVE DIRECTOR, PROGRAM INTEGRITY AND ETHICS
| OFFICE OF THE ASSISTANT SECRETARY FOR ADMINISTRATION | EXECUTIVE DIRECTOR, OFFICE OF APPLICATION AND PLATFORM SOLUTIONS
|  | EXECUTIVE DIRECTOR, NATIONAL LABOR EMPLOYEE RELATIONS OFFICE
|  | EXECUTIVE OFFICER
|  | DEPUTY DIRECTOR, PROGRAM SUPPORT CENTER
|  | DEPUTY DIRECTOR FOR DRUG AND HEALTH PLAN OPERATIONS
|  | CHIEF INFORMATION SECURITY OFFICER
|  | CHIEF LEARNING AND ENGAGEMENT OFFICER
|  | EXECUTIVE DIRECTOR, EXECUTIVE RESOURCES
|  | EXECUTIVE DIRECTOR, OFFICE OF ENTERPRISE SERVICES
|  | EXECUTIVE DIRECTOR, HUMAN RESOURCES OPERATIONS
|  | DEPUTY ASSISTANT SECRETARY FOR EQUITY, DIVERSITY, AND INCLUSION
|  | EXECUTIVE DIRECTOR, OFFICE OF INFORMATION TECHNOLOGY OPERATIONS
|  | ASSOCIATE DEPUTY ASSISTANT SECRETARY FOR HUMAN RESOURCES
|  | DEPUTY CHIEF INFORMATION OFFICER
|  | EXECUTIVE DIRECTOR, FINANCIAL MANAGEMENT AND BUDGET
|  | DEPUTY ASSISTANT SECRETARY FOR ACQUISITIONS
|  | DEPUTY ASSISTANT SECRETARY, CHIEF INFORMATION OFFICER
|  | DEPUTY ASSISTANT SECRETARY FOR HUMAN RESOURCES
| OFFICE OF THE ASSISTANT SECRETARY FOR FINANCIAL RESOURCES | DIRECTOR OF POLICY, OVERSIGHT, EVALUATION AND TRAINING
|  | EXECUTIVE DIRECTOR, ACQUISITION POLICY, LEGISLATION, OVERSIGHT AND WORKFORCE
|  | EXECUTIVE DIRECTOR, STRATEGIC PROGRAMS AND BUSINESS SYSTEMS
|  | DIRECTOR, NATIONAL GRANTS OF EXCELLENCE
|  | DIRECTOR, OFFICE OF SMALL AND DISADVANTAGED BUSINESS UTILIZATION
|  | DIRECTOR, DIVISION OF THE OFFICE OF THE SECRETARY BUDGET
|  | DIRECTOR, OFFICE OF FINANCIAL POLICY AND REPORTING
|  | ASSOCIATE DEPUTY ASSISTANT SECRETARY, ACQUISITION
|  | DEPUTY ASSISTANT SECRETARY, OFFICE OF GRANTS
|  | DIRECTOR, OFFICE OF FINANCIAL SYSTEMS, POLICY AND OVERSIGHT
|  | DEPUTY ASSISTANT SECRETARY FOR OPERATIONS AND MANAGEMENT
|  | ASSOCIATE DEPUTY ASSISTANT SECRETARY, GRANTS
|  | EXECUTIVE DIRECTOR, GRANTS QUALITY SERVICE MANAGEMENT OFFICE
|  | DEPUTY ASSISTANT SECRETARY, OFFICE OF ACQUISITIONS
| OFFICE OF THE ASSISTANT SECRETARY FOR HEALTH | CHIEF INFORMATION OFFICER, EXECUTIVE DIRECTOR FOR INFORMATION TECHNOLOGY
|  | PRINCIPAL DEPUTY DIRECTOR, OFFICE OF MINORITY HEALTH
|  | DIRECTOR, OFFICE OF HUMAN RESEARCH PROTECTIONS
|  | ASSOCIATE PRINCIPAL DEPUTY ASSISTANT SECRETARY FOR HEALTH
|  | DEPUTY DIRECTOR, OFFICE OF RESEARCH INTEGRITY
|  | DEPUTY ASSISTANT SECRETARY FOR CLIMATE CHANGE AND HEALTH EQUITY
|  | DEPUTY ASSISTANT SECRETARY FOR HEALTH (REGIONAL OPERATIONS)
|  | DIRECTOR, OFFICE OF RESEARCH INTEGRITY
|  | EXECUTIVE OFFICER
| OFFICE OF THE ASSISTANT SECRETARY FOR PLANNING AND EVALUATION | ASSOCIATE DEPUTY ASSISTANT SECRETARY FOR PLANNING AND EVALUATION (HEALTH SERVICES POLICY)
| OFFICE OF THE ASSISTANT SECRETARY FOR PUBLIC AFFAIRS | DEPUTY AGENCY CHIEF FOIA OFFICER
|  | EXECUTIVE OFFICER/DEPUTY AGENCY CHIEF FOIA
| OFFICE OF THE DEPUTY SECRETARY | EXECUTIVE OFFICER/EXECUTIVE DIRECTOR OF ADMINISTRATION
|  | CHAIR, DEPARTMENTAL APPEALS BOARD
| OFFICE OF THE GENERAL COUNSEL | ASSOCIATE GENERAL COUNSEL, ETHICS DIV AND DESIGNATED AGENCY ETHICS OFFICIAL
|  | DEPUTY GENERAL COUNSEL (LITIGATION)
|  | DEPUTY ASSOCIATE GENERAL COUNSEL FOR ETHICS ADVICE AND POLICY
| OFFICE OF THE NATIONAL COORDINATOR FOR HEALTH INFORMATION TECHNOLOGY | DEPUTY NATIONAL COORDINATOR FOR OPERATIONS
|  | CHIEF MEDICAL OFFICER
|  | EXECUTIVE DIRECTOR, OFFICE OF TECHNOLOGY
|  | EXECUTIVE DIRECTOR, OFFICE OF POLICY
|  | DEPUTY NATIONAL COORDINATOR FOR HEALTH INFORMATION TECHNOLOGY
DEPARTMENT OF HEALTH AND HUMAN SERVICES OFFICE OF THE INSPECTOR GENERAL
| DEPARTMENT OF HEALTH AND HUMAN SERVICES OFFICE OF THE INSPECTOR GENERAL | PRINCIPAL DEPUTY INSPECTOR GENERAL
|  | CHIEF OF STAFF
|  | DEPUTY CHIEF OF STAFF
DEPARTMENT OF HEALTH AND HUMAN SERVICES OFFICE OF THE INSPECTOR GENERAL | OFFICE OF AUDIT SERVICES | ASSISTANT INSPECTOR GENERAL FOR AUDIT SERVICES (CYBERSECURITY AND INFORMATION TECHNOLOGY AUDITS)
|  | ASSISTANT INSPECTOR GENERAL FOR AUDIT SERVICES (4)
|  | DEPUTY INSPECTOR GENERAL FOR AUDIT SERVICES
| OFFICE OF COUNSEL TO THE INSPECTOR GENERAL | CHIEF COUNSEL TO THE INSPECTOR GENERAL
|  | ASSISTANT INSPECTOR GENERAL FOR LEGAL AFFAIRS (3)
| OFFICE OF EVALUATION AND INSPECTIONS | ASSISTANT INSPECTOR GENERAL FOR EVALUATION AND INSPECTIONS (3)
|  | DEPUTY INSPECTOR GENERAL FOR EVALUATION AND INSPECTIONS
| OFFICE OF INVESTIGATIONS | DEPUTY INSPECTOR GENERAL FOR INVESTIGATIONS
|  | ASSISTANT INSPECTOR GENERAL FOR INVESTIGATIONS (4)
| OFFICE OF MANAGEMENT AND POLICY | ASSISTANT INSPECTOR GENERAL FOR INFORMATION TECHNOLOGY (CHIEF INFORMATION OFFICER)
|  | ASSISTANT INSPECTOR GENERAL (CHIEF DATA OFFICER)
|  | DEPUTY INSPECTOR GENERAL FOR MANAGEMENT AND POLICY
|  | ASSISTANT INSPECTOR GENERAL FOR MANAGEMENT AND POLICY (DEPUTY CHIEF FINANCIAL OFFICER)
DEPARTMENT OF HOMELAND SECURITY
DEPARTMENT OF HOMELAND SECURITY | COUNTERING WEAPONS OF MASS DESTRUCTION OFFICE | DEPUTY ASSISTANT SECRETARY, INFORMATION ANALYSIS
|  | EXECUTIVE DIRECTOR FOR TECHNOLOGY AND CAPABILITY READINESS
| CYBERSECURITY AND INFRASTRUCTURE SECURITY AGENCY | DEPUTY ASSISTANT DIRECTOR FOR INTEGRATED OPERATIONS
|  | EXECUTIVE DIRECTOR, JOINT CYBER COORDINATION GROUP
|  | REGIONAL DIRECTOR, REGION I, BOSTON, MA
|  | REGIONAL DIRECTOR, REGION 10, SEATTLE, WA
|  | EXECUTIVE DIRECTOR, CYBERSECURITY AND INFRASTRUCTURE SECURITY AGENCY
|  | CHIEF, STRATEGY, POLICY, AND PLANS
|  | DEPUTY ASST. DIRECTOR FOR STAKEHOLDER ENGAGEMENT
|  | SENIOR TECHNICAL DIRECTOR
|  | ASSOCIATE DIRECTOR FOR CYBERSECURITY AND INFRASTRUCTURE SECURITY AGENCY (CISA) CENTRAL
|  | ASSOCIATE DIRECTOR FOR READINESS AND CONTINUITY
|  | ASSOCIATE DIRECTOR, PLANNING AND INNOVATION
|  | CHIEF PEOPLE OFFICER
|  | CHIEF ACQUISITION EXECUTIVE
|  | DEPUTY CHIEF ACQUISITION EXECUTIVE FOR PROCUREMENT
|  | ASSOCIATE DIRECTOR FOR THREAT HUNTING
|  | REGIONAL DIRECTOR (3)
|  | ASSOCIATE DIRECTOR FOR CAPACITY BUILDING
|  | CHIEF FINANCIAL OFFICER
|  | ASSISTANT DIRECTOR FOR INTEGRATED OPERATIONS
|  | DIRECTOR, NETWORK SECURITY DEPLOYMENT
|  | DIRECTOR, OFFICE OF COMPLIANCE AND SECURITY
|  | COMPONENT CHIEF HUMAN CAPITAL OFFICER
|  | DEPUTY EXECUTIVE ASSISTANT DIRECTOR FOR INFRASTRUCTURE SECURITY
|  | DIRECTOR MISSION INTEGRATION
|  | CHIEF TECHNOLOGY OFFICER, CYBER SECURITY AND COMMUNICATIONS
|  | REGIONAL DIRECTOR, REGION 7, KANSAS CITY, MO
|  | DEPUTY ASSISTANT DIRECTOR, NATIONAL RISK MANAGEMENT CENTER
|  | CHIEF OPERATING OFFICER
|  | ASSOCIATE DIRECTOR, RISK SERVICES
|  | CHIEF OF STAFF TO THE DEPUTY DIRECTOR
|  | SENIOR ADVISOR, OFFICE OF INFRASTRUCTURE SECURITY
|  | DIRECTOR, PROTECTIVE SECURITY COORDINATION
|  | EXECUTIVE ASSISTANT DIRECTOR FOR EMERGENCY COMMUNICATIONS
|  | DEPUTY EXECUTIVE ASSISTANT DIRECTOR FOR EMERGENCY COMMUNICATIONS
|  | SENIOR COUNSELOR TO THE DIRECTOR FOR CISA
|  | ASSOCIATE DIRECTOR FOR CHEMICAL SECURITY
|  | COMPONENT CHIEF INFORMATION OFFICER
|  | DEPUTY DIRECTOR FOR OPERATIONS, NATIONAL CYBERSECURITY AND COMMUNICATIONS INTEGRATION CENTER (NCCIC)
|  | ASSISTANT DIRECTOR FOR STAKEHOLDER ENGAGEMENT
|  | ASSISTANT DIRECTOR, NATIONAL RISK MANAGEMENT CENTER
|  | DIRECTOR OF MANAGEMENT
|  | REGIONAL DIRECTOR, REGION 6, DALLAS, TX
|  | REGIONAL DIRECTOR, REGION 3, PHILADELPHIA, PA
|  | DEPUTY EXECUTIVE ASSISTANT DIRECTOR FOR CYBERSECURITY
| FEDERAL EMERGENCY MANAGEMENT AGENCY | DEPUTY CHIEF COUNSEL FOR GENERAL LAW
|  | DIRECTOR, GRANTS MANAGEMENT DIVISION
|  | ASSISTANT ADMINISTRATOR FOR RISK MANAGEMENT
|  | ASSISTANT ADMINISTRATOR FOR FEDERAL INSURANCE
|  | ASSOCIATE ADMINISTRATOR, MISSION SUPPORT
|  | ASSISTANT ADMINISTRATOR FOR BUDGET
|  | DEPUTY CHIEF HUMAN CAPITAL OFFICER FOR STRATEGIC SOLUTIONS
|  | DIRECTOR, PLANNING AND EXERCISE DIVISION, OFFICE OF RESPONSE AND RECOVERY
|  | DIRECTOR, INDIVIDUAL ASSISTANCE DIVISION
|  | DIRECTOR, PUBLIC ASSISTANCE DIVISION
|  | CHIEF FINANCIAL OFFICER
|  | DIVISION DIRECTOR, HAZARD MITIGATION ASSISTANCE
|  | DEPUTY CHIEF INFORMATION OFFICER FOR MANAGEMENT
|  | DEPUTY CHIEF FINANCIAL OFFICER
|  | CHIEF COMPONENT PROCUREMENT OFFICER
|  | DEPUTY ASSOCIATE ADMINISTRATOR FOR MISSION SUPPORT
|  | ASSISTANT ADMINISTRATOR FOR NATIONAL PREPAREDNESS
|  | SUPERINTENDENT, EMERGENCY MANAGEMENT INSTITUTE
|  | ASSISTANT ADMINISTRATOR FOR FINANCIAL SYSTEMS DIVISION
|  | DEPUTY ASSISTANT ADMINISTRATOR FOR MITIGATION
|  | ASSISTANT ADMINISTRATOR, FIELD OPERATIONS DIRECTORATE
|  | DEPUTY CHIEF COMPONENT PROCUREMENT OFFICER
|  | CHIEF ADMINISTRATIVE OFFICER
|  | DIRECTOR, OPERATIONS DIVISION (RESPONSE AND RECOVERY)
|  | DEPUTY DIRECTOR, EXTERNAL AFFAIRS
|  | SUPERINTENDENT, CENTER FOR DOMESTIC PREPAREDNESS
|  | DEPUTY CHIEF COUNSEL FOR OPERATIONS
|  | DEPUTY ASSISTANT ADMINISTRATOR, GRANTS PROGRAM
|  | ASSISTANT ADMINISTRATOR FOR FINANCIAL MANAGEMENT
|  | DIRECTOR, NATIONAL EXERCISES AND TECHNOLOGICAL HAZARDS
|  | DEPUTY ASSOCIATE ADMINISTRATOR FOR POLICY, PROGRAM ANALYSIS AND INTERNATIONAL AFFAIRS
|  | DEPUTY ASSISTANT ADMINISTRATOR FOR RESPONSE
|  | DEPUTY CHIEF INFORMATION OFFICER FOR INSTRASTRUCTURE AND OPERATIONS
|  | DIRECTOR, DISASTER EMERGENCY COMMUNICATIONS DIVISION
|  | DEPUTY ASSISTANT ADMINISTRATOR FOR FEDERAL INSURANCE
|  | ASSISTANT ADMINISTRATOR FOR MITIGATION
|  | DEPUTY ASSISTANT ADMINISTRATOR FOR RISK MANAGEMENT
|  | DEPUTY CHIEF ADMINISTRATIVE OFFICER
|  | ASSISTANT ADMINISTRATOR, RESILENCE BUSINESS OPERATIONS
|  | DEPUTY REGIONAL ADMINISTRATOR (REGION VI, DALLAS)
|  | DEPUTY REGIONAL ADMINISTRATOR (REGION II NEW YORK)
|  | DEPUTY REGIONAL ADMINISTRATOR (REGION III PHILADELPHIA)
|  | DEPUTY REGIONAL ADMINISTRATOR (REGION V CHICAGO)
|  | DEPUTY REGIONAL ADMINISTRATOR (REGION VII KANSAS)
|  | DEPUTY REGIONAL ADMINISTRATOR (REGION VIII DENVER)
|  | DEPUTY REGIONAL ADMINISTRATOR (REGION IX OAKLAND)
|  | DEPUTY REGIONAL ADMINISTRATOR ( REGION X SEATTLE)
|  | DEPUTY REGIONAL ADMINISTRATOR (REGION 1 BOSTON)
|  | DEPUTY DIRECTOR, PUBLIC ASSISTANCE DIVISION
|  | DEPUTY ASSISTANT ADMINISTRATOR, FIELD OPERATIONS DIRECTORATE
|  | CHIEF TECHNOLOGY OFFICER
|  | CHIEF SECURITY OFFICER
|  | PRINCIPAL DEPUTY CHIEF COUNSEL
|  | DEPUTY ASSISTANT ADMINISTRATOR, NATIONAL PREPAREDNESS DIRECTORATE
|  | DEPUTY REGIONAL ADMINISTRATOR, REGION IV, ATLANTA
|  | DIRECTOR, NATIONAL ASSESSMENT AND INTEGRATION
|  | CHIEF INFORMATION SECURITY OFFICER
|  | DEPUTY CHIEF HUMAN CAPITAL OFFICER FOR HUMAN RESOURCE OPERATIONS
|  | DIRECTOR, OFFICE OF PROFESSIONAL RESPONSIBILITY
|  | DEPUTY ASSISTANT ADMINISTRATOR, GRANTS SYSTEMS AND POLICY INTEGRATION
|  | DIRECTOR, OFFICE OF EQUAL RIGHTS
|  | DEPUTY CHIEF SECURITY OFFICER
|  | ASSISTANT ADMINISTRATOR FOR FIELD LEADERSHIP
|  | DEPUTY ASSOCIATE ADMINISTRATOR FOR RESILIENCE
|  | DIRECTOR, INTERAGENCY COORDINATION DIVISION
|  | ASSISTANT ADMINISTRATOR FOR RESILIENCE STRATEGY
|  | DIRECTOR OF HERMIT'S PEAK CLAIMS OFFICE
|  | DEPUTY DIRECTOR, INDIVIDUAL ASSISTANCE DIVISION
| FEDERAL LAW ENFORCEMENT TRAINING | ASSISTANT DIRECTOR (CHIEF FINANCIAL OFFICER)
|  | ASSISTANT DIRECTOR (MISSION AND READINESS SUPPORT DIRECTORATE)
|  | ASSISTANT DIRECTOR OF TRAINING (CORE TRAINING OPERATIONS DIRECTORATE)
|  | ASSISTANT DIRECTOR OF TRAINING (NATIONAL CAPITAL REGION TRAINING OPERATIONS DIRECTORATE)
|  | ASSISTANT DIRECTOR OF TRAINING (TECHNICAL TRAINING OPERATIONS DIRECTORATE)
|  | ASSISTANT DIRECTOR (CHIEF INFORMATION OFFICER DIRECTORATE)
|  | CHIEF COUNSEL
|  | ASSOCIATE DIRECTOR FOR TRAINING OPERATIONS
|  | DIRECTOR, FEDERAL LAW ENFORCEMENT TRAINING CENTER
|  | DEPUTY DIRECTOR
|  | ASSISTANT DIRECTOR OF TRAINING (TRAINING MANAGEMENT OPERATIONS DIRECTORATE)
| MANAGEMENT DIRECTORATE | DIRECTOR, FINANCIAL MANAGEMENT
|  | EXECUTIVE DIRECTOR, ENTERPRISE SECURITY OPERATIONS AND SUPPORT
|  | ASSISTANT DIRECTOR, FUTURES IDENTITY
|  | DIRECTOR, FEDERAL PROTECTIVE SERVICE
|  | EXECUTIVE DIRECTOR, THREAT MANAGEMENT OPERATIONS
|  | EXECUTIVE DIRECTOR, CHIEF TECHNOLOGY OFFICER
|  | ASSISTANT DIRECTOR PROTECTIVE SECURITY OFFICER OVERSIGHT
|  | EXECUTIVE DIRECTOR, INFORMATION TECHNOLOGY OPERATIONS DIRECTORATE
|  | EXECUTIVE DIRECTOR, BUSINESS MANAGEMENT DIRECTORATE
|  | DEPUTY CHIEF PROCUREMENT OFFICER
|  | DEPUTY DIRECTOR, OFFICE OF BIOMETRIC IDENTITY MANAGEMENT
|  | EXECUTIVE DIRECTOR, CHIEF INFORMATION SECURITY OFFICER
|  | DEPUTY DIRECTOR, OFFICE OF PROCUREMENT OPERATIONS
|  | PRINCIPAL DEPUTY EXECUTIVE DIRECTOR, INFORMATION TECHNOLOGY OPERATIONS
|  | EXECUTIVE DIRECTOR, HUMAN RESOURCES MANAGEMENT AND SERVICES
|  | EXECUTIVE DIRECTOR, SUSTAINABILITY AND ENVIRONMENTAL PROGRAMS
|  | DEPUTY CHIEF INFORMATION SECURITY OFFICER—CYBERSECURITY (CIO)
|  | DEPUTY DIRECTOR, TECHNOLOGY AND INNOVATION (CHIEF TECHNOLOGY OFFICER)
|  | EXECUTIVE DIRECTOR, STRATEGIC OPERATIONS
|  | CHIEF PROCUREMENT OFFICER
|  | EXECUTIVE DIRECTOR, SOLUTIONS DEVELOPMENT DIRECTORATE
|  | DIRECTOR, OFFICE OF BUDGET
|  | EXECUTIVE DIRECTOR, FACILITIES AND OPERATIONAL SUPPORT
|  | DEPUTY CHIEF READINESS SUPPORT OFFICER
|  | EXECUTIVE DIRECTOR, HUMAN CAPITAL POLICY AND PROGRAMS
|  | DEPUTY CHIEF INFORMATION OFFICER
|  | EXECUTIVE DIRECTOR, OFFICE OF PROCUREMENT OPERATIONS
|  | EXECUTIVE DIRECTOR, ACQUISITION, POLICY AND OVERSIGHT
|  | CHIEF SECURITY OFFICER
|  | DEPUTY DIRECTOR, POLICY, INTERGOVERNMENTAL PROGRAMS AND COMMUNICATIONS
|  | DEPUTY CHIEF SECURITY OFFICER
|  | ASSISTANT DIRECTOR FOR FIELD OPERATIONS (EAST), FEDERAL PROTECTIVE SERVICE
|  | EXECUTIVE DIRECTOR, ACQUISITION WORKFORCE AND SYSTEMS SUPPORT
|  | DEPUTY CHIEF HUMAN CAPITAL OFFICER, STRATEGIC OPERATIONS
|  | EXECUTIVE DIRECTOR, HUMAN CAPITAL BUSINESS SYSTEMS
|  | EXECUTIVE DIRECTOR, FUTURE OF WORK PROGRAM
|  | DEPUTY EXECUTIVE DIRECTOR, PROGRAM ACCOUNTABILITY AND RISK MANAGEMENT
|  | DEPUTY BUDGET DIRECTOR, OFFICE OF BUDGET
|  | EXECUTIVE DIRECTOR, STRATEGIC PROGRAMS DIVISION
|  | PRINCIPAL DEPUTY DIRECTOR, FEDERAL PROTECTIVE SERVICE
|  | DEPUTY EXECUTIVE DIRECTOR, SOLUTIONS DEVELOPMENT DIRECTORATE
|  | CHIEF DATA OFFICER
|  | ASSISTANT DIRECTOR OF FIELD OPERATIONS (WEST), FEDERAL PROTECTIVE SERVICES
|  | ASSISTANT DIRECTOR OF FIELD OPERATIONS (CENTRAL), FEDERAL PROTECTIVE SERVICES
|  | DIRECTOR, DEPARTMENTAL GENERAL ACCOUNTING OFFICE/INPSECTOR GENERAL (GAO/IG) LIAISON OFFICE
|  | ASSISTANT DIRECTOR, OFFICE OF TRAINING AND CAREER DEVELOPMENT, FEDERAL PROTECTIVE SERVICE
|  | EXECUTIVE DIRECTOR, PROGRAM ACCOUNTABILITY AND RISK MANAGEMENT OFFICE
|  | EXECUTIVE DIRECTOR, DIVERSITY AND INCLUSION
|  | DIRECTOR, RISK MANAGEMENT AND ASSURANCE
|  | EXECUTIVE DIRECTOR, REGIONAL MISSION SUPPORT
|  | ASSISTANT DIRECTOR FOR RESOURCE MANAGEMENT (FINANCIAL OPERATIONS)
|  | EXECUTIVE DIRECTOR, STRATEGIC SOLUTIONS OFFICE
|  | DEPUTY CHIEF INFORMATION OFFICER
|  | EXECUTIVE DIRECTOR, ACQUISITION POLICY AND LEGISLATION BRANCH
|  | EXECUTIVE DIRECTOR, ASSETS ANDLIGISTICS
|  | EXECUTIVE DIRECTOR, HEADQUARTERS SUPPORT
| OFFICE OF INTELLIGENCE AND ANALYSIS | DIRECTOR, FIELD INTELLIGENCE DIRECTORATE
|  | DEPUTY UNDER SECRETARY FOR INTELLIGENCE PARTNERSHIPS
|  | DIRECTOR, TRANSBORDER SECURITY CENTER
|  | PRINCIPAL DEPUTY UNDER SECRETARY FOR INTELLIGENCE AND ANALYSIS
|  | DIRECTOR, TRANSPARENCY AND OVERSIGHT PROGRAM OFFICE
|  | DEPUTY UNDER SECRETARY FOR COLLECTIONS
|  | DEPUTY UNDER SECRETARY OF INTELLIGENCE AND ANALYSIS FOR MANAGEMENT
|  | DIRECTOR NATIONAL STATE THREATS CENTER
|  | DIRECTOR, CYBER INTELLIGENCE CENTER
|  | CHIEF OF STAFF
|  | DEPUTY UNDER SECRETARY FOR INTELLIGENCE ENTERPRISE READINESS
| OFFICE OF STRATEGY, POLICY, AND PLANS | DEPUTY ASSISTANT SECRETARY FOR CYBER
|  | PRINCIPAL DEPUTY DIRECTOR, TERRORIST SCREENING CENTER
|  | DEPARTMENT OF HOMELAND SECURITY (DHS) ATTACHE TO CENTRAL AMERICA
|  | DEPUTY ASSISTANT SECRETARY FOR IMMIGRATION STATISTICS
|  | DEPUTY ASSISTANT SECRETARY FOR INTERNATIONAL AFFAIRS (WESTERN HEMISPHERE)
|  | DHS ATTACHÉ TO MEXICO
|  | DEPUTY ASSISTANT SECRETARY FOR COUNTERTERRORISM AND THREAT PREVENTION POLICY
|  | DEPUTY ASSISTANT SECRETARY FOR ECONOMIC SECURITY
| OFFICE OF THE GENERAL COUNSEL | DEPUTY ASSOCIATE GENERAL COUNSEL FOR ACQUISITION AND PROCUREMENT
|  | LEGAL ADVISOR AND ALTERNATE DESIGNATED AGENCY ETHICS OFFICIAL
|  | CHIEF OF STAFF/MANAGING COUNSEL
|  | DEPUTY ASSOCIATE GENERAL COUNSEL FOR GENERAL LAW
| OFFICE OF THE SECRETARY | DEPUTY MILITARY ADVISOR
|  | DEPARTMENT OF HOMELAND SECURITY ADVISOR TO THE DEPARTMENT OF DEFENSE (D0D)
| SCIENCE AND TECHNOLOGY DIRECTORATE | SENIOR ADVISOR TO THE DEPUTY UNDER SECRETARY FOR SCIENCE AND TECHNOLOGY
|  | DIRECTOR, OPERATIONS AND REQUIREMENTS ANALYSIS
|  | DIRECTOR, TECHNOLOGY TRANSITION
|  | PRINCIPAL DIRECTOR, OFFICE OF INNOVATION AND COLLABORATION
|  | PRINCIPAL DIRECTOR, OFFICE OF ENTERPRISE SERVICES
|  | SENIOR ADVISOR, OFFICE OF SCIENCE AND ENGINEERING
|  | DIRECTOR, SYSTEMS ENGINEERING AND STANDARDS
|  | PRINCIPAL DIRECTOR, OFFICE OF SCIENCE AND ENGINEERING
|  | DIRECTOR, TEST AND EVALUATION DIVISION
|  | DIRECTOR, COMMUNITY ENGAGEMENT AND TECHNOLOGY OPPORTUNITIES
|  | DIRECTOR, OFFICE FOR STRATEGY AND POLICY
|  | DIRECTOR, TECHNOLOGY CENTERS
|  | DIRECTOR, FINANCE AND BUDGET DIVISION
|  | DIRECTOR, INDUSTRY ENGAGEMENT AND TECHNOLOGY TRANSITION
| UNITED STATES CITIZENSHIP AND IMMIGRATION SERVICES | CHIEF, ASYLUM DIVISION
|  | DEPUTY ASSOCIATE DIRECTOR, FRAUD DETECTION AND NATIONAL SECURITY
|  | DEPUTY GENERAL COUNSEL FOR HEADQUARTERS MANAGEMENT
|  | ASSOCIATE DIRECTOR, REFUGEE, ASYLUM AND INTERNATIONAL OPERATIONS
|  | DEPUTY ASSOCIATE DIRECTOR, OFFICE OF FIELD OPERATIONS
|  | DEPUTY CHIEF INFORMATION OFFICER FOR DELIVERY
|  | DISTRICT DIRECTOR, FIELD SERVICES, NEW YORK CITY, NEW YORK
|  | DEPUTY ASSOCIATE DIRECTOR, IMMIGRATION RECORDS AND IDENTITY SERVICES DIVISION
|  | CHIEF, INTAKE AND DOCUMENT PRODUCTION
|  | ASSOCIATE DIRECTOR, FRAUD DETECTION AND NATIONAL SECURITY
|  | CHIEF, HUMAN CAPITAL AND TRAINING
|  | CHIEF FINANCIAL OFFICER
|  | DISTRICT DIRECTOR, FIELD SERVICES, MIAMI, FLORIDA
|  | DIRECTOR, SERVICE CENTER, LINCOLN, NEBRASKA
|  | DIRECTOR, SERVICE CENTER, LAGUNA NIGUEL, CALIFORNIA
|  | DIRECTOR, SERVICE CENTER, DALLAS, TEXAS
|  | DIRECTOR, VERMONT SERVICE CENTER, SAINT ALBANS, VERMONT
|  | CENTRAL REGIONAL DIRECTOR (DALLAS, TEXAS)
|  | WESTERN REGIONAL DIRECTOR (LAGUNA NIGUEL, CALIFORNIA)
|  | NORTHEAST REGIONAL DIRECTOR (BURLINGTON, VERMONT)
|  | ASSOCIATE DIRECTOR, OFFICE OF MANAGEMENT
|  | CHIEF, INTERNATIONAL AND REFUGEE AFFAIRS DIVISION
|  | CHIEF, PERFORMANCE AND QUALITY
|  | CHIEF INFORMATION OFFICER
|  | REGIONAL DIRECTOR, SOUTHEAST REGION
|  | CHIEF, OFFICE OF ADMINISTRATION
|  | DIRECTOR, NATIONAL BENEFITS CENTER
|  | DISTRICT DIRECTOR, FIELD SERVICES, LOS ANGELES CALIFORNIA
|  | DISTRICT DIRECTOR, FIELD SERVICES, SAN FRANCISCO CALIFORNIA
|  | DISTRICT DIRECTOR, FIELD SERVICES, TAMPA, FLORIDA
|  | DISTRICT DIRECTOR, FIELD SERVICES, NEWARK, NEW JERSEY
|  | DISTRICT DIRECTOR, FIELD SERVICES, ATLANTA, GEORGIA
|  | DIRECTOR, NATIONAL RECORDS CENTER
|  | DEPUTY DIRECTOR, NATIONAL BENEFITS CENTER
|  | ASSOCIATE DIRECTOR, IMMIGRATION RECORDS AND IDENTITY SERVICES DIVISION
|  | DEPUTY ASSOCIATE DIRECTOR, REFUGEE, ASYLUM, AND INTERNATIONAL OPERATIONS
|  | ASSOCIATE DIRECTOR, SERVICE CENTER OPERATIONS
|  | CHIEF, OFFICE OF SECURITY AND INTEGRITY
|  | DEPUTY DIRECTOR, SERVICE CENTER, SAINT ALBANS, VERMONT
|  | DEPUTY DIRECTOR, SERVICE CENTER, LAGUNA NIGUEL, CALIFORNIA
|  | DEPUTY DIRECTOR, SERVICE CENTER, DALLAS, TEXAS
|  | DEPUTY DIRECTOR, SERVICE CENTER, LINCOLN, NEBRASKA
|  | ASSOCIATE DIRECTOR, FIELD OPERATIONS
|  | CHIEF, VERIFICATION DIVISION
|  | DISTRICT DIRECTOR, FIELD SERVICES, BOSTON, MASSACHUSETTS
|  | DISTRICT DIRECTOR, FIELD SERVICES, CHICAGO, ILLINOIS
|  | DEPUTY ASSOCIATE DIRECTOR, EXTERNAL AFFAIRS DIRECTORATE
|  | DEPUTY ASSOCIATE DIRECTOR, OFFICE OF MANAGEMENT
|  | DISTRICT DIRECTOR, FIELD SERVICES (CLEVELAND, OH)
|  | DISTRICT DIRECTOR, FIELD SERVICES (SAN ANTONIO, TX)
|  | CHIEF, IDENTITY AND INFORMATION MANAGEMENT DIVISION
|  | DISTRICTR DIRECTOR, FIELD OPERATIONS (SEATTLE, WA)
|  | DISTRICT DIRECTOR, FIELD SERVICES (SAN DIEGO, CA)
|  | DISTRICT DIRECTOR, FIELD SERVICES (KANSAS CITY, MO)
|  | CHIEF REGULATORY OFFICER
|  | BUDGET OFFICER
|  | DEPUTY CHIEF, OFFICE OF SECURITY AND INTEGRITY
|  | DISTRICT DIRECTOR, ASYLUM DIVISION (DISTRICT 1)
|  | DISTRICT DIRECTOR, ASYLUM DIVISION (DISTRICT 2)
|  | DISTRICT DIRECTOR, ASYLUM DIVISION (DISTRICT 3)
|  | DISTRICT DIRECTOR, ASYLUM DIVISION (DISTRICT 4)-
|  | DISTRICT DIRECTOR, INTERNATIONAL AND REFUGEE AFFAIRS DIVISION
|  | DEPUTY CHIEF, ASYLUM DIVISION
|  | DEPUTY CHIEF, INTERNATIONAL AND REFUGEE AFFAIRS DIVISION
|  | SENIOR COUNSELOR TO THE DIRECTOR (HUMANITARIAN PROGRAMS)
|  | SENIOR COUNSELOR TO THE DIRECTOR (OPERATIONAL EFFICIENCY)
|  | CHIEF STRATEGY OFFICER/CHIEF EVALUATION OFFICER
|  | SENIOR COUNSELOR TO THE DIRECTOR AT USCIS
|  | CHIEF, OFFICE OF CONTRACTING
|  | DEPUTY CHIEF INFORMATION OFFICE FOR OPERATIONS
|  | DISTRICT DIRECTOR, WASHINGTON, DC
|  | DEPUTY DIRECTOR, POTOMAC SERVICE CENTER
|  | DIRECTOR, POTOMAC SERVICE CENTER
|  | DISTRICT DIRECTOR, FIELD SERVICES, DALLAS, TEXAS
|  | CHIEF DATA OFFICER
|  | DEPUTY CHIEF FINANCIAL OFFICER
|  | DEPUTY ASSOCIATE DIRECTOR, SERVICE CENTER OPERATIONS
|  | DEPUTY CHIEF COUNSEL FOR FIELD MANAGEMENT
| UNITED STATES CUSTOMS AND BORDER PROTECTION | SENIOR ADVISOR
|  | EXECUTIVE DIRECTOR, AUTOMATED COMMERCIAL ENVIRONMENT (ACE) BUSINESS OFFICE
|  | ASSISTANT COMMISSIONER, INTELLIGENCE
|  | CHIEF PATROL AGENT (DETROIT)
|  | CHIEF PATROL AGENT (BIG BEND)
|  | ASSISTANT COMMISSIONER, INTERNATIONAL AFFAIRS
|  | DIRECTOR, NATIONAL TARGETING CENTER (PASSENGER)
|  | DIRECTOR, JOINT TASK FORCE (JTF)—WEST, SAN ANTONIO, TX
|  | EXECUTIVE DIRECTOR, SOFTWARE DEVELOPMENT (BORDER ENFORCEMENT AND MANAGEMENT SYSTEMS)
|  | EXECUTIVE ASSISTANT COMMISSIONER, OPERATIONS SUPPORT
|  | EXECUTIVE DIRECTOR, PRIVACY AND DIVERSITY
|  | DIRECTOR, FIELD OPERATIONS (BALTIMORE)
|  | PORT DIRECTOR, BUFFALO, NY
|  | PORT DIRECTOR, CALEXICO, CA
|  | PORT DIRECTOR, NOGALES, AZ
|  | CHIEF, U.S. BORDER PATROL ACADEMY
|  | DIRECTOR, LEADERSHIP DEVELOPMENT CENTER
|  | DIRECTOR, NATIONAL TARGETING CENTER (CARGO)
|  | DIRECTOR, COUNTER NETWORK
|  | EXECUTIVE DIRECTOR, PROGRAMMING
|  | EXECUTIVE DIRECTOR, INVESTIGATIVE OPERATIONS
|  | ASSOCIATE CHIEF COUNSEL (TUCSON)
|  | EXECUTIVE DIRECTOR, INTELLIGENCE OPERATIONS
|  | EXECUTIVE DIRECTOR, FIELD OPERATIONS ACADEMY
|  | DEPUTY EXECUTIVE DIRECTOR, OPEATIONS
|  | EXECUTIVE DIRECTOR, MISSION SUPPORT
|  | SENIOR POLICY ADVISOR
|  | PORTFOLIO ACQUISITION EXECUTIVE
|  | DEPUTY CHIEF, STRATEGIC PLANNING AND ANALYSIS
|  | DIRECTOR, NATIONAL VETTING CENTER
|  | PORT DIRECTOR, DETROIT
|  | EXECUTIVE DIRECTOR, LAW ENFORCEMENT SAFETY AND COMPLIANCE
|  | EXECUTIVE DIRECTOR, OPERATIONS
|  | EXECUTIVE DIRECTOR, SECURITY OPERATIONS
|  | DEPUTY CHIEF PATROL AGENT (LAREDO)
|  | CHIEF PATROL AGENT, BUFFALO
|  | EXECUTIVE DIRECTOR, ENTERPRISE INFRASTRUCTURE AND OPERATIONS
|  | SENIOR ADVISOR FOR INTELLIGENCE
|  | CHIEF MANAGEMENT AND GOVERNANCE OFFICER
|  | DEPUTY ASSISTANT COMMISSIONER, SOFTWARE APPLICATIONS AND SERVICES
|  | DEPUTY ASSISTANT COMMISSIONER, INFRASTRUCTURE AND SUPPORT SERVICES
|  | EXECUTIVE DIRECTOR, WORKFORCE CARE
|  | CHIEF PATROL AGENT POSITION IN SWANTON, VT
|  | DIRECTOR, STRATEGY AND CAPACITY BUILDING
|  | EXECUTIVE DIRECTOR, SOUTHWEST BORDER INTELLIGENCE COORDINATION CENTER
|  | EXECUTIVE DIRECTOR, INTERGOVERNMENTAL PUBLIC LIAISON
|  | PORT DIRECTOR (OTAY MESA)
|  | CHIEF PATROL AGENT, GRAND FORKS
|  | CHIEF PATROL AGENT, BLAINE
|  | CHIEF PATROL AGENT, MIAMI
|  | EXECUTIVE DIRECTOR, INTELLIGENCE ENTERPRISE
|  | DEPUTY EXECUTIVE ASSISTANT COMMISSIONER, ENTERPRISE SERVICES
|  | EXECUTIVE DIRECTOR, ACQUISITION GOVERNANCE AND OVERSIGHT
|  | DIRECTOR, FIELD OPERATIONS (PRECLEARANCE)
|  | DEPUTY ASSISTANT COMMISSIONER, INTERNATIONAL AFFAIRS
|  | DEPUTY CHIEF PATROL AGENT, TUCSON
|  | DEPUTY CHIEF PATROL AGENT, SAN DIEGO
|  | CHIEF PATROL AGENT, EL CENTRO, CALIFORNIA
|  | DEPUTY ASSISTANT COMMISSIONER, ACQUISITION
|  | PORT DIRECTOR, SAN YSIDRO
|  | DIRECTOR OF OPERATIONS, NORTHERN REGION, WDC, (CBP) AMO
|  | DIRECTOR OF OPERATIONS, SOUTHEASTERN REGION
|  | EXECUTIVE DIRECTOR, OPERATIONS, SOUTHWEST REGION
|  | EXECUTIVE DIRECTOR, PROGRAM MANAGEMENT OFFICE
|  | EXECUTIVE DIRECTOR, TRAINING, SAFETY AND STANDARDS
|  | EXECUTIVE DIRECTOR, TALENT MANAGEMENT
|  | EXECUTIVE DIRECTOR, NATIONAL AIR SECURITY OPERATIONS, AIR AND MARINE
|  | EXECUTIVE DIRECTOR, PASSENGER SYSTEMS PROGRAM OFFICE
|  | EXECUTIVE DIRECTOR, STRATEGIC PLANNING AND ANALYSIS
|  | DEPUTY ASSISTANT COMMISSIONER, INTELLIGENCE
|  | PORT DIRECTOR, LAREDO
|  | EXECUTIVE DIRECTOR, FINANCIAL OPERATIONS
|  | EXECUTIVE DIRECTOR, TRADE REMEDY LAW ENFORCEMENT
|  | EXECUTIVE DIRECTOR, TRADE POLICY AND PROGRAMS
|  | EXECUTIVE ASSISTANT COMMISSIONER, ENTERPRISE SERVICES
|  | EXECUTIVE DIRECTOR OF OPERATIONS, AIR AND MARINE OPERATIONS
|  | DEPUTY ASSISTANT COMMISSIONER, PROFESSIONAL RESPONSIBILITY
|  | DEPUTY CHIEF, LAW ENFORCEMENT OPERATIONS, OFFICE OF BORDER PATROL
|  | EXECUTIVE DIRECTOR, MISSION SUPPORT, AIR AND MARINE
|  | EXECUTIVE DIRECTOR, TARGETING AND ANALYSIS SYSTEMS
|  | DEPUTY EXECUTIVE DIRECTOR, LAW ENFORCEMENT OPERATIONAL PROGRAMS, OFFICE OF BORDER PATROL
|  | EXECUTIVE DIRECTOR, CARGO SYSTEMS
|  | EXECUTIVE DIRECTOR, FIELD SUPPORT
|  | CHIEF PATROL AGENT (DEL RIO)
|  | EXECUTIVE DIRECTOR, ADMISSIBILITY AND PASSENGER PROGRAMS
|  | EXECUTIVE DIRECTOR, MISSION SUPPORT
|  | CHIEF, LAW ENFORCEMENT OPERATIONS, OFFICE OF BORDER PATROL
|  | DIRECTOR, FIELD OPERATIONS (ATLANTA)
|  | EXECUTIVE DIRECTOR, CARGO AND CONVEYANCE SECURITY
|  | EXECUTIVE DIRECTOR, PLANNING, ANALYSIS AND REQUIREMENTS EVALUATION (PARE)
|  | EXECUTIVE ASSISTANT COMMISSIONER, AIR AND MARINE
|  | CHIEF PATROL AGENT, YUMA, ARIZONA
|  | EXECUTIVE DIRECTOR, REGLUATIONS AND RULINGS
|  | ASSISTANT COMMISSIONER, FINANCE, CHIEF FINANCIAL OFFICER
|  | EXECUTIVE DIRECTOR, BUDGET
|  | ASSISTANT COMMISSIONER, INFORMATION AND TECHNOLOGY
|  | EXECUTIVE ASSISTANT COMMISSIONER, TRADE
|  | EXECUTIVE DIRECTOR, REGULATORY AUDIT AND AGENCY ADVISORY SERVICES
|  | ASSISTANT COMMISSIONER, LABORATORIES AND SCIENTIFIC SERVICES
|  | EXECUTIVE ASSISTANT COMMISSIONER, FIELD OPERATIONS
|  | DEPUTY EXECUTIVE ASSISTANT COMMISSIONER, FIELD OPERATIONS
|  | DEPUTY COMMISSIONER
|  | ASSISTANT COMMISSIONER, HUMAN RESOURCES MANAGEMENT
|  | DEPUTY ASSISTANT COMMISSIONER, HUMAN RESOURCES MANAGEMENT
|  | EXECUTIVE DIRECTOR, HUMAN RESOURCES POLICY AND PROGRAMS
|  | ASSISTANT COMMISSIONER, FACILITIES AND ASSET MANAGMENT, CHIEF READINESS SUPPORT OFFICER
|  | ASSISTANT COMMISSIONER, TRAINING AND DEVELOPMENT
|  | EXECUTIVE DIRECTOR, INTELLIGENCE AND ANALYSIS
|  | DEPUTY CHIEF COUNSEL
|  | PORT DIRECTOR, JFK INTERNATIONAL AIRPORT
|  | EXECUTIVE DIRECTOR, PLANNING, PROGRAM ANALYSIS AND EVALUATION
|  | DEPUTY CHIEF PATROL AGENT, EL PASO
|  | ASSISTANT COMMISSIONER, ACQUISITION, CHIEF ACQUISITION OFFICER
|  | DEPUTY CHIEF PATROL AGENT, RIO GRANDE VALLEY
|  | CHIEF PATROL AGENT, RIO GRANDE VALLEY
|  | DEPUTY ASSISTANT COMMISSIONER, FACILITIES AND ASSET MANAGEMENT
|  | CHIEF PATROL AGENT (TUCSON)
|  | PORT DIRECTOR, LOS ANGELES/LONG BEACH SEAPORT
|  | PORT DIRECTOR (EL PASO)
|  | EXECUTIVE DIRECTOR, PROCUREMENT
|  | DEPUTY EXECUTIVE ASSISTANT COMMISSIONER, OPERATIONS SUPPORT
|  | EXECUTIVE DIRECTOR, MISSION SUPPORT
|  | EXECUTIVE DIRECTOR, AGRICULTURE PROGRAMS AND TRADE LIAISON
|  | PORT DIRECTOR, LOS ANGELES INTERNATIONAL AIRPORT
|  | EXECUTIVE DIRECTOR, PLANNING, PROGRAM ANALYSIS, AND EVALUATION
|  | DIRECTOR, FIELD OPERATIONS (SAN JUAN)
|  | EXECUTIVE DIRECTOR, CYBERSECURITY OPERATIONS AND POLICY
|  | DEPUTY ASSISTANT COMMISSIONER, FINANCE
|  | CHIEF (EXECUTIVE ASSISTANT COMMISSIONER), UNITED STATES BORDER PATROL
|  | CHIEF PATROL AGENT, LAREDO
|  | DIRECTOR, FIELD OPERATIONS—SAN FRANCISCO
|  | CHIEF PATROL AGENT—EL PASO
|  | CHIEF PATROL AGENT—SAN DIEGO
|  | ASSOCIATE CHIEF COUNSEL FOR ETHICS, LABOR, AND EMPLOYMENT
|  | ASSOCIATE CHIEF COUNSEL - SOUTHEAST
|  | ASSOCIATE CHIEF COUNSEL—NEW YORK
|  | ASSOCIATE CHIEF COUNSEL - CHICAGO
|  | ASSOCIATE CHIEF COUNSEL - HOUSTON
|  | ASSOCIATE CHIEF COUNSEL—LOS ANGELES
|  | DIRECTOR, FIELD OPERATIONS - CHICAGO
|  | DIRECTOR, FIELD OPERATIONS - LOS ANGELES
|  | DIRECTOR, FIELD OPERATIONS - HOUSTON
|  | DIRECTOR, FIELD OPERATIONS - LAREDO
|  | DIRECTOR, FIELD OPERATIONS - SAN DIEGO
|  | DEPUTY EXECUTIVE ASSISTANT COMMISSIONER, AIR AND MARINE
|  | DEPUTY EXECUTIVE DIRECTOR, PROGRAM MANAGEMENT
|  | DIRECTOR, FIELD OPERATIONS—EL PASO
|  | ASSOCIATE CHIEF COUNSEL - ENFORCEMENT
|  | ASSOCIATE CHIEF COUNSEL - TRADE AND FINANCE
|  | DEPUTY ASSISTANT COMMISSIONER, OFFICE OF TRAINING AND DEVELOPMENT
|  | DEPUTY CHIEF (DEPUTY EXECUTIVE ASSISTANT COMMISSIONER), BORDER PATROL
|  | EXECUTIVE DIRECTOR, OPERATIONS
|  | DIRECTOR, FIELD OPERATIONS (SEATTLE)
|  | DIRECTOR, FIELD OPERATIONS (DETROIT)
|  | DIRECTOR, FIELD OPERATIONS (BUFFALO)
|  | CHIEF ACCOUNTABILITY OFFICER
|  | PORT DIRECTOR, NEWARK
|  | PORT DIRECTOR, MIAMI INTERNATIONAL AIRPORT
|  | DIRECTOR, FIELD OPERATIONS (MIAMI)
|  | DIRECTOR, FIELD OPERATIONS (NEW YORK)
|  | DEPUTY EXECUTIVE ASSISTANT COMMISSIONER, TRADE
|  | ASSISTANT COMMISSIONER, PROFESSIONAL RESPONSIBILITY
|  | PORT DIRECTOR, SAN FRANCISCO
|  | EXECUTIVE DIRECTOR, NATIONAL TARGETING CENTER
|  | DIRECTOR, FIELD OPERATIONS (TUCSON)
|  | DIRECTOR, FIELD OPERATIONS (BOSTON)
| UNITED STATES IMMIGRATION AND CUSTOMS ENFORCEMENT | SPECIAL AGENT IN CHARGE, MIAMI
|  | ASSISTANT DIRECTOR, NATIONAL SECURITY
|  | SPECIAL AGENT IN CHARGE, NEW YORK
|  | DEPUTY EXECUTIVE ASSOCIATE DIRECTOR, HOMELAND SECURITY INVESTIGATIONS
|  | ASSOCIATE DIRECTOR, OPERATIONS
|  | SPECIAL AGENT IN CHARGE, CHICAGO
|  | SPECIAL AGENT IN CHARGE, HOUSTON
|  | SPECIAL AGENT IN CHARGE, LOS ANGELES
|  | SPECIAL AGENT IN CHARGE, NEW ORLEANS
|  | SPECIAL AGENT IN CHARGE, SAN ANTONIO
|  | SPECIAL AGENT IN CHARGE, SAN DIEGO
|  | SPECIAL AGENT IN CHARGE, DALLAS
|  | SPECIAL AGENT IN CHARGE, SAN FRANCISCO
|  | FIELD OFFICE DIRECTOR, OFFICE OF ENFORCEMENT AND REMOVAL, SAN FRANCISCO, CA
|  | ASSISTANT DIRECTOR, INTELLIGENCE, HOMELAND SECURITY INVESTIGATIONS
|  | DEPUTY PRINCIPAL LEGAL ADVISOR FOR ENFORCEMENT AND LITIGATION
|  | EXECUTIVE ASSOCIATE DIRECTOR, ENFORCEMENT AND REMOVAL OPERATIONS
|  | SPECIAL AGENT IN CHARGE, SEATTLE
|  | DEPUTY ASSISTANT DIRECTOR, FINANCIAL AND FRAUD
|  | ASSISTANT DIRECTOR, INTERNATIONAL OPERATIONS
|  | ASSISTANT DIRECTOR, ADMINISTRATIVE OPERATIONS
|  | DEPUTY ASSISTANT DIRECTOR, ADMINISTRATIVE OPETATIONS
|  | SPECIAL AGENT IN CHARGE, BALTIMORE
|  | FIELD OFFICE DIRECTOR, OFFICE OF ENFORCEMENT AND REMOVAL OPERATIONS, PHILADELPHIA, PENNSYLVANIA
|  | SPECIAL AGENT IN CHARGE (SAC), NASHVILLE, TN
|  | FIELD OFFICE DIRECTOR, OFFICE OF ENFORCEMENT AND REMOVAL, DALLAS, TEXAS
|  | EXECUTIVE ASSOCIATE DIRECTOR, HOMELAND SECURITY INVESTIGATIONS
|  | DEPUTY EXECUTIVE ASSOCIATE DIRECTOR, MANAGEMENT AND ADMINISTRATION
|  | EXECUTIVE DEPUTY PRINCIPAL LEGAL ADVISOR
|  | DEPUTY ASSISTANT SECRETARY FOR IMMIGRATION AND CUSTOMS ENFORCEMENT
|  | CHIEF HUMAN CAPITAL OFFICER
|  | DEPUTY CHIEF HUMAN CAPITAL OFFICER FOR STRATEGY AND SERVICES
|  | SPECIAL AGENT IN CHARGE, LAS VEGAS, NV
|  | ASSISTANT DIRECTOR, DIVERSITY AND CIVIL RIGHTS
|  | CHIEF INFORMATION OFFICER
|  | BUDGET DIRECTOR
|  | DEPUTY ASSISTANT DIRECTOR, INVESTIGATIVE SERVICES
|  | SPECIAL AGENT IN CHARGE, EL PASO
|  | SPECIAL AGENT IN CHARGE, PHOENIX
|  | FIELD OFFICE DIRECTOR, OFFICE OF ENFORCEMENT AND REMOVAL, ST. PAUL, MN
|  | DEPUTY ASSISTANT DIRECTOR, FIELD OPERATIONS (INTERNATIONAL), ERO
|  | FIELD OFFICE DIRECTOR, OFFICE OF ENFORCEMENT AND REMOVAL, SEATTLE, ERO
|  | DEPUTY ASSISTANT DIRECTOR, INTERNATIONAL OPERATIONS
|  | SPECIAL AGENT IN CHARGE, WASHINGTON, DC
|  | SPECIAL AGENT IN CHARGE, ATLANTA
|  | ASSISTANT DIRECTOR, REMOVALS DIVISION, OFFICE OF ENFORCEMENT AND REMOVAL OPERATIONS
|  | COMPTROLLER
|  | EXECUTIVE ASSOCIATE DIRECTOR, MANAGEMENT AND ADMINISTRATION
|  | ASSISTANT DIRECTOR, ENFORCEMENT DIVISION, OFFICE OF ENFORCEMENT AND REMOVAL OPERATIONS
|  | HEAD OF CONTRACTING ACTIVITY
|  | CHIEF FINANCIAL OFFICER
|  | ASSISTANT DIRECTOR, ENFORCEMENT AND REMOVAL OPERATIONS, FIELD OPERATIONS
|  | ASSISTANT DIRECTOR, INFORMATION GOVERNANCE AND PRIVACY
|  | DEPUTY CHIEF FINANCIAL OFFICER
|  | DEPUTY ASSOCIATE DIRECTOR, OPERATIONS
|  | ASSISTANT DIRECTOR, OPR INVESTIGATIONS
|  | ASSISTANT DIRECTOR, CUSTODY MANAGEMENT DIVISION, OFFICE OF ENFORCEMENT AND REMOVAL OPERATIONS
|  | ASSISTANT DIRECTOR, UNITED STATES IMMIGRATION AND CUSTOMS ENFORCEMENT SERVICES HEALTH CORPORATIONS
|  | ASSISTANT DIRECTOR, OPERATIONS SUPPORT, OFFICE OF ENFORCEMENT AND REMOVAL OPERATIONS
|  | FIELD OFFICE DIRECTOR, OFFICE OF ENFORCEMENT AND REMOVAL OPERATIONS, SAN DIEGO, CALIFORNIA
|  | FIELD OFFICE DIRECTOR, OFFICE OF ENFORCEMENT AND REMOVAL OPERATIONS, SAN ANTONIO, TEXAS
|  | ASSISTANT DIRECTOR, OFFICE OF LEADERSHIP AND CAREER DEVELOPMENT
|  | DEPUTY EXECUTIVE ASSOCIATE DIRECTOR, ENFORCEMENT AND REMOVAL OPERATIONS
|  | DEPUTY ASSISTANT DIRECTOR, CYBER
|  | CHIEF COUNSEL, NEW YORK
|  | DEPUTY PRINCIPAL LEGAL ADVISOR FOR FIELD LEGAL OPERATIONS
|  | DEPUTY PRINCIPAL LEGAL ADVISOR FOR GENERAL AND ADMINISTRATIVE LAW
|  | DEPUTY ASSISTANT DIRECTOR, FIELD OPERATIONS (DOMESTIC OPERATIONS—WEST), OFFICE OF ENFORCEMENT AND REMOVAL OPERATIONS
|  | ASSISTANT DIRECTOR, OFFICE OF INVESTIGATIONS (DOMESTIC OPERATIONS)
|  | DEPUTY ASSISTANT DIRECTOR, TARGETING OPERATIONS DIVISION, ENFORCEMENT AND REMOVAL OPERATIONS
|  | DEPUTY CHIEF HUMAN CAPITAL OFFICER FOR OPERATIONS
|  | SPECIAL AGENT IN CHARGE, DETROIT
|  | DEPUTY CHIEF INFORMATION OFFICER
|  | ASSISTANT DIRECTOR, CYBER AND OPERATIONAL TECHNOLOGY
|  | FIELD OFFICE DIRECTOR, OFFICE OF ENFORCEMENT AND REMOVAL, EL PASO, TEXAS
|  | FIELD OFFICE DIRECTOR, OFFICE OF ENFORCEMENT AND REMOVAL, ALTANTA, GEORGIA
|  | FIELD OFFICE DIRECTOR, OFFICE OF ENFORCEMENT AND REMOVAL, CHICAGO, ILLINOIS
|  | FIELD OFFICE DIRECTOR, OFFICE OF ENFORCEMENT AND REMOVAL, HOUSTON, TEXAS
|  | ASSISTANT DIRECTOR, GLOBAL TRADE
|  | SPECIAL AGENT IN CHARGE, DENVER
|  | ASSISTANT DIRECTOR, SECURITY DIVISION
|  | DEPUTY ASSISTANT DIRECTOR, FIELD OPERATIONS (DOMESTIC OPERATIONS—EAST)
|  | DEPUTY ASSISTANT DIRECTOR NATIONAL SECURITY PROGRAMS
|  | DEPUTY ASSISTANT DIRECTOR, INTELLIGENCE, HOMELAND SECURITY INVESTIGATIONS
|  | DEPUTY ASSISTANT DIRECTOR, PUBLIC SAFETY AND BORDER SECURITY
|  | ASSISTANT DIRECTOR, OFFICE OF FIREARMS AND TACTICAL PROGRAMS
|  | DEPUTY ASSISTANT DIRECTOR, CUSTODY PROGRAMS, POLICY AND OUTREACH
|  | SENIOR ADVISOR, GLOBAL TRADE
|  | SENIOR BUDGET ADVISOR
|  | DEPUTY ASSISTANT DIRECTOR, DOMESTIC OPERATIONS
|  | DEPUTY ASSISTANT DIRECTOR, OPERATIONAL TECHNOLOGY DIVISION
|  | DEPUTY ASSISTANT DIRECTOR, REGULATORY AFFAIRS, OFFICE OF REGULATORY AFFAIRS AND POLICY
|  | DEPUTY ASSISTANT DIRECTOR, POLICY, OFFICE OF REGULATORY AFFAIRS AND POLICY
|  | ASSISTANT DIRECTOR, NON- DETAINED MANAGEMENT DIVISION
|  | CHIEF INFORMATION SECURITY OFFICER
|  | FIELD OFFICE DIRECTOR, WASHINGTON, DC
|  | DEPUTY ASSISTANT DIRECTOR, JOINT TASK FORCE-EAST
|  | SPECIAL AGENT IN CHARGE (KANSAS CITY)
|  | CHIEF COUNSEL, NEW ORLEANS
|  | DEPUTY ASST. DIRECTOR, OVERSIGHT, COMPLIANCE AND ACQUISITION DIVISION
|  | ASSOCIATE DEPUTY PRINCIPAL LEGAL ADVISOR
|  | FIELD OFFICE DIRECTOR, ENFORCEMENT AND REMOVAL OPERATIONS, HARLINGEN, TX
|  | SPECIAL AGENT IN CHARGE, HSI, CHARLOTTE, NC
|  | ASSISTANT DIRECTOR, CENTER FOR COUNTERING HUMAN TRAFFICKING
|  | DEPUTY HEAD OF CONTRACTING ACTIVITY
|  | ASSISTANT DIRECTOR, LAW ENFORCEMENT SYSTEMS AND ANALYSIS (LESA), ERO
|  | FIELD OFFICE DIRECTOR, OFFICE OF ENFORCEMENT AND REMOVAL, DENVER, CO
|  | FIELD OFFICE DIRECTOR, OFFICE OF ENFORCEMENT AND REMOVAL, BUFFALO, NY
|  | FIELD OFFICE DIRECTOR, OFFICE OF ENFORCEMENT AND REMOVAL, BOSTON, MA
|  | CHIEF COUNSEL, CHICAGO
|  | CHIEF COUNSEL, SAN ANTONIO
|  | CHIEF COUNSEL, PHOENIX
|  | CHIEF, FACILITIES AND ASSET ADMINISTRATION
|  | ASSISTANT DIRECTOR OFFICE OF INVESTMENT AND PROGRAM ACCOUNTABILITY
|  | SPECIAL AGENT IN CHARGE, HONOLULU, HI
|  | DEPUTY ASSISTANT DIRECTOR, COUNTER-PROLIFERATION
|  | SPECIAL AGENT IN CHARGE, SAN JUAN, PUERTO RICO
|  | FIELD OFFICE DIRECTOR, OFFICE OF ENFORCEMENT AND REMOVAL OPERATIONS, PHOENIX, ARIZONA
|  | FIELD OFFICE DIRECTOR, OERO, LOS ANGELES, CALIFORNIA
|  | FIELD OFFICE DIRECTOR, OFFICE OF ERO, NEW YORK
|  | SPECIAL AGENT IN CHARGE, SAINT PAUL, MINNESOTA
|  | SPECIAL AGENT IN CHARGE, TAMPA, FLORIDA
|  | SPECIAL AGENT IN CHARGE, NEWARK, NEW JERSEY
|  | SPECIAL AGENT IN CHARGE, BOSTON, MASSACHUSETTS
|  | SPECIAL AGENT IN CHARGE, PHILADELPHIA, PENNSYLVANIA
|  | SPECIAL AGENT IN CHARGE, BUFFALO, NEW YORK
|  | DEPUTY ASSISTANT DIRECTOR, DOMESTIC OPERATIONS
|  | FIELD OFFICE DIRECTOR, OFFICE OF ENFORCEMENT AND REMOVAL, NEW ORLEANS, LOUISIANA
|  | DEPUTY ASSISTANT DIRECTOR, STUDENT AND EXCHANGE VISITOR PROGRAM
|  | FIELD OFFICE DIRECTOR, OFFICE OF ENFORCEMENT AND REMOVAL OPERATIONS, MIAMI, FLORIDA
|  | ASSISTANT DIRECTOR, COUNTERING—TRANSNATIONAL ORGANIZED CRIME
|  | CHIEF COUNSEL, MIAMI
|  | CHIEF COUNSEL FOR LOS ANGELES
|  | ASSISTANT DIRECTOR, INSPECTIONS AND DETENTION OVERSIGHT DIVISION
| UNITED STATES COAST GUARD | DIRECTOR, INCIDENT MANAGEMENT AND PREPAREDNESS POLICY
|  | DEPUTY ASSISTANT COMMANDANT FOR CAPABILITY
|  | DIRECTOR OF FINANCIAL OPERATIONS/COMPTROLLER
|  | ASSISTANT COMMANDANT FOR RESOURCES AND CHIEF FINANCIAL OFFICER
|  | DEPUTY COMMANDANT FOR MISSION SUPPORT—MATERIEL READINESS
|  | DEPUTY ASSISTANT COMMANDANT FOR HUMAN RESOURCES/SENIOR ADVISOR FOR DIVERSITY AND INCLUSION
|  | DIRECTOR, ASSISTANT COMMANDANT FOR HUMAN RESOURCES
|  | DEPUTY DIRECTOR OF ACQUISITION PROGRAMS
|  | DEPUTY ASSISTANT COMMANDANT FOR HUMAN RESOURCES
|  | DIRECTOR, NATIONAL POLLUTION FUNDS CENTER
|  | HEAD OF CONTRACTING ACTIVITY
|  | DEPUTY ASSISTANT COMMANDANT FOR ACQUISITION/DIRECTOR OF ACQUISITION SERVICES
|  | DIRECTOR, MARINE TRANSPORTATION SYSTEM MANAGEMENT
|  | DIRECTOR, COAST GUARD INVESTIGATIVE SERVICE
|  | ASSISTANT JUDGE ADVOCATE GENERAL FOR ACQUISITION AND LITIGATION
|  | DEPUTY ASSISTANT COMMANDANT FOR INTELLIGENCE
|  | DEPUTY ASSISTANT COMMANDANT FOR COMMAND, CONTROL, COMMUNICATIONS, COMPUTERS AND INFORMATION TECHNOLOGY/DEPUTY CHIEF INFORMATION OFFICER
|  | DEPUTY ASSISTANT COMMANDANT FOR RESOURCES AND DEPUTY CHIEF FINANCIAL OFFICER
| UNITED STATES SECRET SERVICE | DEPUTY DIRECTOR, UNITED STATES SECRET SERVICE
|  | ASSISTANT DIRECTOR, OFFICE OF INVESTIGATIONS
|  | ASSISTANT DIRECTOR, PROTECTIVE OPERATIONS
|  | ASSISTANT DIRECTOR, TECHNICAL DEVELOPMENT AND MISSION SUPPORT
|  | CHIEF COUNSEL
|  | SPECIAL AGENT IN CHARGE—SAN FRANCISCO FIELD OFFICE
|  | SPECIAL AGENT IN CHARGE - DALLAS FIELD OFFICE
|  | CHIEF SECUIRTY OFFICER
|  | SPECIAL AGENT IN CHARGE (DIGNITARY PROTECTIVE DIVISION)
|  | DEPUTY CHIEF STRATEGY OFFICER, STRATEGIC PLANNING AND POLICY
|  | DEPUTY SPECIAL AGENT IN CHARGE—PRESIDENTIAL PROTECTIVE DIVISION
|  | CHIEF STRATEGY OFFICER, STRATEGIC PLANNING AND POLICY
|  | DEPUTY ASSISTANT DIRECTOR, OFFICE OF INVESTIGATIONS
|  | SPECIAL AGENT IN CHARGE—VICE PRESIDENTIAL PROTECTIVE DIVISION
|  | SPECIAL AGENT IN CHARGE - TECHNICAL SECURITY DIVISION
|  | SPECIAL AGENT IN CHARGE - PHILADELPHIA FIELD OFFICE
|  | ASSISTANT DIRECTOR, PROFESSIONAL RESPONSIBILTY
|  | DEPUTY ASSISTANT DIRECTOR, OFFICE OF PROTECTIVE OPERATIONS
|  | SPECIAL AGENT IN CHARGE—PRESIDENTIAL PROTECTIVE DIVISION
|  | SPECIAL AGENT IN CHARGE—NEW YORK
|  | CHIEF HUMAN CAPITAL OFFICER
|  | CHIEF, NATIONAL THREAT ASSESSMENT CENTER
|  | CHIEF INFORMATION OFFICER
|  | DEPUTY SPECIAL AGENT IN CHARGE—VICE PRESIDENTIAL PROTECTIVE DIVISION
|  | SPECIAL AGENT IN CHARGE - ATLANTA FIELD OFFICE
|  | SPECIAL AGENT IN CHARGE - HONOLULU FIELD OFFICE
|  | SPECIAL AGENT IN CHARGE - HOUSTON FIELD OFFICE
|  | DEPUTY ASSISTANT DIRECTOR, TRAINING
|  | DEPUTY ASSISTANT DIRECTOR, TECHNICAL DEVELOPMENT AND MISSION SUPPORT
|  | DEPUTY SPECIAL AGENT IN CHARGE (PRESIDENTIAL PROTECTIVE DIVISION)
|  | DEPUTY ASSISTANT DIRECTOR, OFFICE OF INVESTIGATIONS
|  | DEPUTY CHIEF, PROFESSIONAL RESPONSIBILITY
|  | SPECIAL AGENT IN CHARGE - WASHINGTON FIELD OFFICE
|  | DEPUTY CHIEF FINANCIAL OFFICER
|  | SPECIAL AGENT IN CHARGE—LOS ANGELES FIELD OFFICE
|  | DEPUTY ASSISTANT DIRECTOR - OFFICE OF INVESTIGATIONS
|  | SPECIAL AGENT IN CHARGE, CHICAGO FIELD OFFICE
|  | CHIEF FINANCIAL OFFICER
|  | DEPUTY ASSISTANT DIRECTOR, PROTECTIVE OPERATIONS
|  | DEPUTY ASSISTANT DIRECTOR, OFFICE OF INVESTIGATIONS
|  | DEPUTY ASSISTANT DIRECTOR, INTEGRITY
|  | DIRECTOR, UNITED STATES SECRET SERVICE
|  | SPECIAL AGENT IN CHARGE, SPECIAL OPERATIONS DIVISION
|  | DEPUTY ASSISTANT DIRECTOR, INTERGOVERNMENTAL AND LEGISLATIVE AFFAIRS
|  | SPECIAL AGENT IN CHARGE—CRIMINAL INVESTIGATIVE DIVISION
|  | SPECIAL AGENT IN CHARGE (ROWLEY TRAINING CENTER)
|  | SPECIAL AGENT IN CHARGE - ROME
|  | CHIEF, EQUITY AND EMPLOYEE SUPPORT SERVICES
|  | SPECIAL AGENT IN CHARGE, PROTECTIVE INTELLIGENCE AND ASSESSMENT DIVISION
|  | ASSISTANT DIRECTOR, INTERGOVERNMENTAL AND LEGISLATIVE AFFAIRS
|  | COMPONENT ACQUISITION EXECUTIVE
|  | CHIEF OF STAFF
|  | DEPUTY ASSISTANT DIRECTOR, ENTERPRISE READINESS
|  | DEPUTY CHIEF HUMAN CAPITAL OFFICER (BUSINESS SOLUTIONS)
|  | DEPUTY CHIEF INFORMATION OFFICER
|  | DEPUTY ASSISTANT DIRECTOR, OFFICE OF PROTECTIVE OPERATIONS
|  | CHIEF OF COMMUNICATIONS
|  | ASSISTANT DIRECTOR, OFFICE OF TRAINING
|  | CHIEF OPERATING OFFICER
|  | DEPUTY CHIEF, PROTECTIVE OPERATIONS
|  | DEPUTY CHIEF COUNSEL/PRINCIPAL ETHICS OFFICIAL
|  | SPECIAL AGENT IN CHARGE, PARIS FIELD OFFICE
|  | SPECIAL AGENT IN CHARGE - MIAMI FIELD OFFICE
|  | DEPUTY ASSISTANT DIRECTOR, HUMAN RESOURCES
|  | DEPUTY ASSISTANT DIRECTOR, STRATEGIC INTELLIGENCE AND INFORMATION
|  | ASSISTANT DIRECTOR, OFFICE OF STRATEGIC INTELLIGENCE AND INFORMATION
|  | DEPUTY ASSISTANT DIRECTOR, ENTERPRISE
MANAGEMENT DIRECTORATE | MANAGEMENT DIRECTORATE | ASSISTANT DIRECTOR, OPERATIONAL PROGRAMS AND POLICIES
|  | DEPUTY DIRECTOR OF OPERATIONS
|  | ASSISTANT DIRECTOR, HUMAN CAPITAL OPERATIONS
|  | DEPUTY CHIEF HUMAN CAPITAL OFFICER, POLICIES, PROGRAMS AND OVERSIGHT
OFFICE OF THE SECRETARY | COUNTERING WEAPONS OF MASS DESTRUCTION OFFICE | DEPUTY ASSISTANT SECRETARY FOR STRATEGY, PLANS AND POLICY
|  | CHIEF OF STAFF
|  | ASSISTANT DIRECTOR, OPERATIONS SUPPORT DIRECTORATE
|  | CHIEF FINANCIAL MANAGER
| OFFICE FOR CIVIL RIGHTS AND CIVIL LIBERTIES | DEPUTY CIVIL RIGHTS AND CIVIL LIBERTIES OFFICER, PROGRAMS AND COMPLIANCE
|  | DIRECTOR CIVIL RIGHTS AND CIVIL LIBERTIES PROGRAMS BRANCH
|  | DEPUTY CIVIL RIGHTS AND CIVIL LIBERTIES OFFICER, EQUAL EMPLOYMENT OPPORTUNITY AND DIVERSITY DIRECTOR
|  | DIRECTOR, COMPLIANCE BRANCH
| OFFICE OF HEALTH SECURITY | DIRECTOR, WORKFORCE HEALTH AND MEDICAL SUPPORT/DEPUTY CHIEF MEDICAL OFFICER
|  | DEPUTY DIRECTOR AND DEPUTY CHIEF MEDICAL OFFICER, OFFICE OF HEALTH SECURITY
| OFFICE OF PARTNERSHIP AND ENGAGEMENT | EXECUTIVE DIRECTOR, SOCIAL IMPACT
| OFFICE OF THE SECRETARY | DEPUTY EXECUTIVE SECRETARY
DEPARTMENT OF HOMELAND SECURITY OFFICE OF THE INSPECTOR GENERAL
| DEPARTMENT OF HOMELAND SECURITY OFFICE OF INSPECTOR GENERAL | DEPUTY INSPECTOR GENERAL FOR MANAGEMENT
|  | DEPUTY INSPECTOR GENERAL FOR AUDITS
|  | COUNSEL TO THE INSPECTOR GENERAL
|  | DEPUTY INSPECTOR GENERAL FOR INVESTIGATIONS
|  | ASSISTANT INSPECTOR GENERAL FOR INFORMATION TECHNOLOGY AUDITS
|  | DEPUTY INSPECTOR GENERAL FOR INSPECTIONS AND EVALUATIONS
|  | DEPUTY COUNSEL
|  | ASSISTANT INSPECTOR GENERAL FOR AUDITS (DISASTER AND INFRASTRUCTURE)
|  | ASSISTANT INSPECTOR GENERAL FOR AUDITS (FACETS)
|  | PRINCIPAL DEPUTY INSPECTOR GENERAL
|  | ASSISTANT INSPECTOR GENERAL FOR INSPECTIONS AND EVALUATIONS
|  | ASSISTANT INSPECTOR GENERAL FOR AUDITS (LAW ENFORCEMENT AND TERRORISM)
|  | ASSISTANT INSPECTOR GENERAL FOR INVESTIGATIONS (FIELD)
|  | ASSISTANT INSPECTOR GENERAL FOR INTEGRITY
|  | ASSISTANT INSPECTOR GENERAL FOR INNOVATION
|  | DEPUTY INSPECTOR GENERAL FOR INNOVATION
|  | CHIEF OF STAFF
|  | DEPUTY INSPECTOR GENERAL FOR INTEGRITY
|  | ASSISTANT INSPECTOR GENERAL FOR MANAGEMENT
|  | ASSISTANT INSPECTOR GENERAL FOR INVESTIGATIONS (HEADQUARTERS)
|  | DEPUTY INSPECTOR GENERAL FOR THE IMMEDIATE OFFICE
|  | DEPUTY INSPECTOR GENERAL FOR EXTERNAL AFFAIRS
DEPARTMENT OF HOUSING AND URBAN
OFFICE OF THE SECRETARY | GOVERNMENT NATIONAL MORTGAGE ASSOCIATION | SENIOR VICE PRESIDENT OF THE OFFICE OF SECURITIES OPERATIONS
|  | SENIOR VICE PRESIDENT AND CHIEF FINANCIAL OFFICER
|  | SENIOR VICE PRESIDENT, OFFICE OF ENTERPRISE DATA AND TECHNOLOGY SOLUTIONS
|  | SENIOR VICE PRESIDENT OFFICE OF CAPITAL MARKETS
|  | SENIOR VICE PRESIDENT AND CHIEF RISK OFFICER
|  | SENIOR VICE PRESIDENT FOR MORTGAGE-BACKED SECURITIES
| OFFICE OF COMMUNITY PLANNING AND DEVELOPMENT | GENERAL DEPUTY ASSISTANT SECRETARY FOR COMMUNITY PLANNING AND DEVELOPMENT
|  | DEPUTY ASSISTANT SECRETARY FOR SPECIAL NEEDS PROGRAMS
|  | DEPUTY ASSISTANT SECRETARY FOR OPERATIONS
|  | DIRECTOR OF STRATEGIC PLANNING AND MANAGEMENT OF HUMAN CAPITAL
| OFFICE OF CONGRESSIONAL AND INTERGOVERNMENTAL RELATIONS | GENERAL DEPUTY ASSISTANT SECRETARY FOR CONGRESSIONAL AND INTERGOVERNMENTAL RELATIONS
| OFFICE OF DEPARTMENTAL EQUAL EMPLOYMENT OPPORTUNITY | DIRECTOR, OFFICE OF DEPARTMENTAL EQUAL EMPLOYMENT OPPORTUNITY
| OFFICE OF FAIR HOUSING AND EQUAL OPPORTUNITY | ASSOCIATE DEPUTY ASSISTANT SECRETARY FOR OPERATIONS AND MANAGEMENT
|  | ASSOCIATE DEPUTY ASSISTANT SECRETARY FOR ENFORCEMENT COMPLIANCE
|  | EXECUTIVE DIRECTOR FOR FIELD OPERATIONS
| OFFICE OF FIELD POLICY AND MANAGEMENT | DIRECTOR
| OFFICE OF HOUSING | DIRECTOR, PROGRAM SYSTEMS MANAGEMENT OFFICE
|  | DEPUTY ASSISTANT SECRETARY FOR FINANCE AND BUDGET
|  | DEPUTY ASSISTANT SECRETARY FOR OPERATIONS
|  | DEPUTY ASSISTANT SECRETARY FOR HEALTHCARE PROGRAMS
|  | DEPUTY ASSISTANT SECRETARY FOR MULITFAMILY HOUSING
|  | HOUSING FEDERAL HOUSING ADMINISTRATION-COMPTROLLER
|  | FEDERAL HOUSING ADMINISTRATION COMPTROLLER
|  | ASSOCIATE DEPUTY ASSISTANT SECRETARY FOR FINANCE AND BUDGET
| OFFICE OF POLICY DEVELOPMENT AND RESEARCH | DEPUTY ASSISTANT SECRETARY FOR POLICY DEVELOPMENT AND RESEARCH
| OFFICE OF PUBLIC AFFAIRS | GENERAL DEPUTY ASSISTANT SECRETARY FOR PUBLIC AFFAIRS
| OFFICE OF PUBLIC AND INDIAN HOUSING | ASSOCIATE DEPUTY ASSISTANT SECRETARY FOR THE REAL ESTATE ASSESSMENT CENTER
|  | DEPUTY ASSISTANT SECRETARY FOR POLICY PROGRAM AND LEGISLATIVE INITIATIVES
|  | DEPUTY ASSISTANT SECERTARY FOR NATIVE AMERICAN PROGRAMS
|  | EXECUTIVE DIRECTOR FOR STRATEGIC INITIATIVES
|  | DEPUTY ASSISTANT SECRETARY FOR THE REAL ESTATE ASSESSMENT CENTER
|  | DIRECTOR FOR BUDGET AND FINANCIAL MANAGEMENT
|  | DEPUTY ASSISTANT SECRETARY FOR PUBLIC HOUSING INVESTMENTS
| OFFICE OF THE ADMINISTRATION | CHIEF DISASTER AND NATIONAL SECURITY OFFICER
|  | CHIEF FOIA AND PRIVACY OFFICER
| OFFICE OF THE CHIEF FINANCIAL OFFICER | DEPUTY CHIEF FINANCIAL OFFICER
|  | CHIEF RISK OFFICER
|  | DIRECTOR, PERFORMANCE MANAGEMENT AND CUSTOMER EXPERIENCE
|  | ASSISTANT CHIEF FINANCIAL OFFICER FOR BUDGET
|  | ASSISTANT CHIEF FINANCIAL OFFICER FOR SYSTEMS
|  | ASSISTANT CHIEF FINANCIAL OFFICER FOR ACCOUNTING
|  | ASSISTANT CHIEF FINANCIAL OFFICER FOR FINANCIAL MANAGEMENT
| OFFICE OF THE CHIEF HUMAN CAPITAL OFFICER | DIRECTOR, HUMAN CAPITAL SERVICES
|  | CHIEF LEARNING OFFICER
|  | CHIEF HUMAN CAPITAL OFFICER
| OFFICE OF THE CHIEF INFORMATION OFFICER | CHIEF INFORMATION SECURITY OFFICER
|  | DEPUTY CHIEF INFORMATION OFFICER FOR INFRASTRUCTURE AND OPERATIONS
|  | PRINCIPAL DEPUTY CHIEF INFORMATION OFFICER
|  | CHIEF INFORMATION SECURITY OFFICER
|  | CHIEF DIGITAL SERVICES OFFICER
|  | CHIEF TECHNOLOGY OFFICER
|  | DEPUTY CHIEF INFORMATION SECURITY OFFICER
|  | CHIEF INFORMATION OFFICER
|  | PRINCIPAL DEPUTY CHIEF INFORMATION OFFICER
|  | DEPUTY CHIEF INFORMATION OFFICER FOR BUSINESS AND INFORMATION TECHNOLOGY RESOURCE MANAGEMENT OFFICER
|  | DEPUTY CHIEF INFORMATION OFFICER—OFFICE OF CUSTOMER RELATIONSHIP AND PERFORMANCE MANAGEMENT
| OFFICE OF THE DEPUTY SECRETARY | NATIONAL DISASTER COORDINATOR
| OFFICE OF THE GENERAL COUNSEL | ASSOCIATE GENERAL COUNSEL FOR PROGRAM ENFORCEMENT
| DIRECTOR, DEPARTMENTAL ENFORCEMENT CENTER
DEPARTMENT OF HOUSING AND URBAN DEVELOPMENT OFFICE OF THE INSPECTOR
| DEPARTMENT OF HOUSING AND URBAN DEVELOPMENT OFFICE OF THE INSPECTOR GENERAL | CHIEF STRATEGY OFFICER
|  | ASSISTANT INSPECTOR GENERAL FOR INVESTIGATION
|  | ASSISTANT INSPECTOR GENERAL FOR AUDIT
|  | DEPUTY INSPECTOR GENERAL
|  | CHIEF OF STAFF
|  | DEPUTY ASSISTANT INSPECTOR GENERAL FOR INVESTIGATION (HEADQUARTERS OPERATIONS)
|  | ASSISTANT INSPECTOR GENERAL FOR OFFICE OF EVALUATION (OE)
|  | CHIEF INFORMATION OFFICER
|  | DEPUTY ASSISTANT INSPECTOR GENERAL FOR AUDIT (FIELD OPERATIONS)
|  | DEPUTY ASSISTANT INSPECTOR GENERAL FOR AUDIT (FIELD OPERATIONS)
|  | COUNSEL TO THE INSPECTOR GENERAL
|  | SENIOR ADVISOR FOR EXTERNAL AFFAIRS
|  | DEPUTY ASSISTANT INSPECTOR GENERAL FOR INVESTIGATIONS- FIELD OPERATIONS
|  | DEPUTY ASSISTANT INSPECTOR GENERAL FOR AUDIT—FINANCIAL MANAGEMENT, INFORMATION TECHNOLOGY, AND OPERATIONS
|  | ASSISTANT INSPECTOR GENERAL FOR—OFFICE OF SPECIAL INQUIRY
|  | ASSISTANT INSPECTOR GENERAL FOR OFFICE OF MANAGEMENT AND TECHNOLOGY
DEPARTMENT OF THE INTERIOR
ASSISTANT SECRETARY—FISH AND WILDLIFE AND PARKS | NATIONAL PARK SERVICE | ASSOCIATE DIRECTOR, INTERPRETATION AND EDUCATION
|  | COMPTROLLER
|  | CHIEF FINANCIAL OFFICER
| UNITED STATES FISH AND WILDLIFE SERVICE | CHIEF, OFFICE OF LAW ENFORCEMENT
ASSISTANT SECRETARY—INDIAN AFFAIRS | BUREAU OF INDIAN AFFAIRS | DIRECTORATE OF ENVIRONMENTAL AND NATURAL RESOURCES MANAGEMENT
|  | DEPUTY DIRECTOR—JUSTICE SERVICES
| BUREAU OF INDIAN EDUCATION | PRESIDENT, SOUTHWESTERN INDIAN POLYTECHNIC INSTITUTE
| BUREAU OF TRUST FUNDS ADMINISTRATION | REGIONAL TRUST DIRECTOR
|  | SENIOR ADVISOR
ASSISTANT SECRETARY—LAND AND MINERALS MANAGEMENT | BUREAU OF LAND MANAGEMENT | DIRECTOR, LAW ENFORCEMENT AND SECURITY
| BUREAU OF OCEAN ENERGY MANAGEMENT | STRATEGIC RESOURCES CHIEF
| BUREAU OF SAFETY AND ENVIRONMENTAL ENFORCEMENT | PROGRAM DIRECTOR, RENEWABLE ENERGY AND REGULATORY COMPLIANCE
ASSISTANT SECRETARY—POLICY, MANAGEMENT AND BUDGET | OFFICE OF HEARINGS AND APPEALS | DIRECTOR, OFFICE OF HEARINGS AND APPEALS
| OFFICE OF NATURAL RESOURCES REVENUE MANAGEMENT | DEPUTY DIRECTOR, OFFICE OF NATURAL RESOURCES REVENUE MANAGEMENT
|  | PROGRAM DIRECTOR FOR COORDINATION, ENFORCEMENT, VALUATION AND APPEALS
|  | PROGRAM DIRECTOR FOR AUDIT AND COMPLIANCE MANAGEMENT
|  | PROGRAM DIRECTOR FOR REVENUE, REPORTING AND COMPLIANCE MANAGEMENT
ASSISTANT SECRETARY—WATER AND SCIENCE | BUREAU OF RECLAMATION | DIRECTOR, MISSION SUPPORT ORGANIZATION
|  | DIRECTOR, DAM SAFETY AND INFRASTRUCTURE
| UNITED STATES GEOLOGICAL SURVEY | DEPUTY DIRECTOR FOR OPERATIONS
|  | DEPUTY DIRECTOR FOR ADMINISTRATION AND POLICY
|  | ASSOCIATE DIRECTOR FOR NATURAL HAZARDS
|  | ASSOCIATE DIRECTOR FOR WATER
|  | ASSOCIATE DIRECTOR FOR CORE SCIENCE SYSTEMS
|  | ASSOCIATE DIRECTOR FOR ECOSYSTEMS
|  | ASSOCIATE DIRECTOR FOR ENERGY AND MINERALS
|  | DIRECTOR, NATIONAL GEOSPATIAL DIRECTORATE
|  | ASSOCIATE DIRECTOR FOR ADMINISTRATION
|  | ASSOCIATE DIRECTOR FOR BUDGET, PLANNING, AND INTEGRATION
|  | ASSOCIATE DIRECTOR FOR COMMUNICATIONS AND PUBLISHING
BUREAU OF LAND MANAGEMENT | FIELD OFFICES—BLM | DIRECTOR, NATIONAL OPERATIONS CENTER
BUREAU OF OCEAN ENERGY MANAGEMENT | FIELD OFFICES—BOEM | REGIONAL DIRECTOR, PACIFIC REGION
DEPARTMENT OF THE INTERIOR | ASSISTANT SECRETARY - INDIAN AFFAIRS | DIRECTOR OF HUMAN CAPITAL MANAGEMENT
| ASSISTANT SECRETARY—POLICY, MANAGEMENT AND BUDGET | CHIEF, BUDGET ADMINISTRATION AND DEPARTMENTAL MANAGEMENT
|  | CHIEF DIVERSITY OFFICER/DIRECTOR, OFFICE OF CIVIL RIGHTS
|  | DIRECTOR, OFFICE OF GRANTS MANAGEMENT
|  | DEPUTY DIRECTOR, OFFICE OF CIVIL RIGHTS/DEPUTY CHIEF DIVERSITY OFFICER
|  | DEPUTY DIRECTOR, AUDIT AND INTERNAL CONTROLS
|  | DEPUTY ASSISTANT SECRETARY—BUDGET, FINANCE, GRANTS AND ACQUISITION
|  | CHIEF DIVISION OF BUDGET AND PROGRAM REVIEW
|  | DIRECTOR, OFFICE OF FINANCIAL MANAGEMENT AND DEPUTY CHIEF FINANCIAL OFFICER
|  | DEPUTY CHIEF HUMAN CAPITAL OFFICER/DIRECTOR, OFFICE OF HUMAN CAPITAL
|  | DEPUTY ASSISTANT SECRETARY—PUBLIC SAFETY, RESOURCE PROTECTION AND EMERGENCY SERVICES
|  | DEPUTY DIRECTOR, OFFICE OF FINANCIAL MANAGEMENT
|  | DIRECTOR, OFFICE OF LAW ENFORCEMENT AND SECURITY
|  | DIRECTOR, OFFICE OF EMERGENCY MANAGEMENT
|  | DEPUTY ASSISTANT SECRETARY—HUMAN CAPITAL AND DIVERSITY/CHIEF HUMAN CAPITAL OFFICER
| OFFICE OF THE SOLICITOR | DESIGNATED AGENCY ETHICS OFFICIAL
|  | DEPUTY CHIEF FOIA OFFICER
|  | ASSOCIATE SOLICITOR FOR ADMINISTRATION
NATIONAL PARK SERVICE | FIELD OFFICES—NPS | PARK MANAGER, GRAND CANYON NATIONAL PARK
|  | PARK MANAGER, YELLOWSTONE NATIONAL PARK
OFFICE OF SURFACE MINING | FIELD OFFICES—OSM | REGIONAL DIRECTOR, APPALACHIAN REGION
|  | REGIONAL DIRECTOR, MIDCONTINENT REGION
UNITED STATES GEOLOGICAL SURVEY | FIELD OFFICES—USGS | REGIONAL DIRECTOR - MIDCONTINENT REGION
|  | REGIONAL DIRECTOR - SOUTHWEST REGION
|  | REGIONAL DIRECTOR—ALASKA REGION
|  | REGIONAL DIRECTOR—NORTHWEST-PACIFIC ISLANDS REGION
|  | REGIONAL DIRECTOR - SOUTHEAST REGION
|  | REGIONAL DIRECTOR—ROCKY MOUNTAIN REGION
|  | REGIONAL DIRECTOR - NORTHEAST REGION
DEPARTMENT OF THE INTERIOR OFFICE OF THE INSPECTOR GENERAL
DEPARTMENT OF THE INTERIOR OFFICE OF THE INSPECTOR GENERAL | OFFICE OF THE INSPECTOR GENERAL | DEPUTY INSPECTOR GENERAL
|  | CHIEF OF STAFF
|  | ASSISTANT INSPECTOR GENERAL FOR STRATEGY, DATA, AND INNOVATION
OFFICE OF THE INSPECTOR GENERAL | OFFICE OF AUDITS, INSPECTIONS, AND EVALUATIONS | DEPUTY ASSISTANT INSPECTOR GENERAL FOR INSPECTIONS AND EVALUATIONS
|  | ASSISTANT INSPECTOR GENERAL FOR AUDITS, INSPECTIONS, AND EVALUATIONS
|  | DEPUTY ASSISTANT INSPECTOR GENERAL FOR AUDITS
| OFFICE OF GENERAL COUNSEL | GENERAL COUNSEL
| OFFICE OF INVESTIGATIONS | ASSISTANT INSPECTOR GENERAL FOR INVESTIGATIONS
|  | DEPUTY ASSISTANT INSPECTOR GENERAL
| OFFICE OF MANAGEMENT | ASSISTANT INSPECTOR GENERAL FOR MANAGEMENT
DEPARTMENT OF JUSTICE
DEPARTMENT OF JUSTICE | OFFICE OF THE DEPUTY ATTORNEY GENERAL | CHIEF AND COUNSELOR TO THE DAG, PROFESSIONAL MISCONDUCT REVIEW UNIT
OFFICE OF THE ASSOCIATE ATTORNEY GENERAL | ANTITRUST DIVISION | DIRECTOR, ECONOMIC ENFORCEMENT
|  | EXECUTIVE OFFICER
|  | CHIEF, TELECOMMUNICATIONS AND MEDIA SECTION
| CIVIL DIVISION | DIRECTOR, BUDGET STAFF
|  | CHIEF INFORMATION OFFICER
|  | CHIEF, ENFORCEMENT UNIT, OIL- DCS
|  | DEPUTY DIRECTOR
|  | DEPUTY DIRECTOR (OPERATIONS), OFFICE OF IMMIGRATION LITIGATION, DISTRICT COURT SECTION
|  | DEPUTY DIRECTOR, COMMERCIAL LITIGATION, FRAUD SECTION
|  | DEPUTY DIRECTOR, OFFICE OF IMMIGRATION LITIGATION, APPELLATE SECTION
|  | DEPUTY DIRECTOR (SENIOR), CRIMINAL LITIGATION
|  | DEPUTY DIRECTOR, CONSTITUTIONAL AND SPECIALIZED TORT LITIGATION
|  | SPECIAL COUNSEL TO THE AAG
|  | DEPUTY DIRECTOR, TORTS BRANCH—FEDERAL TORTS CLAIMS ACT LITIGATION
|  | DEPUTY DIRECTOR (SENIOR), CIVIL LITIGATION
|  | DEPUTY BRANCH DIRECTOR, FEDERAL PROGRAMS
|  | DEPUTY DIRECTOR, COMMERCIAL LITIGATION BRANCH
|  | DEPUTY DIRECTOR, OFFICE OF IMMIGRATION LITIGATION, APPELLATE SECTION
|  | DEPUTY DIRECTOR, APPELLATE STAFF
|  | DEPUTY BRANCH DIRECTOR
|  | DEPUTY DIRECTOR, COMMERCIAL LITIGATION BRANCH
|  | DIRECTOR, OFFICE OF MANAGEMENT PROGRAMS
|  | DEPUTY DIRECTOR, COMMERCIAL LITIGATION BRANCH
|  | DEPUTY BRANCH DIRECTOR, FEDERAL PROGRAMS
|  | DEPUTY DIRECTOR, COMMERCIAL LITIGATION BRANCH (INTELLECTUAL PROPERTY)
|  | APPELLATE LITIGATION COUNSEL
|  | DIRECTOR, CONSUMER PROTECTION BRANCH
|  | DEPUTY BRANCH DIRECTOR, FEDERAL PROGRAMS
|  | DEPUTY DIRECTOR APPELLATE BRANCH
|  | DIRECTOR, CONSUMER LITIGATION BRANCH, FOREIGN LITIGATION SECTION
|  | SPECIAL LITIGATION COUNSEL, AVIATION AND ADMIRALTY SECTION
| CIVIL RIGHTS DIVISION | CHIEF, EMPLOYMENT LITIGATION SECTION
|  | CHIEF APPELLATE SECTION
|  | CHIEF CRIMINAL SECTION
|  | CHIEF, HOUSING AND CIVIL ENFORCEMENT SECTION
|  | CHIEF, VOTING SECTION
|  | CHIEF, EDUCATIONAL OPPORTUNITIES SECTION
|  | CHIEF-SPECIAL LITIGATION SECTION
|  | CHIEF FEDERAL COORDINATION AND COMPLIANCE SECTION
|  | DEPUTY SPECIAL COUNSEL FOR IMMIGRATION-RELATED UNFAIR EMPLOYMENT PRACTICES
|  | EXECUTIVE OFFICER
|  | CHIEF, DISABILITY RIGHTS SECTION
|  | DEPUTY ASSISTANT ATTORNEY GENERAL (2)
|  | COUNSEL TO THE ASSISTANT ATTORNEY GENERAL
|  | CHIEF, POLICY STRATEGY SECTION
|  | PRINCIPAL DEPUTY CHIEF, CRIMINAL SECTION
|  | PRINCIPAL DEPUTY CHIEF, VOTING SECTION
|  | PRINCIPAL DEPUTY CHIEF, EMPLOYMENT LITIGATION SECTION
|  | PRINCIPAL DEPUTY CHIEF, HOUSING AND CIVIL ENFORCEMENT SECTION
|  | PRINCIPAL DEPUTY CHIEF, DISABILITY RIGHTS SECTION
|  | PRINCIPAL DEPUTY CHIEF, SPECIAL LITIGATION SECTION
|  | PRINCIPAL DEPUTY CHIEF (EDUCATIONAL OPPORTUNITIES SECTION)
|  | DIRECTOR OF OPERATIONAL MANAGEMENT
|  | CHIEF COUNSEL
| ENVIRONMENT AND NATURAL RESOURCES DIVISION | DIRECTOR, OEJ
|  | DEPUTY CHIEF, ENVIRONMENTAL CRIMES SECTION
|  | DEPUTY CHIEF, APPELLATE SECTION
|  | DEPUTY CHIEF ENVIRONMENTAL ENFORCEMENT SECTION
|  | CHIEF, WILDLIFE AND MARINE RESOURCES SECTION
|  | CHIEF, INDIAN RESOURCES SECTION
|  | CHIEF, ENVIRONMENTAL DEFENSE SECTION
|  | CHIEF, NATURAL RESOURCES SECTION
|  | CHIEF, LAND ACQUISITION SECTION
|  | CHIEF-APPELLATE SECTION
|  | DEPUTY CHIEF, ENVIRONMENTAL ENFORCEMENT SECTION
|  | CHIEF ENVIRONMENTAL CRIMES SECTION
|  | CHIEF ENVIRONMENTAL ENFORCEMENT SECTION
|  | EXECUTIVE OFFICER
|  | DEPUTY CHIEF, NATURAL RESOURCES SECTION
|  | DEPUTY SECTION CHIEF, NATURAL RESOURCES SECTION
|  | DEPUTY CHIEF, ENVIRONMENTAL DEFENSE SECTION
|  | DEPUTY CHIEF, ENVIRONMENTAL ENFORCEMENT SECTION
| OFFICE OF JUSTICE PROGRAMS | DIRECTOR, OFFICE OF ADMINISTRATION
|  | CHIEF FINANCIAL OFFICER
|  | DEPUTY CHIEF FINANCIAL OFFICER
|  | DIRECTOR, OFFICE OF AUDIT, ASSESSMENT AND MANAGEMENT
|  | DEPUTY DIRECTOR, OFFICE FOR VICTIMS OF CRIME
|  | DIRECTOR OF COMMUNICATIONS
| TAX DIVISION | CHIEF OFFICE OF REVIEW
|  | CHIEF, CRIMINAL ENFORCEMENT SECTION, WESTERN REGION
|  | CHIEF CIVIL TRIAL SECTION SOUTHWESTERN REGION
|  | EXECUTIVE OFFICER
|  | CHIEF CIVIL TRIAL SECTION EASTERN REGION
|  | CHIEF, APPELLATE SECTION
|  | CHIEF, CIVIL TRIAL SECTION, CENTRAL REGION
|  | CHIEF CIVIL TRIAL SECTION NORTHERN
|  | CHIEF CIVIL TRIAL SECTION (SOUTHERN REGION)
|  | CHIEF CIVIL TRIAL SECTION, WESTERN REGION
|  | SPECIAL LITIGATION COUNSEL
|  | SENIOR LITIGATION COUNSEL
|  | CHIEF, COURT OF FEDERAL CLAIMS SECTION
|  | DEPUTY ASSISTANT ATTORNEY GENERAL
|  | CHIEF, CRIMINAL ENFORCEMENT SECTION, SOUTH REGION
|  | CHIEF, CRIMINAL ENFORCEMENT SECTION, NORTH REGION
|  | CHIEF, CRIMINAL APPEALS AND TAX ENFORCEMENT POLICY SECTION
|  | DEPUTY CHIEF, APPELLATE SECTION
OFFICE OF THE DEPUTY ATTORNEY GENERAL | BUREAU OF ALCOHOL, TOBACCO, FIREARMS AND EXPLOSIVES | SPECIAL AGENT IN CHARGE, NEWARK
|  | SPECIAL AGENT IN CHARGE, DENVER
|  | DEPUTY ASSISTANT DIRECTOR, OFFICE OF PUBLIC AND GOVERNMENTAL AFFAIRS
|  | SPECIAL AGENT IN CHARGE, SAINT PAUL
|  | SPECIAL AGENT IN CHARGE, ATLANTA
|  | SPECIAL AGENT IN CHARGE, BOSTON
|  | SPECIAL AGENT IN CHARGE, CHICAGO
|  | SPECIAL AGENT IN CHARGE, KANSAS CITY
|  | SPECIAL AGENT IN CHARGE, PHILADELPHIA
|  | SPECIAL AGENT IN CHARGE, PHOENIX
|  | SPECIAL AGENT IN CHARGE, SAN FRANCISCO
|  | SPECIAL AGENT IN CHARGE, MIAMI
|  | SPECIAL AGENT IN CHARGE, CHARLOTTE
|  | SPECIAL AGENT IN CHARGE, DETROIT
|  | SPECIAL AGENT IN CHARGE, LOUISVILLE
|  | SPECIAL AGENT IN CHARGE, SEATTLE
|  | SPECIAL AGENT IN CHARGE, TAMPA
|  | SPECIAL AGENT IN CHARGE, COLUMBUS
|  | SPECIAL AGENT IN CHARGE, NEW ORLEANS
|  | SPECIAL AGENT IN CHARGE, BALTIMORE
|  | ASSISTANT DIRECTOR, OFFICE OF PUBLIC AND GOVERNMENTAL AFFAIRS
|  | ASSISTANT DIRECTOR, OFFICE OF STRATEGIC INTELLIGENCE AND INFORMATION
|  | DEPUTY ASSISTANT DIRECTOR, OFFICE OF STRATEGIC INTELLIGENCE AND INFORMATION
|  | DEPUTY ASSISTANT DIRECTOR, FIELD OPERATIONS-EAST
|  | DEPUTY ASSISTANT DIRECTOR, INDUSTRY OPERATIONS
|  | SPECIAL AGENT IN CHARGE, NASHVILLE
|  | SPECIAL AGENT IN CHARGE, DALLAS
|  | DEPUTY ASSISTANT DIRECTOR, OFFICE OF PROFESSIONAL RESPONSIBILITY AND SECURITY OPERATIONS
|  | DEPUTY DIRECTOR
|  | ASSISTANT DIRECTOR, FIELD OPERATIONS
|  | DEPUTY ASSISTANT DIRECTOR, FIELD OPERATIONS-CENTRAL
|  | ASSISTANT DIRECTOR, ENFORCEMENT PROGRAMS AND SERVICES
|  | DEPUTY ASSISTANT DIRECTOR, ENFORCEMENT PROGRAMS AND SERVICES
|  | DEPUTY ASSISTANT DIRECTOR, HUMAN RESOURCES AND PROFESSIONAL DEVELOPMENT
|  | ASSISTANT DIRECTOR, HUMAN RESOURCES AND PROFESSIONAL DEVELOPMENT
|  | ASSISTANT DIRECTOR, OFFICE OF PROFESSIONAL RESPONSIBILITY AND SECURITY OPERATIONS
|  | DEPUTY ASSISTANT DIRECTOR, MANAGEMENT AND CHIEF FINANCIAL OFFICER
|  | ASSISTANT DIRECTOR, MANAGEMENT AND CHIEF FINANCIAL OFFICER
|  | DEPUTY ASSISTANT DIRECTOR FOR INFORMATION TECHNOLOGY AND DEPUTY CHIEF INFORMATION OFFICER
|  | ASSISTANT DIRECTOR, SCIENCE AND TECHNOLOGY
|  | DEPUTY ASSISTANT DIRECTOR, FORENSIC SERVICES
|  | DEPUTY ASSISTANT DIRECTOR, FIELD OPERATIONS—WEST
|  | SPECIAL AGENT IN CHARGE, LOS ANGELES
|  | SPECIAL AGENT IN CHARGE, NEW YORK
|  | SPECIAL AGENT IN CHARGE, WASHINGTON DC
|  | SPECIAL AGENT IN CHARGE, HOUSTON
|  | SPECIAL ASSISTANT TO THE DIRECTOR
|  | EXECUTIVE ASSISTANT TO THE DIRECTOR
|  | SPECIAL AGENT IN CHARGE, NATIONAL CENTER FOR EXPLOSIVES TRAINING AND RESEARCH
|  | DEPUTY ASSISTANT DIRECTOR HUMAN RESOURCES
|  | DEPUTY DIRECTOR, TERRORIST EXPLOSIVE DEVICE ANALYTICAL CENTER
|  | DEPUTY ASSISTANT DIRECTOR, FIELD OPERATIONS (PROGRAMS)
|  | CHIEF, SPECIAL OPERATIONS DIVISION
| CRIMINAL DIVISION | DEPUTY CHIEF, NARCOTIC AND DANGEROUS DRUG SECTION
|  | DIRECTOR, OFFICE OF OVERSEAS PROSECUTORIAL DEVELOPMENT, ASSISTANCE, AND TRAINING
|  | CHIEF, COMPUTER CRIME AND INTELLECTUAL PROPERTY SECTION
|  | DEPUTY CHIEF, COMPUTER CRIME AND INTELLECTUAL PROPERTY SECTION
|  | CHIEF, HUMAN RIGHTS AND SPECIAL PROSECUTIONS SECTION
|  | CHIEF, CAPITAL CASE SECTION
|  | DEPUTY CHIEF, ASSET FORFEITURE AND MONEY LAUNDERING SECTION
|  | CHIEF NARCOTIC AND DANGEROUS DRUG SECTION
|  | DIRECTOR, OFFICE OF INTERNATIONAL AFFAIRS
|  | DEPUTY, CHIEF FRAUD SECTION
|  | DEPUTY DIRECTOR, OFFICE OF INTERNATIONAL AFFAIRS
|  | CHIEF FRAUD SECTION
|  | CHIEF PUBLIC INTEGRITY SECTION
|  | CHIEF, ORGANIZED CRIME AND GANG SECTION
|  | CHIEF, APPELLATE SECTION
|  | DIRECTOR, OFFICE OF ENFORCEMENT OPERATIONS
|  | DIRECTOR, INTERNATIONAL CRIMINAL INVESTIGATIVE TRAINING ASSISTANCE PROGRAM
|  | CHIEF, CHILD EXPLOITATION AND OBSCENITY SECTION
|  | DEPUTY CHIEF FOR ORGANIZED CRIME AND GANG SECTION
|  | EXECUTIVE OFFICER
|  | DEPUTY DIRECTOR, OFFICE OF INTERNATIONAL AFFAIRS
|  | DEPUTY CHIEF PUBLIC INTEGRITY SECTION
|  | CHIEF, ASSET FORFEITURE AND MONEY LAUNDERING SECTION
|  | DEPUTY CHIEF, APPELLATE SECTION
|  | DEPUTY DIRECTOR, INTERNATIONAL CRIMINAL INVESTIGATIVE TRAINING ASSISTANCE PROGRAM (ICITAP)
|  | CHIEF OPERATING OFFICER
|  | DEPUTY DIRECTOR, OPDAT
|  | DEPUTY CHIEF, HUMAN RIGHTS AND SPECIAL PROSECUTIONS
|  | DEPUTY ASSISTANT ATTORNEY GENERAL
|  | DEPUTY DIRECTOR, OFFICE OF ENFORCEMENT OPERATIONS
|  | DEPUTY CHIEF, CHILD EXPLOITATION AND OBSCENITY SECTION
| EXECUTIVE OFFICE FOR IMMIGRATION REVIEW | DEPUTY CHIEF IMMIGRATION JUDGE
|  | ASSISTANT DIRECTOR FOR ADMINISTRATION
|  | REGIONAL DEPUTY CHIEF IMMIGRATION JUDGE
|  | REGIONAL DEPUTY CHIEF IMMIGRATION JUDGE
|  | DEPUTY CHIEF APPELLATE IMMIGRATION JUDGE
|  | CHIEF ADMINISTRATIVE HEARING OFFICER
|  | GENERAL COUNSEL
|  | CHIEF IMMIGRATION JUDGE
|  | CHAIRMAN, BOARD OF IMIGRATION APPEALS
|  | ASSISTANT DIRECTOR FOR POLICY
|  | VICE CHAIRMAN, BOARD OF IMMIGRATION APPEALS
| EXECUTIVE OFFICE FOR ORGANIZED CRIME DRUG ENFORCEMENT TASK FORCES | DIRECTOR, ORGANIZED CRIME DRUG ENFORCEMENT TASK FORCES
| EXECUTIVE OFFICE FOR UNITED STATES ATTORNEYS | CHIEF HUMAN RESOURCES OFFICER
|  | DEPUTY DIRECTOR
|  | COUNSEL, LEGAL PROGRAMS AND POLICY
|  | GENERAL COUNSEL
|  | CHIEF, INFORMATION OFFICER
|  | ASSOCIATE DIRECTOR, OFFICE OF LEGAL EDUCATION
|  | CHIEF FINANCIAL OFFICER
| FEDERAL BUREAU OF PRISONS | ASSISTANT DIRECTOR FOR ADMINISTRATION
|  | ASSISTANT DIRECTOR CORRECTIONAL PROGRAMS DIVISION
|  | WARDEN, UNITED STATES PENITENTIARY, LEAVENWORTH, KANSAS
|  | WARDEN, UNITED STATES PENITENTIARY, LEWISBURG, PENNSYLVANIA
|  | WARDEN, FEDERAL CORRECTIONAL COMPLEX, LOMPOC, CALIFORNIA
|  | WARDEN, FEDERAL CORRECTIONAL INSTITUTION, MARIANNA, FLORIDA
|  | WARDEN, UNITED STATES MEDICAL CENTER FEDERAL PRISONERS, SPRINGFIELD, MISSOURI
|  | WARDEN, FEDERAL MEDICAL CENTER, LEXINGTON, KENTUCKY
|  | WARDEN, UNITED STATES PENITENTIARY, MARION ILLINOIS
|  | SUPERVISORY INDUSTRIAL SPECIALIST (CEO)FEDERAL PRISON INDUSTRIES
|  | WARDEN FEDERAL CORRECTIONAL COMPLEX, TERRE HAUTE, INDIANA
|  | WARDEN FEDERAL CORRECTIONAL COMPLEX, BUTNER, NORTH CAROLINA
|  | ASSISTANT DIRECTOR, OFFICE OF GENERAL COUNSEL
|  | REGIONAL DIRECTOR, NORTHEAST REGION
|  | REGIONAL DIRECTOR, SOUTHEAST REGION
|  | REGIONAL DIRECTOR, NORTH CENTRAL REGION
|  | REGIONAL DIRECTOR, WESTERN REGION
|  | REGIONAL DIRECTOR, SOUTH CENTRAL REGION
|  | WARDEN, UNITED STATES PENITENTIARY, ATLANTA, GEORGIA
|  | WARDEN, FEDERAL CORRECTIONAL INSTITUTION, FORT DIX, NEW JERSEY
|  | WARDEN, FEDERAL CORRECTIONAL COMPLEX, FLORENCE, COLORADO
|  | WARDEN, UNITED STATES PENITENTIARY-HIGH, FLORENCE, COLORADO
|  | WARDEN, FEDERAL CORRECTIONAL COMPLEX, OAKDALE, LOUISIANA
|  | WARDEN, FEDERAL MEDICAL CENTER, CARSWELL, TEXAS
|  | WARDEN, FEDERAL CORRECTIONAL COMPLEX, ALLENWOOD, PENNSYLVANIA
|  | WARDEN, FEDERAL TRANSFER CENTER, OKLAHOMA CITY, OKLAHOMA
|  | SENIOR DEPUTY ASSISTANT DIRECTOR, HUMAN RESOURCES MANAGEMENT DIVISION
|  | WARDEN, FEDERAL DETENTION CENTER, MIAMI, FLORIDA
|  | WARDEN, FEDERAL CORRECTIONAL INSTITUTION, FAIRTON, NEW JERSEY
|  | ASSISTANT DIRECTOR, PROGRAM REVIEW DIVISION
|  | WARDEN, FEDERAL CORRECTIONAL INSTITUTION, EDGEFIELD, SOUTH CAROLINA
|  | WARDEN, FEDERAL MEDICAL CENTER, DEVENS, MASSACHUSETTS
|  | WARDEN, METROPOLITAN DETENTION CENTER, LOS ANGELES, CALIFORNIA
|  | ASSISTANT DIRECTOR HUMAN RESOURCES MANAGEMENT DIVISION
|  | DEPUTY DIRECTOR
|  | SENIOR DEPUTY ASSISTANT DIRECTOR, CORRECTIONAL PROGRAMS DIVISION
|  | WARDEN, FEDERAL CORRECTIONAL INSTITUTION, PHOENIX, ARIZONA
|  | WARDEN, FEDERAL MEDICAL CENTER, ROCHESTER, MINNESOTA
|  | REGIONAL DIRECTOR MIDDLE ATLANTIC REGION
|  | WARDEN, UNITED STATES PENITENTIARY, CANAAN, PENNSYLVANIA
|  | WARDEN, UNITED STATES PENITENTIARY, HAZELTON, WEST VIRIGINA
|  | COMPLEX WARDEN, FEDERAL CORRECTIONAL COMPLEX, YAZOO CITY, MISSISSIPPI
|  | WARDEN, FEDERAL CORRECTIONAL COMPLEX, FORREST CITY, ARKANSAS
|  | SENIOR DEPUTY ASSISTANT DIRECTOR RE-ENTRY SERVICES DIVISION
|  | WARDEN, UNITED STATES PENITENTIARY COLEMAN-I, COLEMAN, FLORIDA
|  | SENIOR COUNSEL, OFFICE OF GENERAL COUNSEL
|  | COMPLEX WARDEN, FEDERAL CORRECTION COMPLEX, PETERSBURG, VIRGINIA
|  | WARDEN, UNITED STATES PENITENTIARY, BIG SANDY, KENTUCKY
|  | COMPLEX WARDEN, FEDERAL CORRECTIONAL COMPLEX, VICTORVILLE, CALIFORNIA
|  | WARDEN, UNITED STATES PENITENTIARY, MCCREARY, KENTUCKY
|  | WARDEN, FEDERAL CORRECTIONAL INSTITUTION, BENNETTSVILLE, SOUTH CAROLINA
|  | WARDEN, FEDERAL CORRECTIONAL INSTITUTION, CUMBERLAND, MARYLAND
|  | WARDEN, FEDERAL CORRECTIONAL INSTITUTION, GREENVILLE, ILLINIOIS
|  | WARDEN, FEDERAL CORRECTIONAL INSTITUTION, MCKEAN, PENNSYLVANIA
|  | WARDEN, FEDERAL CORRECTIONAL INSTITUTION, SCHUYLKILL, PENNSYLVANIA
|  | WARDEN, FEDERAL CORRECTIONAL INSTITUTION, THREE RIVERS, TEXAS
|  | WARDEN, METROPOLITAN DETENTION CENTER, GUAYNABO, PUERTO RICO
|  | WARDEN, FEDERAL CORRECTIONAL INSTITUTION, MEMPHIS, TENNESSEE
|  | WARDEN, FEDERAL CORRECTIONAL INSTITUTION, SHERIDAN, OREGON
|  | WARDEN, FEDERAL CORRECTIONAL INSTITUTION, GILMER, WEST VIRGINIA
|  | COMPLEX WARDEN, UNITED STATES PENITENTIARY, TUCSON, ARIZONA
|  | WARDEN, FCI, MENDOTA, CA
|  | WARDEN, METROPOLITAN DETENTION CENTER, BROOKLYN, NEW YORK
|  | SENIOR DEPUTY ASSISTANT DIRECTOR ADMINISTRATION DIVISION
|  | SUPERVISORY IT PROGRAM MANAGER (SENIOR DEP ASST DIRECTOR)
|  | WARDEN, FEDERAL CORRECTIONAL INSTITUTION, JESUP, GEORGIA
|  | WARDEN, FEDERAL CORRECTIONAL INSTITUTION, OTISVILLE, NEW YORK
|  | WARDEN, METROPOLITAN CORRECTIONAL CENTER, NEW YORK, NEW YORK
|  | WARDEN, UNITED STATES PENITENTIARY, POLLOCK, LOUISIANA
|  | WARDEN, FEDERAL CORRECTIONAL COMPLEX, COLEMAN, FLORIDA
|  | WARDEN, UNITED STATES PENITENTIARY, LEE, VIRGINIA
|  | WARDEN, UNITED STATES PENITENTIARY, ATWATER, CALIFORNIA
|  | WARDEN, FEDERAL CORRECTIONAL COMPLEX, BEAUMONT, TEXAS
|  | SPECIAL ASSISTANT
|  | WARDEN, FEDERAL CORRECTIONAL INSTITUTION, SAN DIEGO, CALIFORNIA
|  | WARDEN, FEDERAL CORRECTIONAL INSTITUTION, CHICAGO, ILLINOIS
|  | WARDEN, FEDERAL DETENTION CENTER, PHILADELPHIA, PA
|  | PROGRAM MANAGEMENT OFFICER
|  | CORRECTIONAL PROGRAM OFFICER (2)
|  | ASSISTANT DIRECTOR, INFORMATION TECHNOLOGY AND DATA DIVISION
|  | SENIOR DEPUTY GENERAL COUNSEL, OGC
|  | SENIOR DEPUTY ASSISTANT DIRECTOR, INDUSTRIES, EDUCATION, AND VOCATIONAL TRAINING DIVISION
|  | SENIOR DEPUTY ASSISTANT DIRECTOR, ADMINISTRATION DIVISION
|  | ASSISTANT DIRECTOR, REENTRY SERVICES DIVISION
|  | WARDEN FCI FORT WORTH TX
|  | SENIOR DEPUTY ASSISTANT DIRECTOR, PROGRAM REVIEW DIVISION
|  | SENIOR DEPUTY GENERAL COUNSEL, OFFICE OF THE GENERAL COUNSEL
|  | WARDEN FCI, THOMSON, IL
|  | CHIEF, OFFICE OF PUBLIC AFFAIRS
|  | CORRECTIONAL PROGRAM OFFICER (SENIOR DEPUTY REGIONAL DIRECTOR)
|  | CORRECTIONAL PROGRAM OFFICER (2)
| JUSTICE MANAGEMENT DIVISION | DEPUTY ASSISTANT ATTORNEY GENERAL, POLICY, MANAGEMENT AND PROCUREMENT
|  | DIRECTOR, SERVICE ENGINEERING STAFF
|  | DIRECTOR, SERVICE DELIVERY STAFF
|  | DEPUTY DIRECTOR, CYBERSECURITY STAFF/DEPUTY CHIEF INFORMATION SECURITY OFFICER
|  | DIRECTOR, CYBERSECURITY SERVICES STAFF
|  | DEPUTY CHIEF INFORMATION OFFICER
|  | DEPUTY DIRECTOR, POLICY AND PLANNING STAFF
|  | DIRECTOR, POLICY AND PLANNING STAFF
|  | DIRECTOR, OFFICE OF ACQUISITION MANAGEMENT (OAM)
|  | DEPUTY DIRECTOR, SECURITY AND EMERGENCY PLANNING STAFF
|  | DEPUTY DIRECTOR, BUDGET STAFF, OPERATIONS AND FUNDS CONTROL
|  | DIRECTOR, DEPARTMENTAL ETHICS OFFICE
|  | DEPUTY DIRECTOR, HUMAN RESOURCES
|  | DEPUTY DIRECTOR, AUDITING, FINANCE STAFF
|  | DEPUTY DIRECTOR, BUDGET STAFF, PROGRAMS AND PERFORMANCE
|  | GENERAL COUNSEL
|  | DIRECTOR, EQUAL EMPLOYMENT OPPORTUNITY STAFF
|  | DIRECTOR, DEBT COLLECTION MANAGEMENT STAFF
|  | DEPUTY ASSISTANT ATTORNEY GENERAL/CHIEF INFORMATION OFFICER
|  | DIRECTOR PROCUREMENT SERVICES STAFF
|  | DIRECTOR, BUDGET STAFF
|  | DEPUTY ASSISTANT ATTORNEY GENERAL (CONTROLLER)
|  | DEPUTY ASSISTANT ATTORNEY GENERAL FOR HUMAN RESOURCES AND ADMINISTRATION
|  | DIRECTOR LIBRARY STAFF
|  | DIRECTOR FINANCE STAFF
|  | DIRECTOR, FACILITIES AND ADMINISTRATIVE SERVICES STAFF
|  | DIRECTOR, HUMAN RESOURCES
|  | DIRECTOR, APPROPRIATION LIAISON OFFICE
|  | DIRECTOR, SECURITY AND EMERGENCY PLANNING STAFF
|  | ASSISTANT ATTORNEY GENERAL FOR ADMINISTRATION
|  | DIRECTOR, ASSET FORFEITURE MANAGEMENT STAFF
|  | DIRECTOR, OFFICE OF ATTORNEY RECRUITMENT AND MANAGEMENT
|  | DIRECTOR RM AND E-DISCOVERY
| NATIONAL SECURITY DIVISION | DEPUTY ASSISTANT ATTORNEY GENERAL, FISA OPERATIONS AND INTELLIGENCE OVERSIGHT
|  | CHIEF, OPERATIONS SECTION
|  | CHIEF, OVERSIGHT SECTION
|  | EXECUTIVE OFFICER
|  | SPECIAL COUNSEL FOR NATIONAL SECURITY
|  | DIRECTOR, FOIA AND DECLASSIFICATION PROGRAM
|  | CHIEF, APPELLATE UNIT
|  | DIRECTOR OF RISK MANAGEMENT AND SENIOR COUNSEL
|  | CHIEF, FOREIGN INVESTMENT REVIEW STAFF
|  | CHIEF, NATIONAL SECURITY CYBER SECTION
| OFFICE OF LEGAL COUNSEL | SPECIAL COUNSEL (3)
| OFFICE OF PROFESSIONAL RESPONSIBILITY | COUNSEL ON PROFESSIONAL RESPONSIBILITY
|  | DEPUTY COUNSEL ON PROFESSIONAL RESPONSIBILITY
| OFFICE OF PUBLIC AFFAIRS | DEPUTY DIRECTOR, OFFICE OF PUBLIC AFFAIRS
| OFFICE OF TRIBAL JUSTICE | DIRECTOR
| PROFESSIONAL RESPONSIBILITY ADVISORY OFFICE | DIRECTOR, PROFESSIONAL RESPONSPONSIBILITY ADVSIORY OFFICE
| UNITED STATES MARSHALS SERVICE | ASSISTANT DIRECTOR, INFORMATION TECHNOLOGY
|  | ASSISTANT DIRECTOR FINANCIAL SERVICES
|  | ASSISTANT DIRECTOR, INVESTIGATIVE OPERATIONS
|  | ATTORNEY ADVISOR
|  | ASSISTANT DIRECTOR, JPATS
|  | ASSOCIATE DIRECTOR, OPERATIONS
|  | ASSOCIATE DIRECTOR, ADMINISTRATION
|  | ASSISTANT DIRECTOR, TACTICAL OPERATIONS
|  | ASSISTANT DIRECTOR FOR PRISONER OPERATIONS
|  | ASSISTANT DIRECTOR, HUMAN RESOURCES
|  | CHIEF FINANCIAL OFFICER, FINANCIAL SERVICES
|  | ASSISTANT DIRECTOR, WITNESS SECURITY
|  | ASSISTANT DIRECTOR, MANAGEMENT SUPPORT
|  | ASSISTANT DIRECTOR, ASSET FORFEITURE
|  | ASSISTANT DIRECTOR, TRAINING
|  | DEPUTY DIRECTOR
|  | ASSISTANT DIRECTOR, OFFICE OF PROFESSIONAL RESPONSIBILITY
|  | ASSISTANT DIRECTOR JUDICIAL SECURITY
|  | PROCUREMENT EXECUTIVE, FINANCIAL SERVICES
|  | PROGRAM EXECUTIVE, BODY WORN CAMERA
|  | CHIEF OF STAFF AND SENIOR COUNSEL
DEPARTMENT OF JUSTICE OFFICE OF THE INSPECTOR GENERAL
DEPARTMENT OF JUSTICE OFFICE OF THE INSPECTOR GENERAL | AUDIT DIVISION | DEPUTY ASSISTANT INSPECTOR GENERAL FOR DATA ANALYTICS
|  | ASSISTANT INSPECTOR GENERAL, AUDIT DIVISION
|  | DEPUTY ASSISTANT INSPECTOR GENERAL, AUDIT DIVISION
| EVALUATION AND INSPECTIONS DIVISION | ASSISTANT INSPECTOR GENERAL, EVALUATION AND INSPECTIONS DIVISION
|  | DEPUTY ASSISTANT INSPECTOR GENERAL, EVALUATION AND INSPECTIONS DIVISION
| FRONT OFFICE | DEPUTY INSPECTOR GENERAL
|  | GENERAL COUNSEL
| INFORMATION TECHNOLOGY DIVISION | ASSISTANT INSPECTOR GENERAL, INFORMATION TECHNOLOGY DIVISION
| INVESTIGATIONS DIVISION | ASSISTANT INSPECTOR GENERAL, INVESTIGATIONS DIVISION
|  | DEPUTY ASSISTANT INSPECTOR GENERAL, INVESTIGATIONS DIVISION
| MANAGEMENT AND PLANNING DIVISION | ASSISTANT INSPECTOR GENERAL, MANAGEMENT AND PLANNING DIVISION
|  | DEPUTY ASSISTANT INSPECTOR GENERAL, MANAGEMENT AND PLANNING
| OVERSIGHT AND REVIEW DIVISION | DEPUTY ASSISTANT INSPECTOR GENERAL, OVERSIGHT AND REVIEW DIVISION
|  | ASSISTANT INSPECTOR GENERAL, OVERSIGHT AND REVIEW DIVISION
DEPARTMENT OF LABOR
DEPARTMENT OF LABOR | BUREAU OF LABOR STATISTICS | ASSISTANT COMMISSIONER FOR PRICES AND LIVING CODITIONS
|  | ASSISTANT COMMISSIONER, REGIONAL OPERATIONS (6)
|  | ASSISTANT COMMISSIONER FOR OCCUPATIONAL STATISTICS AND EMPLOYMENT PROJECTIONS
|  | ASSISTANT COMMISSIONER FOR CONSUMER PRICES AND PRICES INDEXES
|  | ASSISTANT COMMISSIONER FOR INDUSTRIAL PRICES AND PRICE INDEXES
|  | ASSISTANT COMMISSIONER FOR INDUSTRY EMPLOYMENT STATISTICS
|  | ASSOCIATE COMMISSIONER FOR PUBLICATIONS AND SPECIAL STUDIES
|  | ASSISTANT COMMISSIONER FOR INTERNATIONAL PRICES
|  | DIRECTOR OF SURVEY PROCESSING
|  | DIRECTOR OF TECHNOLOGY AND COMPUTING SERVICES
|  | ASSISTANT COMMISSIONER FOR CURRENT EMPLOYMENT ANALYSIS
|  | ASSISTANT COMMISSIONER FOR COMPENSATION LEVELS AND TRENDS
|  | ASSISTANT COMMISSIONER FOR SAFETY, HEALTH AND WORKING CONDITIONS
|  | ASSOCIATE COMMISSIONER FOR COMPENSATION AND WORKING CONDITIONS
|  | ASSOCIATE COMMISSIONER FOR TECHNOLOGY AND SURVEY PROCESSING
|  | ASSOCIATE COMMISSIONER FOR EMPLOYMENT AND UNEMPLOYMENT STATISTICS
|  | DEPUTY COMMISSIONER FOR BUREAU LABOR STATISTICS
|  | ASSOCIATE COMMISSIONER FOR ADMINISTRATION
|  | ASSOCIATE COMMISSIONER PRODUCTIVITY AND TECHNOLOGY
|  | ASSOCIATE COMMISSIONER FOR SURVEY METHODS RESEARCH
|  | ASSOCIATE COMMISSIONER FOR FIELD OPERATIONS
| EMPLOYEE BENEFITS SECURITY ADMINISTRATION | DEPUTY ASSISTANT SECRETARY FOR PROGRAM OPERATIONS
|  | DIRECTOR OF EXEMPTION DETERMINATIONS
|  | DIRECTOR OF REGULATIONS AND INTERPRETATIONS
|  | REGIONAL DIRECTOR—BOSTON
|  | REGIONAL DIRECTOR—ATLANTA
|  | REGIONAL DIRECTOR—KANSAS CITY
|  | REGIONAL DIRECTOR—SAN FRANCISCO
|  | DIRECTOR OF ENFORCEMENT
|  | CHIEF ACCOUNTANT
|  | DIRECTOR, OFFICE OF OUTREACH EDUCATION AND ASSISTANCE
|  | DIRECTOR OF HEALTH PLAN STANDARDS COMPLIANCE AND ASSISTANCE
|  | REGIONAL DIRECTOR—CHICAGO
|  | REGIONAL DIRECTOR (3)
|  | REGIONAL DIRECTOR - PHILADELPHIA
|  | DIRECTOR, OFFICE OF FIELD ADMINISTRATION
|  | CHIEF ECONOMIST/DIRECTOR, OFFICE OF RESEARCH AND ANALYSIS
|  | REGIONAL DIRECTOR NEW YORK
| EMPLOYMENT AND TRAINING ADMINISTRATION | DEPUTY ADMINISTRATOR, OFFICE OF JOB CORP
|  | DEPUTY ADMINISTRATOR, OFFICE OF UNEMPLOYMENT INSURANCE
|  | REGIONAL ADMINISTRATOR
|  | COMPTROLLER
|  | DEPUTY ADMINISTRATOR JOB CORPORATION
|  | DEPUTY ASSISTANT SECRETARY (OPERATIONS AND MANAGEMENT)
|  | ADMINISTRATOR, OFFICE OF TRADE ADJUSTMENT ASSISTANCE
|  | ADMINISTRATOR, OFFICE OF GRANTS MANAGEMENT
|  | ADMINISTRATOR, OFFICE OF POLICY DEVELOPMENT AND RESEARCH
|  | ADMINISTRATOR, APPRENTICESHIP AND TRAINING, EMPLOYEE AND LABOR SERVICES
|  | ADMINISTRATOR, OFFICE OF UNEMPLOYMENT INSURANCE
|  | ADMINISTRATOR, OFFICE OF FOREIGN LABOR CERTIFICATION
|  | REGIONAL ADMINISTRATOR ATLANTA
|  | ADMINISTRATOR, OFFICE OF JOB CORPS
|  | REGIONAL ADMINISTRATOR (3)
|  | REGIONAL ADMINISTRATOR PHILADELPHIA
|  | REGIONAL ADMINISTRATORREGIONAL ADMINISTRATOR, DALLAS/SAN FRANCISCO
| MINE SAFETY AND HEALTH ADMINISTRATION | DEPUTY ASSISTANT SECRETARY
|  | DIRECTOR OF PROGRAM EVALUATION AND INFORMATION RESOURCES
|  | DIRECTOR OF TECHNICAL SUPPORT
|  | DIRECTOR, OFFICE OF ASSESSMENTS, ACCOUNTABILITY, SPECIAL ENFORCEMENT, AND INVESTIGATIONS
|  | DIRECTOR, OFFICE OF STANDARDS REGULATIONS AND VARIANCES
|  | DIRECTOR OF ADMINISTRATION AND MANAGEMENT
|  | DEPUTY ADMINISTRATOR, MINE SAFETY HEALTH ENFORCEMENT
|  | DEPUTY ADMINISTRATOR FOR REGIONAL OPERATIONS, MINE SAFETY AND HEALTH ENFORCEMENT
| OCCUPATIONAL SAFETY AND HEALTH ADMINISTRATION | DIRECTORATE OF TECHNICAL SUPPORT AND EMERGENCY MANAGEMENT
|  | DIRECTOR, ADMINISTRATIVE PROGRAMS
|  | DIRECTOR OF CONSTRUCTION
| OFFICE OF DISABILITY EMPLOYMENT POLICY | DEPUTY ASSISTANT SECRETARY FOR ODEP
| OFFICE OF FEDERAL CONTRACT COMPLIANCE PROGRAMS | REGIONAL DIRECTOR FOR OFFICE OF FEDERAL CONTRACT COMPLIANCE PROGRAMS (5)
|  | DIRECTOR, DIVISION OF POLICY, PLANNING AND PROGRAM DEVELOPMENT
|  | DIRECTOR, MANAGEMENT AND ADMINISTRATIVE PROGRAMS
| OFFICE OF LABOR- MANAGEMENT STANDARDS | DIRECTOR, OFFICE OF PROGRAM OPERATIONS
|  | DIRECTOR, OFFICE OF FIELD OPERATIONS (2)
|  | REGIONAL DIRECTOR, NEW ORLEANS
|  | REGIONAL DIRECTOR, NORTHEASTERN REGION
|  | REGIONAL DIRECTOR, MILWAUKEE
|  | REGIONAL DIRECTOR, SAINT LOUIS, MO
|  | DEPUTY DIRECTOR, OFFICE OF LABOR MANAGEMENT STANDARDS
| OFFICE OF THE ASSISTANT SECRETARY FOR ADMINISTRATION AND MANAGEMENT | SENIOR PROCUREMENT EXECUTIVE
|  | DIRECTOR, CYBER SECURITY AND CHIEF INFORMATION SECURITY OFFICER
|  | DEPUTY CHIEF INFORMATION OFFICER
|  | DIRECTOR, OFFICE OF STRATEGIC OPERATIONS
|  | DIRECTOR, DIRECTORATE OF DIGITAL TRANSFORMATION
|  | DEPUTY CHIEF HUMAN CAPITAL OFFICER (STRATEGY)
|  | DIRECTOR, DIRECTORATE OF INFORMATION TECHNOLOGY OPERATIONS AND SERVICES
|  | SENIOR DIRECTOR OF JOB CORPS ACQUISITION SERVICES
|  | HEAD OF CONTRACTING ACTIVITY
|  | DIRECTOR, BUSINESS APPLICATION SERVICES
|  | CHIEF TECHNOLOGY OFFICER
|  | DIRECTOR, APPLICATION DEVELOPMENT, ENFORCEMENT, BENEFITS AND PAYMENTS
|  | DIRECTOR OF CASE MANAGEMENT
|  | DEPUTY ASSISTANT SECRETARY FOR BUDGET
|  | DIRECTOR, GRANTS MANAGEMENT
|  | DEPUTY CHIEF HUMAN CAPITAL OFFICER (OPERATIONS)
|  | DIRECTOR DEPARTMENTAL BUDGET CENTER
|  | DIRECTOR OF CIVIL RIGHTS
|  | DIRECTOR BUSINESS OPERATIONS CENTER
|  | CHIEF HUMAN CAPITAL OFFICER
|  | DEPUTY ASSISTANT SECRETARY FOR OPERATIONS
|  | DIRECTOR, PERFORMANCE MANAGEMENT CENTER
| OFFICE OF THE ASSISTANT SECRETARY FOR POLICY | DIRECTOR, OFFICE OF REGULATORY AND PROGRAMMATIC POLICY
|  | DEPUTY ASSISTANT SECRETARY FOR POLICY
| OFFICE OF THE CHIEF FINANCIAL OFFICER | DEPUTY CHIEF FINANCIAL OFFICER
|  | ASSOCIATE DEPUTY CHIEF FINANCIAL OFFICER FOR FINANCIAL SYSTEMS
| OFFICE OF THE SOLICITOR | DEPUTY SOLICITOR (NATIONAL OPERATIONS)
|  | ASSOCIATE SOLICITOR FOR BLACK LUNG AND LONGSHORE LEGAL SERVICES
|  | ASSOCIATE SOLICITOR, MANAGEMENT AND ADMINISTRATIVE LEGAL SERVICES DIVISION
|  | ASSOCIATE SOLICITOR FOR CIVIL RIGHTS AND LABOR MANAGEMENT
|  | DEPUTY SOLICITOR (REGIONAL OPERATIONS)
|  | REGIONAL SOLICITOR—BOSTON
|  | REGIONAL SOLICITOR - PHILADELPHIA
|  | REGIONAL SOLICITOR—NEW YORK
|  | REGIONAL SOLICITOR—DALLAS
|  | REGIONAL SOLICITOR—SAN FRANCISCO
|  | REGIONAL SOLICITOR—ATLANTA
|  | ASSOCIATE SOLICITOR FOR FEDERAL EMPLOYEES' AND ENERGY WORKERS' COMPENSATION
|  | ASSOCIATE SOLICITOR FOR FAIR LABOR STANDARDS
|  | ASSOCIATE SOLICITOR FOR MINE SAFETY AND HEALTH
|  | ASSOCIATE SOLICITOR FOR OCCUPATIONAL SAFETY AND HEALTH
|  | ASSOCIATE SOLICITOR FOR PLAN BENEFITS SECURITY
|  | REGIONAL SOLICITOR—CHICAGO
| OFFICE OF WORKERS COMPENSATION PROGRAMS | DIRECTOR FOR FEDERAL EMPLOYEES' COMPENSATION
|  | DEPUTY DIRECTOR FOR OFFICE OF WORKERS' COMPENSATION PROGRAMS
|  | DIRECTOR OF COAL MINE WORKERS COMPENSATION
|  | DIRECTOR, ENERGY EMPLOYEES' OCCUPATIONAL ILLNESS COMPENATION
|  | COMPTROLLER
|  | DEPUTY DIRECTOR, CLAIMS ADMINISTRATION, POLICY, HEARINGS, AND TECHNICAL ASSISTANCE
|  | DEPUTY DIRECTOR, PROGRAM AND SYSTEMS INTEGRITY
|  | DEPUTY DIRECTOR, POLICY AND NATIONAL OPERATIONS
|  | NATIONAL ADMINISTRATION OF FIELD OPERATIONS, DIVISION OF FEDERAL EMPLOYEES COMPENSATION
|  | NATIONAL ADMINISTRATION OF FIELD OPERATIONS, DIVISION OF ENERGY EMPLOYEE OCC ILLNESS COMP
|  | REGIONAL DIRECTOR—DALLAS
|  | REGIONAL DIRECTOR - NORTHEAST REGION
|  | REGIONAL DIRECTOR
|  | ADMINISTRATIVE OFFICER
| VETERANS EMPLOYMENT AND TRAINING SERVICE | DEPUTY ASSISTANT SECRETARY FOR OPERATIONS AND MANAGEMENT
|  | DIRECTOR, OFFICE OF FIELD OPERATIONS
|  | DIRECTOR OF NATIONAL PROGRAMS
| WAGE AND HOUR DIVISION | ASSOCIATE ADMINISTRATOR FOR ENTERPRISE DATA AND ANALYTICS
|  | ASSOCIATE ADMINISTRATOR FOR ADMINISTRATIVE OPERATIONS
| WOMEN'S BUREAU | DEPUTY DIRECTOR, WOMEN'S BUREAU
DEPARTMENT OF LABOR OFFICE OF INSPECTOR
| DEPARTMENT OF LABOR OFFICE OF INSPECTOR GENERAL | DEPUTY INSPECTOR GENERAL
|  | DEPUTY ASSISTANT INSPECTOR GENERAL FOR AUDIT
|  | ASSISTANT INSPECTOR GENERAL FOR MANAGEMENT AND POLICY
|  | ASSISTANT INSPECTOR GENERAL FOR AUDIT
|  | ASSISTANT INSPECTOR GENERAL FOR INVESTIGATIONS—LABOR RACKETEERING AND FRAUD
|  | COUNSEL TO THE INSPECTOR GENERAL
|  | CHIEF PERFORMANCE AND RISK MANAGEMENT OFFICER
|  | DEPUTY ASSISTANT INSPECTOR GENERAL FOR MANAGEMENT AND POLICY
|  | DEPUTY ASSISTANT INSPECTOR GENERAL FOR AUDIT
|  | DEPUTY ASSISTANT INSPECTOR GENERAL FOR INVESTIGATIONS—LABOR RACKETEERING AND FRAUD—HEADQUARTERS OPERATIONS
|  | DEPUTY ASSISTANT INSPECTOR GENERAL FOR INVESTIGATIONS—LABOR RACKETEERING AND FRAUD—INVESTIGATIVE OPERATIONS
MERIT SYSTEMS PROTECTION BOARD
MERIT SYSTEMS PROTECTION BOARD | DALLAS REGIONAL OFFICE | REGIONAL DIRECTOR, DALLAS
OFFICE OF REGIONAL OPERATIONS | ATLANTA REGIONAL OFFICE | REGIONAL DIRECTOR, ATLANTA
| CENTRAL REGION, CHICAGO REGIONAL OFFICE | REGIONAL DIRECTOR, CHICAGO
| NORTHEAST REGION, PHILADELPHIA REGIONAL OFFICE | REGIONAL DIRECTOR, PHILADELPHIA
| WASHINGTON, DC REGION, WASHINGTON REGIONAL OFFICE | REGIONAL DIRECTOR, WASHINGTON, DC
| WESTERN REGION, OAKLAND REGIONAL OFFICE | REGIONAL DIRECTOR, OAKLAND
OFFICE OF THE BOARD, CHAIRMAN | OFFICE OF FINANCIAL AND ADMINISTRATIVE MANAGEMENT | DIRECTOR, FINANCIAL AND ADMINISTRATIVE MANAGEMENT
| OFFICE OF INFORMATION RESOURCES MANAGEMENT | DIRECTOR, INFORMATION RESOURCES MANAGEMENT
| OFFICE OF POLICY AND EVALUATION | DIRECTOR, OFFICE OF POLICY AND EVALUATION
| OFFICE OF REGIONAL OPERATIONS | DIRECTOR, OFFICE OF REGIONAL OPERATIONS
| OFFICE OF THE CLERK OF THE BOARD | CLERK OF THE BOARD
NATIONAL AERONAUTICS AND SPACE
GLENN RESEARCH CENTER | OFFICE OF THE CHIEF FINANCIAL OFFICER | CHIEF FINANCIAL OFFICER
MISSION SUPPORT DIRECTORATE | NASA SHARED SERVICES CENTER | EXECUTIVE DIRECTOR OF NASA SHARED SERVICES CENTER
|  | DIRECTOR, SERVICE DELIVERY DIRECTORATE
|  | DIRECTOR, SUPPORT OPERATIONS DIRECTORATE
|  | DIRECTOR, OFFICE OF PROCUREMENT
NATIONAL AERONAUTICS AND SPACE ADMINISTRATION | AMES RESEARCH CENTER | DIRECTOR, HUMAN RESOURCES
|  | DIRECTOR OF ENGINEERING
|  | DEPUTY DIRECTOR, ENGINEERING
|  | CENTER ASSOCIATE DIRECTOR
|  | CHIEF FINANCIAL OFFICER
|  | DIRECTOR OF CENTER OPERATIONS
|  | DIRECTOR OF AERONAUTICS
|  | DIRECTOR OF SCIENCE
|  | DIRECTOR, EXPLORATION TECHNOLOGY
|  | CHIEF INFORMATION OFFICER
|  | DEPUTY DIRECTOR, EXPLORATION TECHNOLOGY
|  | DIRECTOR, PROGRAMS AND PROJECTS
|  | DEPUTY CENTER DIRECTOR FOR RESEARCH AND TECHNOLOGY
|  | DEPUTY DIRECTOR, SCIENCE
|  | DEPUTY DIRECTOR, AERONAUTICS
|  | DIRECTOR OF SAFETY AND MISSION ASSURANCE
|  | DEPUTY CENTER DIRECTOR, ARC
| ARMSTRONG FLIGHT RESEARCH CENTER | DEPUTY CENTER DIRECTOR, AFRC
|  | CENTER ASSOCIATE DIRECTOR FOR MISSION SUPPORT
|  | DIRECTOR FOR RESEARCH AND ENGINEERING
|  | DIRECTOR, MISSION OPERATIONS
|  | DIRECTOR FOR FLIGHT OPERATIONS
|  | DIRECTOR FOR SAFETY AND MISSION ASSURANCE
|  | DIRECTOR FOR PROGRAMS
|  | CHIEF FINANCIAL OFFICER
| GLENN RESEARCH CENTER | DEPUTY DIRECTOR, NASA SAFETY CENTER
|  | MANAGER, POWER AND PROPULSION ELEMENT PROJECT OFFICE
|  | DIRECTOR, SPACE FLIGHT SYSTEMS DIRECTORATE
|  | DEPUTY CHIEF, POWER DIVISION
|  | CHIEF, POWER DIVISION
|  | DIRECTOR, RESEARCH AND ENGINEERING DIRECTORATE
|  | DIRECTOR, FACILITIES, TEST AND MANUFACTURING DIRECTORATE
|  | DIRECTOR, SAFETY AND MISSION ASSURANCE DIRECTORATE
|  | CHIEF, SYSTEMS ENGINEERING AND ARCHITECTURE DIVISION
|  | DIRECTOR, AERONAUTICS DIRECTORATE
|  | CHIEF, MATERIALS AND STRUCTURES DIVISION
|  | CHIEF, PROPULSION DIVISION
|  | DEPUTY CHIEF, PROPULSION DIVISION
|  | CHIEF, COMMUNICATIONS AND INTELLIGENT SYSTEMS DIVISION
|  | DEPUTY DIRECTOR, RESEARCH AND ENGINEERING DIRECTORATE
|  | MANAGER, EUROPEAN SERVICE MODULE INTEGRATION OFFICE
|  | DIRECTOR, HUMAN RESOURCES
|  | DIRECTOR FOR STRATEGY
|  | DEPUTY CENTER DIRECTOR
|  | DIRECTOR, OFFICE OF PROCUREMENT
|  | CHIEF, CHIEF ENGINEER OFFICE
|  | DIRECTOR, TECHNOLOGY INTEGRATION AND PARTNERSHIPS
|  | MANAGER, NEIL A ARMSTRONG TEST FACILITY
|  | DEPUTY DIRECTOR OF FACILTIES, TEST AND MANUFACTURING DIRECTORATE
|  | CENTER ASSOCIATE DIRECTOR
|  | DEPUTY DIRECTOR, SPACE FLIGHT SYSTEMS
|  | DIRECTOR OF CENTER OPERATIONS
|  | CHIEF INFORMATION OFFICER
| GODDARD SPACE FLIGHT CENTER | DIRECTOR OF MANAGEMENT OPERATIONS
|  | CHIEF FINANCIAL OFFICER
|  | DIRECTOR OF SAFETY AND MISSION ASSURANCE
|  | DIRECTOR, SOLAR SYSTEM EXPLORATION DIVISION
|  | DIRECTOR OF THE OFFICE OF HUMAN CAPITAL MANAGEMENT
|  | DEPUTY DIRECTOR OF SAFETY AND MISSION ASSURANCE
|  | DIRECTOR OF SCIENCES AND EXPLORATION
|  | CHIEF, GODDARD INSTITUTE FOR SPACE STUDIES
|  | DIRECTOR, ASTROPHYSICS SCIENCE DIVISION
|  | DIRECTOR OF FLIGHT PROJECTS
|  | DIRECTOR, EARTH SCIENCES DIVISION
|  | DEPUTY DIRECTOR, SCIENCES AND EXPLORATION
|  | DIRECTOR OF WALLOPS FLIGHT FACILITY
|  | DEPUTY DIRECTOR
|  | DEPUTY DIRECTOR OF FLIGHT PROJECTS
|  | DIRECTOR OF ENGINEERING AND TECHNOLOGY
|  | DEPUTY DIRECTOR OF ENGINEERING AND TECHNOLOGY
|  | CHIEF, MECHANICAL SYSTEMS DIVISION
|  | CHIEF, SOFTWARE ENGINEERING DIVISION
|  | DEPUTY DIRECTOR FOR PLANNING AND BUSINESS MANAGEMENT
|  | ASSOCIATE DIRECTOR FOR EARTH SCIENCE PROJECTS DIVISION
|  | ASSOCIATE DIRECTOR FOR EXPLORATION AND SPACE COMMUNICATIONS PROJECTS DIVISION
|  | DEPUTY DIRECTOR FOR INSTITUTIONS, PROGRAMS, AND BUSINESS MANAGEMENT
|  | DEPUTY CHIEF FINANCIAL OFFICER
|  | DIRECTOR, HELIOPHYSICS SCIENCE DIVISION
|  | CENTER ASSOCIATE DIRECTOR
|  | CHIEF, MISSION ENGINEERING AND SYSTEMS ANALYSIS DIVISION
|  | ASSOCIATE DIRECTOR FOR EXPLORERS AND HELIOPHYSICS PROJECTS DIVISION
|  | CHIEF, INSTRUMENT SYSTEMS AND TECHNOLOGY DIVISION
|  | CHIEF, ELECTRICAL ENGINEERING DIVISION
|  | DEPUTY DIRECTOR FOR TECHNOLOGY AND RESEARCH INVESTMENTS
|  | DEPUTY DIRECTOR FLIGHT PROJECTS FOR PLANNING AND BUSINESS MANAGEMENT
|  | ASSOCIATE DIRECTOR FOR THE MARS SAMPLE RETURN, CAPTURE CONTAINMENT AND RETURN SYSTEM PROJECT
|  | CHIEF COUNSEL
|  | DEPUTY DIRECTOR FOR TECHNICAL MANAGEMENT
|  | SPECIAL ASSISTANT FOR PROJECT MANAGEMENT TRAINING
|  | CHIEF INFORMATION OFFICER AND DIRECTOR OF INFORMATION TECHNOLOGY AND COMMUNICATIONS DIRECTORATE
|  | DEPUTY DIRECTOR WALLOPS FLIGHT FACILITY
|  | SPECIAL ASSISTANT TO THE DIRECTOR
|  | DIRECTOR, OFFICE OF PROCUREMENT
| JOHNSON SPACE CENTER | MANAGER, SYSTEMS ENGINEERING AND INTEGRATION OFFICE, GATEWAY
|  | CHIEF, STRUCTURAL ENGINEERING DIVISION
|  | GATEWAY HABITATION AND LOGISTICS OUTPOST PROJECT MANAGER
|  | CHIEF ASTRONAUT OFFICE
|  | CHIEF, PROJECT MANAGEMENT AND SYSTEMS ENGINEERING DIVISION
|  | DEPUTY MANAGER, EXTRAVEHICULAR ACTIVITY AND HUMAN SURFACE MOBILITY PROGRAM
|  | MANAGER, EXTRAVEHICULAR ACTIVITY AND HUMAN SURFACE MOBILITY PROGRAM
|  | CHIEF, CREW AND THERMAL SYSTEMS DIVISION
|  | ASSOCIATE CENTER DIRECTOR FOR VISION AND STRATEGY
|  | MANAGER, PROGRAM OPERATIONS INTEGRATION, INTERNATIONAL SPACE STATION PROGRAM
|  | CHIEF, ASTROMATERIALS RESEARCH AND EXPLORATION SCIENCE (ARES)
|  | DEPUTY CHIEF FINANCIAL OFFICER
|  | DEPUTY MANAGER, GATEWAY PROGRAM
|  | MANAGER, VEHICLE SYSTEMS INTEGRATION
|  | CHIEF FINANCIAL OFFICER
|  | MANAGER, OPERATIONS INTEGRATION, COMMERCIAL CREW PROGRAM
|  | CHIEF, MISSION SYSTEMS DIVISION
|  | MANAGER, CREW AND SERVICE MODULE OFFICE
|  | DEPUTY MANAGER, FLIGHT DEVELOPMENT AND OPERATIONS, COMMERCIAL CREW PROGRAM
|  | DEPUTY MANAGER, ORION PROGRAM
|  | MANAGER, ORION PROGRAM
|  | MANAGER, VEHICLE INTEGRATION OFFICE
|  | DIRECTOR, FLIGHT OPERATIONS
|  | MANAGER, EXTERNAL INTEGRATION OFFICE
|  | DIRECTOR, EXPLORATION INTEGRATION AND SCIENCE
|  | CHIEF, PROPULSION AND POWER DIVISION
|  | MANAGER, INTERNATIONAL SPACE STATION TRANSPORTATION INTEGRATION
|  | DEPUTY DIRECTOR, FLIGHT OPERATIONS DIRECTORATE
|  | DIRECTOR, EXPLORATION OPERATIONS OFFICE
|  | DEPUTY MANAGER, INTERNATIONAL SPACE STATION PROGRAM
|  | MANAGER, AVIONICS AND SOFTWARE OFFICE
|  | MANAGER, SAFETY AND MISSION ASSURANCE/PROGRAM RISK OFFICE, ISSP
|  | MANAGER, INTERNATIONAL SPACE STATION RESEARCH INTEGRATION OFFICE
|  | DIRECTOR, EXTERNAL RELATIONS
|  | MANAGER, INTERNATIONAL SPACE STATION PROGRAM
|  | CHIEF INFORMATION OFFICER
|  | CHIEF, FLIGHT DIRECTOR OFFICE
|  | DEPUTY DIRECTOR, JOHNSON SPACE CENTER
|  | DEPUTY DIRECTOR, SAFETY AND MISSION ASSURANCE
|  | MANAGER, PROGRAM PLANNING AND CONTROL OFFICE, INTERNATIONAL SPACE STATION
|  | MANAGER, VEHICLE OFFICE
|  | CENTER ASSOCIATE DIRECTOR
|  | CHIEF, AEROSCIENCE AND FLIGHT MECHANICS DIVISION
|  | DEPUTY DIRECTOR, HUMAN HEALTH AND PEFORMANCE
|  | CHIEF, AIRCRAFT OPERATIONS DIVISION
|  | DIRECTOR OF HUMAN RESOURCES
|  | DIRECTOR, HUMAN HEALTH AND PERFORMANCE
|  | DIRECTOR, ENGINEERING
|  | DIRECTOR, CENTER OPERATIONS
|  | DIRECTOR, OFFICE OF PROCUREMENT
|  | MANAGER, WHITE SANDS TEST FACILITY
|  | DIRECTOR, SAFETY AND MISSION ASSURANCE
| KENNEDY SPACE CENTER | DEPUTY DIRECTOR, ENGINEERING
|  | MANAGER, EXPLORATION GROUND SYSTEMS PROGRAM
|  | DEPUTY MANAGER, EXPLORATION GROUND SYSTEMS PROGRAM
|  | DIRECTOR, ENGINEERING
|  | ASSOCIATE DIRECTOR, ENGINEERING
|  | MANAGER, LAUNCH SERVICES PROGRAM
|  | DEPUTY MANAGER, LAUNCH SERVICES PROGRAM
|  | DIRECTOR, SAFETY AND MISSION ASSURANCE
|  | DEPUTY DIRECTOR, JOHN F KENNEDY SPACE CENTER
|  | ASSOCIATE DIRECTOR, TECHNICAL, JOHN F KENNEDY SPACE CENTER
|  | CHIEF FINANCIAL OFFICER
|  | DIRECTOR, PROCUREMENT
|  | DIRECTOR, SPACEPORT INTEGRATION AND SERVICES
|  | DIRECTOR, COMMUNICATION AND PUBLIC ENGAGEMENT
|  | DIRECTOR, EXPLORATION RESEARCH AND TECHNOLOGY PROGRAMS
|  | DEPUTY DIRECTOR, SAFETY AND MISSION ASSURANCE
|  | DIRECTOR, HUMAN RESOURCES
|  | CHIEF, LABORATORIES AND TEST FACILITIES DIVISION, ENGINEERING
|  | CHIEF, TECHNICAL PERFORMANCE AND INTEGRATION DIVISION, ENGINEERING
|  | DEPUTY MANAGER, GROUND DEVELOPMENT AND OPERATIONS, COMMERCIAL CREW PROGRAM
|  | ASSOCIATE DIRECTOR, MANAGEMENT
|  | CHIEF, COMMERCIAL SYSTEMS DIVISION, ENGINEERING
|  | CHIEF, EXPLORATION SYSTEMS AND OPERATIONS DIVISION, ENGINEERING
|  | ASSOCIATE MANAGER, TECHNICAL, EXPLORATION GROUND SYSTEMS PROGRAM
|  | GROUND SYSTEMS INTEGRATION MANAGER, EXPLORATION GROUND SYSTEMS PROGRAM
|  | DEPUTY DIRECTOR, SPACEPORT INTEGRATION AND SERVICES
|  | PRINCIPAL ADVISOR FOR SPACE TRANSPORTATION
|  | MANAGER, DEEP SPACE LOGISTICS OFFICE
|  | CHIEF INFORMATION OFFICER, KENNEDY SPACE CENTER
|  | DIRECTOR, CENTER ENGAGEMENT AND BUSINESS INTEGRATION SERVICES
|  | MANAGER, ORION PRODUCTION OPERATIONS
| LANGLEY RESEARCH CENTER | SENIOR ADVISOR, ON-ORBIT SERVICING, ASSEMBLY, AND MANUFACTURING
|  | MANAGER, QUESST MISSION
|  | DEPUTY DIRECTOR FOR PROJECTS, ENGINEERING DIRECTORATE
|  | DIRECTOR, RESEARCH SERVICES DIRECTORATE
|  | DEPUTY DIRECTOR FOR STRUCTURES AND MATERIALS
|  | ASSOCIATE DIRECTOR, TECHNICAL
|  | DEPUTY DIRECTOR FOR AEROSCIENCES
|  | DIRECTOR, STRATEGIC PARTNERSHIPS OFFICE
|  | SENIOR ADVISOR TO THE CENTER DIRECTOR
|  | DEPUTY DIRECTOR, NATIONAL AERONAUTICS AND SPACE ADMINISTRATION ENGINEERING AND SAFETY CENTER
|  | DIRECTOR, NATIONAL AERONAUTICS AND SPACE ADMINISTRATION ENGINEERING AND SAFETY CENTER
|  | MANAGER, INTEGRATION OFFICE, NASA ENGINEERING AND SAFETY CENTER
|  | DIRECTOR, ENGINEERING DIRECTORATE
|  | DEPUTY DIRECTOR, ENGINEERING DIRECTORATE
|  | DIRECTOR, RESEARCH DIRECTORATE
|  | DEPUTY DIRECTOR, RESEARCH DIRECTORATE
|  | DIRECTOR, CENTER OPERATIONS DIRECTORATE
|  | DIRECTOR, AERONAUTICS RESEARCH DIRECTORATE
|  | DIRECTOR, SCIENCE DIRECTORATE
|  | DIRECTOR, SYSTEMS ANALYSIS AND ADVANCED CONCEPTS DIRECTORATE
|  | DIRECTOR, EARTH SYSTEM SCIENCE PATHFINDER PROGRAM OFFICE
|  | DIRECTOR, SPACE TECHNOLOGY AND EXPLORATION DIRECTORATE
|  | ASSOCIATE DIRECTOR, LANGLEY RESEARCH CENTER
|  | CHIEF INFORMATION OFFICER
|  | DEPUTY DIRECTOR FOR INTELLIGENT FLIGHT SYSTEMS
|  | CHIEF FINANCIAL OFFICER
|  | DIRECTOR, SAFETY AND MISSION ASSURANCE OFFICE
|  | DEPUTY DIRECTOR, LANGLEY RESEARCH CENTER
| MARSHALL SPACE FLIGHT CENTER | ASSOCIATE CENTER DIRECTOR
|  | MANAGER, SPACECRAFT/PAYLOAD INTEGRATION AND EVOLUTION OFFICE, SPACE LAUNCH SYSTEM PROGRAM OFFICE
|  | DIRECTOR, ENGINEERING DIRECTORATE
|  | DEPUTY DIRECTOR, OFFICE OF CENTER OPERATIONS
|  | DIRECTOR, OFFICE OF STRATEGIC ANALYSIS AND COMMUNICATIONS
|  | DIRECTOR, OFFICE OF CENTER OPERATIONS
|  | ASSOCIATE DIRECTOR FOR OPERATIONS, ENGINEERING DIRECTORATE
|  | DEPUTY MANAGER, OFFICE OF THE CHIEF ENGINEER, ENGINEERING DIRECTORATE
|  | DIRECTOR, MICHOUD ASSEMBLY FACILITY
|  | ASSOCIATE CENTER DIRECTOR, TECHNICAL
|  | DEPUTY CENTER DIRECTOR
|  | DEPUTY DIRECTOR, SAFETY AND MISSION ASSURANCE DIRECTORATE
|  | CHIEF INFORMATION OFFICER
|  | DEPUTY DIRECTOR, ENGINEERING DIRECTORATE
|  | DEPUTY DIRECTOR, SPACE SYSTEMS DEPARTMENT, ENGINEERING DIRECTORATE
|  | DIRECTOR, SPACE SYSTEMS DEPARTMENT, ENGINEERING DIRECTORATE
|  | DIRECTOR, MATERIALS AND PROCESSES LAB, ENGINEERING DIRECTORATE
|  | DIRECTOR, PROPULSION SYSTEMS DEPARTMENT, ENGINEERING DIRECTORATE
|  | DEPUTY DIRECTOR, PROPULSION SYSTEMS DEPARTMENT, ENGINEERING DIRECTORATE
|  | DIRECTOR, TEST LABORATORY, ENGINEERING DIRECTORATE
|  | DIRECTOR, SPACECRAFT AND VEHICLE SYSTEMS DEPARTMENTT, ENGINEERING DIRECTORATE
|  | DEPUTY DIRECTOR, SPACECRAFT AND VEHICLE SYSTEMS DEPARTMENT, ENGINEERING DIRECTORATE
|  | DIRECTOR, OFFICE OF HUMAN RESOURCES
|  | STRATEGIC ARCHITECT AND INTEGRATION MANAGER
|  | MANAGER, SCIENCE AND TECHNOLOGY OFFICE
|  | DEPUTY MANAGER, SCIENCE AND TECHNOLOGY OFFICE
|  | MANAGER, SYSTEMS ENGINEERING AND INTEGRATION OFFICE, SPACE LAUNCH SYSTEM PROGRAM OFFICE
|  | MANAGER, HUMAN EXPLORATION DEVELOPMENT AND OPERATIONS OFFICE
|  | DEPUTY MANAGER, HUMAN EXPLORATION DEVELOPMENT AND OPERATIONS OFFICE
|  | MANAGER, PROGRAM PLANNING AND CONTROL OFFICE, SPACE LAUNCH SYSTEM PROGRAM OFFICE
|  | ASSOCIATE PROGRAM MANAGER, SPACE LAUNCH SYSTEM PROGRAM OFFICE
|  | MANAGER, STAGES OFFICE, SPACE LAUNCH SYSTEM PROGRAM OFFICE
|  | MANAGER, BOOSTERS OFFICE, SPACE LAUNCH SYSTEM PROGRAM OFFICE
|  | MANAGER, SPACE LAUNCH SYSTEM PROGRAM OFFICE
|  | DEPUTY MANAGER, SPACE LAUNCH SYSTEM PROGRAM OFFICE
|  | MANAGER, ENGINES OFFICE, SPACE LAUNCH SYSTEM PROGRAM
|  | CHIEF ENGINEER, OFFICE OF THE CHIEF ENGINEER, ENGINEERING DIRECTORATE
|  | INTERNATIONAL SPACE STATION COST ACCOUNT MANAGER
|  | DEPUTY MANAGER, HUMAN LANDING SYSTEM PROGRAM OFFICE
|  | PROGRAM MANAGER, HUMAN LANDING SYSTEM
|  | CHIEF FINANCIAL OFFICER
|  | SPECIAL ASSISTANT FOR LIQUID PROPULSION SYSTEMS
|  | MANAGER, PLANETARY MISSIONS PROGRAM OFFICE
|  | MANAGER, BLOCK1B/EXPLORATION UPPER STAGE DEVELOPMENT OFFICE
|  | MANAGER, SYSTEMS ENGINEERING AND INTEGRATION OFFICE
| OFFICE OF THE ADMINISTRATOR | ASSOCIATE ADMINSTRATOR
|  | DIRECTOR FIELD OPERATIONS DIVISION
|  | DEPUTY DIGITAL TRANSFORMATION OFFICER AND CHIEF DATA OFFICER
|  | DIRECTOR OF SPACE ARCHITECTURES
|  | DIVERSITY AMBASSADOR
|  | CHIEF PROGRAM MANAGEMENT OFFICER
|  | DEPUTY ASSOCIATE ADMINISTRATOR FOR BUSINESS OPERATIONS
|  | CHIEF RESILIENCE OFFICE
|  | AGENCY RISK MANAGEMENT OFFICER
|  | DIRECTOR, CROSS-DIRECTORATE TECHNICAL INTEGRATION OFFICE
|  | DEPUTY DIRECTOR, NASA OFFICE OF JPL MANAGEMENT AND OVERSIGHT
|  | DEPUTY ASSOCIATE ADMINISTRATOR FOR NASA
| STENNIS SPACE CENTER | DEPUTY DIRECTOR, STENNIS SPACE CENTER
|  | DIRECTOR, ENGINEERING AND SCIENCE DIRECTORATE
|  | ASSOCIATE DIRECTOR
|  | DEPUTY DIRECTOR, ENGINEERING AND TEST DIRECTORATE
|  | DIRECTOR, CENTER OPERATIONS DIRECTORATE
| DIRECTOR, OFFICE OF SAFETY AND MISSION ASSURANCE
OFFICE OF THE ADMINISTRATOR | AERONAUTICS RESEARCH MISSION DIRECTORATE | DIRECTOR OF AIRSPACE OPERATIONS AND SAFETY PROGRAM OFFICE
|  | DIRECTOR OF TRANSFORMATIVE AERONAUTICS CONCEPTS PROGRAM OFFICE
|  | DIRECTOR OF ADVANCED AIR VEHICLES PROGRAM OFFICE
|  | DIRECTOR, AEROSCIENCES EVALUATION AND TEST CAPABILITIES PORTFOLIO
|  | DEPUTY ASSOCIATE ADMINISTRATOR FOR PROGRAMS
|  | DEPUTY ASSOCIATE ADMINISTRATOR FOR POLICY
|  | DEPUTY ASSOCIATE ADMINISTRATOR
|  | DIRECTOR FOR INTEGRATED AVIATION SYSTEMS PROGRAM
|  | DIRECTOR, PORTFOLIO ANALYSIS AND MANAGEMENT OFFICE
| EXPLORATION SYSTEMS DEVELOPMENT MISSION DIRECTORATE | DIRECTOR, TECHNICAL INTEGRATION OFFICE
|  | MANAGER, SYSTEMS ENGINEERING AND INTEGRATION
|  | DEPUTY ASSOCIATE ADMINISTRATOR, EXPLORATION SYSTEMS DEVELOPMENT
|  | DEPUTY ASSOCIATE ADMINISTRATOR, MOON TO MARS PROGRAM
|  | DEPUTY ASSOCIATE ADMINISTRATOR OF MANAGEMENT FOR ESDMD
|  | ASSISTANT DEPUTY ASSOCIATE ADMINISTRATOR FOR COMMON EXPLORATION SYSTEMS DEVELOPMENT
|  | ASSISTANT DEPUTY ASSOCIATE ADMINISTRATOR FOR TECHNICAL, MOON TO MARS PROGRAM
|  | DIRECTOR, BUSINESS OFFICE
|  | DIRECTOR, PROGRAM PLANNING
|  | AND CONTROL OFFICE
|  | DIRECTOR, MARS CAMPAIGN
|  | OFFICE
|  | DIRECTOR, SYSTEMS
|  | ENGINEERING AND INTEGRATION
|  | OFFICE
|  | SPECIAL ASSISTANT TO
|  | EXPLORATION SYSTEMS
|  | DEVELOPMENT MISSION
|  | DIRECTORATE
|  | ASSISTANT DEPUTY ASSOCIATE
|  | ADMINISTRATOR, MOON TO MARS
|  | PROGRAM
|  | DEPUTY ASSOCIATE
|  | ADMINISTRATOR, STRATEGY AND
|  | ARCHITECTURE OFFICE
|  | DEPUTY ASSOCIATE
|  | ADMINISTRATOR FOR
|  | DIRECTORATE INTEGRATION
|  | DIRECTOR, EXPLORATION
|  | SYSTEMS DEVELOPMENT MISSION
|  | DIRECTORATE SAFETY AND
|  | MISSION ASSURANCE OFFICE
| MISSION SUPPORT DIRECTORATE | DIRECTOR, EXECUTIVE RESOURCES
|  | DIRECTOR, BUSINESS OPERATIONS DIVISION
|  | DEPUTY ASSISTANT ADMINISTRATOR FOR OFFICE OF PROCUREMENT
|  | DIRECTOR, RESOURCES AND PERFORMANCE MANAGEMENT OFFICE
|  | DEPUTY ASSOCIATE ADMINISTRATOR, MISSION SUPPORT TRANSFORMATION OFFICE
|  | DIRECTOR, INFORMATION TECHNOLOGY PROCUREMENT OFFICE
|  | DEPUTY ASSOCIATE ADMINISTRATOR, INTEGRATION, STRATEGY, AND TRANSFORMATION
|  | DEPUTY ASSISTANT ADMINISTRATOR FOR BUSINESS MANAGEMENT
|  | SENIOR ADVISOR FOR HUMAN CAPITAL TRANSFORMATION
|  | DIRECTOR, ANALYSIS DIVISION
|  | DIRECTOR, AVIATION CAPABILITY MANAGEMENT OFFICE
|  | DIRECTOR, TALENT ACQUISITION AND DEVELOPMENT PROGRAM OFFICE
|  | DIRECTOR, CONTRACT MANAGEMENT DIVISION
|  | DEPUTY ASSOCIATE ADMINISTRATOR FOR MISSION SUPPORT
|  | ASSISTANT ADMINISTRATOR FOR PROTECTIVE SERVICES
|  | DIRECTOR, FACILITIES AND REAL ESTATE
|  | DEPUTY ASSISTANT ADMINISTRATOR FOR PROTECTIVE SERVICES
|  | DEPUTY ASSISTANT ADMINISTRATOR FOR STRATEGIC INFRASTRUCTURE
|  | DIRECTOR OF COUNTERINTELLIGENCE/COUNTER TERRORISM FOR PROTECTIVE SERVICES
|  | DIRECTOR, SPACE ENVIRONMENTS TESTING MANAGEMENT OFFICE (SETMO)
|  | PROCUREMENT DIRECTOR, NASA RESEARCH CENTERS OFFICE OF PROCUREMEN
|  | SENIOR STRATEGIC ADVISOR FOR MISSION SUPPORT DIRECTORATE
|  | DIRECTOR, PROGRAM OPERATIONS DIVISION
|  | ASSISTANT ADMINISTRATOR FOR HUMAN CAPITAL MANAGEMENT
|  | DIRECTOR, LOGISTICS MANAGEMENT DIVISION
|  | ASSISTANT ADMININSTRATOR FOR PROCUREMENT
|  | DEPUTY ASSISTANT ADMINISTRATOR FOR HUMAN CAPITAL MANAGEMENT
|  | ASSISTANT ADMINISTRATOR FOR INFRASTRUCTURE AND ADMININSTRATION
|  | DIRECTOR, HUMAN RESOURCES OFFICE
|  | DIRECTOR, OFFICE OF PROCUREMENT (2)
|  | DIRECTOR ENVIRONMENTAL MANAGEMENT DIVISION
| NASA OFFICE OF JET PROPULSION LAB MANAGEMENT AND OVERSIGHT | DIRECTOR, NASA OFFICE OF JPL MANAGEMENT AND OVERSIGHT
|  | DEPUTY DIRECTOR, NASA OFFICE OF JPL MANAGEMENT AND OVERSIGHT
| OFFICE INTERNATIONAL AND INTERAGENCY RELATIONS | DIRECTOR, EXPORT CONTROL AND INTERAGENCY LIAISON DIVISION
|  | DIRECTOR, ADVISORY COMMITTEE MANAGEMENT DIVISION
|  | DEPUTY ASSOCIATE ADMINISTRATOR FOR INTERNATIONAL AND INTERAGENCY RELATIONS
|  | DIRECTOR, HUMAN EXPLORATION AND OPERATIONS DIVISION
|  | DIRECTOR, SCIENCE DIVISION
|  | DIRECTOR, AERONAUTICS AND CROSS AGENCY SUPPORT DIVISION
| OFFICE OF CHIEF HEALTH AND MEDICAL OFFICER | CHIEF HEALTH AND MEDICAL OFFICER
|  | DEPUTY CHIEF HEALTH AND MEDICAL OFFICER
|  | DIRECTOR, HEALTH OPERATIONS AND OVERSIGHT
| OFFICE OF COMMUNICATIONS | DIRECTOR OF HISTORY AND INFORMATION SERVICES
|  | DIRECTOR OF NEWS, MEDIA, AND INTERNAL COMMUNICATIONS
|  | DIRECTOR OF ENGAGEMENT
|  | DEPUTY ASSOCIATE ADMINISTRATOR FOR COMMUNICATIONS
| OFFICE OF DIVERSITY AND EQUAL OPPORTUNITY | DIRECTOR, DIVERSITY AND DATA/ANALYTICS DIVISION AND FIELD OPERATIONS
|  | DEPUTY ASSOCIATE ADMINISTRATOR FOR DIVERSITY AND EQUAL OPPORTUNITY
|  | DIRECTOR, EQUAL OPPORTUNITY PROGRAMS DIVISION AND FIELD OPERATIONS
| OFFICE OF LEGISLATIVE AND INTERGOVERNMENTAL AFFAIRS | DEPUTY ASSOCIATE ADMINISTRATOR FOR LEGISLATIVE AND INTERGOVERNMENTAL AFFAIRS
| OFFICE OF SAFETY AND MISSION ASSURANCE | DIRECTOR, MISSIONS AND PROGRAMS ASSESSMENT DIVISION
|  | DIRECTOR, MISSION ASSURANCE STANDARDS AND CAPABILITIES DIVISION
|  | DEPUTY CHIEF SAFETY AND MISSION ASSURANCE OFFICER
|  | CHIEF SAFETY AND MISSION ASSURANCE OFFICER
|  | DIRECTOR, INSTITUTIONAL SAFETY MANAGEMENT DIVISION
|  | DIRECTOR, INDEPENDENT VERIFICATION AND VALIDATION PROGRAM
|  | DIRECTOR, NASA SAFETY CENTER
| OFFICE OF STEM ENGAGEMENT | DEPUTY ASSOCIATE ADMINISTRATOR FOR STEM ENGAGEMENT PROGRAM
|  | DEPUTY ASSOCIATE ADMINISTRATOR FOR STRATEGY AND INTEGRATION
| OFFICE OF THE CHIEF ENGINEER | CHIEF ENGINEER, HUMN EXPLOR DEVELOPMENT AND OPERATIONS
|  | DEPUTY CHIEF ENGINEER
|  | CHIEF ENGINEER
|  | DEPUTY FOR MANAGEMENT
| OFFICE OF THE CHIEF FINANCIAL OFFICER | DIRECTOR, FINANCIAL MANAGEMENT DIVISION
|  | DIRECTOR, QUALITY ASSURANCE
|  | ASSOCIATE DEPUTY CHIEF FINANCIAL OFFICER (FINANCE)
|  | DEPUTY CHIEF FINANCIAL OFFICER FOR STRATEGIC INSIGHTS AND BUDGET
|  | DEPUTY CHIEF FINANCIAL OFFICER (APPROPRIATIONS)
|  | DEPUTY CHIEF FINANCIAL OFFICER (FINANCE)
|  | DIRECTOR, STRATEGIC INVESTMENTS DIVISION
|  | DEPUTY CHIEF FINANCIAL OFFICER
|  | ASSOCIATE CHIEF FINANCIAL OFFICER FOR AGENCY BUDGET
| OFFICE OF THE CHIEF INFORMATION OFFICER | PROGRAM MANAGER, AGENCY BUSINESS SOLUTION
|  | DIGITAL TRANSFORMATION OFFICER
|  | SENIOR ADVISOR FOR TRANSFORMATION
|  | DEPUTY CHIEF INFORMATION OFFICER FOR OPERATIONS
|  | DIRECTOR, NETWORK AND TELECOMMUNICATION SERVICE
|  | ASSOCIATE CHIEF INFORMATION OFFICER, ENTERPRISE BUSINESS MANAGEMENT OFFICE
|  | DIRECTOR, APPLICATIONS AND PLATFORMS SERVICES
|  | DEPUTY CHIEF INFORMATION OFFICER FOR STRATEGY
|  | DIRECTOR, WORKFORCE AND COLLABORATION SERVICES
|  | DEPUTY CHIEF INFORMATION OFFICER FOR INFORMATION TECHNOLOGY SECURITY
| OFFICE OF THE CHIEF SCIENTIST | DEPUTY CHIEF SCIENTIST
| SCIENCE MISSION DIRECTORATE | DIRECTOR, RESOURCES MANAGEMENT DIVISION
|  | DEPUTY, DIRECTOR, HELIOPHYISCS DIVISION
|  | DEPUTY ASSOCIATE ADMINISTRATOR FOR RESEARCH
|  | ASSOCIATE DIRECTOR FOR FLIGHT PROGRAMS, PLANETARY SCIENCE DIVISION
|  | DIRECTOR, PLANETARY SCIENCE DIVISION
|  | DIRECTOR, HELIOPHYSICS DIVISION
|  | DEPUTY DIRECTOR, ASTROPHYSICS DIVISION
|  | PROGRAM DIRECTOR RESEARCH AND ANALYSIS PROGRAM
|  | DEPUTY ASSOCIATE ADMINISTRATOR FOR PROGRAMS
|  | DEPUTY ASSOCIATE ADMINISTRATOR, SCIENCE MISSION DIRECTORATE
|  | DEPUTY ASSOCIATE ADMINISTRATOR FOR MANAGEMENT
|  | DIRECTOR, ASTROPHYSICS DIVISION
|  | DIRECTOR, EARTH SCIENCE DIVISION
|  | DIRECTOR, JOINT AGENCY SATELLITE DIVISION
|  | DEPUTY DIRECTOR, JOINT AGENCY SATELLITE DIVISION
|  | DIRECTOR, BIOLOGICAL AND PHYSICAL SCIENCES DIVISION
|  | DIRECTOR, SCIENCE ENGAGEMENT AND PARTNERSHIPS
|  | SENIOR ADVISOR, SCIENCE MISSION DIRECTORATE
|  | ASSOCIATE DIRECTOR FOR RESEARCH, ASTROPHYSICS DIVISION
|  | ASSOCIATE DIRECTOR FOR FLIGHT PROGRAMS, ASTROPHYSICS DIVISION
|  | DEPUTY ASSOCIATE ADMINISTRATOR FOR EXPLORATION
|  | ASSOCIATE DIRECTOR FOR FLIGHT PROGRAMS, HELIOPHYSICS DIVISION
|  | ASSOCIATE DIRECTOR FOR FLIGHT PROGRAMS
|  | DIRECTOR, MARS SAMPLE RETURN PROGRAM
|  | DEPUTY DIRECTOR, PLANETARY SCIENCE DIVISION
|  | ASSISTANT DEPUTY ASSOCIATE ADMINISTRATOR FOR MANAGEMENT
|  | DEPUTY DIRECTOR, EARTH SCIENCE DIVISION
|  | ASSOCIATE DIRECTOR FOR THE ROMAN SPACE TELESCOPE
|  | DIRECTOR, BIOLOGICAL AND PHYSICAL SCIENCES DIVISION, SCIENCE MISSION DIRECTORATE
|  | ASSOCIATE DIRECTOR FOR EARTH ACTION, EARTH SCIENCE DIVISION
| SPACE OPERATIONS MISSION DIRECTORATE | SENIOR ADVISOR, SPACE OPERATIONS MISSION DIRECTORATE
|  | GATEWAY PROGRAM MANAGER
|  | SPECIAL ASSISTANT TO THE DAA, SYSTEMS ENGINEERING AND INTEGRATION
|  | ASSISTANT DEPUTY ASSOCIATE ADMINISTRATOR, ADVANCED EXPLORATION SYSTEMS
|  | DEPUTY DIRECTOR, STRATEGIC INTEGRATION AND MANAGEMENT
|  | DEPUTY ASSOCIATE ADMINISTRATOR, SPACE OPERATIONS
|  | DEPUTY ASSOCIATE ADMINISTRATOR, MANAGEMENT FOR ESDMD AND SOMD
|  | DEPUTY ASSOCIATE ADMINISTRATOR OF MANAGEMENT FOR SOMD
|  | DIRECTOR, STRATEGIC INTEGRATION AND MANAGEMENT DIVISION
|  | DIRECTOR, COMMERCIAL SPACEFLIGHT DEVELOPMENT DIVISION
|  | DIRECTOR, LAUNCH SERVICES OFFICE
|  | DIRECTOR, HUMAN RESEARCH PROGRAM
|  | DIRECTOR, HUMAN SPACEFLIGHT CAPABILITIES DIVISION
|  | DIRECTOR, NETWORK SERVICES
|  | DIRECTOR, RESOURCES MANAGEMENT OFFICE
|  | DIRECTOR, INTERNATIONAL SPACE STATION
|  | MANAGER, ROCKET PROPULSION TEST PROGRAM OFFICE
|  | DEPUTY ASSOCIATE ADMINISTRATOR FOR SPACE COMMUNICATIONS AND NAVIGATION
| SPACE TECHNOLOGY MISSION DIRECTORATE | DEPUTY ASSOCIATE ADMINISTRATOR FOR PROGRAMS
|  | DEPUTY ASSOCIATE ADMINISTRATOR (STMD)
|  | DEPUTY ASSOCIATE ADMINISTRATOR FOR MANAGEMENT
|  | DIRECTOR, STRATEGIC PLANNING AND INTEGRATION
|  | EARLY STAGE INNOVATIONS AND PARTNERSHIPS DIRECTOR
|  | TECHNOLOGY DEMONSTRATIONS PROGRAM DIRECTOR
|  | TECHNOLOGY MATURATION PROGRAM DIRECTOR
|  | DIRECTOR, RESOURCE MANAGEMENT OFFICE
NATIONAL AERONAUTICS AND SPACE ADMINISTRATION OFFICE OF THE INSPECTOR
| NATIONAL AERONAUTICS AND SPACE ADMINISTRATION OFFICE OF THE INSPECTOR GENERAL | DEPUTY INSPECTOR GENERAL
|  | ASSISTANT INSPECTOR GENERAL FOR INVESTIGATIONS
|  | ASSISTANT INSPECTOR GENERAL FOR AUDITING
|  | ASSISTANT INSPECTOR GENERAL FOR MANAGEMENT AND PLANNING
|  | COUNSEL TO THE INSPECTOR GENERAL
NATIONAL ARCHIVES AND RECORDS
ARCHIVIST OF UNITED STATES AND DEPUTY ARCHIVIST OF THE UNITED STATES | CONGRESSIONAL AFFAIRS STAFF | DIRECTOR, CONGRESSIONAL AFFAIRS
| GENERAL COUNSEL | GENERAL COUNSEL
| OFFICE OF INNOVATION | CHIEF INNOVATION OFFICER
| OFFICE OF THE CHIEF OF MANAGEMENT AND ADMINISTRATION | CHIEF OF MANAGEMENT AND ADMINISTRATION
| OFFICE OF THE CHIEF OF STAFF | CHIEF OF STAFF
| OFFICE OF THE CHIEF OPERATING OFFICER | CHIEF OPERATING OFFICER
LEGISLATIVE ARCHIVES, PRESIDENTIAL LIBRARIES AND MUSEUM SERVICES | OFFICE OF PRESIDENTIAL LIBRARIES | DIRECTOR, OFFICE OF PRESIDENTIAL LIBRARIES
NATIONAL ARCHIVES AND RECORDS ADMINISTRATION | ARCHIVIST OF UNITED STATES AND DEPUTY ARCHIVIST OF THE UNITED STATES | CHIEF EQUITY OFFICER
|  | DEPUTY ARCHIVIST OF THE UNITED STATES
OFFICE OF THE CHIEF OF MANAGEMENT AND ADMINISTRATION | BUSINESS SUPPORT SERVICES | BUSINESS SUPPORT SERVICES EXECUTIVE
| INFORMATION SERVICES | CHIEF TECHNOLOGY OFFICER
|  | DEPUTY CHIEF INFORMATION OFFICER
|  | CHIEF INFORMATION OFFICER
| OFFICE OF HUMAN CAPITAL | CHIEF HUMAN CAPITAL OFFICER
| OFFICE OF THE CHIEF ACQUISITION OFFICER | CHIEF ACQUISITION OFFICER
| OFFICE OF THE CHIEF FINANCIAL OFFICER | CHIEF FINANCIAL OFFICER
OFFICE OF THE CHIEF OPERATING OFFICER | AGENCY SERVICES | CHIEF RECORDS OFFICER
|  | AGENCY SERVICES EXECUTIVE
|  | DIRECTOR, NATIONAL PERSONNEL RECORDS CENTER
|  | DIRECTOR, INFORMATION SECURITY OVERSIGHT OFFICE
|  | DIRECTOR, RECORDS CENTER PROGRAMS
|  | DIRECTOR, NATIONAL DECLASSIFICATION CENTER
|  | DIRECTOR, OFFICE OF GOVERNMENT INFORMATION SERVICES
| LEGISLATIVE ARCHIVES, PRESIDENTIAL LIBRARIES AND MUSEUM SERVICES | LEGISLATIVE ARCHIVES, PRESIDENTIAL LIBRARIES AND MUSEUM SERVICES EXECUTIVE
| OFFICE OF THE FEDERAL REGISTER | DIRECTOR OF THE FEDERAL REGISTER
| RESEARCH SERVICES | RESEARCH SERVICES EXECUTIVE
|  | DEPUTY EXECUTIVE FOR ARCHIVAL OPERATIONS
NATIONAL ARCHIVES AND RECORDS ADMINISTRATION OFFICE OF THE INSPECTOR
| NATIONAL ARCHIVES AND RECORDS ADMINISTRATION OFFICE OF THE INSPECTOR GENERAL | INSPECTOR GENERAL
|  | ASSISTANT INSPECTOR GENERAL FOR AUDITING
|  | ASSISTANT INSPECTOR GENERAL FOR INVESTIGATIONS
NATIONAL CAPITAL PLANNING COMMISSION
NATIONAL CAPITAL PLANNING COMMISSION | NATIONAL CAPITAL PLANNING COMMISSION STAFF | EXECUTIVE DIRECTOR
UNITED STATES PATENT AND TRADEMARK OFFICE
| UNITED STATES PATENT AND TRADEMARK OFFICE | GROUP DIRECTOR
DEPARTMENT OF COMMERCE | PATENT AND TRADEMARK OFFICE | VICE CHIEF ADMINISTRATIVE PATENT JUDGE (2)
|  | GROUP DIRECTOR (32)
|  | GROUP DIRECTOR, TRADEMARK LAW OFFICES
|  | DIRECTOR PATENTS STAKEHOLDER EXPERIENCE
|  | VICE CHIEF ADMINISTRATIVE PATENT JUDGE
|  | DEPUTY CHIEF ADMINISTRATIVE TRADEMARK JUDGE
|  | DEPUTY COMMISSIONER FOR PATENTS
|  | DEPUTY CHIEF POLICY OFFICER FOR OPERATIONS
|  | DIRECTOR, OFFICE OF ADMINISTRATIVE SERVICES
|  | REGIONAL DIRECTOR
|  | ASSISTANT COMMISSIONER (7)
|  | DEPUTY CHIEF ADMINISTRATIVE OFFICER
|  | DIRECTOR, OFFICE OF CENTRAL REEXAMINATION UNIT
|  | DEPUTY COMMISSIONER FOR PATENT
|  | DIRECTOR, OFFICE OF PATENT LEGAL ADMINISTRATION
|  | DEPUTY CHIEF POLICY OFFICER
|  | DIRECTOR, OFFICE OF PLANNING AND BUDGET
|  | DIRECTOR, GOVERNMENTAL AFFAIRS
|  | CHIEF ADMINISTRATIVE PATENT JUDGE
|  | DEPUTY COMMISSIONER FOR TRADEMARK ADMINISTRATION
|  | DIRECTOR, ENTERPRISE INFRASTRUCTURE DELIVERY OFFICE (EIDO)
|  | DIRECTOR, RESOURCE PROGRAM MANAGEMENT OFFICE (RMO)
|  | DIRECTOR, END USER SERVICE OFFICE (EUSO)
|  | DIRECTOR, OFFICE OF EQUAL EMPLOYMENT OPPORTUNITY AND DIVERSITY
|  | DEPUTY SOLICITOR AND ASSISTANT GENERAL COUNSEL FOR INTELLECTUAL PROPERY LAW
|  | DEPUTY GENERAL COUNSEL FOR ENROLLMENT AND DISCIPLINE
|  | DIRECTOR, OFFICE OF PROCUREMENT
|  | CHIEF CORPORATE COMMUNICATIONS OFFICER
|  | CHIEF PATENT CLASSIFICATION OFFICIAL (CPCO)
|  | CHIEF INFORMATION SECURITY OFFICER
|  | DIRECTOR, OFFICE OF INFORMATION TECHNOLOGY FOR PATENTS
|  | DIRECTOR, OFFICE OF APPLICATION PROCESSING FOR PATENTS
|  | DIRECTOR, INTERNATIONAL PATENT LEGAL ADMINISTRATION
|  | DIRECTOR, FINANCIAL MANAGEMENT SYSTEMS
|  | GROUP DIRECTOR FOR TRADEMARK COMMUNICATIONS, OUTREACH AND MARKETING
|  | GROUP DIRECTOR FOR INFORMATION TECHNOLOGY
|  | DIRECTOR OF THE OFFICE OF PETITIONS
|  | GROUP DIRECTOR, TRADEMARK LAW OFFICES
|  | DIRECTOR REVIEW EXECUTIVE - PTAB
|  | PATENT TRIAL AND APPEAL BOARD EXECUTIVE
|  | DIRECTOR, OFFICE OF PATENT QUALITY ASSURANCE
|  | DEPUTY COMMISSIONER FOR PATENT
|  | DIRECTOR, OFFICE OF FINANCE
|  | DEPUTY CHIEF INFORMATION OFFICER
|  | DEPUTY COMMISSIONER FOR PATENT
|  | VICE CHIEF ADMINISTRATIVE PATENT JUDGE FOR STRATEGY
|  | DIRECTOR FOR OFFICE OF INNOVATION EXPANSION AND EDUCATION
|  | CHIEF TRADEMARK TRIAL AND APPEAL BOARD
|  | DEPUTY GENERAL COUNSEL FOR INTELLECTUAL PROPERTY AND SOLICITOR
|  | DEPUTY GENERAL COUNSEL FOR GENERAL LAW
|  | DEPUTY COMMISSIONER FOR TRADEMARK EXAMINATION POLICY
|  | GROUP DIRECTOR, TRADEMARK LAW OFFICES (2)
|  | DIRECTOR, BUSINESS PRODUCT DELIVERY OFFICE (BPDO)
|  | REGIONAL DIRECTOR—SILICON VALLEY
|  | VICE CHIEF ADMINISTRATIVE PATENT JUDGE
|  | REGIONAL DIRECTOR
|  | REGIONAL DIRECTOR—MIDWEST
|  | DEPUTY CHIEF ADMINISTRATIVE PATENT JUDGE
|  | DIRECTOR, IT TRANSFORMATION OFFICE (ITTO)
|  | GROUP DIRECTOR—3700
|  | DIRECTOR, HUMAN CAPITAL MANAGEMENT
|  | CHIEF FINANCIAL OFFICER
|  | DEPUTY CHIEF FINANCIAL OFFICER
|  | DEPUTY COMMISSIONER FOR PATENTS
|  | DEPUTY COMMISSIONER FOR TRADEMARK OPERATIONS
|  | SENIOR ADVISOR TO PATENTS
|  | CHIEF PATENT ACADEMIC OFFICER
NATIONAL ENDOWMENT FOR THE ARTS
| NATIONAL ENDOWMENT FOR THE ARTS | DEPUTY CHAIRMAN FOR MANAGEMENT AND BUDGET
|  | CHIEF INFORMATION OFFICER
|  | DIRECTOR , RESEARCH AND ANALYSIS
NATIONAL ENDOWMENT FOR THE ARTS OFFICE OF THE INSPECTOR GENERAL
| NATIONAL ENDOWMENT FOR THE ARTS OFFICE OF THE INSPECTOR GENERAL | INSPECTOR GENERAL
NATIONAL ENDOWMENT FOR THE HUMANITIES
| NATIONAL ENDOWMENT FOR THE HUMANITIES | ASSISTANT CHAIRMAN FOR PLANNING AND OPERATIONS
NATIONAL LABOR RELATIONS BOARD
| NATIONAL LABOR RELATIONS BOARD | DEPUTY ASSOCIATE GENERAL COUNSEL, DIVISION OF ENFORCEMENT LITIGATION
DIVISION OF OPERATIONS MANAGEMENT | REGIONAL OFFICES | REGIONAL DIRECTOR, REGION 27, DENVER, COLORADO
|  | REGIONAL DIRECTOR REGION 2, NEW YORK
|  | REGIONAL DIRECTOR, REGION 3, BUFFALO, NEW YORK
|  | REGIONAL DIRECTOR, REGION 4, PHILADELPHIA, PENNSYLVANIA
|  | REGIONAL DIRECTOR, REGION 5, BALTIMORE, MARYLAND
|  | REGIONAL DIRECTOR, REGION 6, PITTSBURGH, PENNSYLVANIA
|  | REGIONAL DIRECTOR, REGION 7, DETROIT, MICHIGAN
|  | REGIONAL DIRECTOR, REGION 8, CLEVELAND, OHIO
|  | REGIONAL DIRECTOR, REGION 9, CINCINNATI, OHIO
|  | REGIONAL DIRECTOR, REGION 10, ATLANTA, GEORGIA
|  | REGIONAL DIRECTOR, REGION 13, CHICAGO, ILLINOIS
|  | REGIONAL DIRECTOR, REGION 14, SAINT LOUIS, MISSOURI
|  | REGIONAL DIRECTOR, REGION 15, NEW ORLEANS, LOUISIANA
|  | REGIONAL DIRECTOR, REGION 16, FORT WORTH, TEXAS
|  | REGIONAL DIRECTOR, REGION 18, MINNEAPOLIS, MINNESOTA
|  | REGIONAL DIRECTOR, REGION 19, SEATTLE, WASHINGTON
|  | REGIONAL DIRECTOR, REGION 20, SAN FRANCISCO, CALIFORNIA
|  | REGIONAL DIRECTOR, REGION 21, LOS ANGELES, CALIFORNIA
|  | REGIONAL DIRECTOR, REGION 22, NEWARK, NEW JERSEY
|  | REGIONAL DIRECTOR, REGION 25, INDIANAPOLIS, INDIANA
|  | REGIONAL DIRECTOR, REGION 1, BOSTON, MASSACHUSETTS
|  | REGIONAL DIRECTOR, REGION 28, PHOENIX, ARIZONA
|  | REGIONAL DIRECTOR, REGION 29, BROOKLYN, NEW YORK
|  | REGIONAL DIRECTOR, REGION 32, OAKLAND, CALFORNIA
|  | REGIONAL DIRECTOR, REGION 31, LOS ANGELES, CALIFORNIA
NATIONAL LABOR RELATIONS BOARD | OFFICE OF THE BOARD MEMBERS | REGIONAL DIRECTOR, REGION 12, TAMPA, FLORIDA
|  | CHIEF INFORMATION OFFICER
|  | INSPECTOR GENERAL
|  | EXECUTIVE SECRETARY
| OFFICE OF THE GENERAL COUNSEL | ASSOCIATE GENERAL COUNSEL (DAEO)
OFFICE OF THE GENERAL COUNSEL | DIVISION OF ADMINISTRATION | DIRECTOR, DIVISION OF ADMINISTRATION
| DIVISION OF ADVICE | ASSOCIATE GENERAL COUNSEL, DIVISION OF ADVICE
|  | DEPUTY ASSOCIATE GENERAL COUNSEL, DIVISION OF ADVICE
| DIVISION OF ENFORCEMENT LITIGATION | DIRECTOR, OFFICE OF APPEALS
| DEPUTY ASSOCIATE GENERAL COUNSEL, APPELLATE COURT BRANCH
| DIVISION OF OPERATIONS MANAGEMENT | DEPUTY ASSOCIATE GENERAL COUNSEL, DIVISION OF OPERATIONS-MANAGEMENT
|  | ASSISTANT TO GENERAL COUNSEL (2)
|  | ASSISTANT GENERAL COUNSEL (2)
|  | ASSOCIATE GENERAL COUNSEL, DIVISION OF OPERATION- MANAGEMENT
DEPARTMENT OF THE TREASURY OFFICE OF THE SPECIAL INSPECTOR GENERAL FOR PANDEMIC
| DEPARTMENT OF TREASURY OFFICE OF THE SPECIAL INSPECTOR GENERAL FOR PANDEMIC RECOVERY | ASSISTANT INSPECTOR GENERAL FOR INVESTIGATIONS
NATIONAL SCIENCE FOUNDATION
DIRECTORATE FOR ENGINEERING | DIVISION OF ENGINEERING EDUCATION AND CENTERS | DEPUTY DIVISION DIRECTOR
DIRECTORATE FOR GEOSCIENCES | DIVISION OF EARTH SCIENCES | SECTION HEAD, INTEGRATED ACTIVITIES SECTION
| DIVISION OF OCEAN SCIENCES | DEPUTY DIVISION DIRECTOR
| OFFICE OF POLAR PROGRAMS | HEAD, SECTION FOR ANTARCTIC INFRASTRUCTURE AND LOGISTIC
DIRECTORATE FOR MATHEMATICAL AND PHYSICAL SCIENCES | DIVISION OF ASTRONOMICAL SCIENCES | DEPUTY DIVISION DIRECTOR
DIRECTORATE FOR SOCIAL, BEHAVIORAL AND ECONOMIC SCIENCES | NATIONAL CENTER FOR SCIENCE AND ENGINEERING STATISTICS | DIVISION DIRECTOR
|  | CHIEF STATISTICIAN
NATIONAL SCIENCE FOUNDATION | DIRECTORATE FOR BIOLOGICAL SCIENCES | DEPUTY ASSISTANT DIRECTOR
| DIRECTORATE FOR COMPUTER AND INFORMATION SCIENCE AND ENGINEERING | DEPUTY ASSISTANT DIRECTOR
| DIRECTORATE FOR GEOSCIENCES | DEPUTY ASSISTANT DIRECTOR
| DIRECTORATE FOR MATHEMATICAL AND PHYSICAL SCIENCES | DEPUTY ASSISTANT DIRECTOR
| DIRECTORATE FOR SOCIAL, BEHAVIORAL AND ECONOMIC SCIENCES | DEPUTY ASSISTANT DIRECTOR
| OFFICE OF BUDGET, FINANCE AND AWARD MANAGEMENT | CHIEF FINANCIAL OFFICER AND HEAD, OFFICE OF BUDGET, FINANCE AND AWARD MANAGEMENT
|  | DEPUTY OFFICE HEAD
| OFFICE OF INFORMATION AND RESOURCE MANAGEMENT | DEPUTY OFFICE HEAD
|  | HEAD, OFFICE OF INFORMATION AND RESOURCE MANAGEMENT AND CHIEF HUMAN CAPITAL OFFICER
| OFFICE OF THE CHIEF INFORMATION OFFICER | OFFICE HEAD AND CHIEF INFORMATION OFFICER
OFFICE OF BUDGET, FINANCE AND AWARD MANAGEMENT | BUDGET DIVISION | DEPUTY DIRECTOR
|  | DIVISION DIRECTOR
| DIVISION OF ACQUISITION AND COOPERATIVE SUPPORT | DIVISION DIRECTOR
|  | DEPUTY DIVISION DIRECTOR
| DIVISION OF FINANCIAL MANAGEMENT | DEPUTY CHIEF FINANCIAL OFFICER AND DIVISION DIRECTOR
|  | DEPUTY DIVISION DIRECTOR
| DIVISION OF GRANTS AND AGREEMENTS | DIVISION DIRECTOR
|  | DEPUTY DIVISION DIRECTOR
| DIVISION OF INSTITUTIONAL AND AWARD SUPPORT | DEPUTY DIVISION DIRECTOR
|  | DIVISION DIRECTOR
OFFICE OF INFORMATION AND RESOURCE MANAGEMENT | DIVISION OF ADMINISTRATIVE SERVICES | DIVISION DIRECTOR
|  | DEPUTY DIVISION DIRECTOR
| DIVISION OF HUMAN RESOURCE MANAGEMENT | DEPUTY DIVISION DIRECTOR
|  | DIVISION DIRECTOR
| DIVISION OF INFORMATION SYSTEMS | DEPUTY DIVISION DIRECTOR
OFFICE OF THE DIRECTOR | OFFICE OF EQUITY AND CIVIL RIGHTS | OFFICE HEAD
|  | DEPUTY OFFICE HEAD
| OFFICE OF INTEGRATIVE ACTIVITIES | CHIEF EVALUATION OFFICER AND SECTION HEAD FOR EVALUATION AND ASSESSMENT CAPABILITY (EAC)
| OFFICE OF THE GENERAL COUNSEL | DEPUTY GENERAL COUNSEL
|  | SENIOR ASSISTANT GENERAL COUNSEL AND DESIGNATED AGENCY ETHICS OFFICIAL
NATIONAL SCIENCE FOUNDATION OFFICE OF THE INSPECTOR GENERAL
| NATIONAL SCIENCE FOUNDATION OFFICE OF THE INSPECTOR GENERAL | DEPUTY INSPECTOR GENERAL
|  | ASSISTANT INSPECTOR GENERAL FOR AUDIT
|  | ASSISTANT INSPECTOR GENERAL FOR INVESTIGATIONS
|  | ASSISTANT INSPECTOR GENERAL FOR MANAGEMENT/CIO OF OIG
|  | INSPECTOR GENERAL
|  | DEPUTY INSPECTOR GENERAL AND COUNSEL TO THE INSPECTOR GENERAL
NATIONAL TRANSPORTATION SAFETY BOARD
OFFICE OF BOARD MEMBERS | OFFICE OF CHIEF FINANCIAL OFFICER | CHIEF FINANCIAL OFFICER
| OFFICE OF SAFETY RECOMMENDATIONS AND COMMUNICATIONS | DEPUTY DIRECTOR, OFFICE OF SAFETY RECOMMENDATIONS AND COMMUNICATIONS
| OFFICE OF THE MANAGING DIRECTOR | PRINCIPAL DEPUTY MANAGING DIRECTOR
|  | DIRECTOR, OFFICE OF THE ADMINISTRATIVE LAW JUDGES
|  | PRINCIPAL DEPUTY MANAGING DIRECTOR FOR MANAGEMENT AND OPERATIONS
|  | DEPUTY MANAGING DIRECTOR FOR INVESTIGATIONS
|  | CHIEF DATA OFFICER
OFFICE OF THE MANAGING DIRECTOR | OFFICE OF AVIATION SAFETY | DEPUTY DIRECTOR, REGIONAL OPERATIONS
|  | DIRECTOR OFFICE OF AVIATION SAFETY
|  | DEPUTY DIRECTOR, OFFICE OF AVIATION SAFETY
| OFFICE OF CHIEF INFORMATION OFFICER | CHIEF INFORMATION OFFICER
| OFFICE OF HIGHWAY SAFETY | DIRECTOR, OFFICE OF HIGHWAY SAFETY
| OFFICE OF HUMAN CAPITAL MANAGEMENT AND TRAINING | CHIEF HUMAN CAPITAL OFFICER
| OFFICE OF MARINE SAFETY | DIRECTOR, OFFICE OF MARINE SAFETY
| OFFICE OF RAILROAD, PIPELINE AND HAZARDOUS MATERIALS INVESTIGATIONS | DIRECTOR, OFFICE OF RAILROAD, PIPELINE AND HAZARDOUS MATERIALS INVESTIGATIONS
| OFFICE OF RESEARCH AND ENGINEERING | DIRECTOR OFFICE OF RESEARCH AND ENGINEERING
DEPUTY DIRECTOR OFFICE OF RESEARCH AND ENGINEERING
NUCLEAR REGULATORY COMMISSION
NUCLEAR REGULATORY COMMISSION | OFFICE OF ADMINISTRATION | DIRECTOR, ACQUISITION MANAGEMENT DIVISION
|  | DIRECTOR, DIVISION OF FACILITIES AND SECURITY
|  | DEPUTY DIRECTOR, OFFICE OF ADMINISTRATION
| OFFICE OF COMMISSION APPELLATE ADJUDICATION | DIRECTOR, OFFICE OF COMMISSION APPELLATE ADJUDICATION
| OFFICE OF NUCLEAR MATERIAL SAFETY AND SAFEGUARDS | DIRECTOR, DIVISION OF RULEMAKING, ENVIRONMENTAL, AND FINANCIAL SUPPORT (2)
|  | DEPUTY DIRECTOR, DIVISION OF RULEMAKING, ENVIRONMENTAL, AND FINANCIAL SUPPORT
|  | DEPUTY DIRECTOR, DIVISION OF FUEL MANAGEMENT (2)
|  | DIRECTOR, DIVISION OF MATERIALS SAFETY, STATE, TRIBAL, AND RULEMAKING PROGRAMS
|  | SPECIAL ASSISTANT, DIVISION OF RULEMAKING, ENVIRONMENTAL, FINANCE
|  | DIRECTOR, SBSQNT LIC ENVIRONMENTAL DIRECT
|  | DEPUTY DIRECTOR, DIVISION OF MATERIALS SAFETY, STATE, TRIBAL, AND RULEMAKING PROGRAMS
|  | DIRECTOR, DIVISION OF DECOMMISSIONING, URANIUM RECOVERY, AND WASTE PROGRAMS
|  | DEPUTY DIRECTOR, DIVISION OF DECOMMISSIONING, URANIUM RECOVERY, AND WASTE PROGRAMS
| OFFICE OF NUCLEAR REACTOR REGULATION | DIRECTOR, DIVISION OF ENGINEERING AND EXTERNAL HAZARDS
|  | DIRECTOR, DIVISION OF RISK ASSESSMENT
|  | DIRECTOR, DIVISION OF NEW AND RENEWED LICENSE
|  | DEPUTY OFFICE DIRECTOR FOR NEW REACTORS
|  | DIRECTOR, DIVISION OF OPERATING REACTOR LICENSING
|  | DEPUTY DIRECTOR, DIVISION OF OPERATING REACTOR LICENSING (2)
|  | DIRECTOR, DIVISION OF REACTOR OVERSIGHT
|  | DEPUTY DIRECTOR, DIVISION OF ENGINEERING AND EXTERNAL HAZARDS
|  | DIRECTOR, DIVISION OF SAFETY SYSTEMS
|  | DEPUTY DIRECTOR, DIVISION OF SAFETY SYSTEMS
|  | DEPUTY OFFICE DIRECTOR FOR ENGINEERING
|  | DEPUTY DIRECTOR, DIVISION OF REACTOR OVERSIGHT
|  | DEPUTY DIRECTOR, DIVISION OF RISK ASSESSMENT
|  | DEPUTY OFFICE DIRECTOR FOR REACTOR SAFETY PROGRAMS AND MISSION SUPPORT
|  | DEPUTY DIRECTOR, DIVISION OF ADVANCED REACTORS AND NON- POWER PRODUCTION AND UTILIZATION FACILITIES (2)
|  | DEPUTY DIRECTOR, DIVISION OF NEW AND RENEWED LICENSES
|  | DIRECTOR, VOGTLE 3 AND 4 PROJECT OFFICE
| OFFICE OF NUCLEAR REGULATORY RESEARCH | DEPUTY DIRECTOR, DIVISION OF ENGINEERING
|  | DIRECTOR, DIVISION OF ENGINEERING
|  | DIRECTOR, DIVISION OF SYSTEMS ANALYSIS
|  | DEPUTY DIRECTOR, DIVISION OF SYSTEMS ANALYSIS
|  | DIRECTOR, DIVISION OF RISK ANALYSIS
|  | DEPUTY DIRECTOR, DIVISION OF RISK ANALYSIS
| OFFICE OF NUCLEAR SECURITY AND INCIDENT RESPONSE | DEPUTY DIRECTOR, DIVISION OF SECURITY OPERATIONS
|  | DEPUTY DIRECTOR, OFFICE OF NUCLEAR SECURITY AND INCIDENT RESPONSE
|  | DIRECTOR, DIVISION OF PREPAREDNESS AND RESPONSE
|  | DIRECTOR, DIVISION OF SECURITY OPERATIONS
|  | DEPUTY DIRECTOR, DIVISION OF PREPAREDNESS AND RESPONSE
|  | DEPUTY DIRECTOR, DIVISION OF PHYSICAL AND CYBER SECURITY POLICY
|  | DIRECTOR, DIVISION OF PHYSICAL AND CYBER SECURITY POLICY
| OFFICE OF SMALL BUSINESS AND CIVIL RIGHTS | DIRECTOR, OFFICE OF SMALL BUSINESS AND CIVIL RIGHTS
| OFFICE OF THE CHIEF FINANCIAL OFFICER | COMPTOLLER
|  | DEPUTY CHIEF FINANICAL OFFICER
|  | BUDGET DIRECTOR
| OFFICE OF THE CHIEF INFORMATION OFFICER | DIRECTOR/CHIEF INFORMATION SECURITY OFFICER
|  | DIRECTOR, GOVERNANCE AND ENTERPRISE MANAGEMENT SERVICES DIVISION
|  | DIRECTOR, IT SERVICES DEVELOPMENT AND OPERATIONS DIVISION
| REGION I | DEPUTY REGIONAL ADMINISTRATOR
|  | DIRECTOR, DIVISION OF OPERATING REACTOR SAFETY
|  | DEPUTY DIRECTOR, DIVISION OF OPERATING REACTOR SAFETY
|  | DIRECTOR, DIVISION OF RADIOLOGICAL SAFETY AND SECURITY
|  | DIRECTOR, DIVISION OF RADIOLOGICAL SAFETY AND SECURITY
|  | DEPUTY DIRECTOR, DIVISION OF RADIOLOGICAL SAFETY AND SECURITY
| REGION II | DEPUTY REGIONAL ADMINISTRATOR
|  | DEPUTY DIRECTOR, DIVISION OF REACTOR SAFETY
|  | DIRECTOR, DIVISION OF REACTOR SAFETY
|  | DIRECTOR, DIVISION OF REACTOR PROJECTS
|  | DEPUTY DIRECTOR, DIVISION OF REACTOR PROJECTS
| REGION III | DEPUTY REGIONAL ADMINISTRATOR
|  | DEPUTY DIRECTOR, DIVISION OF OPERATING REACTOR SAFETY
| DIRECTOR, DIVISION OF RADIOLOGICAL SAFETY AND SECURITY
|  | DIRECTOR, DIVISION OF OPERATING REACTOR SAFETY
|  | DEPUTY DIRECTOR, DIVISION OF REACTOR SAFETY
|  | DEPUTY DIRECTOR, DIVISION OF RADIOLOGICAL SAFETY AND SECURITY
| REGION IV | DIRECTOR, DIVISION OF OPERATING REACTOR SAFETY
|  | DEPUTY DIRECTOR, DIVISION OF OPERATING REACTOR SAFETY
|  | DIRECTOR, DIVISION OF RADIOLOGICAL SAFETY AND SECURITY
|  | DEPUTY DIRECTOR, DIVISION OF RADIOLOGICAL SAFETY AND SECURITY
|  | DEPUTY REGIONAL ADMINISTRATOR
NUCLEAR REGULATORY COMMISSION OFFICE OF THE INSPECTOR GENERAL
| NUCLEAR REGULATORY COMMISSION OFFICE OF THE INSPECTOR GENERAL | DEPUTY INSPECTOR GENERAL
NUCLEAR REGULATORY COMMISSION OFFICE OF THE INSPECTOR GENERAL | ASSISTANT INSPECTOR GENERAL FOR AUDITS | ASSISTANT INSPECTOR GENERAL FOR AUDITS
| ASSISTANT INSPECTOR GENERAL FOR INVESTIGATIONS | ASSISTANT INSPECTOR GENERAL FOR INVESTIGATIONS
OCCUPATIONAL SAFETY AND HEALTH REVIEW
OCCUPATIONAL SAFETY AND HEALTH REVIEW COMMISSION | OFFICE OF THE EXECUTIVE DIRECTOR | EXECUTIVE DIRECTOR
OFFICE OF GOVERNMENT ETHICS
| OFFICE OF GOVERNMENT ETHICS | DEPUTY DIRECTOR FOR COMPLIANCE
|  | DEPUTY GENERAL COUNSEL
|  | CHIEF OF STAFF AND PROGRAM COUNSEL
OFFICE OF MANAGEMENT AND BUDGET
GENERAL GOVERNMENT PROGRAMS | HOUSING, TREASURY AND COMMERCE DIVISION | CHIEF, HOUSING BRANCH
|  | CHIEF, COMMERCE BRANCH
|  | DEPUTY ASSOCIATE DIRECTOR FOR HOUSING, TREASURY AND COMMERCE
|  | CHIEF, TREASURY BRANCH
| TRANSPORTATION, HOMELAND, JUSTICE AND SERVICES DIVISION | CHIEF, TRANSPORTATION/GENERAL SERVICES ADMINISTRATION BRANCH
|  | DEPUTY ASSOCIATE DIRECTOR, TRANSPORTATION, HOMELAND, JUSTICE AND SERVICES
|  | CHIEF, JUSTICE BRANCH
|  | CHIEF, HOMELAND SECURITY BRANCH
HUMAN RESOURCE PROGRAMS | HEALTH DIVISION | DEPUTY ASSOCIATE DIRECTOR FOR HEALTH
|  | CHIEF, MEDICARE BRANCH (2)
|  | CHIEF, HEALTH AND HUMAN SERVICES BRANCH
|  | CHIEF, PUBLIC HEALTH BRANCH
|  | CHIEF, HEALTH INSURANCE AND DATA ANALYSIS BRANCH
NATIONAL SECURITY PROGRAMS | INTERNATIONAL AFFAIRS DIVISION | DEPUTY ASSOCIATE DIRECTOR FOR INTERNATIONAL AFFAIRS
|  | CHIEF, ECONOMIC AFFAIRS BRANCH
| NATIONAL SECURITY DIVISION | CHIEF, INTELLIGENCE PROGRAMS BRANCH
|  | CHIEF, FORCE STRUCTURE AND INVESTMENT BRANCH
|  | DEPUTY ASSOCIATE DIRECTOR FOR NATIONAL SECURITY
|  | CHIEF, VETERANS AFFAIRS AND DEFENSE HEALTH BRANCH
|  | CHIEF, DEFENSE OPERATIONS, PERSONNEL, AND SUPPORT
NATURAL RESOURCE PROGRAMS | ENERGY, SCIENCE AND WATER DIVISION | CHIEF, ENERGY BRANCH
|  | CHIEF SCIENCE AND SPACE PROGRAMS BRANCH
|  | CHIEF, WATER AND POWER BRANCH
|  | DEPUTY ASSOCIATE DIRECTOR FOR ENERGY, SCIENCE, AND WATER DIVISION
| NATURAL RESOURCES DIVISION | DEPUTY ASSOCIATE DIRECTOR FOR NATURAL RESOURCES
|  | CHIEF, AGRICULTURE BRANCH
|  | CHIEF INTERIOR BRANCH
|  | CHIEF, ENVIRONMENT BRANCH
OFFICE OF INFORMATION AND REGULATORY AFFAIRS | OFFICE OF E-GOVERNMENT AND INFORMATION TECHNOLOGY | DEPUTY FEDERAL CHIEF INFORMATION OFFICER
OFFICE OF MANAGEMENT AND BUDGET | OFFICE OF THE DIRECTOR | EXECUTIVE SECRETARY
|  | SENIOR ADVISOR
|  | SENIOR ADVISOR TO THE DIRECTOR
| STAFF OFFICES | ASSISTANT DIRECTOR FOR MANAGEMENT AND OPERATIONS
|  | DEPUTY ASSISTANT DIRECTOR FOR MANAGEMENT
|  | CHIEF, FEDERAL WORKFORCE BRANCH
OFFICE OF THE DIRECTOR | BUDGET REVIEW | DEPUTY CHIEF BUDGET ANALYSIS BRANCH
|  | CHIEF BUDGET ANALYSIS BRANCH
|  | DEPUTY ASSISTANT DIRECTOR FOR BUDGET REVIEW
|  | CHIEF, BUDGET SYSTEMS BRANCH
|  | ASSISTANT DIRECTOR FOR BUDGET REVIEW
|  | CHIEF, BUDGET CONCEPTS BRANCH
|  | CHIEF, BUDGET REVIEW BRANCH
|  | DEPUTY CHIEF, BUDGET REVIEW BRANCH
| ECONOMIC POLICY DIVISION | DEPUTY ASSOCIATE DIRECTOR FOR ECONOMIC POLICY
| EDUCATION, INCOME MAINTENANCE AND LABOR PROGRAMS | DEPUTY ASSOCIATE DIRECTOR FOR EDUCATION, INCOME MAINTAINENCE AND LABOR
|  | CHIEF, LABOR BRANCH
|  | CHIEF, INCOME MAINTENANCE BRANCH
|  | CHIEF, EDUCATION BRANCH
| GENERAL COUNSEL | ATTORNEY-ADVISOR
| LEGISLATIVE REFERENCE DIVISION | CHIEF, HEALTH, EDUCATION, VETERANS, AND SOCIAL PROGRAMS BRANCH
|  | CHIEF, RESOURCES-DEFENSE- INTERNATIONAL BRANCH
|  | CHIEF, ECONOMICS, SCIENCE AND GOVERNMENT BRANCH
|  | ASSISTANT DIRECTOR LEGISLATIVE REFERENCE
| OFFICE OF FEDERAL FINANCIAL MANAGEMENT | DEPUTY CONTROLLER
| OFFICE OF FEDERAL PROCUREMENT POLICY | ASSOCIATE ADMINISTRATOR
|  | DEPUTY ADMINISTRATOR FOR FEDERAL PROCUREMENT POLICY
| OFFICE OF INFORMATION AND REGULATORY AFFAIRS | CHIEF, INFORMATION POLICY BRANCH
|  | CHIEF STATISTICAL AND SCIENCE POLICY BRANCH
|  | CHIEF, NATURAL RESOURCES AND ENVIRONMENT BRANCH
|  | CHIEF, FOOD, HEALTH AND LABOR BRANCH
|  | CHIEF, PRIVACY BRANCH
|  | DEPUTY ADMINISTRATOR, OFFICE OF INFORMATION AND REGULATORY AFFAIRS
|  | CHIEF, TRANSPORTATION AND SECURITY BRANCH
OFFICE OF NATIONAL DRUG CONTROL POLICY
OFFICE OF NATIONAL DRUG CONTROL POLICY | OFFICE OF INTELLIGENCE | ASSISTANT DIRECTOR FOR INTELLIGENCE
| OFFICE OF OPERATIONS | ASSISTANT DIRECTOR FOR THE OFFICE OF OPERATIONS
| OFFICE OF PERFORMANCE AND BUDGET | ASSISTANT DIRECTOR FOR OFFICE OF PERFORMANCE AND BUDGET
OFFICE OF PERSONNEL MANAGEMENT
OFFICE OF PERSONNEL MANAGEMENT | FACILITIES, SECURITY AND EMERGENCY MANAGEMENT | DIRECTOR, FACILITIES, SECURITY AND EMERGENCY MANAGEMENT
| HEALTHCARE AND INSURANCE | DEPUTY ASSOCIATE DIRECTOR, ACTUARY
|  | DEPUTY ASSOCIATE DIRECTOR, POSTAL SERVICE INSURANCE OPERATIONS
|  | DEPUTY ASSOCIATE DIRECTOR, FEDERAL EMPLOYEE INSURANCE OPERATIONS
| MERIT SYSTEM ACCOUNTABILITY AND COMPLIANCE | PRINCIPAL DEPUTY ASSOCIATE DIRECTOR
| OFFICE OF PROCUREMENT OPERATIONS | DEPUTY DIRECTOR, OFFICE OF PROCUREMENT OPERATIONS
|  | DIRECTOR, OFFICE OF PROCUREMENT OPERATIONS
| OFFICE OF SMALL AND DISADVANTAGED BUSINESS UTILIZATION | DIRECTOR, OFFICE OF SMALL AND DISADVANTAGED BUSINESS UTILIZATION
| OFFICE OF THE CHIEF INFORMATION OFFICER | CHIEF INFORMATION SECURITY OFFICER
| OFFICE OF THE CHIEF FINANCIAL OFFICER | DEPUTY CHIEF FINANCIAL OFFICER
|  | CHIEF FINANCIAL OFFICER
|  | ASSOCIATE CHIEF FINANCIAL OFFICER, FINANCIAL SERVICES
| OFFICE OF THE DIRECTOR | EXECUTIVE DIRECTOR, OFFICE OF THE EXECUTIVE SECRETARIAT AND PRIVACY AND INFORMATION MANAGEMENT
| RETIREMENT SERVICES | PRINCIPAL DEPUTY ASSOCIATE DIRECTOR RETIREMENT SERVICES
|  | DEPUTY ASSOCIATE DIRECTOR, OPERATIONS (2)
|  | PRINCIPAL DEPUTY ASSOCIATE DIRECTOR
OFFICE OF THE DIRECTOR | HUMAN CAPITAL DATA MANAGEMENT AND MODERNIZATION | DEPUTY DIRECTOR, HUMAN CAPITAL DATA MANAGEMENT AND MODERNIZATION AND CHIEF DATA OFFICER
|  | CHIEF DATA OFFICER
OFFICE OF PERSONNEL MANAGEMENT OFFICE OF THE INSPECTOR GENERAL
| OFFICE OF AUDITS | DEPUTY ASSISTANT INSPECTOR GENERAL FOR AUDITS (2)
|  | ASSISTANT INSPECTOR GENERAL FOR AUDITS
| OFFICE OF INVESTIGATIONS | ASSISTANT INSPECTOR GENERAL FOR INVESTIGATIONS
|  | DEPUTY ASSISTANT INSPECTOR GENERAL FOR INVESTIGATIONS
| OFFICE OF LEGISLATIVE AND LEGAL AFFAIRS | DEPUTY ASSISTANT INSPECTOR GENERAL FOR LEGAL AND LEGISLATIVE AFFAIRS
|  | ASSISTANT INSPECTOR GENERAL FOR LEGISLATIVE AND LEGAL AFFAIRS
| OFFICE OF THE INSPECTOR GENERAL | DEPUTY INSPECTOR GENERAL
OFFICE OF MANAGEMENT | OFFICE OF MANAGEMENT | ASSISTANT INSPECTOR GENERAL FOR MANAGEMENT
|  | DEPUTY ASSISTANT INSPECTOR GENERAL CHIEF INFORMATION OFFICER
|  | DEPUTY ASSISTANT INSPECTOR GENERAL FOR MANAGEMENT
OFFICE OF THE INSPECTOR GENERAL | OFFICE OF EVALUATIONS | ASSISTANT INSPECTOR GENERAL FOR EVALUATIONS
OFFICE OF SCIENCE AND TECHNOLOGY POLICY
| OFFICE OF SCIENCE AND TECHNOLOGY POLICY | DEPUTY GENERAL COUNSEL AND CHIEF OPERATING OFFICER
OFFICE OF SPECIAL COUNSEL
| OFFICE OF SPECIAL COUNSEL | ASSOCIATE SPECIAL COUNSEL FOR INVESTIGATION AND PROSECUTION (FIELD OFFICES)
OFFICE OF SPECIAL COUNSEL | HEADQUARTERS, OFFICE OF SPECIAL COUNSEL | ASSOCIATE SPECIAL COUNSEL FOR GENERAL LAW DIVISION
|  | CHIEF OPERATING OFFICER
|  | ASSOCIATE SPECIAL COUNSEL FOR INVESTIGATION AND PROSECUTION (HEADQUARTERS)
|  | DIRECTOR OF MANAGEMENT AND BUDGET
|  | ASSOCIATE SPECIAL COUNSEL (GENERAL LAW)
|  | DIRECTOR, OFFICE OF PLANNING AND ANALYSIS
|  | CHIEF FINANCIAL OFFICER AND DIRECTOR OF ADMINISTRATIVE SERVICES
|  | SENIOR ASSOCIATE SPECIAL COUNSEL FOR INVESTIGATION AND PROSECUTION
|  | ASSOCIATE SPECIAL COUNSEL FOR INVESTIGATION AND PROSECUTION
|  | ASSOCIATE SPECIAL COUNSEL FOR INVESTIGATION AND PROSECUTION (2)
|  | ASSOCIATE SPECIAL COUNSEL FOR LEGAL COUNSEL AND POLICY
SURFACE TRANSPORTATION BOARD
| SURFACE TRANSPORTATION BOARD | MANAGING DIRECTOR
|  | DIRECTOR OF PUBLIC ASST GOVERNMENT AFFAIRS AND COMPLIANCE
|  | DIRECTOR, OFFICE OF ECONOMICS
|  | GENERAL COUNSEL
|  | DIRECTOR, OFFICE OF PROCEEDINGS
|  | DIRECTOR OFFICE OF ENVIRONMENTAL ANALYSIS
|  | DIRECTOR, OFFICE OF PASSENGER RAIL
OFFICE OF THE UNITED STATES TRADE
OFFICE OF THE UNITED STATES TRADE REPRESENTATIVE | EUROPE AND THE MIDDLE EAST | ASSISTANT UNITED STATES TRADE REPRESENTATIVE FOR EUROPE AND THE MIDDLE EAST
| INNOVATION AND INTELLECTUAL PROPERTY | ASSISTANT UNITED STATES TRADE REPRESENTATIVE FOR INNOVATION AND INTELLECTUAL PROPERTY
| INTERAGENCY CENTER FOR TRADE IMPLEMENTATION, MONITORING, AND ENFORCEMENT | DIRECTOR OF INTERAGENCY CENTER FOR TRADE IMPLEMENTATION, MONITORING, AND ENFORCEMENT
| LABOR AFFAIRS | ASSISTANT UNITED STATES TRADE REPRESENTATIVE FOR LABOR AFFAIRS
UNITED STATES ACCESS BOARD
PUBLIC BOARD | OFFICE OF THE EXECUTIVE DIRECTOR | EXECUTIVE DIRECTOR
RAILROAD RETIREMENT BOARD
RAILROAD RETIREMENT BOARD | BOARD STAFF | DIRECTOR OF FISCAL OPERATIONS
|  | CHIEF OF TECHNOLOGY SERVICE
|  | CHIEF ACTUARY
|  | DIRECTOR OF FIELD SERVICE
|  | DIRECTOR OF ADMINISTRATION
|  | DEPUTY GENERAL COUNSEL
|  | GENERAL COUNSEL
|  | DIRECTOR OF PROGRAMS
|  | CHIEF INFORMATION OFFICER
|  | DIRECTOR OF OPERATIONS
|  | CHIEF FINANCIAL OFFICER
RAILROAD RETIREMENT BOARD OFFICE OF THE INSPECTOR GENERAL
| OFFICE OF INSPECTOR GENERAL | ASSISTANT INSPECTOR GENERAL FOR AUDIT (2)
|  | GENERAL COUNSEL
|  | ASSISTANT INSPECTOR GENERAL FOR INVESTIGATIONS
SELECTIVE SERVICE SYSTEM
| SELECTIVE SERVICE SYSTEM | ASSOCIATE DIRECTOR FOR OPERATIONS
SELECTIVE SERVICE SYSTEM | OFFICE OF THE DIRECTOR | ASSOCIATE DIRECTOR FOR OPERATIONS
|  | SENIOR ADVISOR TO THE DIRECTOR
SMALL BUSINESS ADMINISTRATION
OFFICE OF THE ADMINISTRATOR | OFFICE OF ENTREPRENEURIAL DEVELOPMENT | DEPUTY ASSOCIATE ADMINISTRATOR FOR ENTREPRENEURIAL DEVELOPMENT
| OFFICE OF EXECUTIVE MANAGEMENT, INSTILLATION, AND SUPPORT SERVICES | EXECUTIVE DIRECTOR
| OFFICE OF GOVERNMENT CONTRACTING AND BUSINESS DEVELOPMENT | DIRECTOR FOR POLICY PLANNING AND LIAISON
|  | DEPUTY ASSOCIATE ADMINISTRATOR FOR GOVERNMENT CONTRACTING AND BUSINESS DEVELOPMENT
|  | DIRECTOR OF HUBZONE EMPOWERMENT PROGRAM
| OFFICE OF HEARINGS AND APPEALS | ASSISTANT ADMINISTRATOR FOR HEARINGS AND APPEALS
| OFFICE OF HUMAN RESOURCES SOLUTIONS | CHIEF HUMAN CAPITAL OFFICER
|  | DEPUTY CHIEF HUMAN CAPITAL OFFICER
| OFFICE OF INTERNATIONAL TRADE | DEPUTY ASSOCIATE ADMINISTRATOR FOR INTERNATIONAL TRADE
| OFFICE OF INVESTMENT AND INNOVATION | DEPUTY ASSOCIATE ADMINISTRATOR FOR INVESTMENT AND INNOVATION
|  | DIRECTOR OF INVESTMENT AND INNOVATION ECOSYSTEMS
| OFFICE OF PERFORMANCE, PLANNING, AND THE CHIEF FINANCIAL OFFICER | DIRECTOR AND CHIEF ACQUISITION OFFICER
|  | DIRECTOR OF FINANCIAL, ACQUISITION, AND MANAGEMENT
|  | ASSOCIATE ADMINISTRATOR FOR PERFORMANCE, PLANNING AND CHIEF FINANCIAL OFFICER
|  | DEPUTY CHIEF FINANCIAL OFFICER
|  | CHIEF RISK OFFICER
| OFFICE OF THE CHIEF INFORMATION OFFICER | CHIEF INFORMATION SECURITY OFFICER
|  | CHIEF INFORMATION OFFICER
|  | DEPUTY CHIEF INFORMATION OFFICER
| OFFICE OF THE GENERAL COUNSEL | ASSOCIATE GENERAL COUNSEL LITIGATION
|  | ASSOCIATE GENERAL COUNSEL FOR PROCUREMENT LAW
|  | ASSOCIATE GENERAL COUNSEL FOR FINANCIAL LAW
|  | ASSOCIATE GENERAL COUNSEL FOR GENERAL LAW
SMALL BUSINESS ADMINISTRATION OFFICE OF THE INSPECTOR GENERAL
| SMALL BUSINESS ADMINISTRATION OFFICE OF THE INSPECTOR GENERAL | ASSISTANT INSPECTOR GENERAL FOR AUDITS
|  | ASSISTANT INSPECTOR GENERAL FOR INVESTIGATIONS
|  | COUNSEL TO THE INSPECTOR GENERAL
|  | DEPUTY INSPECTOR GENERAL
|  | ASSISTANT INSPECTOR GENERAL FOR MANAGEMENT AND OPERATIONS
|  | ASSISTANT INSPECTOR GENERAL FOR TECHNOLOGY SOLUTIONS
|  | DEPUTY ASSISTANT INSPECTOR GENERAL FOR AUDITS
|  | DEPUTY INSPECTOR GENERAL FOR INVESTIGATIONS
|  | ASSISTANT INSPECTOR GENERAL FOR TECHNOLOGY SOLUTIONS
SOCIAL SECURITY ADMINISTRATION
OFFICE OF ANALYTICS, REVIEW, AND OVERSIGHT | OFFICE OF APPELLATE OPERATIONS | DEPUTY EXECUTIVE DIRECTOR, OFFICE OF APPELLATE OPERATIONS
|  | EXECUTIVE DIRECTOR, OFFICE OF APPELLATE OPERATIONS
| OFFICE OF PROGRAM INTEGRITY | ASSOCIATE COMMISSIONER FOR PROGRAM INTEGRITY
OFFICE OF BUDGET, FINANCE, AND MANAGEMENT | OFFICE OF ACQUISITION AND GRANTS | DEPUTY ASSOCIATE COMMISSIONER FOR ACQUISITION AND GRANTS
|  | ASSOCIATE COMMISSIONER FOR ACQUISITION AND GRANTS
| OFFICE OF BUDGET | ASSOCIATE COMMISSIONER FOR BUDGET
|  | DEPUTY ASSOCIATE COMMISSIONER FOR BUDGET
| OFFICE OF FINANCIAL POLICY AND OPERATIONS | ASSOCIATE COMMISSIONER, OFFICE OF FINANCE POLICY AND OPERATIONS
|  | DEPUTY ASSOCIATE COMMISSIONER FINANCIAL POLICY AND OPERATIONS
| OFFICE OF SECURITY AND EMERGENCY PREPAREDNESS | ASSOCIATE COMMISSIONER FOR SECURITY AND EMERGENCY PREPAREDNESS
OFFICE OF HUMAN RESOURCES | OFFICE OF LABOR- MANAGEMENT AND EMPLOYEE RELATIONS | DEPUTY ASSOCIATE COMMISSIONER FOR LABOR- MANAGEMENT AND EMPLOYEE RELATIONS
|  | ASSOCIATE COMMISSIONER FOR LABOR-MANAGEMENT AND EMPLOYEE RELATIONS
| OFFICE OF OPERATIONAL HUMAN RESOURCES SERVICES | ASSOCIATE COMMISSIONER FOR OPERATIONAL HUMAN RESOURCES SERVICES
| OFFICE OF PERSONNEL | ASSOCIATE COMMISSIONER FOR PERSONNEL
|  | DEPUTY ASSOCIATE COMMISSIONER FOR PERSONNEL
OFFICE OF OPERATIONS | OFFICE OF DISABILITY DETERMINATIONS | ASSOCIATE COMMISSIONER FOR DISABILITY DETERMINATIONS
|  | DEPUTY ASSOCIATE COMMISSIONER FOR DISABILITY DETERMINATIONS
OFFICE OF SYSTEMS | OFFICE OF INFORMATION SECURITY | ASSOCIATE COMMISSIONER FOR INFORMATION SECURITY
| OFFICE OF INFORMATION TECHNOLOGY FINANCIAL MANAGEMENT AND SUPPORT | DEPUTY ASSOCIATE COMMISSIONER FOR INFORMATION TECHNOLOGY FINANCIAL MANAGEMENT AND SUPPORT
|  | ASSOCIATE COMMISSIONER FOR INFORMATION TECHNOLOGY FINANCIAL MANAGEMENT AND SUPPORT
| OFFICE OF SYSTEMS OPERATIONS AND HARDWARE ENGINEERING | ASSOCIATE COMMISSIONER FOR SYSTEMS OPERATIONS AND HARDWARE ENGINEERING
|  | DEPUTY ASSOCIATE COMMISSIONER FOR SYSTEMS OPERATIONS AND HARDWARE ENGINEERING (OPERATIONS)
|  | DEPUTY ASSOCIATE COMMISSIONER FOR SYSTEMS OPERATIONS AND HARDWARE ENGINEERING (INFRASTRUCTURE)
|  | DEPUTY ASSOCIATE COMMISSIONER FOR SYSTEMS OPERATIONS AND HARDWARE ENGINEERING (END USER)
OFFICE OF THE GENERAL COUNSEL | OFFICE OF GENERAL LAW | ASSOCIATE GENERAL COUNSEL FOR GENERAL LAW (OFFICE 1)
|  | ASSOCIATE GENERAL COUNSEL FOR GENERAL LAW (OFFICE 2)
|  | ASSOCIATE GENERAL COUNSEL FOR GENERAL LAW (OFFICE 3)
|  | ASSOCIATE GENERAL COUNSEL FOR GENERAL LAW (OFFICE 4)
| OFFICE OF PRIVACY AND DISCLOSURE | EXECUTIVE DIRECTOR FOR PRIVACY AND DISCLOSURE
| OFFICE OF PROGRAM LAW | ASSOCIATE GENERAL COUNSEL FOR PROGRAM LAW
|  | DEPUTY ASSOCIATE COMMISSIONER FOR PROGRAM LAW
| OFFICE OF PROGRAM LITIGATION | ASSOCIATE GENERAL COUNSEL FOR PROGRAM LITIGATION (OFFICE 1)
|  | ASSOCIATE GENERAL COUNSEL FOR PROGRAM LITIGATION (OFFICE 2)
|  | ASSOCIATE GENERAL COUNSEL FOR PROGRAM LITIGATION (OFFICE 3)
|  | ASSOCIATE GENERAL COUNSEL FOR PROGRAM LITIGATION (OFFICE 4)
|  | ASSOCIATE GENERAL COUNSEL FOR PROGRAM LITIGATION (OFFICE 5)
|  | ASSOCIATE GENERAL COUNSEL FOR PROGRAM LITIGATION (OFFICE 6)
|  | ASSOCIATE GENERAL COUNSEL FOR PROGRAM LITIGATION (OFFICE 7)
SOCIAL SECURITY ADMINISTRATION | OFFICE OF ANALYTICS, REVIEW, AND OVERSIGHT | ASSISTANT DEPUTY COMMISSIONER FOR ANALYTICS, REVIEW, AND OVERSIGHT
|  | DEPUTY COMMISSIONER FOR ANALYTICS, REVIEW, AND OVERSIGHT
| OFFICE OF BUDGET, FINANCE, AND MANAGEMENT | ASSISTANT DEPUTY COMMISSIONER FOR BUDGET, FINANCE, AND MANAGEMENT
| OFFICE OF CIVIL RIGHTS AND EQUAL OPPORTUNITY | DEPUTY COMMISSIONER FOR CIVIL RIGHTS AND EQUAL OPPORTUNITY
|  | ASSISTANT DEPUTY COMMISSIONER FOR CIVIL RIGHTS AND EQUAL OPPORTUNITY
| OFFICE OF HEARINGS OPERATIONS | ASSISTANT DEPUTY COMMISSIONER FOR HEARINGS OPERATIONS (MISSION SUPPORT)
|  | ASSISTANT DEPUTY COMMISISONER FOR HEARINGS OPERATIONS (MISSION OPERATIONS)
|  | DEPUTY COMMISSIONER FOR HEARINGS OPERATIONS
| OFFICE OF THE CHIEF ACTUARY | DEPUTY CHIEF ACTUARY (SHORT- RANGE)
|  | DEPUTY CHIEF ACTUARY
|  | CHIEF ACTUARY
| OFFICE OF THE GENERAL COUNSEL | GENERAL COUNSEL
|  | DEPUTY GENERAL COUNSEL (PROGRAM LAW)
|  | DEPUTY GENERAL COUNSEL (GENERAL LAW)
SOCIAL SECURITY ADMINISTRATION OFFICE OF THE INSPECTOR GENERAL
SOCIAL SECURITY ADMINISTRATION OFFICE OF THE INSPECTOR GENERAL | IMMEDIATE OFFICE OF THE INSPECTOR GENERAL | SENIOR ADVISOR TO THE INSPECTOR GENERAL
|  | CHIEF OPERATING OFFICER
|  | DEPUTY INSPECTOR GENERAL
| OFFICE OF AUDIT | ASSISTANT INSPECTOR GENERAL FOR AUDIT
|  | DEPUTY ASSISTANT INSPECTOR GENERAL FOR AUDIT (PROGRAM AUDITS AND EVALUATIONS
|  | DEPUTY ASSISTANT INSPECTOR GENERAL FOR AUDIT (FINANCIAL AND INFORMATION TECHNOLOGY SYSTEMS AND OPERATIONS AUDITS)
| OFFICE OF COUNSEL TO THE INSPECTOR GENERAL | CHIEF COUNSEL
| OFFICE OF INFORMATION TECHNOLOGY | ASSISTANT INSPECTOR GENERAL FOR INFORMATION TECHNOLOGY (CHIEF INFORMATION OFFICER)
|  | DEPUTY ASSISTANT INSPECTOR GENERAL FOR INFORMATION TECHNOLOGY
| OFFICE OF INVESTIGATIONS | DEPUTY ASSISTANT INSPECTOR GENERAL FOR INVESTIGATIONS (HEADQUARTERS OPERATIONS)
|  | DEPUTY ASSISTANT INSPECTOR GENERAL FOR INVESTIGATIONS (COOPERATIVE DISABILITY INVESTIGATIONS OPERATIONS)
|  | CHIEF INVESTIGATIVE COUNSEL
|  | DEPUTY ASSISTANT INSPECTOR GENERAL FOR INVESTIGATIONS (FIELD OPERATIONS)
|  | ASSISTANT INSPECTOR GENERAL FOR INVESTIGATIONS
| OFFICE OF RESOURCE MANAGEMENT | DEPUTY ASSISTANT INSPECTOR GENERAL FOR RESOURCE MANAGEMENT
|  | ASSISTANT INSPECTOR GENERAL ORM
| OFFICE OF THE CHIEF STRATEGY OFFICER | CHIEF STRATEGY OFFICER
|  | SPECIAL ADVISOR TO THE CHIEF STRATEGY OFFICER
| OFFICE OF WORKFORCE PERFORMANCE AND DEVELOPMENT | ASSISTANT INSPECTOR GENERAL FOR WORKFORCE PERFORMANCE AND DEVELOPMENT
DEPARTMENT OF STATE
DEPARTMENT OF STATE | OFFICE OF THE SECRETARY | OMBUDSPERSON
OFFICE OF THE SECRETARY | BUREAU OF GLOBAL HEALTH SECURITY AND DIPLOMACY | DEPUTY COORDINATOR
| BUREAU OF INTELLIGENCE AND RESEARCH | OFFICE DIRECTOR
|  | DEPUTY ASSISTANT SECRETARY FOR GLOBAL ANALYSIS
| OFFICE OF THE LEGAL ADVISER | DEPUTY ASSISTANT LEGAL ADVISER
| OFFICE OF THE UNDER SECRETARY FOR MANAGEMENT | ASSOCIATE DEAN
| OFFICE OF THE UNDER SECRETARY FOR PUBLIC DIPLOMACY AND PUBLIC AFFAIRS | DEPUTY COORDINATOR FOR POLICY, PLANS, AND OPERATIONS
|  | DIRECTOR, OFFICE OF POLICY PLANNING AND RESOURCES
|  | PRINCIPAL DEPUTY COORDINATOR
OFFICE OF THE UNDER SECRETARY FOR ARMS CONTROL AND INTERNATIONAL SECURITY AFFAIRS | BUREAU OF ARMS CONTROL, DETERRENCE, AND STABILITY | SENIOR ADVISER
| BUREAU OF INTERNATIONAL SECURITY AND NONPROLIFERATION | OFFICE DIRECTOR
|  | DEPUTY ASSISTANT SECRETARY
| BUREAU OF POLITICAL- MILITARY AFFAIRS | DEPUTY ASSISTANT SECRETARY
|  | OFFICE DIRECTOR
OFFICE OF THE UNDER SECRETARY FOR CIVILIAN SECURITY, DEMOCRACY, AND HUMAN RIGHTS | BUREAU OF DEMOCRACY, HUMAN RIGHTS AND LABOR | DEPUTY ASSISTANT SECRETARY
| BUREAU OF OCEANS AND INTERNATIONAL ENVIRONMENTAL AND SCIENTIFIC AFFAIRS | DEPUTY ASSISTANT SECRETARY
OFFICE OF THE UNDER SECRETARY FOR MANAGEMENT | BUREAU OF ADMINISTRATION | ACQUISTION POLICY OFFICE DIRECTOR
|  | DAS FOR ACQUISITIONS AND PROCUREMENT EXECUTIVE
| BUREAU OF DIPLOMATIC SECURITY | OFFICE DIRECTOR
| BUREAU OF GLOBAL TALENT MANAGEMENT | OFFICE DIRECTOR
| BUREAU OF OVERSEAS BUILDINGS OPERATIONS | COMPTROLLER
| FOREIGN SERVICE INSTITUTE | ASSOCIATE DEAN
DEPARTMENT OF STATE OFFICE OF THE INSPECTOR GENERAL
| DEPARTMENT OF STATE/OFFICE OF THE INSPECTOR GENERAL | CHIEF OF STAFF
|  | DEPUTY ASSISTANT INSPECTOR GENERAL FOR EVALUATIONS AND SPECIAL PROJECTS
DEPARTMENT OF STATE/OFFICE OF THE INSPECTOR GENERAL | OFFICE OF THE INSPECTOR GENERAL | ASSISTANT INSPECTOR GENERAL FOR AUDITS
|  | DEPUTY ASSISTANT INSPECTOR GENERAL FOR AUDITS
|  | DEPUTY ASSISTANT INSPECTOR GENERAL FOR INVESTIGATIONS
|  | DEPUTY ASSISTANT INSPECTOR GENERAL FOR MIDDLE EAST REGIONAL OFFICE
|  | DEPUTY INSPECTOR GENERAL
|  | ASSISTANT INSPECTOR GENERAL FOR INVESTIGATIONS
|  | GENERAL COUNSEL TO THE INSPECTOR GENERAL
|  | DEPUTY ASSISTANT INSPECTOR GENERAL FOR INSPECTIONS
|  | ASSISTANT INSPECTOR GENERAL FOR MANAGEMENT
|  | DEPUTY ASSISTANT INSPECTOR GENERAL FOR MANAGEMENT
|  | DEPUTY ASSISTANT INSPECTOR GENERAL FOR INFORMATION TECHNOLOGY
|  | ASSISTANT INSPECTOR GENERAL FOR EVALUATIONS AND SPECIAL PROJECTS
|  | DEPUTY GENERAL COUNSEL
|  | ASSISTANT INSPECTOR GENERAL FOR INSPECTIONS
TRADE AND DEVELOPMENT AGENCY
| TRADE AND DEVELOPMENT AGENCY | DIRECTOR OF MANAGEMENT OPERATIONS
OFFICE OF THE DIRECTOR | OFFICE OF THE GENERAL COUNSEL | GENERAL COUNSEL
DEPARTMENT OF TRANSPORTATION
ASSISTANT SECRETARY FOR ADMINISTRATION | OFFICE OF THE SENIOR PROCUREMENT EXECUTIVE | SENIOR PROCUREMENT EXECUTIVE
ASSISTANT SECRETARY FOR BUDGET AND PROGRAMS | OFFICE OF BUDGET AND PROGRAM PERFORMANCE | DIRECTOR OFFICE OF BUDGET AND PROGRAM PERFORMANCE
ASSISTANT SECRETARY FOR TRANSPORTATION POLICY | OFFICE OF SAFETY, ENERGY AND ENVIRONMENT | DIRECTOR, OFFICE OF POLICY
ASSOCIATE ADMINISTRATOR FOR ENFORCEMENT AND PROGRAM DELIVERY | OFFICE OF ENFORCEMENT AND COMPLIANCE | DIRECTOR, OFFICE OF ENFORCEMENT AND COMPLIANCE
ASSOCIATE ADMINISTRATOR FOR POLICY AND PROGRAM DEVELOPMENT | OFFICE OF BUS AND TRUCK STANDARDS AND OPERATIONS | DIRECTOR, OFFICE OF CARRIER, DRIVER AND VEHICLE SAFETY STANDARDS
ASSOCIATE ADMINISTRATOR FOR RESEARCH AND REGISTRATION | OFFICE OF LICENSING AND SAFETY INFORMATION | DIRECTOR, OFFICE FOR LICENSING AND SAFETY INFORMATION
DEPARTMENT OF TRANSPORTATION | FEDERAL MOTOR CARRIER SAFETY ADMINISTRATION | ASSOCIATE ADMINISTRATOR OF THE OFFICE OF SAFETY
|  | ASSISTANT ADMINISTRATOR AND CHIEF SAFETY OFFICER (EXECUTIVE DIRECTOR)
| PIPELINE AND HAZARDOUS MATERIALS SAFETY ADMINISTRATION | SENIOR ADVISOR FOR DEFENSE LOGISTICS AND INTERAGENCY HAZMAT COORDINATION
FEDERAL HIGHWAY ADMINISTRATION | ASSOCIATE ADMINISTRATOR FOR PLANNING, ENVIRONMENT AND REALTY | DIRECTOR, OFFICE OF REAL ESTATE SERVICES
| ASSOCIATE ADMINISTRATOR FOR SAFETY | ASSOCIATE ADMINISTRATOR FOR SAFETY
| IMMEDIATE OFFICE OF THE ADMINISTRATOR | CHIEF INNOVATION OFFICER
|  | EXECUTIVE DIRECTOR
FEDERAL MOTOR CARRIER SAFETY ADMINISTRATION | ASSOCIATE ADMINISTRATOR FOR FIELD OPERATIONS | REGIONAL FIELD ADMINISTRATOR, SOUTHERN REGION
|  | REGIONAL FIELD ADMINISTRATOR, MIDWEST REGION
| IMMEDIATE OFFICE OF THE ADMINISTRATOR | CHIEF FINANCIAL OFFICER
FEDERAL RAILROAD ADMINISTRATION | ASSOCIATE ADMINISTRATOR FOR RAILROAD SAFETY | ASSOCIATE ADMINISTRATOR FOR RAILROAD SAFETY/CHIEF SAFETY OFFICER
| IMMEDIATE OFFICE OF THE ADMINISTRATOR | EXECUTIVE DIRECTOR
| OFFICE OF THE CHIEF FINANCIAL OFFICER | CHIEF FINANCIAL OFFICER
IMMEDIATE OFFICE OF THE ADMINISTRATOR | OFFICE OF THE CHIEF FINANCIAL OFFICER | CHIEF FINANCIAL OFFICER
|  | DIRECTOR, OFFICE OF ACQUISITION AND GRANTS MANAGEMENT
|  | DEPUTY CHIEF FINANCIAL OFFICER AND CHIEF BUDGET OFFICER
MARITIME ADMINISTRATION | ASSOCIATE ADMINISTRATOR FOR ENVIRONMENT AND COMPLIANCE | ASSOCIATE ADMINISTRATOR FOR ENVIRONMENT AND COMPLIANCE
| ASSOCIATE ADMINISTRATOR FOR STRATEGIC SEALIFT | DEPUTY ASSOCIATE ADMINISTRATOR FOR FEDERAL SEALIFT
|  | DEPUTY ASSOCIATE ADMINISTRATOR FOR MARITIME EDUCATION AND TRAINING
| IMMEDIATE OFFICE OF THE ADMINISTRATOR | EXECUTIVE DIRECTOR TO THE UNITED STATES COMMITTEE ON MARINE TRANSPORTATION SYSTEMS
|  | EXECUTIVE DIRECTOR
| OFFICE OF THE CHIEF COUNSEL | DEPUTY CHIEF COUNSEL
NATIONAL HIGHWAY TRAFFIC SAFETY ADMINISTRATION | ASSOCIATE ADMINISTRATOR FOR ENFORCEMENT | ASSOCIATE ADMINISTRATOR FOR ENFORCEMENT
|  | DIRECTOR, OFFICE OF DEFECTS INVESTIGATION
|  | DIRECTOR, OFFICE OF VEHICLE SAFETY COMPLIANCE
| ASSOCIATE ADMINISTRATOR FOR REGIONAL OPERATIONS AND PROGRAM DELIVERY | ASSOCIATE ADMINISTRATOR FOR REGIONAL OPERATIONS AND PROGRAM DELIVERY
| IMMEDIATE OFFICE OF THE ADMINISTRATOR | EXECUTIVE DIRECTOR
| OFFICE OF THE CHIEF COUNSEL | DEPUTY CHIEF COUNSEL
OFFICE OF THE SECRETARY | ASSISTANT SECRETARY FOR ADMINISTRATION | DEPUTY ASSISTANT SECRETARY FOR ADMINISTRATION
| ASSISTANT SECRETARY FOR BUDGET AND PROGRAMS | DIRECTOR OF PERFORMANCE, RISK, AND EVALUATION
|  | DEPUTY ASSISTANT SECRETARY FOR BUDGET AND PROGRAMS
|  | DEPUTY CHIEF FINANCIAL OFFICER
|  | OFFICE OF THE SECRETARY CHIEF FINANCIAL OFFICER
| NATIONAL SURFACE TRANSPORTATION INNOVATIVE FINANCE BUREAU (BUILD AMERICA BUREAU) | EXECUTIVE DIRECTOR, NATIONAL SURFACE TRANSPORTATION INNOVATIVE FINANCE BUREAU (BUILD AMERICA BUREAU)
| OFFICE OF INTELLIGENCE, SECURITY AND EMERGENCY RESPONSE | DIRECTOR, OFFICE OF INTELLIGENCE, SECURITY AND EMERGENCY RESPONSE
|  | DEPUTY DIRECTOR
| OFFICE OF THE CHIEF INFORMATION OFFICER | CHIEF TECHNOLOGY OFFICER
|  | DEPUTY CHIEF INFORMATION OFFICER
|  | CHIEF INFORMATION SECURITY OFFICER
| OFFICE OF THE UNDER SECRETARY OF TRANSPORTATION FOR POLICY | EXECUTIVE DIRECTOR FOR THE OFFICE OF THE UNDER SECRETARY OF TRANSPORTATION FOR POLICY
|  | DEPUTY ASSISTANT SECRETARY FOR TRANSPORTATION POLICY
PIPELINE AND HAZARDOUS MATERIALS SAFETY ADMINISTRATION | IMMEDIATE OFFICE OF THE ADMINISTRATOR | EXECUTIVE DIRECTOR
| OFFICE OF HAZARDOUS MATERIALS SAFETY | ASSOCIATE ADMINISTRATOR FOR HAZARDOUS MATERIALS SAFETY
| OFFICE OF PIPELINE SAFETY | ASSOCIATE ADMINISTRATOR FOR PIPELINE SAFETY
|  | DEPUTY ASSOCIATE ADMINISTRATOR FOR FIELD OPERATIONS
|  | DEPUTY ASSOCIATE ADMINISTRATOR FOR POLICY AND PROGRAMS
| OFFICE OF THE CHIEF FINANCIAL OFFICER | CHIEF FINANCIAL OFFICER
DEPARTMENT OF TRANSPORTATION OFFICE OF THE INSPECTOR GENERAL
OFFICE OF INSPECTOR GENERAL IMMEDIATE OFFICE | OFFICE OF ASSISTANT INSPECTOR GENERAL FOR ADMINISTRATION AND MANAGEMENT | ASSISTANT INSPECTOR GENERAL FOR ADMINISTRATION AND MANAGEMENT
| OFFICE OF ASSISTANT INSPECTOR GENERAL FOR STRATEGIC COMMUNICATIONS AND PROGRAMS | ASSISTANT INSPECTOR GENERAL FOR STRATEGIC COMMUNICATIONS AND PROGRAMS
| OFFICE OF CHIEF COUNSEL | CHIEF COUNSEL
| OFFICE OF DEPUTY INSPECTOR GENERAL | DEPUTY INSPECTOR GENERAL
| OFFICE OF PRINCIPAL ASSISTANT INSPECTOR GENERAL FOR AUDITING AND EVALUATION | PRINCIPAL ASSISTANT INSPECTOR GENERAL FOR AUDITING AND EVALUATION
| OFFICE OF PRINCIPAL ASSISTANT INSPECTOR GENERAL FOR INVESTIGATIONS | PRINCIPAL ASSISTANT INSPECTOR GENERAL FOR INVESTIGATIONS
OFFICE OF PRINCIPAL ASSISTANT INSPECTOR GENERAL FOR AUDITING AND EVALUATION | OFFICE OF ASSISTANT INSPECTOR GENERAL FOR ACQUISITION AND PROCUREMENT AUDITS | ASSISTANT INSPECTOR GENERAL FOR ACQUISTION AND PROCUREMENT AUDITS
| OFFICE OF ASSISTANT INSPECTOR GENERAL FOR AUDIT OPERATIONS AND SPECIAL REVIEWS | ASSISTANT INSPECTOR GENERAL FOR AUDIT OPERATIONS AND SPECIAL REVIEWS
| OFFICE OF ASSISTANT INSPECTOR GENERAL FOR AVIATION AUDITS | ASSISTANT INSPECTOR GENERAL FOR AVIATION AUDITS
| OFFICE OF ASSISTANT INSPECTOR GENERAL FOR FINANCIAL AUDITS | ASSISTANT INSPECTOR GENERAL FOR FINANCIAL AUDITS
| OFFICE OF ASSISTANT INSPECTOR GENERAL FOR INFORMATION TECHNOLOGY AUDITS | ASSISTANT INSPECTOR GENERAL FOR INFORMATION TECHNOLOGY AUDITS
| OFFICE OF ASSISTANT INSPECTOR GENERAL FOR SURFACE TRANSPORTATION AUDITS | ASSISTANT INSPECTOR GENERAL FOR SURFACE TRANSPORTATION AUDITS
OFFICE OF PRINCIPAL ASSISTANT INSPECTOR GENERAL FOR INVESTIGATIONS | OFFICE OF DEPUTY ASSISTANT INSPECTOR GENERAL FOR INVESTIGATIONS | DEPUTY ASSISTANT INSPECTOR GENERAL FOR INVESTIGATIONS
DEPARTMENT OF THE TREASURY
ASSISTANT SECRETARY (TAX POLICY) | ALCOHOL AND TOBACCO TAX AND TRADE BUREAU | ASSISTANT ADMINISTRATOR, EXTERNAL AFFAIRS/CHIEF OF STAFF
|  | ASSISTANT ADMINISTRATOR INFORMATION RESOURCES/CHIEF INFORMATION OFFICER
|  | ASSISTANT ADMINISTRATOR, HEADQUARTER OPERATIONS
|  | ASSISTANT ADMINISTRATOR, MANAGEMENT/CHIEF FINANCIAL OFFICER
|  | ASSISTANT ADMINISTRATOR, FIELD OPERATIONS
|  | ADMINISTRATOR, ALCOHOL AND TOBACCO TAX AND TRADE BUREAU
|  | DEPUTY ADMINISTRATOR, ALCOHOL AND TOBACCO TAX AND TRADE BUREAU
|  | CHIEF STRATEGY OFFICER/ASSISTANT ADMINISTRATOR, OFFICE OF POLICY AND PLANNING
|  | ASSISTANT ADMINISTRATOR, PERMITTING AND TAXATION
DEPARTMENT OF THE TREASURY | ASSISTANT SECRETARY (TAX POLICY) | DIRECTOR, ECONOMIC MODELING AND COMPUTER APPLICATIONS
| ASSISTANT SECRETARY FOR MANAGEMENT | DEPUTY CHIEF FINANCIAL OFFICER
|  | CHIEF DIVERSITY AND INCLUSION OFFICER
| GENERAL COUNSEL | CHIEF COUNSEL, FINANCIAL CRIMES ENFORCEMENT NETWORK
| INTERNAL REVENUE SERVICE | EXECUTIVE DIRECTOR, CASE ADVOCACY
|  | DIRECTOR, DATA MANAGEMENT SERVICES AND SUPPORT
|  | CHIEF DATA AND ANALYTICS OFFICER
|  | ASSOCIATE CHIEF INFORMATION OFFICER FOR STRATEGY AND PLANNING
|  | EXECUTIVE DIRECTOR, OFFICE OF EQUITY, DIVERSITY, AND INCLUSION
|  | DIRECTOR, CYBERSECURITY OPERATIONS
|  | DIRECTOR, WHISTLEBLOWER OFFICE
|  | DEPUTY DIVISION COUNSEL #2 (OPERATIONS)/SMALL BUSINESS AND SELF EMPLOYED
|  | ASSOCIATE CHIEF INFORMATION OFFICER, CYBERSECURITY
|  | CHIEF PRIVACY OFFICER
|  | DEPUTY ASSOCIATE CHIEF INFORMATION OFFICER, ENTERPRISE OPERATIONS
|  | DIRECTOR, EMPLOYEE SUPPORT SERVICES
|  | DIRECTOR, EXAMINATION HEADQUARTERS
|  | DIRECTOR, EXAMINATION AREA
|  | DIRECTOR, EXAMINATION - OGDEN
|  | ACCOUNTS MANAGEMENT FIELD DIRECTOR
|  | DIRECTOR, EXAMINATION—GULF STATES
|  | DEPUTY CHIEF HUMAN CAPITAL OFFICER, INTERNAL REVENUE SERVICE
|  | CHIEF, COMMUNICATIONS AND LIAISON
|  | DEPUTY CHIEF FINANCIAL OFFICER
|  | COMMISSIONER, LARGE AND MID- SIZED BUSINESS DIVISION
|  | INTERNAL REVENUE SERVICE HUMAN CAPITAL OFFICER
|  | DIRECTOR, STAKEHOLDER, PARTNERSHIP, EDUCATION AND COMMUNICATIONS
|  | CHIEF FINANCIAL OFFICER, INTERNAL REVENUE SERVICE
|  | DIRECTOR, SERVER SUPPORT AND SERVICES
|  | SENIOR ASSOCIATE CFO FOR FINANCIAL MANAGEMENT
|  | CHIEF PROCUREMENT OFFICER
|  | DEPUTY CHIEF, CRIMINAL INVESTIGATION
|  | DEPUTY DIVISION COMMISSIONER, TAX EXEMPT AND GOVERNMENT ENTITIES
|  | COMMISSIONER, TAX EXEMPT AND GOVERNMENT ENTITIES DIVISION
|  | DIRECTOR, EMPLOYEE PLANS
|  | DIRECTOR, OPERATIONS SUPPORT
|  | DIRECTOR, CUSTOMER ACCOUNT SERVICES—WAGE AND INVESTMENT
|  | DIRECTOR, SUBMISSION PROCESSING—WAGE AND INVESTMENT
|  | COMMISSIONER, WAGE AND INVESTMENT
|  | DEPUTY NATIONAL TAXPAYER ADVOCATE
|  | DIRECTOR, EXAMINATION—NORTH ATLANTIC AREA, SBSE
|  | DIRECTOR, TECHNOLOGY AND PROGRAM SOLUTIONS
|  | DIRECTOR, HR SHARED SERVICES (HCO)
|  | DIRECTOR CAMPUS COLLECTION
|  | DIRECTOR OF CAMPUS COLLECTION—ANDOVER
|  | DIRECTOR, OPERATIONS SUPPORT
|  | DIRECTOR ENTERPRISE ARCHITECTURE
|  | DIRECTOR, COMPLIANCE PLANNING AND ANALYTICS
|  | DIRECTOR GOVERNMENT ENTITIES
|  | DIRECTOR, JOINT OPERATIONS CENTER
|  | DIRECTOR, ENTERPRISE CASE MANAGEMENT OFFICE
|  | TRANSFORMATION LEAD, OBJECTIVE 2-ISSUE RESOLUTION
|  | DIRECTOR, COMPLIANCE, APPLICATION DEVELOPMENT
|  | DIRECTOR, EXAMINATION - WESTERN
|  | DEPUTY ASSOCIATE CHIEF INFORMATION OFFICER, STRATEGY AND PLANNING
|  | DIRECTOR, STRATEGY
|  | SENIOR ADVISOR/TECHNOLOGY ADVISOR
|  | DIRECTOR, EXCHANGE AND OFFSHORE STRATEGY
|  | COMMISSIONER, SMALL BUSINESS/SELF-EMPLOYED
|  | DEPUTY COMMISSIONER FOR SERVICES AND ENFORCEMENT
|  | DIRECTOR, EASTERN COMPLIANCE
|  | DIRECTOR, ENTERPRISE COMPUTING CENTER
|  | DEPUTY ASSOCIATE CHIEF INFORMATION OFFICER USER AND NETWORK SERVICES
|  | DIRECTOR, COLLECTION INVENTORY DELIVERY
|  | TRANSFORMATION LEAD, OBJECTIVE 4—ADVANCED TECHNOLOGY AND ANALYTICS
|  | ASSISTANT DEPUTY COMMISSIONER FOR SERVICES AND ENFORCEMENT
|  | ACIO, ENTERPRISE OPERATIONS
|  | DIRECTOR FIELD OPERATIONS - WESTERN AREA
|  | DIRECTOR, COLLECTION PLANNING AND PERFORMANCE ANALYSIS
|  | DIRECTOR, CIVIL ENFORCEMENT ADVICE AND SUPPORT OPERATIONS
|  | AREA DIRECTOR, FIELD ASSISTANCE—AUSTIN
|  | CHIEF RISK OFFICER
|  | DIRECTOR, CORPORATE ISSUES AND CREDITS
|  | CHIEF LEARNING OFFICER/DIRECTOR, ENTERPRISE TALENT DEVELOPMENT
|  | TRANSFORMATION LEAD, OBJECTIVE 1—IMPROVING TAXPAYER SERVICES 1
|  | DEPUTY DIRECTOR, ENTERPRISE COMPUTING CENTER
|  | ACIO, ENTERPRISE SERVICES
|  | DIRECTOR, CYBERSECURITY ARCHITECTURE AND IMPLEMENTATION
|  | SUBMISSION PROCESSING FIELD DIRECTOR
|  | DIRECTOR, TREATY AND TRANSFER PRICING OPERATIONS
|  | DIRECTOR, SUBMISSION PROCESSING
|  | FIELD DIRECTOR, ACCOUNTS MANAGEMENT—PUERTO RICO
|  | DIRECTOR, OFFICE OF CUSTOMER RELATIONS
|  | DIRECTOR, PRIVACY, POLICY AND COMPLIANCE
|  | DIRECTOR, OFFICE OF COMMUNICATIONS
|  | DIRECTOR, OFFICE OF HUMAN CAPITAL STRATEGY AND PLANNING
|  | DIRECTOR, RETURN INTEGRITY VERIFICATION OPERATIONS
|  | ASSOCIATE CHIEF FINANCIAL OFFICER FOR CORPORATE ACCOUNTING
|  | DIRECTOR, SPECIALTY COLLECTION OFFERS IN COMPROMISE
|  | DIRECTOR, FIELD EXAMINATION - SOUTH ATLANTIC AREA
|  | DIRECTOR, CYBER AND FORENSIC SERVICES
|  | DIRECTOR, CAPITAL MANAGEMENT AND OVERSIGHT
|  | DEPUTY CHIEF DATA AND ANALYTICS OFFICER—STATISTICS
|  | EXECUTIVE DIRECTOR, SYSTEMIC ADVOCACY
|  | DIRECTOR, PROCUREMENT OPERATIONS
|  | DIRECTOR, SERVICE PLANNING AND IMPROVEMENT
|  | DIRECTOR FIELD OPERATIONS - ENGINEERING
|  | DIRECTOR, NETWORK ENGINEERING
|  | AREA DIRECTOR, FIELD ASSISTANCE—FRESNO
|  | DIRECTOR, OPERATIONS SERVICE SUPPORT
|  | PROJECT DIRECTOR, COMPLIANCE REDESIGN
|  | DIRECTOR, NORTHEASTERN COMPLIANCE
|  | DEPUTY CHIEF PRIVACY OFFICER
|  | DIRECTOR, STAKEHOLDER PARTNERSHIPS, EDUCATION, AND COMMUNICATION
|  | DEPUTY CHIEF INFORMATION OFFICER FOR STRATEGY AND MODERNIZATION
|  | ASSOCIATE CHIEF INFORMATION OFFICER, ENTERPRISE PROGRAM MANAGEMENT OFFICE
|  | DIRECTOR, PLANNING AND SUPPORT
|  | EXECUTIVE DIRECTOR, LIFTING COMMUNITIES UP
|  | DEPUTY CHIEF DIVERSITY OFFICER
|  | DIRECTOR, GLOBAL OPERATIONS
|  | DIRECTOR, OPERATIONS SUPPORT
|  | FIELD DIRECTOR, ACCOUNTS MANAGEMENT—ATLANTA
|  | CHIEF INFORMATION OFFICER
|  | DIRECTOR, COLLECTION SOUTHWEST
|  | FIELD DIRECTOR, ACCOUNTS MANAGEMENT—AUSTIN
|  | DIRECTOR, BUSINESS TECHNOLOGY OPERATIONS
|  | DIRECTOR, PROMOTER INVESTIGATIONS
|  | DIRECTOR, FIELD OPERATIONS, TRANSFER PRICING PRACTICE
|  | ASSOCIATE DEPUTY COMMISSIONER FOR OPERATIONS SUPPORT
|  | DEPUTY ACIO, ENTERPRISE PROGRAM MANAGEMENT OFFICE
|  | DEPUTY DIRECTOR, SUBMISSION PROCESSING
|  | DIRECTOR, WESTERN COMPLIANCE
|  | DIRECTOR, CORPORATE DATA
|  | ACIO, USER AND NETWORK SERVICES
|  | DIRECTOR, ENTERPRISE FIELD OPERATIONS
|  | DIRECTOR, DEMAND, GOVERNANCE, PROJECT AND ACQUISITION MANAGEMENT
|  | DIRECTOR FIELD OPERATIONS (SOUTHEAST), EASTERN COMPLIANCE
|  | DIRECTOR, COLLECTION—GULF STATES
|  | DIRECTOR, ENTERPRISE ACTIVITIES
|  | DIRECTOR FIELD OPERATIONS (EAST), CROSS BORDER ACTIVITIES
|  | DIRECTOR, STRATEGY AND BUSINESS SOLUTIONS
|  | EXECUTIVE DIRECTOR, CASE ADVOCACY INTAKE AND TECHNICAL SUPPORT
|  | DEPUTY CHIEF, TRANSFORMATION AND STRATEGY OFFICE
|  | DEPUTY ASSOCIATE CHIEF INFORMATION OFFICER, ENTERPRISE SERVICES
|  | CHIEF DIVERSITY OFFICER
|  | DIRECTOR, LABOR/EMPLOYEE RELATIONS AND NEGOTIATIONS
|  | DIRECTOR, WITHHOLDING, EXCHANGE AND INTERNATIONAL INDIVIDUAL COMPLIANCE
|  | DIRECTOR, EXEMPT ORGANIZATIONS-RULINGS AND AGREEMENTS
|  | DIRECTOR, GOVERNMENTAL LIAISON, DISCLOSURE AND SAFEGUARDS
|  | PROJECT DIRECTOR, INFLATION REDUCTION ACT IMPLEMENTATION
|  | DIRECTOR, EXAMINATION - CENTRAL AREA
|  | DIRECTOR, COLLECTION - NORTHWEST
|  | DEPUTY CHIEF INFORMATION OFFICER FOR OPERATIONS
|  | TRANSFORMATION LEAD, OBJECTIVE 1—IMPROVING TAXPAYER SERVICES 2
|  | DIRECTOR, EXAMINATION - QUALITY AND TECHNICAL SUPPORT
|  | ASSOCIATE CHIEF FINANCIAL OFFICER FOR CORPORATE BUDGET
|  | DIRECTOR, SPECIALTY COLLECTION INSOLVENCY
|  | DIRECTOR FIELD COLLECTION
|  | DIRECTOR, INFORMATION TECHNOLOGY OPERATIONS COMMAND CENTER
|  | DIRECTOR FIELD OPERATIONS, INTERNATIONAL INDIVIDUAL COMPLIANCE
|  | DIRECTOR, ELECTRONIC FILE SERVICES
|  | DIRECTOR, INTERNAL MANAGEMENT
|  | DEPUTY DIRECTOR, CORPORATE DATA
|  | DIRECTOR FIELD OPERATIONS (NORTH CENTRAL), EASTERN COMPLIANCE
|  | DIRECTOR, PASS THROUGH ENTITIES
|  | DEPUTY DIRECTOR, SUBMISSION PROCESSING
|  | ASSOCIATE CHIEF FINANCIAL OFFICER FOR REVENUE FINANCIAL ACCOUNTING
|  | DIRECTOR, RETURN INTEGRITY AND COMPLIANCE SERVICES
|  | PROJECT DIRECTOR, ENTERPRISE DIGITALIZATION MANAGEMENT
|  | DIRECTOR, ENTERPRISE SYSTEMS TESTING
|  | DIRECTOR, EXAMINATION - SOUTHWEST
|  | AREA DIRECTOR, FIELD ASSISTANCE—ATLANTA
|  | DIRECTOR, EXEMPT ORGANIZATION/GOVERNMENT ENTITIES
|  | DIRECTOR, EXAMINATION - CAMPUS
|  | DIRECTOR, EXAMINATION APPEALS
|  | DIRECTOR, BUSINESS DEVELOPMENT
|  | DIRECTOR, EXAMINATION- MEMPHIS
|  | DIRECTOR, RETURN INTEGRITY VERIFICATION PROGRAM MANAGEMENT
|  | DIRECTOR, FIELD ASSISTANCE
|  | DIRECTOR, RESOURCE SOLUTIONS
|  | DIRECTOR, EXAMINATION - MIDWEST AREA
|  | DIRECTOR, HUMAN RESOURCES
|  | CHIEF, BUSINESS CONTINUITY OPERATIONS OFFICER
|  | ASSOCIATE CHIEF INFORMATION OFFICER—APPLICATIONS DEVELOPMENT
|  | DIRECTOR, STRATEGIES AND SOLUTIONS
|  | DEPUTY COMMISSIONER, SB/SE EXAMINATION
|  | DIRECTOR, CAMPUS COLLECTION - FRESNO
|  | DIRECTOR, TECHNOLOGY IMPLEMENTATION SERVICES
|  | DEPUTY DIRECTOR, ACCOUNTS MANAGEMENT
|  | DIRECTOR FIELD OPERATIONS, FOREIGN PAYMENTS AND AUTOMATIC EXCHANGE OF INFORMATION
|  | DIRECTOR, EXAMINATION PLANNING AND PERFORMANCE ANALYSIS
|  | ACIO, MODERNIZATION
|  | DIRECTOR, ADVANCED ANALYTICS AND INNOVATION
|  | DIRECTOR, PUBLISHING
|  | DIRECTOR, COLLECTION—SOUTH ATLANTIC AREA
|  | DIRECTOR, CUSTOMER SERVICE SUPPORT
|  | DIRECTOR, DIGITAL PROJECTS
|  | DIRECTOR FIELD OPERATIONS - NORTHERN AREA
|  | AREA DIRECTOR, STAKEHOLDER PARTNERSHIP
|  | DEPUTY CHIEF APPEALS
|  | SPECIAL AGENT IN CHARGE WASHINGTON, DC
|  | DIRECTOR, OFFICE OF HUMAN RESOURCES STRATEGY AND TRANSFORMATION
|  | DIRECTOR, IDENTITY ASSURANCE
|  | DIRECTOR, REFUNDABLE CREDITS EXAMINATION OPERATIONS
|  | DIRECTOR, COMPLIANCE, PLANNING AND CLASSIFICATION
|  | DIRECTOR FIELD OPERATIONS (WEST) CROSS BORDER ACTIVITIES
|  | DIRECTOR, FIELD EXAMINATION
|  | DIRECTOR, DATA EXPLORATION AND TESTING
|  | DIRECTOR, CASE AND OPERATIONS SUPPORT
|  | DIRECTOR, CHIEF INFORMATION TECHNOLOGY OPERATION AND INVESTIGATIVE SERVICES
|  | DIRECTOR, BUSINESS SYSTEMS MODERNIZATION
|  | EXECUTIVE DIRECTOR, OPERATIONS SUPPORT
|  | DIRECTOR, COLLECTION - ATLANTA
|  | DIRECTOR, ACCOUNTS MANAGEMENT
|  | DIRECTOR, INVESTMENT AND PORTFOLIO CONTROL AND OVERSIGHT
|  | DEPUTY CHIEF OF STAFF
|  | DIVISION COUNSEL SMALL BUSINESS SMALL EMPLOYEE
|  | AREA DIRECTOR, FIELD ASSISTANCE—CINCINNATI
|  | FIELD DIRECTOR, SUBMISSION PROCESSING—KANSAS CITY
|  | DIRECTOR, RETURN INTEGRITY VERIFICATION OPERATIONS
|  | ACCOUNTS MANAGEMENT FIELD DIRECTOR
|  | ASSOCIATE CHIEF FINANCIAL OFFICER FOR INTERNAL CONTROLS
|  | DIRECTOR, OFFICE OF HUMAN RESOURCES OPERATIONS
|  | DIRECTOR, CUSTOMER ACCOUNT DATA ENGINE 2
|  | DIRECTOR FIELD OPERATIONS (WEST)
|  | DIRECTOR, SOLUTION ENGINEERING
|  | DEPUTY COMMISSIONER, WAGE AND INVESTMENTS
|  | DEPUTY CHIEF PROCUREMENT OFFICER
|  | DIRECTOR, CROSS BORDER ACTIVITIES
|  | DIRECTOR, COLLECTION—CAMPUS
|  | DIRECTOR, OFFICE OF PROFESSIONAL RESPONSIBILITY
|  | DIRECTOR, COLLECTION - HEADQUARTERS
|  | DIRECTOR, FINANCIAL MANAGEMENT SERVICE
|  | DEPUTY ASSOCIATE CHIEF INFORMATION OFFICER FOR APPLICATIONS DEVELOPMENT
|  | DIRECTOR, KNOWLEDGE DEVELOPMENT AND APPLICATION
|  | DEPUTY CHIEF INFORMATION OFFICER FOR STRATEGY/MODERNIZATION
|  | CHIEF, FACILITIES MANAGEMENT AND SECURITY SERVICES
|  | DIRECTOR, COLLECTION
|  | DIRECTOR, SERVICEWIDE OPERATIONS
|  | DIRECTOR, COLLECTION APPEALS
|  | DIRECTOR, SPECIALIZED EXAMINATION PROGRAMS AND REFERRALS
|  | PROJECT DIRECTOR, STRATEGIC INTEGRATION
|  | DIRECTOR, EXAMINATION - SPECIALITY TAX
|  | DEPUTY COMMISSIONER, OPERATIONS SUPPORT
|  | DIRECTOR, RETURN PREPARER OFFICE
|  | DIRECTOR, OPERATIONS SERVICE SUPPORT
|  | DIRECTOR, STRATEGIC SUPPLIER MANAGEMENT
|  | DIRECTOR, COMPLIANCE STRATEGY AND POLICY
|  | DEPUTY ASSOCIATE CHIEF FINANCIAL OFFICER FOR FINANCIAL MANAGEMENT
|  | DIRECTOR, FILING AND PREMIUM TAX CREDIT
|  | DIRECTOR FIELD OPERATIONS (SOUTH CENTRAL), WESTERN COMPLIANCE
|  | DIRECTOR FIELD OPERATIONS (WEST), WESTERN COMPLIANCE
|  | AREA DIRECTOR, FIELD ASSISTANCE
|  | DEPUTY DIRECTOR, PASS- THROUGH EXAM STRATEGY AND PROMOTER PROGRAMS
|  | DIRECTOR OF FIELD OPERATIONS, GLOBAL HIGH WEALTH AND HIGH INCOME COMPLIANCE STRATEGY
|  | DIRECTOR, TALENT ACQUISITION
|  | SPECIAL AGENT IN CHARGE (3)
|  | DEPUTY CHIEF TAX PAYER EXPERIENCE OFFICER
|  | DIRECTOR, ADVANCE PRICING AND MUTUAL AGREEMENT
|  | DEPUTY CHIEF, FACILITIES MANAGEMENT AND SECURITY SERVICES
|  | DIRECTOR CAMPUS EXAMINATION CINCINNATI
|  | DIRECTOR, CUSTOMER ASSISTANCE RELATIONSHIP AND EDUCATION
|  | CHIEF CRIMINAL INVESTIGATION
|  | DIRECTOR OF FIELD OPERATIONS
|  | NATIONAL DIRECTOR, LEGISLATIVE AFFAIRS
|  | DIRECTOR EXEMPT ORGANIZATIONS EXAMINATIONS
|  | DIRECTOR, EMPLOYEE PLANS RULINGS AND AGREEMENTS
|  | DIRECTOR, FINANCIAL INSTITUTIONS AND PRODUCTS
|  | DIRECTOR FIELD OPERATIONS (NORTH ATLANTIC) NORTHEASTERN COMPLIANCE
|  | DIRECTOR, WORKLIFE, BENEFITS AND PERFORMANCE
|  | SPECIAL AGENT IN CHARGE, CRIMINAL INVESTIGATION
|  | PROJECT DIRECTOR FOR DEPUTY COMMISSIONER SERVICES AND ENFORCEMENT
|  | DIRECTOR, DATA MANAGEMENT DIVISION
|  | DIRECTOR, SECURITY OPERATIONS AND STANDARDS
| SECRETARY OF THE TREASURY | DIRECTOR, OFFICE OF CIVIL RIGHTS AND EQUAL EMPLOYMENT OPPORTUNITY
|  | DEPUTY CHIEF FINANCIAL OFFICER
|  | DIRECTOR, OFFICE OF SMALL AND DISADVANTAGED BUSINESS UTILIZATION
|  | FIELD DIRECTOR, ACCOUNTS MANAGEMENT—BROOKHAVEN
|  | CHIEF OPERATING OFFICER, OFFICE OF RECOVERY PROGRAMS
| UNITED STATES MINT | ASSOCIATE DIRECTOR FOR SALES AND MARKETING
|  | PLANT MANAGER, DENVER
|  | ASSOCIATE DIRECTOR, ENVIRONMENT, SAFETY AND HEALTH
|  | CHIEF ADMINISTRATIVE OFFICER
|  | DIRECTOR, OFFICE OF COIN STUDIES
|  | ASSOCIATE DIRECTOR FOR FINANCIAL MANAGEMENT/CHIEF FINANCIAL OFFICER
|  | ASSOCIATE DIRECTOR FOR MANUFACTURING
|  | PLANT MANAGER, PHILADELPHIA
|  | ASSOCIATE DIRECTOR FOR INFORMATION TECHNOLOGY (CHIEF INFORMATION OFFICER)
FISCAL ASSISTANT SECRETARY | BUREAU OF THE FISCAL SERVICE | DEPUTY ASSISTANT COMMISSIONER, ADMINISTRATIVE RESOURCE CENTER SERVICE DELIVERY
|  | DIRECTOR, REGIONAL FINANCIAL CENTER (PHILADELPHIA)
|  | ASSISTANT COMMISSIONER FISCAL ACCOUNTING
|  | DEPUTY ASSISTANT COMMISSIONER, MODERNIZATION, INNOVATION, AND PAYMENT MANAGEMENT
|  | ASSISTANT COMMISSIONER, DISBURSING AND DEBT MANAGEMENT
|  | DEPUTY ASSISTANT COMMISSIONER FOR PROGRAM SOLUTIONS AND SUPPORT (TREASURY SECURITIES SERVICES)
|  | DEPUTY CHIEF INFORMATION OFFICER
|  | ASSISTANT COMMISSIONER, REVENUE COLLECTIONS MANAGEMENT
|  | EXECUTIVE DIRECTOR, GOVERNMENT SECURITIES REGULATIONS
|  | ASSISTANT COMMISSIONER, DEBT MANAGEMENT SERVICES
|  | DEPUTY ASSISTANT COMMISSIONER, TAX AND COMPLIANCE
|  | ASSISTANT COMMISSIONER, MANAGEMENT (CHIEF FINANCIAL OFFICER)
|  | ASSISTANT COMMISSIONER ADMINISTRATIVE RESOURCE CENTER SERVICE DELIVERY
|  | DEPUTY ASSISTANT COMMISSIONER, COLLECTIONS AND DEPOSITS
|  | DEPUTY ASSISTANT COMMISSIONER (SHARED SERVICES)
|  | ASSISTANT COMMISSIONER, INFORMATION AND SECURITY SERVICES (CHIEF INFORMATION OFFICER)
|  | DEPUTY ASSISTANT COMMISSIONER (MANAGEMENT)
|  | DEPUTY ASSISTANT COMMISSIONER, DEBT COLLECTIONS MANAGEMENT
|  | DEPUTY ASSISTANT COMMISSIONER, SUPPORT SERVICES
|  | DEPUTY COMMISSIONER ADMINISTRATIVE RESOURCE CENTER
|  | DEPUTY COMMISSIONER TRANSFORMATION AND MODERNIZATION
|  | DEPUTY COMMISSIONER, FINANCING AND OPERATIONS
|  | COMMISSIONER, BUREAU OF THE FISCAL SERVICE
|  | DEPUTY ASSISTANT COMMISSIONER (FISCAL ACCOUNTING OPERATIONS)
|  | DEPUTY ASSISTANT COMMISSIONER FOR SECURITIES MANAGEMENT (TREASURY SECURITIES SERVICES)
|  | DEPUTY ASSISTANT COMMISSIONER, PROGRAMS, POLICY AND CUSTOMER RELATIONS
|  | DEPUTY ASSISTANT COMMISSIONER (ACCOUNTING SUPPORT AND OUTREACH)
|  | ASSISTANT COMMISSIONER (RETAIL SECURITIES SERVICES)
|  | DEPUTY ASSISTANT COMMISSIONER (WHOLESALE SECURITIES SERVICES)
|  | DEPUTY ASSISTANT COMMISSIONER (RETAIL SECURITIES SERVICES)
|  | ASSOCIATE COMMISSIONER FINANCIAL OPERATIONS
|  | ASSISTANT COMMISSIONER, WHOLESALE SECURITIES SERVICES
|  | ASSISTANT COMMISSIONER AND CHIEF DATA OFFICER
|  | ASSISTANT COMMISSIONER AND CHIEF CUSTOMER OFFICER
|  | DEPUTY ASSISTANT COMMISSIONER, ENTERPRISE INFORMATION TECHNOLOGY OPERATIONS
|  | ASSISTANT COMMISSIONER AND CHIEF FINANCIAL OFFICER
|  | DEPUTY ASSISTANT COMMISSIONER AND DEPUTY CHIEF FINANCIAL OFFICER
|  | ASSISTANT COMMISSIONER, ADMINISTRATIVE RESOURCE CENTER, MANAGEMENT, MODERNIZATION AND CUSTOMER CARE
|  | DEPUTY ASSISTANT COMMISSIONER, FISCAL ACCOUNTING
|  | DEPUTY ASSISTANT COMMISSIONER, ADMINISTRATIVE RESOURCE CENTER MANAGEMENT, MODERNIZATION AND CUSTOMER CARE
|  | ASSISTANT COMMISSIONER AND CHIEF STRATEGY INTEGRATION OFFICER
|  | ASSISTANT COMMISSIONER AND CHIEF HUMAN RESOURCE OFFICER
|  | DEPUTY ASSISTANT COMMISSIONER, FISCAL AND FINANCIAL AGENT SERVICES
INTERNAL REVENUE SERVICE | INTERNAL REVENUE SERVICE CHIEF COUNSEL | SPECIAL COUNSEL TO THE NATIONAL TAXPAYER ADVOCATE
|  | DEPUTY ASSOCIATE CHIEF COUNSEL (INTERNATIONAL TECHNICAL)
|  | DEPUTY CHIEF COUNSEL (OPERATIONS)
|  | DEPUTY CHIEF COUNSEL (TECHNICAL)
|  | ASSOCIATE CHIEF COUNSEL (GENERAL LEGAL SERVICES)
|  | DEPUTY DIVISION COUNSEL/DEPUTY ASSOCIATE CHIEF COUNSEL
|  | DEPUTY DIVISION COUNSEL AND DEPUTY ASSOCIATE CHIEF COUNSEL (TAX EXEMPT AND GOVERNMENT ENTITIES)
|  | AREA COUNSEL (SMALL BUSINESS AND SELF EMPLOYED) (AREA 7)
|  | AREA COUNSEL (LARGE BUSINESS AND INTERNATIONAL)(AREA 1)
|  | DIVISION COUNSEL (SMALL BUSINESS AND SELF EMPLOYED)
|  | DEPUTY ASSOCIATE CHIEF COUNSEL (FINANCE AND MANAGEMENT)
|  | AREA COUNSEL (LARGE AND MID SIZE BUSINESS)(AREA 2)(HEAVY MANUFACTURING, CONSTRUCTION AND TRANSPORTATION)
|  | AREA COUNSEL (LARGE AND MID SIZE BUSINESS)(AREA 4)(NATURAL RESOURCES)
|  | AREA COUNSEL (LARGE BUSINESS AND INTERNATIONAL)
|  | AREA COUNSEL (SMALL BUSINESS AND SELF EMPLOYED) - PHILADELPHIA
|  | AREA COUNSEL (SMALL BUSINESS AND SELF EMPLOYED) - JACKSONVILLE
|  | AREA COUNSEL (SMALL BUSINESS AND SELF EMPLOYED)—CHICAGO
|  | AREA COUNSEL (SMALL BUSINESS AND SELF EMPLOYED)
|  | AREA COUNSEL (SMALL BUSINESS AND SELF EMPLOYED)—DENVER
|  | AREA COUNSEL (SMALL BUSINESS AND SELF EMPLOYED)—LOS ANGELES
|  | AREA COUNSEL, LARGE AND MID SIZE BUSINESS (AREA 3) (FOOD, MASS RETAILERS, AND PHARMACEUTICALS)
|  | DIVISION COUNSEL/ASSOCIATE CHIEF COUNSEL (CRIMINAL TAX)
|  | ASSOCIATE CHIEF COUNSEL (CORPORATE)
|  | DEPUTY ASSOCIATE CHIEF COUNSEL #2 (INCOME TAX AND ACCOUNTING)
|  | DEPUTY DIVISION COUNSEL (LARGE AND MID-SIZE BUSINESS)
|  | DEPUTY ASSOCIATE CHIEF COUNSEL (PROCEDURE AND ADMINISTRATION)
|  | ASSOCIATE CHIEF COUNSEL (INCOME TAX AND ACCOUNTING)
|  | DEPUTY DIVISION COUNSEL/DEPUTY ASSISTANT CHIEF COUNSEL (CRIMINAL TAX)
|  | ASSOCIATE CHIEF COUNSEL (PROCEDURE AND ADMINISTRATION)
|  | DEPUTY ASSOCIATE CHIEF COUNSEL (INTERNATIONAL FIELD SERVICE AND LITIGATION)
|  | AREA COUNSEL, SMALL BUSINESS AND SELF EMPLOYED, AREA 9
|  | DEPUTY DIVISION COUNSEL/DEPUTY ASSOCIATE CHIEF COUNSEL (TAX EXEMPT AND GOVERNMENT ENTITIES)
|  | DEPUTY ASSOCIATE CHIEF COUNSEL (GENERAL LEGAL SERVICES) (LABOR AND PERSONNEL LAW)
|  | DEPUTY ASSOCIATE CHIEF COUNSEL (FINANCIAL INSTITUTIONS AND PRODUCTS)
|  | DIVISION COUNSEL (WAGE AND INVESTMENT)
|  | ASSOCIATE CHIEF COUNSEL (FINANCE AND MANAGEMENT)
|  | DEPUTY ASSISTANT COMMR (TECHNICAL)
|  | DEPUTY TO THE SPECIAL COUNSEL TO THE CHIEF COUNSEL
|  | HEALTHCARE COUNSEL (OFFICE OF HEALTHCARE)
|  | DIVISION COUNSEL (TAX EXEMPT AND GOVERNMENT ENTITIES) DC
|  | ASSOCIATE CHIEF COUNSEL (TAX EXEMPT AND GOVERNMENT ENTITIES)
|  | ASSOCIATE CHIEF COUNSEL (PASSTHROUGHS AND SPECIAL INDUSTRIES)
|  | DEPUTY ASSOCIATE CHIEF COUNSEL (PROCEDURE AND ADMINISTRATION)
|  | DEPUTY ASSOCIATE CHIEF COUNSEL (PROCEDURE AND ADMINISTRATION)
|  | DEPUTY ASSOCIATE CHIEF COUNSEL, (PASSTHROUGHS AND SPECIAL INDUSTRIES)
|  | DIVISION COUNSEL, LARGE BUSINESS AND INTERNATIONAL
|  | DEPUTY ASSOCIATE CHIEF COUNSEL, OPERATIONS AND INTERNATIONAL PROGRAMS
|  | DEPUTY ASSOCIATE CHIEF COUNSEL (CORPORATE)
|  | ASSOCIATE CHIEF COUNSEL, (INTERNATIONAL)
|  | DEPUTY DIVISION COUNSEL, INTERNATIONAL (LARGE BUSINESS AND INTERNATIONAL)
|  | AREA COUNSEL, SMALL BUSINESS AND SELF EMPLOYED (AREA 1)
|  | ASSOCIATE CHIEF COUNSEL (FINANCIAL INSTITUTIONS AND PRODUCTS)
|  | DEPUTY ASSOCIATE CHIEF COUNSEL (GENERAL LEGAL SERVICES)
|  | DIVISION COUNSEL/ASSOCIATE CHIEF COUNSEL (NATIONAL TAXPAYER ADVOCATE PROGRAM)
|  | DEPUTY ASSOCIATE CHIEF COUNSEL
|  | DEPUTY ASSOCIATE CHIEF COUNSEL, CONTROVERSY AND LITIGATION (INTERNATIONAL)
|  | DEPUTY ASSOCIATE CHIEF COUNSEL (INTERNATIONAL PROGRAMS AND OPERATIONS)
|  | ASSOCIATE CHIEF COUNSEL (INCOME TAX AND ACCOUNTING)
|  | DEPUTY ASSOCIATE CHIEF COUNSEL (EEE/EOET)
|  | DEPUTY ASSOCIATE CHIEF COUNSEL (EMPLOYEE BENEFITS)
|  | AREA COUNSEL (LARGE BUSINESS AND INTERNATIONAL) AREA 1
|  | AREA COUNSEL—AREA 3—LARGE BUSINESS AND INTERNATIONAL
|  | DEPUTY ASSOCIATE CHIEF COUNSEL, LITIGATION (INTERNATIONAL)
|  | NATIONAL STRATEGIC LITIGATION COUNSEL, DIVISION COUNSEL (LARGE BUSINESS AND INTERNATIONAL)
|  | DEPUTY DIVISION COUNSEL (OPERATIONS), SMALL BUSINESS/SELF EMPLOYED DIVISION
|  | DEPUTY DIVISION COUNSEL (TECHNICAL)
|  | DEPUTY DIVISION COUNSEL (TECHNICAL)
|  | AREA COUNSEL (AREA 8), SMALL BUSINESS/SELF-EMPLOYED DIVISION
|  | AREA COUNSEL (AREA 6), SMALL BUSINESS/SELF-EMPLOYED DIVISION
|  | DEPUTY DIVISION COUNSEL (STRATEGIC AND LITIGATION)
|  | DIRECTOR, PROGRAM AND BUSINESS SOLUTIONS
UNDER SECRETARY FOR DOMESTIC FINANCE | ASSISTANT SECRETARY FOR FINANCIAL INSTITUTIONS | DIRECTOR, FEDERAL INSURANCE OFFICE
|  | DEPUTY DIRECTOR, FEDERAL INSURANCE OFFICE
| FISCAL ASSISTANT SECRETARY | DEPUTY ASSISTANT SECRETARY FOR FISCAL OPERATIONS AND POLICY
|  | DEPUTY ASSISTANT SECRETARY, OFFICE OF ACCOUNTING POLICY AND FINANCIAL TRANSPARENCY
|  | FISCAL ASSISTANT SECRETARY
UNDER SECRETARY FOR TERRORISM AND FINANCIAL INTELLIGENCE | ASSISTANT SECRETARY FOR INTELLIGENCE AND ANALYSIS | DEPUTY ASSISTANT SECRETARY FOR SECURITY AND COUNTERINTELLIGENCE
| ASSISTANT SECRETARY FOR TERRORIST FINANCING | DIRECTOR, EXECUTIVE OFFICE FOR ASSET FORFEITURE
| FINANCIAL CRIMES ENFORCEMENT NETWORK | ASSOCIATE DIRECTOR, POLICY DIVISION
|  | ASSOCIATE DIRECTOR, INTELLIGENCE DIVISION
|  | ASSOCIATE DIRECTOR, ENFORCEMENT DIVISION
|  | DIRECTOR, FINANCIAL CRIMES ENFORCEMENT NETWORK
|  | ASSOCIATE DIRECTOR, TECHNOLOGY SOLUTIONS AND SERVICES DIVISION/CHIEF INFORMATION OFFICER
|  | ASSOCIATE DIRECTOR, MANAGEMENT PROGRAMS DIVISION
|  | ASSOCIATE DIRECTOR, LIAISON DIVISION
|  | DEPUTY DIRECTOR
DEPARTMENT OF THE TREASURY OFFICE OF THE INSPECTOR GENERAL
DEPARTMENT OF THE TREASURY OFFICE OF THE INSPECTOR GENERAL | OFFICE OF AUDIT | DEPUTY ASSISTANT INSPECTOR GENERAL FOR AUDIT (FINANCIAL SECTOR AUDITS)
|  | ASSISTANT INSPECTOR GENERAL FOR AUDIT
|  | DEPUTY ASSISTANT INSPECTOR GENERAL FOR AUDIT (FINANCIAL MANAGEMENT AND TRANSPARENCY AUDIT
|  | DEPUTY ASSISTANT INSPECTOR GENERAL FOR AUDIT (CYBER AND FINANCIAL ASSISTANCE AUDIT)
| OFFICE OF COUNSEL | COUNSEL TO THE INSPECTOR GENERAL
| OFFICE OF INVESTIGATIONS | DEPUTY ASSISTANT INSPECTOR GENERAL FOR INVESTIGATIONS
| OFFICE OF MANAGEMENT | ASSISTANT INSPECTOR GENERAL FOR MANAGEMENT
DEPARTMENT OF THE TREASURY SPECIAL INSPECTOR GENERAL FOR THE TROUBLED ASSET
| DEPARTMENT OF THE TREASURY SPECIAL INSPECTOR GENERAL FOR THE TROUBLED ASSET RELIEF PROGRAM | ASSISTANT DEPUTY SPECIAL INSPECTOR GENERAL FOR INVESTIGATIONS
|  | GENERAL COUNSEL
|  | DEPUTY SPECIAL INSPECTOR GENERAL AUDIT
| DEPUTY SPECIAL INSPECTOR GENERAL, INVESTIGATIONS
DEPARTMENT OF THE TREASURY TAX ADMINISTRATION OFFICE OF THE INSPECTOR
| DEPARTMENT OF THE TREASURY TAX ADMINISTRATION OFFICE OF THE INSPECTOR GENERAL | ASSISTANT INSPECTOR GENERAL FOR INVESTIGATIONS
|  | ASSISTANT INSPECTOR GENERAL FOR AUDIT, COMPLIANCE AND ENFORCEMENT OPERATIONS
|  | CHIEF INFORMATION OFFICER
|  | ASSISTANT INSPECTOR GENERAL FOR INVESTIGATIONS, INVESTIGATIVE OPERATIONS
|  | CHIEF COUNSEL
|  | DEPUTY INSPECTOR GENERAL FOR MISSION SUPPORT AND CHIEF FINANCIAL OFFICER
|  | DEPUTY INSPECTOR GENERAL FOR INSPECTIONS AND EVALUATIONS
|  | DEPUTY INSPECTOR GENERAL FOR AUDIT
|  | ASSISTANT INSPECTOR GENERAL FOR AUDIT, MANAGEMENT SERVICES AND EXEMPT ORGANIZATIONS
|  | ASSISTANT INSPECTOR GENERAL FOR AUDIT, SECURITY AND INFORMATION TECHNOLOGY SERVICES
|  | ASSISTANT INSPECTOR GENERAL FOR AUDIT, MANAGEMENT, PLANNING AND WORKFORCE DEVELOPMENT
|  | ASSISTANT INSPECTOR GENERAL FOR AUDIT, RETURNS PROCESSING AND ACCOUNTING SERVICES
|  | DEPUTY INSPECTOR GENERAL FOR INVESTIGATIONS
|  | ASSISTANT INSPECTOR GENERAL FOR INVESTIGATIONS, INVESTIGATIVE OPERATIONS
|  | ASSISTANT INSPECTOR GENERAL FOR INVESTIGATIONS—INVESTIGATIVE OPERATIONS
|  | DEPUTY CHIEF COUNSEL
|  | ASSISTANT INSPECTOR GENERAL FOR INVESTIGATIONS—OPERATIONAL SUPPORT
|  | ASSISTANT INSPECTOR GENERAL FOR INSPECTIONS AND EVALUATIONS
UNITED STATES AGENCY FOR INTERNATIONAL DEVELOPMENT
OFFICE OF THE ADMINISTRATOR | BUREAU FOR MANAGEMENT | CHIEF FINANCIAL OFFICER
|  | DEPUTY CHIEF FINANCIAL OFFICER
|  | CHIEF INFORMATION OFFICER
|  | DEPUTY DIRECTOR, ACCOUNTABILITY, COMPLIANCE, TRANSPARENCY AND SYSTEM SUPPORT
|  | DIRECTOR, OFFICE OF MANAGEMENT POLICY, BUDGET AND PERFORMANCE
|  | DIRECTOR, OFFICE OF ACQUISITION AND ASSISTANCE
|  | CHIEF TECHNOLOGY OFFICER
|  | DIRECTOR
| OFFICE OF HUMAN CAPITAL AND TALENT MANAGEMENT | CHIEF HUMAN CAPITAL OFFICER
|  | DEPUTY CHIEF HUMAN CAPITAL OFFICER
| OFFICE OF SECURITY | DEPUTY DIRECTOR, OFFICE OF SECURITY
|  | DIRECTOR, OFFICE OF SECURITY
| OFFICE OF SMALL AND DISADVANTAGED BUSINESS UTILIZATION | DIRECTOR, OFFICE OF SMALL AND DISADVANTAGED BUSINESS UTILIZATION
| OFFICE OF THE GENERAL COUNSEL | ASSISTANT GENERAL COUNSEL, ETHICS AND ADMINISTRATION
|  | CHIEF INNOVATION COUNSEL
|  | ASSISTANT GENERAL COUNSEL FOR GH
|  | DEPUTY GENERAL COUNSEL
UNITED STATES AGENCY FOR INTERNATIONAL DEVELOPMENT | BUREAU FOR PLANNING, LEARNING, AND RESOURCE MANAGEMENT | DIRECTOR, BUDGET AND RESOURCE MANAGEMENT
UNITED STATES AGENCY FOR INTERNATIONAL DEVELOPMENT OFFICE OF THE INSPECTOR
| UNITED STATES AGENCY FOR INTERNATIONAL DEVELOPMENT OFFICE OF THE INSPECTOR GENERAL | DEPUTY ASSISTANT INSPECTOR GENERAL FOR AUDIT
|  | COUNSELOR TO THE INSPECTOR GENERAL
|  | ASSISTANT INSPECTOR GENERAL FOR MANAGEMENT
|  | DEPUTY ASSISTANT INSPECTOR GENERAL FOR AUDIT
|  | ASSISTANT INSPECTOR GENERAL FOR INVESTIGATIONS
|  | DEPUTY ASSISTANT INSPECTOR GENERAL FOR INVESTIGATIONS
|  | ASSISTANT INSPECTOR GENERAL FOR AUDIT
|  | DEPUTY ASSISTANT INSPECTOR GENERAL FOR MANAGEMENT
|  | DEPUTY INSPECTOR GENERAL
|  | ASSISTANT INSPECTOR GENERAL FOR STRATEGIC COMMUNICATIONS AND PROGRAMS
UNITED STATES INTERNATIONAL TRADE
OFFICE OF OPERATIONS | OFFICE OF ECONOMICS | DIRECTOR OFFICE OF ECONOMICS
| OFFICE OF INDUSTRIES | DIRECTOR OFFICE OF INDUSTRIES
| OFFICE OF INVESTIGATIONS | DIRECTOR, OFFICE OF INVESTIGATIONS
| OFFICE OF TARIFF AFFAIRS AND TRADE AGREEMENTS | DIRECTOR, OFFICE TARIFF AFFAIRS AND TRADE AGREEMENTS
| OFFICE OF UNFAIR IMPORT INVESTIGATIONS | DIRECTOR, OFFICE OF UNFAIR IMPORT INVESTIGATIONS
UNITED STATES INTERNATIONAL TRADE COMMISSION | OFFICE OF ADMINISTRATIVE SERVICES | CHIEF ADMINISTRATIVE OFFICER
| OFFICE OF OPERATIONS | DIRECTOR OFFICE OF OPERATIONS
| OFFICE OF THE CHAIRMAN | CHIEF OF STAFF
| OFFICE OF THE CHIEF FINANCIAL OFFICER | CHIEF FINANCIAL OFFICER
| OFFICE OF THE CHIEF INFORMATION OFFICER | CHIEF INFORMATION OFFICER
| OFFICE OF THE GENERAL COUNSEL | GENERAL COUNSEL
| OFFICE OF THE INSPECTOR GENERAL | INSPECTOR GENERAL
DEPARTMENT OF VETERANS AFFAIRS
DEPARTMENT OF VETERANS AFFAIRS | BOARD OF VETERANS' APPEALS | VICE CHAIRMAN
|  | CHIEF COUNSEL, BOARD OF VETERANS APPEALS
|  | DEPUTY VICE CHAIRMAN, BOARD OF VETERANS APPEALS
|  | DEPUTY VICE CHAIRMAN (3)
| NATIONAL CEMETERY ADMINISTRATION | DEPUTY UNDER SECRETARY FOR FINANCE AND PLANNING
| OFFICE OF ACQUISITION, LOGISITICS AND CONSTRUCTION | ASSOCIATE EXECUTIVE DIRECTOR, NATIONAL HEALTHCARE ACQUISITION
|  | ASSOCIATE EXECUTIVE DIRECTOR, ACQUISITION PROGRAM SUPPORT
|  | EXECUTIVE DIRECTOR, OFFICE OF ACQUISITION AND LOGISTICS
|  | ASSOCIATE EXECUTIVE DIRECTOR, RESOURCE MANAGEMENT
|  | ASSOCIATE EXECUTIVE DIRECTOR, FACILITIES PLANNING
|  | ASSOCIATE EXECUTIVE DIRECTOR, OFFICE OF DESIGN AND CONSTRUCTION
|  | ASSOCIATE EXECUTIVE DIRECTOR, PROCUREMENT POLICY, SYSTEMS AND OVERSIGHT
|  | EXECUTIVE DIRECTOR, CONSTRUCTION AND FACILITIES MANAGEMENT
|  | ASSOCIATE EXECUTIVE DIRECTOR, TECHNOLOGY ACQUISITION CENTER
|  | ASSOCIATE EXECUTIVE DIRECTOR, FACILITIES ACQUISITIONS
|  | ASSOCIATE EXECUTIVE DIRECTOR, STRATEGIC ACQUISITION CENTER
| OFFICE OF THE ASSISTANT SECRETARY FOR ACCOUNTABILITY AND WHISTLEBLOWER PROTECTION | EXECUTIVE DIRECTOR, COMPLIANCE AND OVERSIGHT
|  | EXECUTIVE DIRECTOR, INVESTIGATIONS
|  | DEPUTY ASSISTANT SECRETARY, ACCOUNTABILITY AND WHISTLEBLOWER PROTECTION
| OFFICE OF THE ASSISTANT SECRETARY FOR HUMAN RESOURCES AND ADMINISTRATION/OPERATIONS, SECURITY, AND PREPAREDNESS | CHIEF SECURITY OFFICER
|  | EXECUTIVE DIRECTOR, LABOR MANAGEMENT RELATIONS
| OFFICE OF THE ASSISTANT SECRETARY FOR INFORMATION AND TECHNOLOGY | EXECUTIVE DIRECTOR, INFRASTRUCTURE OPERATIONS
|  | DEPUTY CHIEF INFORMATION SECURITY OFFICER, INFORMATION SECURITY OPERATIONS
|  | CHIEF FINANCIAL OFFICER, INFORMATION TECHNOLOGY BUDGET AND FINANCE
|  | DEPUTY CHIEF INFORMATION OFFICER FOR COMPLIANCE, RISK AND REMEDIATION
|  | DEPUTY ASSISTANT SECRETARY, CHIEF INFORMATION SECURITY OFFICER
|  | DEPUTY CHIEF INFORMATION OFFICER STRATEGIC SOURCING
| OFFICE OF THE ASSISTANT SECRETARY FOR MANAGEMENT | DEPUTY EXECUTIVE DIRECTOR, OFFICE OF BUSINESS OVERSIGHT
|  | DEPUTY ASSISTANT SECRETARY FINANCIAL MANAGEMENT BUSINESS TRANSFORMATION, OFFICE OF FINANCE
|  | ASSOCIATE DEPUTY ASSISTANT SECRETARY, FINANCIAL MANAGEMENT BUSINESS TRANSFORMATION SERVICE SYSTEMS
|  | ASSOCIATE DEPUTY ASSISTANT SECRETARY, FINANCIAL MANAGEMENT BUSINESS TRANSFORMATION OPERATIONS
|  | ASSOCIATE DEPUTY ASSISTANT SECRETARY FOR FINANCE, OFFICE OF FINANCE
|  | EXECUTIVE DIRECTOR, DEBT MANAGEMENT CENTER
|  | ASSOCIATE DEPUTY ASSISTANT SECRETARY, BUDGET OPERATIONS
|  | ASSOCIATE DEPUTY ASSISTANT SECRETARY, PROGRAM BUDGETS
|  | DEPUTY EXECUTIVE DIRECTOR ASSET ENTERPRISE MANAGEMENT
|  | ADAS FOR FINANCIAL PROCESS IMPROVEMENT AND AUDIT READINESS, OFFICE OF FINANCE
|  | EXECUTIVE DIRECTOR, OFFICE OF BUSINESS OVERSIGHT
|  | ASSOCIATE DEPUTY ASSISTANT SECRETARY FOR FINANCIAL POLICY, OFFICE OF FINANCE
|  | EXECUTIVE DIRECTOR, ASSET ENTERPRISE MANAGEMENT
|  | EXECUTIVE DIRECTOR, FINANCIAL SERVICES CENTER, OFFICE OF FINANCE
|  | DEPUTY ASSISTANT SECRETARY FOR FINANCE, OFFICE OF FINANCE
|  | DEPUTY ASSISTANT SECRETARY FOR BUDGET
|  | PRINCIPAL DEPUTY ASSISTANT SECRETARY FOR MANAGEMENT
|  | ASSOCIATE DEPUTY ASSISTANT SECRETARY FOR FINANCIAL BUSINESS OPERATIONS, OFFICE OF FINANCE
|  | EXECUTIVE DIRECTOR, OFFICE OF ACQUISITION OPERATIONS
| OFFICE OF THE GENERAL COUNSEL | CHIEF COUNSEL, INFORMATION AND ADMINISTRATIVE LAW GROUP
|  | CHIEF COUNSEL, DISTRICT CONTRACTING
|  | CHIEF COUNSEL, BENEFITS LAW GROUP
|  | CHIEF COUNSEL, SOUTHEAST DISTRICT-NORTH
|  | CHIEF COUNSEL, LOAN GUARANTY
|  | CHIEF COUNSEL, TORTS AND ADMINISTRATIVE LAW
|  | ASSISTANT CHIEF COUNSEL, COURT OF APPEALS FOR VETERANS' CLAIMS LITIGATION GROUP
|  | SENIOR COUNSEL TO THE GENERAL COUNSEL
|  | CHIEF COUNSEL COURT OF APPEALS FOR VETERANS' CLAIMS LITIGATION GROUP
|  | CHIEF COUNSEL ETHICS SPECIALTY TEAM
|  | DEPUTY GENERAL COUNSEL GENERAL LAW
|  | PRINCIPAL DEPUTY GENERAL COUNSEL
|  | CHIEF COUNSEL, PERSONNEL LAW GROUP
|  | CHIEF COUNSEL CONTINENTAL DISTRICT
|  | DEPUTY GENERAL COUNSEL, LEGAL OPERATIONS
|  | CHIEF COUNSEL MIDWEST DISTRICT EAST
|  | CHIEF COUNSEL NORTH ATLANTIC DISTRICT SOUTH
|  | CHIEF COUNSEL PACIFIC DISTRICT
|  | CHIEF COUNSEL COLLECTIONS NATIONAL PRACTICE GROUP
|  | CHIEF COUNSEL REAL PROPERTY LAW GROUP
|  | DEPUTY GENERAL COUNSEL VETERANS PROGRAMS
|  | EXECUTIVE DIRECTOR, MANAGEMENT PLANNING AND ANALYSIS
|  | CHIEF COUNSEL HEALTH LAW GROUP
|  | CHIEF COUNSEL, PROCUREMENT LAW GROUP
| OFFICE OF THE SECRETARY AND DEPUTY | EXECUTIVE DIRECTOR, OFFICE OF SMALL AND DISADVANTAGED BUSINESS UTILIZATION
|  | DIRECTOR OFFICE OF EMPLOYMENT DISCRIMINATION COMPLAINT ADJUDICATION
|  | DEPUTY EXECUTIVE DIRECTOR, OFFICE OF SMALL AND DISADVANTAGED BUSINESS UTLIZATION
|  | DEPUTY EXECUTIVE DIRECTOR, ACCOUNTABILITY AND WHISTLEBLOWER PROTECTION
| VETERANS BENEFITS ADMINISTRATION | CHIEF FINANCIAL OFFICER
|  | DEPUTY CHIEF FINANCIAL OFFICER
|  | DEPUTY EXECUTIVE DIRECTOR FOR POLICY AND PROCEDURES
|  | EXECUTIVE DIRECTOR, LOAN GUARANTY SERVICE
|  | EXECUTIVE DIRECTOR, PERFORMANCE ANALYSIS AND INTEGRITY
|  | DEPUTY EXECUTIVE DIRECTOR FOR OPERATIONS, COMPENSATION SERVICES
|  | DEPUTY CHIEF FINANCIAL OFFICER, ACCOUNTING AND BUSINESS OPERATIONS
| VETERANS HEALTH ADMINISTRATION | EXECUTIVE DIRECTOR, REGIONAL PROCUREMENT OFFICE (CENTRAL)
|  | EXECUTIVE DIRECTOR, SERVICE AREA (WEST)
|  | ASSOCIATE CHIEF FINANCIAL OFFICER FINANCE OPERATIONS AND SUPPORT
|  | EXECUTIVE DIRECTOR, REGIONAL PROCUREMENT OFFICE (EAST)
|  | CHIEF OPERATING OFFICER VETERANS CANTEEN SERVICE
|  | EXECUTIVE DIRECTOR, COMPLIANCE AND BUSINESS INTEGRITY
|  | DEPUTY CHIEF FINANCIAL OFFICER, VETERANS HEALTH ADMINISTRATION
|  | EXECUTIVE DIRECTOR, ACQUISITION
|  | ASSOCIATE CHIEF FINANCIAL OFFICER FOR MANAGERIAL COST ACCOUNTING
|  | ASSOCIATE CHIEF FINANCIAL OFFICER FINANCIAL MANAGEMENT AND ACCOUNTING
|  | EXECUTIVE DIRECTOR, VETERANS CANTEEN SERVICE
|  | CHIEF FINANCIAL OFFICER, VETERANS HEALTH ADMINISTRATION
OFFICE OF THE ASSISTANT SECRETARY FOR HUMAN RESOURCES AND ADMINISTRATION/OPERATIONS, SECURITY, AND PREPAREDNESS | OFFICE OF CORPORATE SENIOR EXECUTIVE MANAGEMENT | EXECUTIVE DIRECTOR
| OFFICE OF EMERGENCY MANAGEMENT | EXECUTIVE DIRECTOR EMERGENCY MANAGEMENT AND RESILIENCE
| OFFICE OF OPERATIONS, SECURITY AND PREPAREDNESS | EXECUTIVE DIRECTOR FOR SECURITY AND LAW ENFORCEMENT
|  | CHIEF OF POLICE
|  | EXECUTIVE DIRECTOR, IDENTITY, CREDENTIAL AND ACCESS MANAGEMENT
| OFFICE OF RESOLUTION MANAGEMENT | DEPUTY ASSISTANT SECRETARY FOR RESOLUTION MANAGEMENT
|  | ASSOCIATE DEPUTY ASSISTANT SECRETARY FOR RESOLUTION MANAGEMENT
OFFICE OF THE ASSISTANT SECRETARY FOR MANAGEMENT | OFFICE OF FINANCE | ASSOCIATE DEPUTY ASSISTANT SECRETARY, FINANCIAL REPORTING
|  | EXECUTIVE DIRECTOR, OFFICE OF ACTUARY SERVICES
DEPARTMENT OF VETERANS AFFAIRS OFFICE OF THE INSPECTOR GENERAL
DEPARTMENT OF VETERANS AFFAIRS OFFICE OF THE INSPECTOR GENERAL | IMMEDIATE OFFICE OF THE INSPECTOR GENERAL | PRINCIPAL DEPUTY COUNSELOR TO THE INSPECTOR GENERAL
|  | CHIEF DATA OFFICER
|  | DEPUTY INSPECTOR GENERAL
|  | COUNSELOR TO THE INSPECTOR GENERAL
| OFFICE OF THE ASSISTANT INSPECTOR GENERAL FOR AUDITS AND EVALUATIONS | ASSISTANT INSPECTOR GENERAL FOR AUDITS AND EVALUATIONS
|  | DEPUTY ASSISTANT INSPECTOR GENERAL FOR AUDITS AND EVALUATIONS (FIELD OPERATIONS)
| DEPUTY ASSISTANT INSPECTOR GENERAL FOR AUDITS AND EVALUATIONS (HEADQUARTERS MANAGEMENT AND INSPECTIONS)
|  | DEPUTY ASSISTANT INSPECTOR GENERAL FOR AUDITS AND EVALUATIONS
|  | DEPUTY ASSISTANT INSPECTOR GENERAL FOR AUDITS AND EVALUATIONS (FIELD OPERATIONS)
| OFFICE OF THE ASSISTANT INSPECTOR GENERAL FOR HEALTHCARE INSPECTIONS | PRINCIPAL DEPUTY ASSISTANT INSPECTOR GENERAL FOR HEALTHCARE INSPECTIONS
|  | ASSISTANT INSPECTOR GENERAL FOR HEALTHCARE INSPECTIONS
|  | DEPUTY ASSISTANT INSPECTOR GENERAL FOR HEALTHCARE INSPECTIONS
|  | DEPUTY ASSISTANT INSPECTOR GENERAL FOR HEALTHCARE INSPECTIONS
| OFFICE OF THE ASSISTANT INSPECTOR GENERAL FOR INVESTIGATIONS | ASSISTANT INSPECTOR GENERAL FOR INVESTIGATIONS
|  | DEPUTY ASSISTANT INSPECTOR GENERAL FOR INVESTIGATIONS (FIELD OPERATIONS)
|  | DEPUTY ASSISTANT INSPECTOR GENERAL FOR INVESTIGATIONS (HEADQUARTERS OPERATIONS)
|  | PRINCIPAL DEPUTY ASSISTANT INSPECTOR GENERAL FOR INVESTIGATIONS
|  | DEPUTY ASSISTANT INSPECTOR GENERAL FOR INVESTIGATIONS
| OFFICE OF THE ASSISTANT INSPECTOR GENERAL FOR MANAGEMENT AND ADMINISTRATION | DEPUTY ASSISTANT IG FOR MANAGEMENT AND ADMINISTRATION-CHEIF TECHNOLOGY OFFICER
|  | ASSISTANT INSPECTOR GENERAL FOR MANAGEMENT AND ADMINISTRATION
|  | DEPUTY ASSISTANT INSPECTOR GENERAL FOR MANAGEMENT AND ADMINISTRATION
| OFFICE OF THE ASSISTANT INSPECTOR GENERAL FOR SPECIAL REVIEWS | ASSISTANT INSPECTOR GENERAL FOR SPECIAL REVIEWS
|  | DEPUTY ASSISTANT INSPECTOR GENERAL FOR SPECIAL REVIEWS

Authority: 5 U.S.C. 3132.

Office of Personnel Management.

Kiran A. Ahuja,

Director.

[FR Doc. 2024-09205 Filed 5-21-24; 8:45 am]

BILLING CODE 6325-39-P